DEPARTMENT OF HEALTH AND HUMAN SERVICES

Centers for Medicare & Medicaid Services

42 CFR Parts 409, 411, 424, and 489

[CMS-1282-F]

RIN 0938-AN65

Medicare Program; Prospective Payment System and Consolidated Billing for Skilled Nursing Facilities for FY 2006

AGENCY: Centers for Medicare & Medicaid Services (CMS), HHS.

ACTION: Final rule.

SUMMARY: In this final rule we update the payment rates used under the prospective payment system (PPS) for skilled nursing facilities (SNFs), for fiscal year (FY) 2006. Annual updates to the PPS rates are required by section 1888(e) of the Social Security Act (the Act), as amended by the Medicare, Medicaid, and SCHIP Balanced Budget Refinement Act of 1999 (BBRA), the Medicare, Medicaid, and SCHIP Benefits Improvement and Protection Act of 2000 (BIPA), and the Medicare Prescription Drug, Improvement, and Modernization Act of 2003 (MMA), relating to Medicare payments and consolidated billing for SNFs. This final rule also responds to public comments submitted on the proposed rule published on May 19, 2005 (70 FR 29070), and promulgates provisions set forth in that proposed rule, along with several additional technical revisions to the regulations.

DATES: Effective Date: This final rule becomes effective on October 1, 2005.

FOR FURTHER INFORMATION CONTACT: Ellen Gay, (410) 786-4528 (for information related to the case-mix classification methodology, and for information related to swing-bed providers).

Jeanette Kranacs, (410) 786-9385 (for information related to the development of the payment rates, and for information related to the wage index).

Bill Ullman, (410) 786-5667 (for information related to coverage requirements, level of care determinations, consolidated billing, and general information).

SUPPLEMENTARY INFORMATION: To assist readers in referencing sections contained in this document, we are providing the following Table of Contents.

Table of Contents

I. Background

A. Current System for Payment of SNF Services Under Part A of the Medicare Program

B. Requirements of the Balanced Budget Act of 1997 (BBA) for Updating the SNF PPS

C. The Medicare, Medicaid, and SCHIP Balanced Budget Refinement Act of 1999 (BBRA)

D. The Medicare, Medicaid, and SCHIP Benefits Improvement and Protection Act of 2000 (BIPA)

E. The Medicare Prescription Drug, Improvement, and Modernization Act of 2003 (MMA)

F. General Overview of the SNF PPS

1. Payment Provisions—Federal Rates

2. Payment Provisions—Initial Transition Period

G. Use of the SNF Market Basket Index

II. Summary of the Provisions of the FY 2006 Proposed Rule

III. Analysis of and Response to Public Comments on the FY 2006 Proposed Rule

A. General Comments on the FY 2006 Proposed Rule

1. Public Comment Schedule for the FY 2006 Proposed Rule

B. Update of Federal Payment Rates Under the SNF PPS

1. Costs and Services Covered by the Federal Rates

2. Methodology Used for the Calculation of the Federal Rates

C. Case-Mix Adjustment and Other Clinical Issues

1. Proposed Refinements to the RUG-III Case-Mix Classification System

2. Proposed Increases to the RUG-III Case-Mix Weight Values

3. Implementation Issues

4. Additional Clinical and Related Issues

a. Proposed Changes to the MDS Coding Requirements (“Look-Back” Period, 5-day Grace Periods for PPS MDS Assessments, and Projection of Anticipated Therapy Services during the 5-day PPS Assessment (Section T))

b. Long-Term Payment and Quality Incentive Proposals

c. Proposal to Clarify “Direct” and “Indirect” Employment Relationships for Nurse Practitioners and Clinical Nurse Specialists

d. Completion of Other Medicare Required Assessments (OMRAs)

e. Concurrent Therapy

5. Case-Mix Adjusted Federal Rates and Associated Indexes

D. Wage Index Adjustment to Federal Rates

1. Proposal to Incorporate the Revised OMB Definitions for Metropolitan Statistical Areas and Combined Statistical Areas

2. Determining the Labor-Related Portion of the SNF PPS Rate

3. Calculating the Budget Neutrality Factor

E. Updates to the Federal Rates

F. Relationship of Case-Mix Classification System to Existing SNF Level-of-Care Criteria

1. Proposals on the 9 New Rehabilitation Plus Extensive Services Groups

G. Example of Computation of Adjusted PPS Rates and SNF Payment

H. SNF Market Basket Index

1. Background

2. Use of the SNF Market Basket Percentage

3. Market Basket Forecast Error Adjustment

4. Federal Rate Update Factor

I. Consolidated Billing

J. Application of the SNF PPS to SNF Services Furnished by Swing-Bed Hospitals

K. Qualifying Three-Day Inpatient Hospital Stay Requirement

IV. Provisions of the Final Rule

V. Waiver of Proposed Rulemaking

VI. Collection of Information Requirements

VII. Regulatory Impact Analysis

A. Overall Impact

B. Anticipated Effects

C. Accounting Statement

D. Alternatives Considered Regulation Text

VIII. Addendum

In addition, because of the many terms to which we refer by abbreviation in this final rule, we are listing these abbreviations and their corresponding terms in alphabetical order below:

ADL Activity of Daily Living

ARD Assessment Reference Date

BBA Balanced Budget Act of 1997, Pub. L. 105-33

BBRA Medicare, Medicaid, and SCHIP Balanced Budget Refinement Act of 1999, Pub. L. 106-113

BEA (U.S. Department of Commerce) Bureau of Economic Analysis

BIPA Medicare, Medicaid, and SCHIP Benefits Improvement and Protection Act of 2000, Pub. L. 106-554

CAH Critical Access Hospital

CBSA Core-Based Statistical Area

CFR Code of Federal Regulations

CMS Centers for Medicare & Medicaid Services

CMSA Consolidated Metropolitan Statistical Area

CPT (Physicians') Current Procedural Terminology

DRG Diagnosis Related Group

FI Fiscal Intermediary

FR Federal Register

FY Fiscal Year

GAO Government Accountability Office

HCPCS Healthcare Common Procedure Coding System

ICD-9-CM International Classification of Diseases, Ninth Edition, Clinical Modification

IFC Interim Final Rule With Comment Period

MDS Minimum Data Set

MEDPAR Medicare Provider Analysis and Review File

MMA Medicare Prescription Drug, Improvement, and Modernization Act of 2003, Pub. L. 108-173

MSA Metropolitan Statistical Area

NECMA New England County Metropolitan Area

OIG Office of Inspector General

OMRA Other Medicare Required Assessment

PMSA Primary Metropolitan Statistical Area

PPI Producer Price Index

PPS Prospective Payment System

PRM Provider Reimbursement Manual

RAI Resident Assessment Instrument

RAP Resident Assessment Protocol

RAVEN Resident Assessment Validation Entry

RFA Regulatory Flexibility Act, Pub. L. 96-354

RIA Regulatory Impact Analysis

RUG Resource Utilization Group

SCHIP State Children's Health Insurance Program

SNF Skilled Nursing Facility

STM Staff Time Measurement

UMRA Unfunded Mandates Reform Act, Pub. L. 104-4

I. Background

On May 19, 2005, we published a proposed rule in the Federal Register (70 FR 29070, hereafter referred to as the FY 2006 SNF PPS proposed rule), setting forth the proposed updates to the payment rates used under the prospective payment system (PPS) for skilled nursing facilities (SNFs), for FY 2006. Annual updates to the PPS rates are required by section 1888(e) of the Social Security Act (the Act), as amended by the Medicare, Medicaid, and SCHIP Balanced Budget Refinement Act of 1999 (BBRA, Pub. L. 106-113), the Medicare, Medicaid, and SCHIP Benefits Improvement and rotection Act of 2000 (BIPA, Pub. L. 106-554), and the Medicare Prescription Drug, Improvement, and Modernization Act of 2003 (MMA, Pub. L. 100-173), relating to Medicare payments and consolidated billing for SNFs. In the FY 2006 SNF PPS proposed rule, we invited public comments on a number of proposed revisions and technical corrections to the regulations.

A. Current System for Payment of SNF Services Under Part A of the Medicare Program

Section 4432 of the Balanced Budget Act of 1997 (BBA, Pub. L. 105-33) amended section 1888 of the Act to provide for the implementation of a per diem PPS for SNFs, covering all costs (routine, ancillary, and capital-related) of covered SNF services furnished to beneficiaries under Part A of the Medicare program, effective for cost reporting periods beginning on or after July 1, 1998. We are updating the per diem payment rates for SNFs for FY 2006. Major elements of the SNF PPS include:

• Rates. Per diem Federal rates were established for urban and rural areas using allowable costs from FY 1995 cost reports. These rates also included an estimate of the cost of services that, before July 1, 1998, were paid under Part B but furnished to Medicare beneficiaries in a SNF during a Part A covered stay. The rates were adjusted annually using a SNF market basket index. Rates were case-mix adjusted using a classification system (Resource Utilization Groups, version III (RUG-III)) based on beneficiary assessments (using the Minimum Data Set (MDS) version 2.0) (In section III.C of this final rule, we discuss refinements to the case-mix classification system). The rates were also adjusted by the hospital wage index to account for geographic variation in wages. (In section III.D of this final rule, we discuss the wage index adjustment in detail.) Correction notices were published in the Federal Register on October 7, 2004 (69 FR 60158) and on December 30, 2004 (69 FR 78445) that announced corrections to several of the wage factors. Additionally, as noted in the July 30, 2004 update notice (69 FR 45775), section 101 of BBRA and certain sections of BIPA also affect the payment rate.

• Transition. The SNF PPS included an initial 3-year, phased transition that blended a facility-specific payment rate with the Federal case-mix adjusted rate. For each cost reporting period after a facility migrated to the new system, the facility-specific portion of the blend decreased and the Federal portion increased in 25 percentage point increments. For most facilities, the facility-specific rate was based on allowable costs from FY 1995; however, since the last year of the transition was FY 2001, all facilities were paid at the full Federal rate by the following fiscal year (FY 2002). Therefore, as discussed in section I.F.2 of this final rule, we are no longer including adjustment factors related to facility-specific rates for the coming fiscal year.

• Coverage. The establishment of the SNF PPS did not change Medicare's fundamental requirements for SNF coverage. However, because the RUG-III classification is based, in part, on the beneficiary's need for skilled nursing care and therapy, we have attempted, where possible, to coordinate claims review procedures involving level of care determinations with the outputs of beneficiary assessment and RUG-III classifying activities. We discuss this coordination in greater detail in section III.F of this final rule. Moreover, the Part A SNF benefit has not only level of care requirements, but also a set of technical, or “posthospital” requirements as well. In section III.K of this final rule, we discuss one aspect of the technical requirement for a qualifying prior inpatient hospital stay of at least 3 consecutive days, on which we invited public comment in the FY 2006 SNF PPS proposed rule.

• Consolidated Billing. The SNF PPS includes a consolidated billing provision that requires a SNF to submit consolidated Medicare claims for almost all of the services that the resident receives during the course of a covered Part A stay. (In addition, this provision places with the SNF the Medicare billing responsibility for physical and occupational therapy, and speech-language pathology services that the resident receives during a noncovered stay.) The statute excludes from the consolidated billing provision a few services—primarily those of physicians and certain other types of practitioners—which remain separately billable to Part B by the outside entity that furnishes them. We discuss this provision in greater detail in section III.I of this final rule.

• Application of the SNF PPS to SNF services furnished by swing-bed hospitals. Section 1883 of the Act permits certain small, rural hospitals to enter into a Medicare swing-bed agreement, under which the hospital can use its beds to provide either acute or SNF care, as needed. For critical access hospitals (CAHs), Part A pays on a reasonable cost basis for SNF services furnished under a swing-bed agreement. However, in accordance with section 1888(e)(7) of the Act, these services furnished by non-CAH rural hospitals are paid under the SNF PPS, effective with cost reporting periods beginning on or after July 1, 2002. A more detailed discussion of this provision appears in section III.J of this final rule.

• Technical corrections. We are also taking this opportunity to make certain technical corrections in the text of the regulations, as discussed in greater detail in section IV. of this final rule.

B. Requirements of the Balanced Budget Act of 1997 (BBA) for Updating the SNF PPS

Section 1888(e)(4)(H) of the Act requires that we publish in the Federal Register:

1. The unadjusted Federal per diem rates to be applied to days of covered SNF services furnished during the FY.

2. The case-mix classification system to be applied with respect to these services during the FY.

3. The factors to be applied in making the area wage adjustment with respect to these services.

In the July 30, 1999 final rule (64 FR 41670), we indicated that we would announce any changes to the guidelines for Medicare level of care determinations related to modifications in the RUG-III classification structure (see section III.F of this final rule).

Along with a number of other revisions discussed later in this preamble, this final rule provides the annual updates to the Federal rates as mandated by the Act.

C. The Medicare, Medicaid, and SCHIP Balanced Budget Refinement Act of 1999 (BBRA)

There were several provisions in the BBRA that resulted in adjustments to the SNF PPS. These provisions were described in detail in the final rule that we published in the Federal Register on July 31, 2000 (65 FR 46770). In particular, sections 101(a) and (b) of the BBRA provided for a temporary 20 percent increase in the per diem adjusted payment rates for 15 specified RUG-III groups (SE3, SE2, SE1, SSC, SSB, SSA, CC2, CC1, CB2, CB1, CA2, CA1, RHC, RMC, and RMB). Under section 101(c) of the BBRA, this temporary increase remains in effect until the later of October 1, 2000, or the implementation of case-mix refinements in the PPS. (We discuss refinements to the case-mix classification system in section III.C of this final rule.) In addition, section 101(d) of the BBRA included a 4 percent across-the-board increase in the adjusted Federal per diem payment rates each year for FYs 2001 and 2002, exclusive of the 20 percent increase.

We included further information on all of the provisions of the BBRA that affect the SNF PPS in Program Memoranda A-99-53 and A-99-61 (December 1999), and Program Memorandus AB-00-18 (March 2000). In addition, for swing-bed hospitals with more than 49 (but less than 100) beds, section 408 of the BBRA provided for the repeal of certain statutory restrictions on length of stay and aggregate payment for patient days, effective with the end of the SNF PPS transition period described in section 1888(e)(2)(E) of the Act. In the July 31, 2001 final rule (66 FR 39562), we made conforming changes to the regulations in § 413.114(d), effective for services furnished in cost reporting periods beginning on or after July 1, 2002, to reflect section 408 of the BBRA.

D. The Medicare, Medicaid, and SCHIP Benefits Improvement and Protection Act of 2000 (BIPA)

The BIPA included several provisions that resulted in adjustments to the PPS for SNFs. These provisions were described in detail in the final rule that we published in the Federal Register on July 31, 2001 (66 FR 39562), as follows:

• Section 203 of the BIPA exempted critical access hospital (CAH) swing-beds from the SNF PPS; we included further information on this provision in Program Memorandum A-01-09 (January 16, 2001).

• Section 311 of the BIPA eliminated the 1 percent reduction in the SNF market basket that the statutory update formula had previously specified for FY 2001, and changed the 1 percent reduction specified for FYs 2002 and 2003 to a 0.5 percent reduction. This section also required us to conduct a study of alternative case-mix classification systems for the SNF PPS, and to submit a report to the Congress on the results of the study.

• Section 312 of the BIPA provided for a temporary 16.66 percent increase in the nursing component of the case-mix adjusted Federal rate for services furnished on or after April 1, 2001, and before October 1, 2002. This section also required the Government Accountability Office (GAO) to conduct an audit of SNF nursing staff ratios and submit a report to the Congress on whether the temporary increase in the nursing component should be continued. GAO issued this report (GAO-03-176) in November 2002.

• Section 313 of the BIPA repealed the consolidated billing requirement for services (other than physical and occupational therapy, and speech-language pathology services) furnished to SNF residents during noncovered stays, effective January 1, 2001.

• Section 314 of the BIPA adjusted the payment rates for all of the 14 rehabilitation RUGs (RUC, RUB, RUA, RVC, RVB, RVA, RHC, RHB, RHA, RMC, RMB, RMA, RLB, and RLA), in order to correct an anomaly under which the existing payment rates for three particular rehabilitation RUGs—RHC, RMC, and RMB—were higher than the rates for some other, more intensive rehabilitation RUGs. Under the BIPA adjustment, the temporary increase that sections 101(a) and (b) of the BBRA had applied to the RHC, RMC, and RMB rehabilitation RUGs was revised from 20 percent to 6.7 percent, and the BIPA adjustment also applied this temporary 6.7 percent increase to each of the other 11 rehabilitation RUGs. Under this provision, the temporary increase remained at 20 percent for each of the 12 non-rehabilitation RUGs specified in section 101(b) of the BBRA (SE3, SE2, SE1, SSC, SSB, SSA, CC2, CC1, CB2, CB1, CA2, and CA1).

• Section 315 of the BIPA authorized us to establish a geographic reclassification procedure that is specific to SNFs, but only after collecting the data necessary to establish a SNF wage index that is based on wage data from nursing homes.

We included further information on several of these provisions in Program Memorandum A-01-08 (January 16, 2001).

E. The Medicare Prescription Drug, Improvement, and Modernization Act of 2003 (MMA)

A provision of the Medicare Prescription Drug, Improvement, and Modernization Act of 2003 (MMA) resulted in a further adjustment to the PPS for SNFs. Specifically, section 511 of the MMA amended paragraph (12) of section 1888(e) of the Act to provide for a temporary 128 percent increase in the PPS per diem payment for any SNF resident with Acquired Immune Deficiency Syndrome (AIDS), effective with services furnished on or after October 1, 2004. As discussed in Transmittal No. 160 (Change Request No. 3291, April 30, 2004, available online at http://www.cms.hhs.gov/manuals/transmittals/comm_date_dsc.asp), this add-on applies to claims with diagnosis code 042. Like the temporary add-on payments created by section 101(a) of the BBRA (as amended by section 314 of the BIPA), this special AIDS add-on was not intended to remain in effect indefinitely. As amended by section 511 of the MMA, section 1888(e)(12)(B) of the Act specifies that this temporary increase for patients with AIDS is to remain in effect only until “* * * such date as the Secretary certifies that there is an appropriate adjustment in the case mix * * * to compensate for the increased costs associated with [such] residents * * *.” As discussed in the FY 2006 SNF PPS proposed rule (70 FR 29080), we are not addressing the issue of such certification at this time and, accordingly, the temporary add-on payments created by section 511 of the MMA will remain in effect during FY 2006.

The law further provided that the 128 percent increase in payment under the AIDS add-on is to be “* * * determined without regard to any increase” under section 101 of the BBRA (as amended by section 314 of the BIPA). As explained in the MMA Conference report, this means that if a resident qualifies for the temporary 128 percent increase in payment under the special AIDS add-on, “the BBRA temporary RUG add-on does not apply in this case * * *.” (H.R. Conf. Rep. No. 108-391 at 662).

In addition, section 410 of the MMA contained a provision that affects the SNF consolidated billing requirement's treatment of certain services furnished as of January 1, 2005, by rural health clinics (RHCs) and Federally qualified health centers (FQHCs). This provision was discussed in Transmittal No. 390 (Change Request No. 3575), issued on December 10, 2004, which is available online at http://www.cms.hhs.gov/manuals/transmittals/comm_date_dsc.asp.

F. General Overview of the SNF PPS

We implemented the Medicare SNF PPS for cost reporting periods beginning on or after July 1, 1998. Under the PPS, we pay SNFs through prospective, case-mix adjusted per diem payment rates applicable to all covered SNF services. These payment rates cover all the costs of furnishing covered skilled nursing services (routine, ancillary, and capital-related costs) other than costs associated with approved educational activities. Covered SNF services include post-hospital services for which benefits are provided under Part A and all items and services that, before July 1, 1998, had been paid under Part B (other than physician and certain other services specifically excluded under the BBA) but furnished to Medicare beneficiaries in a SNF during a covered Part A stay. A complete discussion of these provisions appears in the May 12, 1998 interim final rule (63 FR 26252).

1. Payment Provisions—Federal Rate

The PPS uses per diem Federal payment rates based on mean SNF costs in a base year updated for inflation to the first effective period of the PPS. We developed the Federal payment rates using allowable costs from hospital-based and freestanding SNF cost reports for reporting periods beginning in FY 1995. The data used in developing the Federal rates also incorporated an estimate of the amounts that would be payable under Part B for covered SNF services furnished to individuals during the course of a covered Part A stay in a SNF.

In developing the rates for the initial period, we updated costs to the first effective year of PPS (the 15-month period beginning July 1, 1998) using a SNF market basket, and then standardized for the costs of facility differences in case-mix and for geographic variations in wages. The database used to compute the Federal payment rates excluded providers that received new provider exemptions from the routine cost limits, as well as costs related to payments for exceptions to the routine cost limits. In accordance with the formula prescribed in the BBA, we set the Federal rates at a level equal to the weighted mean of freestanding costs plus 50 percent of the difference between the freestanding mean and weighted mean of all SNF costs (hospital-based and freestanding) combined. We computed and applied separately the payment rates for facilities located in urban and rural areas. In addition, we adjusted the portion of the Federal rate attributable to wage-related costs by a wage index.

The Federal rate also incorporates adjustments to account for facility case-mix, using a classification system that accounts for the relative resource utilization of different patient types. This classification system, Resource Utilization Groups, version III (RUG-III), uses beneficiary assessment data from the Minimum Data Set (MDS) completed by SNFs to assign beneficiaries to one of 44 RUG-III groups. The May 12, 1998 interim final rule (63 FR 26252) included a complete and detailed description of the RUG-III classification system. A further discussion of the case-mix classification system, including the issue of case-mix refinements, appears in section III.C of this final rule.

The Federal rates in this final rule reflect an update to the rates that we published for FY 2005 equal to the full change in the SNF market basket index. According to section 1888(e)(4)(E)(ii)(IV) of the Act, for FY 2006, we have adjusted the current rates by the full SNF market basket index.

2. Payment Provisions—Initial Transition Period

The SNF PPS included an initial, phased transition from a facility-specific rate (which reflected the individual facility's historical cost experience) to the Federal case-mix adjusted rate. The transition extended through the facility's first three cost reporting periods under the PPS, up to, and potentially including, the one that began in FY 2001. (Further, once section 102 of the BBRA took effect, a facility could elect to bypass the remainder of its transition period and go directly to being paid entirely under the Federal rates.) Accordingly, starting with cost reporting periods beginning in FY 2002, we base payments entirely on the Federal rates and, as mentioned previously in this final rule, we no longer include adjustment factors related to facility-specific rates for the coming fiscal year.

G. Use of the SNF Market Basket Index

Section 1888(e)(5) of the Act requires us to establish a SNF market basket index that reflects changes over time in the prices of an appropriate mix of goods and services included in the covered SNF services. The SNF market basket index is used to update the Federal rates on an annual basis. The final rule published on July 31, 2001 (66 FR 39562) revised and rebased the market basket to reflect 1997 total cost data. The SNF market basket index is discussed in greater detail in section III.H of this final rule.

In addition, as explained in the FY 2004 final rule (68 FR 46058, August 4, 2003) and in section III.H of this final rule, the annual update of the payment rates includes, as appropriate, an adjustment to account for market basket forecast error. This adjustment takes into account the forecast error from the most recently available fiscal year for which there are final data, and is applied whenever the difference between the forecasted and actual change in the market basket exceeds a 0.25 percentage point threshold. For FY 2004 (the most recently available fiscal year for which there are final data), the estimated increase in the market basket index was 3.0 percentage points, while the actual increase also was 3.0 percentage points. Therefore, the payment rates for FY 2006 do not include a forecast error adjustment, as there is no difference between the estimated and actual amounts of change. Table 1 below shows the forecasted and actual market basket amounts for FY 2004.

Table 1.—FY 2004 Forecast Error Correction for CMS SNF Market Basket
Index | Forecasted FY 2004 increase* | Actual FY 2004 increase** | FY 2004 forecast error correction***
SNF | 3.0 | 3.0 | 0.0
* Published in August 4, 2003 Federal Register; based on second quarter 2003 Global Insight/DRI-WEFA forecast.
** Based on the second quarter 2005 Global Insight/DRI-WEFA forecast.
*** The FY 2004 forecast error correction will be applied to the FY 2006 PPS update. Any forecast error less than 0.25 percentage points is not reflected in the update.

II. Summary of the Provisions of the FY 2006 Proposed Rule

The FY 2006 SNF PPS proposed rule included proposed updates to the FY 2006 Federal payment rates used under the SNF PPS. In accordance with section 1888(e)(4)(E)(ii)(IV) of the Act, the updates reflect the full SNF market basket percentage change for the fiscal year. We also proposed to introduce, as of January 1, 2006, a refined case-mix classification system that would add nine new Rehabilitation plus Extensive Services groups at the top of the existing RUG hierarchy. The FY 2006 SNF PPS proposed rule discussed and invited public comment on a number of other clinical issues as well, involving alternative ways to improve quality and efficiency and ensure accurate payments under the SNF PPS.

We also proposed to incorporate OMB's revised definitions for Metropolitan Statistical Areas and its new definitions of Micropolitan Statistical Areas and Combined Statistical Areas, and we invited comments on the appropriateness of implementing this change through a transition period similar to that adopted under the inpatient hospital PPS (IPPS). Further, we invited public comments on additional HCPCS codes that could represent the type of “high-cost, low probability” services within certain designated service categories (that is, chemotherapy and its administration, radioisotope services, and customized prosthetic devices) that section 103 of the BBRA has authorized us to exclude from the SNF consolidated billing provision. We also invited comments on the apparent hospital practice of having patients spend time in observation status prior to a formal inpatient admission, and on the potential implications of this practice for the SNF benefit's qualifying 3-day hospital stay requirement.

In addition to discussing these general issues in the FY 2006 SNF PPS proposed rule, we also proposed making the following specific revisions to the existing text of the regulations:

• In § 424.3, we would make a technical correction to the definition of “HCPCS”.

• In § 424.20, we would revise paragraph (e)(2) to clarify the distinction between “direct” and “indirect” employment relationships in terms of the ability of nurse practitioners and clinical nurse specialists to perform SNF certifications and recertifications.

More detailed information on each of these issues, to the extent that we received public comments on them, appears in the discussion contained in the following sections of this preamble.

III. Analysis of and Responses to Public Comments on the FY 2006 Proposed Rule

In response to the publication of the FY 2006 SNF PPS proposed rule, we received 149 timely items of correspondence from the public. We received numerous comments from various trade associations and major organizations. Comments also originated from nursing homes, hospitals, and other providers, suppliers, and practitioners, nursing home resident advocacy groups, health care consulting firms, and private citizens. The following discussion, arranged by subject area, includes a summary of the public comments that we received, and our responses to the comments appear under the appropriate heading.

A. General Comments on the FY 2006 SNF PPS Proposed Rule

1. Public Comment Schedule for the FY 2006 SNF PPS Proposed Rule

Comment: A few commenters noted that the July 12, 2005, closing date for the public comment period fell less than 60 days after the proposed rule's May 19, 2005, publication date in the Federal Register, and expressed concern about abbreviating the comment period available for the proposed rule. They asserted that a timeframe of less than 60 days was burdensome, and affected their ability to furnish comprehensive responses. They asked us to provide the full 60-day comment period in the future.

Response: We note that in accordance with the requirements of section 1871(b)(1) of the Act, “notice of the proposed regulation in the Federal Register” was provided as of May 13, 2005. At that same time, the document was also posted on the CMS website. Accordingly, the contents of the proposed rule were, in fact, available to the public for the full 60-day comment period.

B. Update of Federal Payment Rates Under the SNF PPS

This final rule sets forth a schedule of Federal prospective payment rates applicable to Medicare Part A SNF services beginning October 1, 2005. The schedule incorporates per diem Federal rates that provide Part A payment for all costs of services furnished to a beneficiary in a SNF during a Medicare-covered stay. In the proposed rule, we proposed case-mix refinements, including the introduction of 9 new RUGs. As part of this process, we proposed to update and recalibrate the therapy and nursing case-mix indexes associated with all RUGs. We also proposed to increase both the nursing and therapy case-mix indexes and provide additional funding to the system in order to account for the variation in non-therapy ancillary costs.

Comment: Several commenters expressed concern regarding the overall fiscal impact of the proposed changes and recommended that the aggregate expenditure levels be increased, either by further increasing the case-mix weights or by increasing the baseline expenditure levels. Other commenters stated that they had been unable to reconcile their independent analyses with the information contained in the proposed rule, and were concerned that the impact of the proposed rate structure would exceed the CMS projections. In other cases, commenters submitted technical questions on the accuracy of the methodology used in developing our proposals, and urged that these methodological issues be addressed for the final rule.

Response: Throughout the comment period, we examined the data presented in the proposed rule, updated the analyses to reflect the most recent available data, and corrected minor technical errors. We received information from industry representatives and others, which helped us to verify the accuracy of the data used in the rate calculations, and then to ensure that the resulting rates correctly reflected the policies specified in the proposed rule. To accomplish these objectives, we made several adjustments to our models to better reflect the methodologies described in the proposed rule.

For example, for our modeling in the proposed rule, we used a therapy case-mix index that originally had been created for use in our FY 2001 refinements proposal, and utilized the same therapy case-mix weights for the new groups as for the original rehabilitation groups; that is, the therapy case-mix weight for the ultra high rehabilitation and combined ultra high rehabilitation/extensive care RUG groups were the same. As part of our ongoing review, we also tested several adjustments to our model, including recalibration of the therapy case-mix weights, using different sets of decision rules, to create separate therapy weights for the nine new groups. The purpose of this exercise was to test whether the adjusted model(s) better reflected the policy outlined in the proposed rule.

Using the adjusted therapy case-mix weights, we repeated the payment simulation described in the proposed rule. We then recalculated the payment adjustment needed to ensure parity when comparing the aggregate expenditure levels of the 44-group and 53-group RUG models. We found that, in recalibrating both the nursing and therapy case-mix weights, applying the payment adjustment solely to the nursing case-mix weights was no longer appropriate. Thus, we tested a second adjustment to the model that modified the payment simulation provision to apply the payment adjustment to both the nursing and therapy case-mix weights. We posted the analyses on our CMS web site.

Industry representatives and others used these data to replicate these analyses, to suggest alternative methodologies, and to develop their formal comments on the proposed rule. Thus, the information exchange through the CMS website was productive, and was beneficial in terms of finalizing our analysis.

Comment: A commenter questioned the methodology used to recalibrate the therapy case-mix weights, and also expressed concerns about the small staff time measurement (STM) sample size used to create separate therapy weights for each of the RUG-III groups.

Response: As part of the ongoing analysis described above, we reviewed the methodology used to create the case-mix weights for the initial introduction of the SNF PPS in 1998, and the ABT recalibration that was published in our FY 2001 proposed rule. We found that, as mentioned by a commenter, we were relying on extremely small sample sizes for several of the combined rehabilitation and extensive care groups. In addition, we found several variations in the decision rules used in the two sets of analyses. We were able to adjust for these methodological differences by recreating the therapy case-mix indexes using the original decision rules.

Once these methodological changes were made, we examined the model to determine the potential impact of using small sample sizes to establish therapy case-mix weights for all 23 rehabilitation groups; that is, 14 existing rehabilitation groups and 9 combined rehabilitation and extensive care groups. We concluded that we could not fully adjust for these small sample sizes when recalibrating the therapy case-mix weights, either as proposed or as noted on our website. Therefore, we have determined that retaining the same therapy case-mix weights that are being used in the 44-group RUG model would best reflect our policy objectives as stated in the proposed rule. These weights will be applied to the RUG groups based on the rehabilitation level. For example, a therapy case-mix weight of 2.25 will be used for the RUC, RUB, RUA, RUX, and RUL groups.

Once the case-mix weight structure was determined, we developed the final rates in accordance with the procedures outlined in the proposed rule. As we updated the nursing case-mix index only, we then applied the payment simulation to the nursing case-mix weights by adding 8.65 percent to maintain parity between the 44-group and 53-group models. Then, a final adjustment of 8.51 percent was made to the nursing weights to reflect the variability in non-therapy ancillary utilization.

In conducting these analyses, it was clear that relying on data collected before the introduction of the SNF PPS is not a permanent solution. We intend to revisit the structural development of the case-mix weights as part of our upcoming STM study, in which we will survey SNFs and collect data to better reflect current practice patterns and resource use in the SNF PPS. In addition, we intend to investigate alternative methods of updating the payment system as part of our ongoing program monitoring and evaluation activities.

1. Costs and Services Covered by the Federal Rates

The Federal rates apply to all costs (routine, ancillary, and capital-related costs) of covered SNF services other than costs associated with approved educational activities as defined in § 413.85. Under section 1888(e)(2) of the Act, covered SNF services include post-hospital SNF services for which benefits are provided under Part A (the hospital insurance program), as well as all items and services (other than those services excluded by statute) that, before July 1, 1998, were paid under Part B (the supplementary medical insurance program) but furnished to Medicare beneficiaries in a SNF during a Part A covered stay. (These excluded service categories are discussed in greater detail in section V.B.2 of the May 12, 1998 interim final rule (63 FR 26295 through 26297)).

2. Methodology Used for the Calculation of the Federal Rates

The FY 2006 rates reflect an update using the full amount of the latest market basket index. The FY 2006 market basket increase factor is 3.1 percent. A complete description of the multi-step process was initially delineated in the May 12, 1998 interim final rule (63 FR 26252), and was further revised in subsequent rules. We note that in accordance with section 101(a) of the BBRA and section 314 of the BIPA, the existing, temporary increase in the per diem adjusted payment rates of 20 percent for certain specified clinically complex RUGs (and 6.7 percent for rehabilitation RUGs) remains in effect until January 1, 2006, when the refined RUG-53 classification system is implemented.

We used the SNF market basket to adjust each per diem component of the Federal rates forward to reflect price increases occurring between the midpoint of the Federal fiscal year beginning October 1, 2004, and ending September 30, 2005, and the midpoint of the Federal fiscal year beginning October 1, 2005, and ending September 30, 2006, to which the payment rates apply. In accordance with section 1888(e)(4)(E)(ii)(IV) of the Act, the payment rates for FY 2005 are updated by a factor equal to the full market basket index percentage increase to determine the payment rates for FY 2006. The rates are further adjusted by a wage index budget neutrality factor, described later in this section. The unadjusted rates are the same under both the 44-group RUG-III classification system and the refined RUG-53 classification system. Tables 2 and 3 below reflect the updated components of the unadjusted Federal rates for FY 2006.

Table 2.—FY 2006 Unadjusted Federal Rate Per Diem—Urban
Rate component | Nursing—case-mix | Therapy—case-mix | Therapy—non-case-mix | Non-case-mix
Per Diem Amount | $137.59 | $103.64 | $13.65 | $70.22

Table 3.—FY 2006 Unadjusted Federal Rate Per Diem—Rural
Rate component | Nursing—case-mix | Therapy—case-mix | Therapy—non-case-mix | Non-case-mix
Per Diem Amount | $131.45 | $119.51 | $14.58 | $71.52

C. Case-Mix Adjustment and Other Clinical Issues

1. Proposed Refinements to the RUG-III Case-Mix Classification System

Under the BBA, we must publish the SNF PPS case-mix classification methodology applicable for the next Federal fiscal year before August 1 of each year. In the FY 2006 SNF PPS proposed rule, we proposed to implement refinements in the existing 44-group RUG-III case-mix classification system that would add 9 new Rehabilitation plus Extensive Services groups at the top of the existing hierarchy. A full discussion of our proposal can be found in this year's proposed rule for FY 2006 (70 FR 29075-81). The following is a discussion of the comments that we received on this issue.

Comment: A number of commenters viewed the introduction of the proposed refinements in a positive light, both as a means to address the needs of a specific heavy-care population and as a way to remove the uncertainty over the past several years surrounding the pending expiration of the BBRA's temporary add-on payments, which had made it difficult for SNFs to predict with any certainty what their payments would be from one year to the next. Other commenters questioned why we introduced RUG refinements through the regulatory process before finalizing a long term research project and submitting a report to the Congress on the results of that research. Several commenters suggested that it would be more appropriate to wait until the upcoming STM study is completed, so that we could take advantage of more recent data on practice patterns and resource use. Still others were concerned that the proposed refinements do not go far enough to reimburse SNFs adequately for non-therapy ancillaries, and questioned why we proposed a series of incremental changes to the existing RUG-III system rather than developing a comprehensive replacement to the current SNF PPS.

Response: The RUG refinements and the SNF PPS report to the Congress on alternative systems have often been viewed as two components of a single project. However, while there is a definite relationship, the RUG refinements and the SNF PPS report to the Congress are, and should be viewed as, end products of two separate Congressional mandates.

The BBRA legislation authorized temporary payment adjustments that were intended to serve as short term, interim adjustments to the payment rates and RUG-III case-mix classification system as published in our July 30, 1999 final rule (64 FR 41644). In fact, while the legislation included a contingency plan to maintain the temporary payments until refinements to better account for “medically complex” patients were introduced, the Congress clearly envisioned that these temporary payments would expire on October 1, 2000. Given this short time frame, it seems clear that the “refinements” could be expected to be modest in scope. We believe the rulemaking process was the most appropriate vehicle for introducing any refinement policy changes, as it affords all stakeholders the opportunity to comment before any policy recommendations are finalized.

In contrast, section 311(e) of the BIPA directed us to conduct a study of the different systems for categorizing patients in Medicare SNFs, and to issue a report with any appropriate recommendations to the Congress. Based upon the broad language describing the purpose of this study, and the multi-year timeframe provided for conducting it, we believe that the Congress clearly intended for this study to address more comprehensive changes, by evaluating a number of different classification systems and considering the full range of patient types. The results of this broader research will be discussed in a report that will be released to the Congress once it has been completed.

However, we believe the need for ongoing evaluation and change should not preclude the more immediate introduction of incremental adjustments and improvements to the SNF PPS. We intend to use the report to Congress to outline a series of next steps, including the need for a new STM study, that support our ongoing efforts to enhance the accuracy and efficiency of the SNF PPS.

We note that many of the concerns advanced by the commenters are similar to the ones that some commenters expressed in response to the SNF PPS proposed rule for FY 2004 (68 FR 26758, May 16, 2003), when we last invited public comments on the issue of case-mix refinements. However, as we subsequently observed in the final rule for FY 2004, other commenters were at that same time urging us “* * * to move quickly to identify and implement short-term incremental improvements to provide more appropriate reimbursement for patients with heavy non-therapy ancillary needs” (68 FR 46041, August 4, 2003). As discussed in this year's FY 2006 proposed rule, we believe the refinements that we have developed offer an effective means of enabling the SNF PPS to make more accurate payments for non-therapy ancillary services (thus ensuring continued access to quality care for the very vulnerable heavy-care population), while at the same time avoiding the drawbacks in terms of added complexity that were inherent in previous proposals to address this issue (70 FR 29079). Accordingly, we are implementing the case-mix refinements as set forth in the proposed rule.

Comment: Commenters suggested we expand the proposed RUG-53 classification system by, for instance, creating an additional Rehabilitation RUG between Medium and High and the expansion of the Extensive Services category to include criteria such as cardiac respiratory conditions that require monitoring and the administration of aerosol medications.

Response: During future analysis, most notably our upcoming STM study, we will evaluate whether the RUG categories should be further modified.

In addition, we have discovered that in the FY 2006 SNF PPS proposed rule, we inadvertently misidentified some RUG classification categories corresponding to Rehab High, Rehab Medium, and Rehab Low in Table 3a (“Crosswalk Between Existing RUG-III Rehabilitation Groups and the Proposed Extensive Plus Rehabilitation Groups”). Accordingly, in this final rule, we are reprinting the retitled and corrected Table 3a, as set forth below.

Table 3a.—Crosswalk Between Existing RUG-III Rehabilitation Groups and the New Rehabilitation Plus Extensive Services Groups
| Current rehabilitation groups | New rehabilitation plus extensive services groups
Rehab Ultra | • RUC—ADL 16-18 • RUB—ADL 9-15 • RUA—ADL 4-8 | • RUX—ADL 16-18. • RUL—ADL 7-15.
Rehab Very High | • RVC—ADL 16-18 • RVB—ADL 9-15 • RVA—ADL 4-8 | • RVX—ADL 16-18. • RVL—ADL 7-15.
Rehab High | • RHC—ADL 13-18 • RHB—ADL 8-12 • RHA—ADL 4-7 | • RHX—ADL 13-18. • RHL—ADL 7-12.
Rehab Medium | • RMC—ADL 15-18 • RMB—ADL 8-14 • RMA—ADL 4-7 | • RMX—ADL 15-18. • RML—ADL 7-14.
Rehab Low | • RLB—ADL 14-18 • RLA—ADL 4-13 | • RLX—ADL 7-18.

2. Proposed Increases to the RUG-III Case-Mix Weight Values

To help address the high degree of variability in the use of non-therapy ancillary services that we have identified both within and across groups, in the FY 2006 SNF PPS proposed rule, we proposed to increase the case-mix weights for all 53 RUGs (that is, the 44 existing RUG-III groups, as well as the proposed 9 new Rehabilitation plus Extensive Services groups). Specifically, we proposed to apply an increase of 8.4 percent to the component of the case-mix weights that includes both nursing and non-therapy ancillary costs (producing a 3 percent increase in aggregate spending), and to do so in a manner that would integrate the increase into base line spending levels and continue it in future years (70 FR 29079). (As noted previously in section III.B, the proposed 8.4 percent increase to the nursing component of the case-mix weights is now 8.51 percent in this final rule.) The following is a discussion of the comments that we received on this issue.

Comment: A number of commenters were concerned about the adequacy of payment for non-therapy ancillary services, and questioned whether the proposed increase in the nursing case-mix weights fully addresses the issue. Several commenters recommended that the case-mix weights should be adjusted by more than the 8.4 percent presented in the proposed rule. Others suggested that, rather than adjusting the case-mix weights by a factor comparable to outlier pools (that is, 3 percent of aggregate spending) established for other prospective payment systems, we implement a SNF outlier pool that could more specifically target high-cost cases. A few commenters also recommended that we adopt a payment adjustment for hospital-based SNFs, either as part of an outlier policy or as an adjustment to the base rates that would address not only the different levels of non-therapy ancillary utilization between hospital-based and freestanding facilities, but the overall cost structure differences related to differences in patient characteristics and care needs. In addition, several commenters recommended creating a variable per diem payment mechanism similar to the mechanism used for inpatient psychiatric hospitals, where higher payments could be made for the early (and presumably more costly) days of a SNF stay. Finally, a few commenters expressed concern that the effect of the refinements would be to redirect dollars away from beneficiaries needing complex medical services.

Response: As discussed here and in our proposed rule, the variability in non-therapy ancillary utilization increased the difficulty of any refinement to the RUG-III system without increasing the system complexity to such a degree that it would become both burdensome and confusing to the facility staff responsible for administering the system. In evaluating potential options, we recognized that this across-the-board increase in the nursing component is only an incremental improvement, but it is a change that did not give rise to the concerns about undue complexity noted above.

Moreover, while the introduction of these refinements fulfills our obligations under section 101 of the BBRA, we note it is just the first of an ongoing series of analyses aimed at enhancing the SNF PPS payment structure. For example, we are already examining the potential for an outlier program to further enhance program accuracy and beneficiary access to care.

The introduction of this incremental change is part of this ongoing process that will also include update activities such as the upcoming STM study and investigation of potential alternatives to the RUG system itself. However, the commitment to long term analysis and refinement should not preclude the introduction of more immediate methodological and policy updates.

While most commenters viewed the adoption of the nine new groups as beneficial, a few commenters were concerned that money was being redirected away from the complex medical RUGs. We are confident that the introduction of these refinements benefits heavy-care beneficiaries. However, as shown in Table 12 of this final rule, changes in the FY 2006 rate structure reflect an interrelationship between many factors, including the elimination of the BBRA add-ons, changes in the wage index, and the introduction of the refinements.

Comment: Some commenters suggested that the underfunding in the Medicaid system should be addressed at the same time as the Medicare RUGs refinement, and expressed concern about the impact that Medicare payment rate reductions would have in combination with changes in State Medicaid payments.

Response: While Medicare and Medicaid are independent programs that are subject to different ratesetting and budgetary mechanisms, we recognize their interrelationship, particularly for those States that utilize variations of Medicare's RUG case-mix classification system. We further recognize that Medicaid needs to establish rates that accurately reflect the cost of Medicaid services. In order to assist in realizing that objective, we plan to use our upcoming STM study to look at the entire RUG payment system, including facilities that are predominately Medicaid-based. Additionally, the Pay for Performance quality initiatives discussed in the FY 2006 proposed rule could apply to both covered Part A and noncovered (Part B) stays of dual-eligibles.

3. Implementation Issues

In order to enable nursing homes and Medicare contractors to have sufficient lead time to prepare for the changes associated with implementing the RUG-III case-mix refinements, in the FY 2006 SNF PPS proposed rule we proposed an effective date for the refinements of January 1, 2006, rather than the start of the fiscal year on October 1, 2005. (Under the terms of section 101(c) of the BBRA, the temporary add-on payments enacted by sections 101(a) and (b) of the BBRA for certain designated RUG-III groups would expire on the date that these refinements take effect.) The following is a discussion of the comments that we received on this issue.

Comment: Generally, commenters were supportive of the delay in implementing the case-mix refinements. However, some commenters were concerned that the January 2006 date does not provide adequate preparation time, especially for the software vendors and facilities that will need to update their MDS data systems. They pointed out the need for adequate lead time to ensure a smooth transition. In addition, a few commenters wanted to know which date would determine when the new RUG classification would need to be reported on the claim (for example the Assessment Reference Date (ARD, item A3a), the Minimum Data Set (MDS) completion date (item R2b), the service date, or the admission date), as well as whether the MDS edits will provide a 44-group RUG for corrected MDSs. Finally, a few commenters noted that the RAVEN software would need to be updated prior to any changes to the existing RUG-III classification system.

Response: We agree that software vendors and SNFs must have enough time to design, test, and implement the system changes needed to support these refinements. For this reason, we have scheduled a software vendor conference call on August 4, 2005 to review the data specifications, and respond to questions on the changes. Further information on this vendor teleconference is posted on our Quality Improvement Evaluation System (QIES) website at the following address: http://www.qtso.com/vendor.html. We will also make available the new software specifications at http://www.cms.hhs.gov/medicaid/mds20/mdssoftw.asp and vendors should implement the appropriate software by November 22, 2005. This timeline provides the vendors over 3 months to update their programs for SNFs. We also plan to release training materials and billing instructions in sufficient time so that SNFs will be able to transition to the refined RUG model.

As stated in the proposed rule, we will begin to apply the RUG case-mix refinement on January 1, 2006. Even though payments are determined by the MDS, the CMS claims processing systems operate on a date of service basis. Thus, the new rates need to go into effect as of January 1, 2006, rather than by the ARD date. This procedure is consistent with the billing procedures used at the start of each rate year. Providers are always instructed to prepare separate bills for services prior to and on or after October 1. This ensures that the claim is paid using the correct rate.

We believe that by scheduling implementation for January 1, 2006, rather than October 1, 2005 (the beginning of FY 2006), we are allowing ample time for providers to adjust to the refined RUG case-mix classification system and to train and educate their staff. This date also allows vendors sufficient time to update their programs to meet our requirements. Finally, by providing a date certain, all systems (State, CMS, FI, providers) can be configured uniformly, thus limiting potential billing errors.

The provider shall bill the appropriate RUG category based on the calendar date of service. For days of service before January 1, 2006, the provider shall record the 44-group RUG on the claim. For days of service beginning on January 1, 2006, the provider shall record the 53-group RUG on the claim.

If for some unforeseen reason, a software vendor is not able to update its program by mid-November, the State system “Final Validation Report” to the provider will list both the 44-group RUG and the 53-group RUG for SNF PPS assessments with ARDs of 11/22/2005 through 1/13/2006. These are the potential transition assessments that could be used for days of service both before January 1, 2006 and for days of service in 2006. For example, a 60-day SNF PPS MDS can be completed as early as day 50 of the beneficiary's SNF Part A stay. If the resident's 50th day of the stay is November 22, 2005 and the provider chooses this date as the ARD for the 60-day PPS MDS, the 44-group RUG would be billed from day 61 (December 3, 2005) to day 89 (December 31, 2005) and the 53-group RUG would be billed for day 90 (January 1, 2006).

For assessments with ARDs before November 22, 2005, only the 44-group RUG is appropriate for billing and the “Final Validation Report” will only report the 44-group RUG when the facility submits an incorrect 44-group RUG on the assessment. For assessments with ARDs after January 13, 2006, only the 53-group RUG is appropriate for billing and the “Final Validation Report” will only report the 53-group RUG when the facility submits an incorrect 53-group RUG on the assessment. For assessments with ARDs from November 22, 2005 through January 13, 2006, the MDS may be submitted with either the 44-group RUG or the 53-group RUG.

Correction assessments (Modifications or Significant Correction Assessments) will be processed in the same manner as other assessments. The RUG grouper (44-group vs. 53-group RUG) that will be calculated and accepted will be determined by the ARD of the Modification or Significant Correction Assessment.

We believe that these steps provide adequate support, and will proceed with the implementation of the refinements effective January 1, 2006.

4. Additional Clinical and Related Issues

In addition to the proposed case-mix refinements, the FY 2006 SNF PPS proposed rule discussed and invited public comment on a number of other clinical and related issues involving alternative ways to improve quality and efficiency and continue to ensure accurate payments under the SNF PPS.

a. Proposed Changes to the MDS Coding Requirements (“Look Back” Period, 5-Day Grace Periods for PPS MDS Assessments, and Projection of Anticipated Therapy Services During the 5-Day PPS Assessment (Section T))

In the FY 2006 SNF PPS proposed rule, we invited public comment on possible changes in MDS coding requirements, such as decreasing the length of the “look-back” period (to restrict coding of certain high intensity services to those actually received in the SNF), decreasing or eliminating the grace periods associated with PPS MDS assessments (specifically with reference to the 5-day PPS MDS assessment), and possibly eliminating the projection of anticipated therapy services during the 5-day PPS assessment (70 FR 29080).

Comment: We received numerous comments on several potential changes to the MDS and the case-mix classification system that we proposed. The overwhelming majority of commenters opposed the elimination of two current policies: The availability of grace days when completing the MDS, and the method of estimating therapy services during the first 15 days of a SNF admission. However, a few commenters supported eliminating the method of estimating therapy services, mentioning findings by the GAO and the Data Assessment and Verification Project (DAVE) that demonstrated a mismatch between the estimated and actual amount of therapy provided, and expressing concern that there may be some abuse of this policy. In addition, a few commenters suggested limiting the use of grace days to the 5-day and 14-day assessments. We also received numerous comments on the change in the MDS assessment “look back” period to restrict MDS reporting to services furnished in the SNF rather than during the preceding hospital stay. While some commenters supported the change in terms of SNF reimbursement policy, most commenters believed there were strong care planning reasons for retaining the current policy. Specifically, the commenters were concerned that facility staff would be unable to perform an accurate assessment of the resident, and that the elimination of the data would result in an underestimate of resource needs and negatively affect the development of an individualized care plan. A number of commenters also recommended that the type of changes discussed in the proposed rule needed to be coordinated with other CMS initiatives, including the development of MDS 3.0 and the upcoming STM study.

Response: After reviewing the comments, we agree that the changes discussed above should be addressed as part of a comprehensive examination of both the MDS 3.0 design initiative and the case-mix classification system. Therefore, we will not implement changes at this time, but will continue to study these and other issues during the upcoming STM study and MDS 3.0 design initiative.

b. Long-Term Payment and Quality Incentive Proposals

In the FY 2006 SNF PPS proposed rule, we discussed and invited comment on various long-term payment and quality incentives (70 FR 29080-29081). The following is a discussion of the comments that we received on these issues.

Comment: Commenters generally responded positively to our discussion of these issues. Regarding Pay for Performance initiatives, the overwhelming majority of commenters believed that its design should be a collaborative process between CMS, industry representatives, and other stakeholders to ensure development of a fair and equitable program. In some cases, the comments we received contained detailed suggestions on the design, validation, and use of quality measures in such a program. A few commenters also suggested specific funding structures. Other commenters suggested that additional work is needed to evaluate the interaction between performance measures used for payment and the design structure of an MDS 3.0 assessment tool. Commenters also expressed interest in the integrated post acute payment system, and were supportive of the idea that reimbursement under such a system could be more closely linked to actual patient need. Similarly, the majority of commenters believed that the development of electronic health records has a real potential for improving the accuracy and efficiency of the system. Commenters were also very supportive of enhanced discharge planning, and saw it as a way of achieving improved outcomes in terms of quality of care as well as quality of life for facility residents.

Response: We agree with the commenters that the most effective way of designing any of these initiatives would be through a collaborative process. To that end, we have begun work on a SNF Pay for Performance model, and have already had informal discussions with stakeholders, where we asked them for their input and comments on specific design issues. These issues included the type of measures that would be most appropriate, and the importance of ensuring that they reflect the needs of the entire population, from post acute patients to chronic, long-term care patients. We also informed the stakeholders that we have contracted with Abt Associates to design a demonstration model, and we asked for their feedback on the type of model that would be most effective in fostering quality of care. We plan to follow up with a general meeting early this fall, where we will discuss design issues and potential quality measures in greater detail. We expect to follow similar procedures as we undertake development of the various other initiatives discussed here and in the proposed rule.

c. Proposal To Clarify “Direct” and “Indirect” Employment Relationships for Nurse Practitioners and Clinical Nurse Specialists

The Medicare statute specifies that a nurse practitioner (NP) or a clinical nurse specialist (CNS) can perform the required level of care certifications and recertifications in a SNF only if the NP or CNS “ * * * does not have a direct or indirect employment relationship with the facility * * *” (section 1814(a)(2) of the Act). In the FY 2006 SNF PPS proposed rule, we proposed revising our policies at § 424.20(e)(2) of the regulations to distinguish more clearly between “direct” and “indirect” employment relationships in terms of the ability of NPs and CNSs to perform SNF certifications and recertifications. We noted that NPs and CNSs who are employed by SNFs not only perform the types of delegated physician tasks that are permitted under the long-term care facility requirements for participation at 42 CFR 483.40(e), but typically perform general nursing services as well. In those situations where no direct employment relationship exists between an NP or CNS and the SNF, we proposed that an indirect employment relationship exists for any NP or CNS who performs these general nursing services for the SNF under the regulations at 42 CFR 409.21 (70 FR 29082).

Comment: Many commenters expressed concern that our proposal to define “indirect” employment in terms of the provision of general nursing services was overly restrictive. They argued that adopting this approach would inhibit NPs and CNSs from engaging in their full scope of practice, and would limit SNF residents' access to their services. It was also asserted that our proposed definition actually goes well beyond the intent of the Congressional restriction on indirect employment relationships, as it could encompass even those NPs and CNSs who operate in independent practice and have no employment relationship whatsoever with the SNF, either directly or through another entity. In addition, some commenters suggested that our proposed approach represents a double standard, in that it would not subject physicians to similar restrictions.

Response: Regarding the concerns about unduly impeding the scope of practice for NPs and CNSs and limiting resident access to their services, we note that under section 1814(a)(2) of the Act, the statutory prohibition against an NP or CNS having a direct or indirect employment relationship with the SNF applies solely in terms of performing the required certification and recertifications of the beneficiary's need for Part A SNF services, and does not carry over to any other context. This means that while the presence of such an employment relationship would serve to preclude an NP or CNS from performing the required SNF certification and recertifications, it would not additionally prevent the NP or CNS from furnishing the full range of direct patient care to the SNF's residents. Further, regarding the issue of the differential treatment of physicians (who are not subject to this restriction), we note that the statute itself specifically applies the restriction to NPs and CNSs, but not to physicians.

In essence, we believe that a direct employment relationship is one in which the SNF itself exercises the right of direction and control over the NP or CNS that characterizes an employment relationship under the common law test (see the regulations at 20 CFR 404.1005, 404.1007, and 404.1009), while an indirect employment relationship is one in which another entity exercises this right on the SNF's behalf. However, we agree that an indirect employment relationship should not be defined so broadly as to encompass an NP or CNS who is operating in independent practice and, thus, has no employer-employee relationship whatsoever, either with the SNF or with any other entity. Moreover, we believe this term should not encompass situations where an entity other than the SNF, although employing the NP or CNS, does not do so on the SNF's behalf. For example, it is common for an NP or CNS who is employed by a group practice to see SNF residents on behalf of one of the group practice's physicians. There may be instances where the group practice enters into an agreement with the SNF that includes having the group practice's NP or CNS employee furnish general nursing services to the SNF's residents. As these general nursing services would fall within the package of bundled services for which the SNF is financially and professionally responsible, the group practice under such an agreement essentially would be exercising its authority as the NP's or CNS's employer on the SNF's behalf, so that an indirect employment relationship would exist between the SNF and the NP or CNS.

By contrast, if the group practice's agreement with the SNF does not involve the provision of bundled nursing services (for example, it is solely for the purpose of gaining admitting privileges for the group practice's physicians, or for providing excluded NP or CNS services to the SNF's residents), then the group practice's exercise of its authority as the NP's or CNS's employer would not be done on the SNF's behalf. Consequently, an indirect employment relationship would not arise under such an agreement, and the NP or CNS would not be precluded from either furnishing the separately billable NP or CNS services to the SNF's residents, or from completing the required certifications and recertifications. Similarly, an indirect employment relationship would not arise in those instances where the only services that the NP or CNS furnishes to the SNF's residents under the agreement are delegated physician tasks under 42 CFR 483.40(e).

Accordingly, in response to comments, we are modifying this aspect of the proposed rule in the regulations at § 424.20 to specify that in contrast to a direct employment relationship with a SNF (in which the SNF itself exercises the right of direction and control over the NP or CNS that characterizes an employment relationship under the common law test), an indirect employment relationship exists in situations where an NP or CNS meets both of the following conditions: (1) The NP or CNS has a direct employment relationship with an entity other than the SNF itself; and (2) The NP's or CNS's employer enters into an agreement with the SNF for the provision of bundled general nursing services to the SNF's residents. Under this definition, an NP or CNS who is employed by an entity other than the SNF can still perform SNF certifications and recertifications, as long as his or her employer has not entered into such an agreement with the SNF.

d. Completion of Other Medicare Required Assessments (OMRAs)

In the FY 2006 SNF PPS proposed rule, we noted that one of the requirements governing the completion of Other Medicare Required Assessments (OMRAs) specifies that an OMRA “is due” 8 to 10 days after the cessation of all therapy (occupational and physical therapies and speech-language pathology services) in all situations where the beneficiary was assigned a rehabilitation RUG on the previous assessment. We then went on to clarify how the last day of therapy is determined in this context.

Comment: Most commenters supported introduction of the clarification, while a small number of commenters expressed concern about the wording. Others expressed concerns on issues that are not directly related to the OMRA language, including comments expressing concern about the limited ability to capture the “short-stay patients discharged before the five-day assessment,” and suggesting that we introduce either an at-admission or an at-discharge assessment, or that we eliminate the 5-day assessment.

Response: After reviewing the comments, we agree that we can further clarify our discussion of OMRA assessments in the proposed rule. Therefore, we wish to clarify that in our previous statements that the OMRA “is due” 8 to 10 days after the cessation of all therapy, and that therapeutic leave days are counted in determining the OMRA “due date,” the due date to which we refer is, in fact, the Assessment Reference Date (ARD). Thus, it is the ARD of the OMRA that must be set 8 to 10 days after the cessation of all therapy, and therapeutic leave days are counted when setting the OMRA ARD. Further, we note that we will keep the commenters' additional suggestions in this area in mind as we pursue our ongoing efforts to improve the accuracy and efficiency of the SNF PPS and the MDS processing system.

e. Concurrent Therapy

In the FY 2006 SNF PPS proposed rule, we solicited public comment on whether additional guidance might be warranted to help prevent the inappropriate provision of concurrent therapy in situations where it is not clinically justified (70 FR 29082-29083). The following is a discussion of the comments that we received on this issue.

Comment: A majority of commenters support the continuation of concurrent therapy as a delivery mode for rehabilitation services when properly furnished by the therapist. Many commenters suggested that CMS establish guidelines or develop examples that would provide guidance on the appropriate use of concurrent therapy, while a few commenters pointed out that CMS already has authority to conduct medical reviews and opposed further regulation. We also received some comments that suggested ways to decrease confusion among therapists, including educational outreach with the assistance of the professional associations, and establishing a single set of guidelines for Medicare Part A and Medicare Part B. Several commenters reported abuse and some reported that staff are being coerced to maximize minutes and reimbursement. One commenter expressed concern that, in the absence of concurrent therapy, some patients might not receive any services. However, another commenter suggested that the overuse of concurrent therapy could mean that a beneficiary might never receive necessary individualized care.

Response: We addressed the practice of concurrent therapy in the FY 2006 SNF PPS proposed rule in order to reiterate Medicare policy and to solicit public comment. Our concern was two-fold: That therapists' professional judgment was being overridden by pressures to be more productive by treating multiple beneficiaries concurrently; and that the Medicare policy that allows for the treatment of multiple beneficiaries was being used inappropriately and could lead to diminished quality of care. We wished to convey that the therapist's professional judgment should not be compromised and concurrent therapy should be performed only when it is clinically appropriate to render care to more than one individual (other than group therapy) at the same time. We agree that, at times, such care can be provided concurrently with another therapy patient, as long as the decision to do so is driven by valid clinical considerations. As requested by several commenters and based on the reports of overuse and/or abuse of concurrent therapy, we will continue to monitor these issues. We intend to work with professional organizations to determine the type of guidelines and educational materials that would be most helpful to therapists and other stakeholders. In addition, we also intend to address concurrent and group therapy utilization patterns during our STM study scheduled to start later this calendar year.

5. Case-Mix Adjusted Federal Rates and Associated Indexes

We have established January 1, 2006, as the beginning date for the use of the case-mix refinements. Accordingly, from October 1, 2005, through December 31, 2005, we will make payment based entirely on the existing 44-group RUG-III classification system. Tables 4, 5, 6, and 7 reflect the corresponding rate information for the existing 44-group RUG-III classification system to be used during this time.

Beginning on January 1, 2006, we will make payment based entirely on the refined RUG-53 classification system (and, thus, would not include the add-on payments). Tables 4a, 5a, 6a, and 7a reflect the corresponding rate information for the RUG-53 classification system.

As part of our ongoing analysis of the 53-group model, we updated the nursing case-mix weights presented in the proposed rule using 2001 data, the most current data available. In addition, based on comments, we adjusted the 53-group model to retain the existing therapy case-mix weights for the 23 Rehabilitation and combined Rehabilitation/Extensive Care groups. We then used the updated case-mix data to repeat the payment simulation described in the proposed rule. The payment simulation showed that adjustments were needed to maintain parity between the 44-group and 53-group models. Thus, we modified the payment simulation model to apply the payment adjustment to both the nursing and therapy case-mix weights proportionally by the aggregate number of days in therapy RUGs versus non-therapy RUGs. This parity was achieved by increasing the nursing case-mix weight by 8.65 percent. Finally, using the methodology described in the proposed rule, we calculated an 8.51 percent nursing case-mix weight adjustment factor to use to address variability in non-therapy ancillary costs. The steps taken to calculate the 53-group model nursing case-mix weights are shown on the SNF PPS website, at www.cms.hhs.gov/providers/snfpps.

Tables 4 and 5 reflect the updated SNF Federal rates for FY 2006 for the existing 44-group RUG-III classification system. Tables 4a and 5a reflect the updated SNF Federal rates for FY 2006 for the RUG-53 classification system. The first nine groups listed in Tables 4a and 5a are for the new Rehabilitation plus Extensive Services groups.

Table 4.—RUG-44 Case-Mix Adjusted Federal Rates and Associated Indexes—Urban
RUG III category | Nursing index | Therapy index | Nursing component | Therapy component | Non-case mix therapy component | Non-case mix component | Total rate
RUC | 1.30 | 2.25 | 178.87 | 233.19 |  | 70.22 | 482.28
RUB | 0.95 | 2.25 | 130.71 | 233.19 |  | 70.22 | 434.12
RUA | 0.78 | 2.25 | 107.32 | 233.19 |  | 70.22 | 410.73
RVC | 1.13 | 1.41 | 155.48 | 146.13 |  | 70.22 | 371.83
RVB | 1.04 | 1.41 | 143.09 | 146.13 |  | 70.22 | 359.44
RVA | 0.81 | 1.41 | 111.45 | 146.13 |  | 70.22 | 327.80
RHC | 1.26 | 0.94 | 173.36 | 97.42 |  | 70.22 | 341.00
RHB | 1.06 | 0.94 | 145.85 | 97.42 |  | 70.22 | 313.49
RHA | 0.87 | 0.94 | 119.70 | 97.42 |  | 70.22 | 287.34
RMC | 1.35 | 0.77 | 185.75 | 79.80 |  | 70.22 | 335.77
RMB | 1.09 | 0.77 | 149.97 | 79.80 |  | 70.22 | 299.99
RMA | 0.96 | 0.77 | 132.09 | 79.80 |  | 70.22 | 282.11
RLB | 1.11 | 0.43 | 152.72 | 44.57 |  | 70.22 | 267.51
RLA | 0.80 | 0.43 | 110.07 | 44.57 |  | 70.22 | 224.86
SE3 | 1.70 |  | 233.90 |  | 13.65 | 70.22 | 317.77
SE2 | 1.39 |  | 191.25 |  | 13.65 | 70.22 | 275.12
SE1 | 1.17 |  | 160.98 |  | 13.65 | 70.22 | 244.85
SSC | 1.13 |  | 155.48 |  | 13.65 | 70.22 | 239.35
SSB | 1.05 |  | 144.47 |  | 13.65 | 70.22 | 228.34
SSA | 1.01 |  | 138.97 |  | 13.65 | 70.22 | 222.84
CC2 | 1.12 |  | 154.10 |  | 13.65 | 70.22 | 237.97
CC1 | 0.99 |  | 136.21 |  | 13.65 | 70.22 | 220.08
CB2 | 0.91 |  | 125.21 |  | 13.65 | 70.22 | 209.08
CB1 | 0.84 |  | 115.58 |  | 13.65 | 70.22 | 199.45
CA2 | 0.83 |  | 114.20 |  | 13.65 | 70.22 | 198.07
CA1 | 0.75 |  | 103.19 |  | 13.65 | 70.22 | 187.06
IB2 | 0.69 |  | 94.94 |  | 13.65 | 70.22 | 178.81
IB1 | 0.67 |  | 92.19 |  | 13.65 | 70.22 | 176.06
IA2 | 0.57 |  | 78.43 |  | 13.65 | 70.22 | 162.30
IA1 | 0.53 |  | 72.92 |  | 13.65 | 70.22 | 156.79
BB2 | 0.68 |  | 93.56 |  | 13.65 | 70.22 | 177.43
BB1 | 0.65 |  | 89.43 |  | 13.65 | 70.22 | 173.30
BA2 | 0.56 |  | 77.05 |  | 13.65 | 70.22 | 160.92
BA1 | 0.48 |  | 66.04 |  | 13.65 | 70.22 | 149.91
PE2 | 0.79 |  | 108.70 |  | 13.65 | 70.22 | 192.57
PE1 | 0.77 |  | 105.94 |  | 13.65 | 70.22 | 189.81
PD2 | 0.72 |  | 99.06 |  | 13.65 | 70.22 | 182.93
PD1 | 0.70 |  | 96.31 |  | 13.65 | 70.22 | 180.18
PC2 | 0.65 |  | 89.43 |  | 13.65 | 70.22 | 173.30
PC1 | 0.64 |  | 88.06 |  | 13.65 | 70.22 | 171.93
PB2 | 0.51 |  | 70.17 |  | 13.65 | 70.22 | 154.04
PB1 | 0.50 |  | 68.80 |  | 13.65 | 70.22 | 152.67
PA2 | 0.49 |  | 67.42 |  | 13.65 | 70.22 | 151.29
PA1 | 0.46 |  | 63.29 |  | 13.65 | 70.22 | 147.16

Table 4a.—RUG-53 Case-Mix Adjusted Federal Rates and Associated Indexes—Urban
RUG-53 category | Nursing index | Therapy index | Nursing component | Therapy component | Non-case mix therapy component | Non-case mix component | Total rate
RUX | 1.90 | 2.25 | 261.42 | 233.19 |  | 70.22 | 564.83
RUL | 1.40 | 2.25 | 192.63 | 233.19 |  | 70.22 | 496.04
RVX | 1.54 | 1.41 | 211.89 | 146.13 |  | 70.22 | 428.24
RVL | 1.33 | 1.41 | 182.99 | 146.13 |  | 70.22 | 399.34
RHX | 1.42 | 0.94 | 195.38 | 97.42 |  | 70.22 | 363.02
RHL | 1.37 | 0.94 | 188.50 | 97.42 |  | 70.22 | 356.14
RMX | 1.93 | 0.77 | 265.55 | 79.80 |  | 70.22 | 415.57
RML | 1.68 | 0.77 | 231.15 | 79.80 |  | 70.22 | 381.17
RLX | 1.31 | 0.43 | 180.24 | 44.57 |  | 70.22 | 295.03
RUC | 1.28 | 2.25 | 176.12 | 233.19 |  | 70.22 | 479.53
RUB | 0.99 | 2.25 | 136.21 | 233.19 |  | 70.22 | 439.62
RUA | 0.84 | 2.25 | 115.58 | 233.19 |  | 70.22 | 418.99
RVC | 1.23 | 1.41 | 169.24 | 146.13 |  | 70.22 | 385.59
RVB | 1.09 | 1.41 | 149.97 | 146.13 |  | 70.22 | 366.32
RVA | 0.82 | 1.41 | 112.82 | 146.13 |  | 70.22 | 329.17
RHC | 1.22 | 0.94 | 167.86 | 97.42 |  | 70.22 | 335.50
RHB | 1.11 | 0.94 | 152.72 | 97.42 |  | 70.22 | 320.36
RHA | 0.94 | 0.94 | 129.33 | 97.42 |  | 70.22 | 296.97
RMC | 1.15 | 0.77 | 158.23 | 79.80 |  | 70.22 | 308.25
RMB | 1.09 | 0.77 | 149.97 | 79.80 |  | 70.22 | 299.99
RMA | 1.04 | 0.77 | 143.09 | 79.80 |  | 70.22 | 293.11
RLB | 1.14 | 0.43 | 156.85 | 44.57 |  | 70.22 | 271.64
RLA | 0.85 | 0.43 | 116.95 | 44.57 |  | 70.22 | 231.74
SE3 | 1.86 |  | 255.92 |  | 13.65 | 70.22 | 339.79
SE2 | 1.49 |  | 205.01 |  | 13.65 | 70.22 | 288.88
SE1 | 1.26 |  | 173.36 |  | 13.65 | 70.22 | 257.23
SSC | 1.23 |  | 169.24 |  | 13.65 | 70.22 | 253.11
SSB | 1.13 |  | 155.48 |  | 13.65 | 70.22 | 239.35
SSA | 1.10 |  | 151.35 |  | 13.65 | 70.22 | 235.22
CC2 | 1.22 |  | 167.86 |  | 13.65 | 70.22 | 251.73
CC1 | 1.06 |  | 145.85 |  | 13.65 | 70.22 | 229.72
CB2 | 0.98 |  | 134.84 |  | 13.65 | 70.22 | 218.71
CB1 | 0.91 |  | 125.21 |  | 13.65 | 70.22 | 209.08
CA2 | 0.90 |  | 123.83 |  | 13.65 | 70.22 | 207.70
CA1 | 0.80 |  | 110.07 |  | 13.65 | 70.22 | 193.94
IB2 | 0.74 |  | 101.82 |  | 13.65 | 70.22 | 185.69
IB1 | 0.72 |  | 99.06 |  | 13.65 | 70.22 | 182.93
IA2 | 0.61 |  | 83.93 |  | 13.65 | 70.22 | 167.80
IA1 | 0.56 |  | 77.05 |  | 13.65 | 70.22 | 160.92
BB2 | 0.73 |  | 100.44 |  | 13.65 | 70.22 | 184.31
BB1 | 0.69 |  | 94.94 |  | 13.65 | 70.22 | 178.81
BA2 | 0.60 |  | 82.55 |  | 13.65 | 70.22 | 166.42
BA1 | 0.52 |  | 71.55 |  | 13.65 | 70.22 | 155.42
PE2 | 0.85 |  | 116.95 |  | 13.65 | 70.22 | 200.82
PE1 | 0.82 |  | 112.82 |  | 13.65 | 70.22 | 196.69
PD2 | 0.78 |  | 107.32 |  | 13.65 | 70.22 | 191.19
PD1 | 0.76 |  | 104.57 |  | 13.65 | 70.22 | 188.44
PC2 | 0.71 |  | 97.69 |  | 13.65 | 70.22 | 181.56
PC1 | 0.69 |  | 94.94 |  | 13.65 | 70.22 | 178.81
PB2 | 0.55 |  | 75.67 |  | 13.65 | 70.22 | 159.54
PB1 | 0.54 |  | 74.30 |  | 13.65 | 70.22 | 158.17
PA2 | 0.53 |  | 72.92 |  | 13.65 | 70.22 | 156.79
PA1 | 0.50 |  | 68.80 |  | 13.65 | 70.22 | 152.67

Table 5.—RUG-44 Case-Mix Adjusted Federal Rates and Associated Indexes—Rural
RUG III category | Nursing index | Therapy index | Nursing component | Therapy component | Non-case mix therapy component | Non-case mix component | Total rate
RUC | 1.30 | 2.25 | 170.89 | 268.90 |  | 71.52 | 511.31
RUB | 0.95 | 2.25 | 124.88 | 268.90 |  | 71.52 | 465.30
RUA | 0.78 | 2.25 | 102.53 | 268.90 |  | 71.52 | 442.95
RVC | 1.13 | 1.41 | 148.54 | 168.51 |  | 71.52 | 388.57
RVB | 1.04 | 1.41 | 136.71 | 168.51 |  | 71.52 | 376.74
RVA | 0.81 | 1.41 | 106.47 | 168.51 |  | 71.52 | 346.50
RHC | 1.26 | 0.94 | 165.63 | 112.34 |  | 71.52 | 349.49
RHB | 1.06 | 0.94 | 139.34 | 112.34 |  | 71.52 | 323.20
RHA | 0.87 | 0.94 | 114.36 | 112.34 |  | 71.52 | 298.22
RMC | 1.35 | 0.77 | 177.46 | 92.02 |  | 71.52 | 341.00
RMB | 1.09 | 0.77 | 143.28 | 92.02 |  | 71.52 | 306.82
RMA | 0.96 | 0.77 | 126.19 | 92.02 |  | 71.52 | 289.73
RLB | 1.11 | 0.43 | 145.91 | 51.39 |  | 71.52 | 268.82
RLA | 0.80 | 0.43 | 105.16 | 51.39 |  | 71.52 | 228.07
SE3 | 1.70 |  | 223.47 |  | 14.58 | 71.52 | 309.57
SE2 | 1.39 |  | 182.72 |  | 14.58 | 71.52 | 268.82
SE1 | 1.17 |  | 153.80 |  | 14.58 | 71.52 | 239.90
SSC | 1.13 |  | 148.54 |  | 14.58 | 71.52 | 234.64
SSB | 1.05 |  | 138.02 |  | 14.58 | 71.52 | 224.12
SSA | 1.01 |  | 132.76 |  | 14.58 | 71.52 | 218.86
CC2 | 1.12 |  | 147.22 |  | 14.58 | 71.52 | 233.32
CC1 | 0.99 |  | 130.14 |  | 14.58 | 71.52 | 216.24
CB2 | 0.91 |  | 119.62 |  | 14.58 | 71.52 | 205.72
CB1 | 0.84 |  | 110.42 |  | 14.58 | 71.52 | 196.52
CA2 | 0.83 |  | 109.10 |  | 14.58 | 71.52 | 195.20
CA1 | 0.75 |  | 98.59 |  | 14.58 | 71.52 | 184.69
IB2 | 0.69 |  | 90.70 |  | 14.58 | 71.52 | 176.80
IB1 | 0.67 |  | 88.07 |  | 14.58 | 71.52 | 174.17
IA2 | 0.57 |  | 74.93 |  | 14.58 | 71.52 | 161.03
IA1 | 0.53 |  | 69.67 |  | 14.58 | 71.52 | 155.77
BB2 | 0.68 |  | 89.39 |  | 14.58 | 71.52 | 175.49
BB1 | 0.65 |  | 85.44 |  | 14.58 | 71.52 | 171.54
BA2 | 0.56 |  | 73.61 |  | 14.58 | 71.52 | 159.71
BA1 | 0.48 |  | 63.10 |  | 14.58 | 71.52 | 149.20
PE2 | 0.79 |  | 103.85 |  | 14.58 | 71.52 | 189.95
PE1 | 0.77 |  | 101.22 |  | 14.58 | 71.52 | 187.32
PD2 | 0.72 |  | 94.64 |  | 14.58 | 71.52 | 180.74
PD1 | 0.70 |  | 92.02 |  | 14.58 | 71.52 | 178.12
PC2 | 0.65 |  | 85.44 |  | 14.58 | 71.52 | 171.54
PC1 | 0.64 |  | 84.13 |  | 14.58 | 71.52 | 170.23
PB2 | 0.51 |  | 67.04 |  | 14.58 | 71.52 | 153.14
PB1 | 0.50 |  | 65.73 |  | 14.58 | 71.52 | 151.83
PA2 | 0.49 |  | 64.41 |  | 14.58 | 71.52 | 150.51
PA1 | 0.46 |  | 60.47 |  | 14.58 | 71.52 | 146.57

Table 5a.—RUG-53 Case-Mix Adjusted Federal Rates and Associated Indexes—Rural
RUG-53 category | Nursing index | Therapy index | Nursing component | Therapy component | Non-case mix therapy comp | Non-case mix component | Total rate
RUX | 1.90 | 2.25 | 249.76 | 268.90 |  | 71.52 | 590.18
RUL | 1.40 | 2.25 | 184.03 | 268.90 |  | 71.52 | 524.45
RVX | 1.54 | 1.41 | 202.43 | 168.51 |  | 71.52 | 442.46
RVL | 1.33 | 1.41 | 174.83 | 168.51 |  | 71.52 | 414.86
RHX | 1.42 | 0.94 | 186.66 | 112.34 |  | 71.52 | 370.52
RHL | 1.37 | 0.94 | 180.09 | 112.34 |  | 71.52 | 363.95
RMX | 1.93 | 0.77 | 253.70 | 92.02 |  | 71.52 | 417.24
RML | 1.68 | 0.77 | 220.84 | 92.02 |  | 71.52 | 384.38
RLX | 1.31 | 0.43 | 172.20 | 51.39 |  | 71.52 | 295.11
RUC | 1.28 | 2.25 | 168.26 | 268.90 |  | 71.52 | 508.68
RUB | 0.99 | 2.25 | 130.14 | 268.90 |  | 71.52 | 470.56
RUA | 0.84 | 2.25 | 110.42 | 268.90 |  | 71.52 | 450.84
RVC | 1.23 | 1.41 | 161.68 | 168.51 |  | 71.52 | 401.71
RVB | 1.09 | 1.41 | 143.28 | 168.51 |  | 71.52 | 383.31
RVA | 0.82 | 1.41 | 107.79 | 168.51 |  | 71.52 | 347.82
RHC | 1.22 | 0.94 | 160.37 | 112.34 |  | 71.52 | 344.23
RHB | 1.11 | 0.94 | 145.91 | 112.34 |  | 71.52 | 329.77
RHA | 0.94 | 0.94 | 123.56 | 112.34 |  | 71.52 | 307.42
RMC | 1.15 | 0.77 | 151.17 | 92.02 |  | 71.52 | 314.71
RMB | 1.09 | 0.77 | 143.28 | 92.02 |  | 71.52 | 306.82
RMA | 1.04 | 0.77 | 136.71 | 92.02 |  | 71.52 | 300.25
RLB | 1.14 | 0.43 | 149.85 | 51.39 |  | 71.52 | 272.76
RLA | 0.85 | 0.43 | 111.73 | 51.39 |  | 71.52 | 234.64
SE3 | 1.86 |  | 244.50 |  | 14.58 | 71.52 | 330.60
SE2 | 1.49 |  | 195.86 |  | 14.58 | 71.52 | 281.96
SE1 | 1.26 |  | 165.63 |  | 14.58 | 71.52 | 251.73
SSC | 1.23 |  | 161.68 |  | 14.58 | 71.52 | 247.78
SSB | 1.13 |  | 148.54 |  | 14.58 | 71.52 | 234.64
SSA | 1.10 |  | 144.60 |  | 14.58 | 71.52 | 230.70
CC2 | 1.22 |  | 160.37 |  | 14.58 | 71.52 | 246.47
CC1 | 1.06 |  | 139.34 |  | 14.58 | 71.52 | 225.44
CB2 | 0.98 |  | 128.82 |  | 14.58 | 71.52 | 214.92
CB1 | 0.91 |  | 119.62 |  | 14.58 | 71.52 | 205.72
CA2 | 0.90 |  | 118.31 |  | 14.58 | 71.52 | 204.41
CA1 | 0.80 |  | 105.16 |  | 14.58 | 71.52 | 191.26
IB2 | 0.74 |  | 97.27 |  | 14.58 | 71.52 | 183.37
IB1 | 0.72 |  | 94.64 |  | 14.58 | 71.52 | 180.74
IA2 | 0.61 |  | 80.18 |  | 14.58 | 71.52 | 166.28
IA1 | 0.56 |  | 73.61 |  | 14.58 | 71.52 | 159.71
BB2 | 0.73 |  | 95.96 |  | 14.58 | 71.52 | 182.06
BB1 | 0.69 |  | 90.70 |  | 14.58 | 71.52 | 176.80
BA2 | 0.60 |  | 78.87 |  | 14.58 | 71.52 | 164.97
BA1 | 0.52 |  | 68.35 |  | 14.58 | 71.52 | 154.45
PE2 | 0.85 |  | 111.73 |  | 14.58 | 71.52 | 197.83
PE1 | 0.82 |  | 107.79 |  | 14.58 | 71.52 | 193.89
PD2 | 0.78 |  | 102.53 |  | 14.58 | 71.52 | 188.63
PD1 | 0.76 |  | 99.90 |  | 14.58 | 71.52 | 186.00
PC2 | 0.71 |  | 93.33 |  | 14.58 | 71.52 | 179.43
PC1 | 0.69 |  | 90.70 |  | 14.58 | 71.52 | 176.80
PB2 | 0.55 |  | 72.30 |  | 14.58 | 71.52 | 158.40
PB1 | 0.54 |  | 70.98 |  | 14.58 | 71.52 | 157.08
PA2 | 0.53 |  | 69.67 |  | 14.58 | 71.52 | 155.77
PA1 | 0.50 |  | 65.73 |  | 14.58 | 71.52 | 151.83

D. Wage Index Adjustment to Federal Rates

Section 1888(e)(4)(G)(ii) of the Act requires that we adjust the Federal rates to account for differences in area wage levels, using a wage index that we find appropriate. Since the inception of a PPS for SNFs, we have used hospital wage data in developing a wage index to be applied to SNFs. We are continuing that practice for FY 2006.

1. Proposal To Incorporate the Revised OMB Definitions for Metropolitan Statistical Areas and Combined Statistical Areas

In the FY 2006 SNF PPS proposed rule, we proposed to incorporate into the SNF PPS the revised OMB definitions for Metropolitan Statistical Areas, as well as the new definitions of Micropolitan Statistical Areas and Combined Statistical Areas. For a full discussion of this proposal, see our FY 2006 proposed rule (70 FR 29090-94). We also invited comments on the appropriateness of implementing this change through a transition period similar to that adopted under the inpatient hospital PPS (IPPS)(70 FR 29095). The following is a discussion of the comments that we received on this issue.

Comment: A number of commenters questioned the continued use of the hospital wage index, and suggested that, rather than using the hospital wage index to implement the OMB designations, CMS postpone action until a SNF-specific wage index can be created. Commenters also recommended adopting policies included in the IPPS, such as the creation of a geographic reclassification policy for SNFs and the introduction of a “rural floor” (ensuring that no urban wage index value is lower than the State-wide rural wage index.

Response: As part of our ongoing program analysis, we periodically reevaluate the suitability of establishing a SNF-specific wage index and a provider reclassification methodology. However, as we noted in the FY 2004 SNF PPS final rule when this issue was raised previously (68 FR 46046, August 4, 2003), in view of the volatility of existing SNF wage data and the significant amount of resources that would be required to improve the quality of that data, we do not expect to propose a SNF-specific wage index until we can demonstrate that it would significantly improve our ability to determine payment for facilities and justify the resources required to collect the data, as well as the increased burden on providers.

In addition, we note that the development of the hospital wage data can also be scrutinized and evaluated by the SNF industry when commenting on the hospital proposed rule that is published each spring. Therefore, because of the problems associated with the current SNF-specific data, and our inability to demonstrate that a SNF-specific wage index would be more reflective of the wages and salaries paid in a specific area, we continue to believe that hospital wage data are the most appropriate data for adjusting payments made to SNFs.

We also noted in the FY 2004 final rule that while section 315 of the BIPA does authorize the SNF PPS to use a reclassification methodology that would allow providers to seek geographic reclassification, it specifically provides that such reclassification cannot be implemented until we have collected the data necessary to establish a SNF-specific wage index. At that time, we also invited input from the industry that could demonstrate that the adoption of a “rural floor” would provide a more accurate wage index. To date, however, we have not received evidence that such an approach would, in fact, accomplish this result. Accordingly, we are not adopting these suggested changes at this time.

Comment: Several commenters recommended that we withdraw or postpone implementation of this provision because the fiscal impact of the wage index changes have a disproportionate effect on different facilities or in different localities. One commenter also questioned whether CMS has the legislative authority to implement the OMB designations, as the SNF PPS structure distinguishes between urban and rural providers, but doesn't include a category for micropolitan areas.

Response: The statute provides the Secretary with broad authority to select an appropriate wage index, and we believe that the adoption of these OMB designations is consistent with and in compliance with the statutory authority. We further understand that impact on providers based on the wage index adjustments (which, by statute, must be accomplished in a budget neutral manner) will always vary as an inherent aspect of such adjustments, and would occur regardless of whether we continue to use the current MSA designations or use the more accurate CBSA designations established by OMB in June 2003. Therefore, we continue to believe that an appropriate wage index includes the CBSA designations described in the proposed rule.

Comment: A large number of commenters urged CMS to develop a transition policy to minimize the fiscal impact of the transition to the OMB designations. Many commenters urged CMS to adopt broad protections for facilities against changes in the wage index due to the adoption of the new OMB designations. Commenters offered various recommendations about how to provide such protection. Some advocated transition mechanisms such as blending wage index factors specifically for those facilities that would experience a wage index decrease (similar to the approach adopted under the IPPS), with a one to four year phase-in period to allow SNFs to make appropriate adjustments in their operations. In addition, many commenters recommended caps on gains and losses or a hold harmless provision for SNFs facing significant wage index reductions under the proposal.

Response: In the FY 2006 SNF PPS proposed rule, while we did not view it as appropriate or necessary to propose a transition period, we provided various transition options and specifically invited comments on our proposed approaches. We continue to recognize that some SNFs will experience decreases in their applicable wage index as a result of the conversion from the MSA to the CBSA structure. We also agree that it is appropriate to assist providers in adapting to these changes in a manner that provides the most benefit to the largest number of providers. Therefore, based in part upon the comments, we now agree that a transition period for SNFs would be appropriate and beneficial.

In evaluating transition options, we looked for approaches that would provide relief to the largest percentage of adversely affected SNFs with the least impact to the rest of the facilities, who either received small increases or remained the same. One possible approach that we considered would involve creating a floor (for example, at a 2 percent decrease), to be funded by also imposing a ceiling (for example, at a 5 percent gain). Instead, we have decided to use a 1-year transition with a blended wage index for all providers. The wage index for each provider will consist of a blend of 50 percent of the FY 2006 MSA-based wage index and 50 percent of the FY 2006 CBSA-based wage index (both using FY 2002 hospital wage data). We refer to this blended wage index as the FY 2006 SNF PPS transition wage index and these values can be found in the Addendum in Table A. This option achieves our objective of creating a transition policy that provides relief to the largest percentage of adversely affected SNFs with the least impact to the rest of the facilities. In addition, the 50/50 blend option allows us to achieve a high degree of stability in the unadjusted base rates. The adoption of this option results in only minimal change to the budget neutrality factor, from 1.0011 to 1.0012. In fact, the unadjusted base rates applicable to all SNFs actually show a slight increase.

Accordingly, as noted above, after consideration of these comments, we have modified the wage index proposal to include the transition policy discussed above. This transition policy is for a one-year period. It goes into effect October 1, 2005, and remains in effect through September 30, 2006. Thus, the transition will end at the start of FY 2007.

In addition, we solicited comments on approaches to calculating the wage index values for areas without hospitals for FY 2006 and subsequent years. We received no comments on our approach and we will implement the methodology described in the FY 2006 SNF PPS proposed rule (70 FR 29096).

2. Determining the Labor-Related Portion of the SNF PPS Rate

The wage index adjustment is applied to the labor-related portion of the Federal rate, which is 75.922 percent of the total rate, as explained in section III.H.1 of this final rule. This percentage reflects the labor-related relative importance for FY 2006. The labor-related relative importance is calculated from the SNF market basket, and approximates the labor-related portion of the total costs after taking into account historical and projected price changes between the base year and FY 2006. The price proxies that move the different cost categories in the market basket do not necessarily change at the same rate, and the relative importance captures these changes. Accordingly, the relative importance figure more closely reflects the cost share weights for FY 2006 than the base year weights from the SNF market basket.

We calculate the labor-related relative importance for FY 2006 in four steps. First, we compute the FY 2006 price index level for the total market basket and each cost category of the market basket. Second, we calculate a ratio for each cost category by dividing the FY 2006 price index level for that cost category by the total market basket price index level. Third, we determine the FY 2006 relative importance for each cost category by multiplying this ratio by the base year (FY 1997) weight. Finally, we sum the FY 2006 relative importance for each of the labor-related cost categories (wages and salaries, employee benefits, nonmedical professional fees, labor-intensive services, and capital-related expenses) to produce the FY 2006 labor-related relative importance. Tables 6 and 7 show the Federal rates by labor-related and non-labor-related components for the existing 44-group RUG-III classification system. Tables 6a and 7a show the Federal rates by labor-related and non-labor-related components for the refined 53-group RUG classification system.

Table 6.—RUG-44 Case-Mix Adjusted Federal Rates for Urban SNFs by Labor and Non-Labor Component
RUG III category | Total rate | Labor portion | Non-labor portion
RUC | 482.28 | 366.16 | 116.12
RUB | 434.12 | 329.59 | 104.53
RUA | 410.73 | 311.83 | 98.90
RVC | 371.83 | 282.30 | 89.53
RVB | 359.44 | 272.89 | 86.55
RVA | 327.80 | 248.87 | 78.93
RHC | 341.00 | 258.89 | 82.11
RHB | 313.49 | 238.01 | 75.48
RHA | 287.34 | 218.15 | 69.19
RMC | 335.77 | 254.92 | 80.85
RMB | 299.99 | 227.76 | 72.23
RMA | 282.11 | 214.18 | 67.93
RLB | 267.51 | 203.10 | 64.41
RLA | 224.86 | 170.72 | 54.14
SE3 | 317.77 | 241.26 | 76.51
SE2 | 275.12 | 208.88 | 66.24
SE1 | 244.85 | 185.90 | 58.95
SSC | 239.35 | 181.72 | 57.63
SSB | 228.34 | 173.36 | 54.98
SSA | 222.84 | 169.18 | 53.66
CC2 | 237.97 | 180.67 | 57.30
CC1 | 220.08 | 167.09 | 52.99
CB2 | 209.08 | 158.74 | 50.34
CB1 | 199.45 | 151.43 | 48.02
CA2 | 198.07 | 150.38 | 47.69
CA1 | 187.06 | 142.02 | 45.04
IB2 | 178.81 | 135.76 | 43.05
IB1 | 176.06 | 133.67 | 42.39
IA2 | 162.30 | 123.22 | 39.08
IA1 | 156.79 | 119.04 | 37.75
BB2 | 177.43 | 134.71 | 42.72
BB1 | 173.30 | 131.57 | 41.73
BA2 | 160.92 | 122.17 | 38.75
BA1 | 149.91 | 113.81 | 36.10
PE2 | 192.57 | 146.20 | 46.37
PE1 | 189.81 | 144.11 | 45.70
PD2 | 182.93 | 138.88 | 44.05
PD1 | 180.18 | 136.80 | 43.38
PC2 | 173.30 | 131.57 | 41.73
PC1 | 171.93 | 130.53 | 41.40
PB2 | 154.04 | 116.95 | 37.09
PB1 | 152.67 | 115.91 | 36.76
PA2 | 151.29 | 114.86 | 36.43
PA1 | 147.16 | 111.73 | 35.43

Table 6a.—RUG-53 Case-Mix Adjusted Federal Rates for Urban SNFs by Labor and Non-Labor Component
RUG-53 category | Total rate | Labor portion | Non-labor portion
RUX | 564.83 | 428.83 | 136.00
RUL | 496.04 | 376.60 | 119.44
RVX | 428.24 | 325.13 | 103.11
RVL | 399.34 | 303.19 | 96.15
RHX | 363.02 | 275.61 | 87.41
RHL | 356.14 | 270.39 | 85.75
RMX | 415.57 | 315.51 | 100.06
RML | 381.17 | 289.39 | 91.78
RLX | 295.03 | 223.99 | 71.04
RUC | 479.53 | 364.07 | 115.46
RUB | 439.62 | 333.77 | 105.85
RUA | 418.99 | 318.11 | 100.88
RVC | 385.59 | 292.75 | 92.84
RVB | 366.32 | 278.12 | 88.20
RVA | 329.17 | 249.91 | 79.26
RHC | 335.50 | 254.72 | 80.78
RHB | 320.36 | 243.22 | 77.14
RHA | 296.97 | 225.47 | 71.50
RMC | 308.25 | 234.03 | 74.22
RMB | 299.99 | 227.76 | 72.23
RMA | 293.11 | 222.53 | 70.58
RLB | 271.64 | 206.23 | 65.41
RLA | 231.74 | 175.94 | 55.80
SE3 | 339.79 | 257.98 | 81.81
SE2 | 288.88 | 219.32 | 69.56
SE1 | 257.23 | 195.29 | 61.94
SSC | 253.11 | 192.17 | 60.94
SSB | 239.35 | 181.72 | 57.63
SSA | 235.22 | 178.58 | 56.64
CC2 | 251.73 | 191.12 | 60.61
CC1 | 229.72 | 174.41 | 55.31
CB2 | 218.71 | 166.05 | 52.66
CB1 | 209.08 | 158.74 | 50.34
CA2 | 207.70 | 157.69 | 50.01
CA1 | 193.94 | 147.24 | 46.70
IB2 | 185.69 | 140.98 | 44.71
IB1 | 182.93 | 138.88 | 44.05
IA2 | 167.80 | 127.40 | 40.40
IA1 | 160.92 | 122.17 | 38.75
BB2 | 184.31 | 139.93 | 44.38
BB1 | 178.81 | 135.76 | 43.05
BA2 | 166.42 | 126.35 | 40.07
BA1 | 155.42 | 118.00 | 37.42
PE2 | 200.82 | 152.47 | 48.35
PE1 | 196.69 | 149.33 | 47.36
PD2 | 191.19 | 145.16 | 46.03
PD1 | 188.44 | 143.07 | 45.37
PC2 | 181.56 | 137.84 | 43.72
PC1 | 178.81 | 135.76 | 43.05
PB2 | 159.54 | 121.13 | 38.41
PB1 | 158.17 | 120.09 | 38.08
PA2 | 156.79 | 119.04 | 37.75
PA1 | 152.67 | 115.91 | 36.76

Table 7.—RUG-44 Case-Mix Adjusted Federal Rates for Rural SNFs by Labor and Non-Labor Component
RUG III category | Total rate | Labor portion | Non-labor portion
RUC | 511.31 | 388.20 | 123.11
RUB | 465.30 | 353.27 | 112.03
RUA | 442.95 | 336.30 | 106.65
RVC | 388.57 | 295.01 | 93.56
RVB | 376.74 | 286.03 | 90.71
RVA | 346.50 | 263.07 | 83.43
RHC | 349.49 | 265.34 | 84.15
RHB | 323.20 | 245.38 | 77.82
RHA | 298.22 | 226.41 | 71.81
RMC | 341.00 | 258.89 | 82.11
RMB | 306.82 | 232.94 | 73.88
RMA | 289.73 | 219.97 | 69.76
RLB | 268.82 | 204.09 | 64.73
RLA | 228.07 | 173.16 | 54.91
SE3 | 309.57 | 235.03 | 74.54
SE2 | 268.82 | 204.09 | 64.73
SE1 | 239.90 | 182.14 | 57.76
SSC | 234.64 | 178.14 | 56.50
SSB | 224.12 | 170.16 | 53.96
SSA | 218.86 | 166.16 | 52.70
CC2 | 233.32 | 177.14 | 56.18
CC1 | 216.24 | 164.17 | 52.07
CB2 | 205.72 | 156.19 | 49.53
CB1 | 196.52 | 149.20 | 47.32
CA2 | 195.20 | 148.20 | 47.00
CA1 | 184.69 | 140.22 | 44.47
IB2 | 176.80 | 134.23 | 42.57
IB1 | 174.17 | 132.23 | 41.94
IA2 | 161.03 | 122.26 | 38.77
IA1 | 155.77 | 118.26 | 37.51
BB2 | 175.49 | 133.24 | 42.25
BB1 | 171.54 | 130.24 | 41.30
BA2 | 159.71 | 121.26 | 38.45
BA1 | 149.20 | 113.28 | 35.92
PE2 | 189.95 | 144.21 | 45.74
PE1 | 187.32 | 142.22 | 45.10
PD2 | 180.74 | 137.22 | 43.52
PD1 | 178.12 | 135.23 | 42.89
PC2 | 171.54 | 130.24 | 41.30
PC1 | 170.23 | 129.24 | 40.99
PB2 | 153.14 | 116.27 | 36.87
PB1 | 151.83 | 115.27 | 36.56
PA2 | 150.51 | 114.27 | 36.24
PA1 | 146.57 | 111.28 | 35.29

Table 7a.—RUG-53 Case-Mix Adjusted Federal Rates for Rural SNFs by Labor and Non-Labor Component
RUG-53 category | Total rate | Labor portion | Non-labor portion
RUX | 590.18 | 448.08 | 142.10
RUL | 524.45 | 398.17 | 126.28
RVX | 442.46 | 335.92 | 106.54
RVL | 414.86 | 314.97 | 99.89
RHX | 370.52 | 281.31 | 89.21
RHL | 363.95 | 276.32 | 87.63
RMX | 417.24 | 316.78 | 100.46
RML | 384.38 | 291.83 | 92.55
RLX | 295.11 | 224.05 | 71.06
RUC | 508.68 | 386.20 | 122.48
RUB | 470.56 | 357.26 | 113.30
RUA | 450.84 | 342.29 | 108.55
RVC | 401.71 | 304.99 | 96.72
RVB | 383.31 | 291.02 | 92.29
RVA | 347.82 | 264.07 | 83.75
RHC | 344.23 | 261.35 | 82.88
RHB | 329.77 | 250.37 | 79.40
RHA | 307.42 | 233.40 | 74.02
RMC | 314.71 | 238.93 | 75.78
RMB | 306.82 | 232.94 | 73.88
RMA | 300.25 | 227.96 | 72.29
RLB | 272.76 | 207.08 | 65.68
RLA | 234.64 | 178.14 | 56.50
SE3 | 330.60 | 251.00 | 79.60
SE2 | 281.96 | 214.07 | 67.89
SE1 | 251.73 | 191.12 | 60.61
SSC | 247.78 | 188.12 | 59.66
SSB | 234.64 | 178.14 | 56.50
SSA | 230.70 | 175.15 | 55.55
CC2 | 246.47 | 187.12 | 59.35
CC1 | 225.44 | 171.16 | 54.28
CB2 | 214.92 | 163.17 | 51.75
CB1 | 205.72 | 156.19 | 49.53
CA2 | 204.41 | 155.19 | 49.22
CA1 | 191.26 | 145.21 | 46.05
IB2 | 183.37 | 139.22 | 44.15
IB1 | 180.74 | 137.22 | 43.52
IA2 | 166.28 | 126.24 | 40.04
IA1 | 159.71 | 121.26 | 38.45
BB2 | 182.06 | 138.22 | 43.84
BB1 | 176.80 | 134.23 | 42.57
BA2 | 164.97 | 125.25 | 39.72
BA1 | 154.45 | 117.26 | 37.19
PE2 | 197.83 | 150.20 | 47.63
PE1 | 193.89 | 147.21 | 46.68
PD2 | 188.63 | 143.21 | 45.42
PD1 | 186.00 | 141.21 | 44.79
PC2 | 179.43 | 136.23 | 43.20
PC1 | 176.80 | 134.23 | 42.57
PB2 | 158.40 | 120.26 | 38.14
PB1 | 157.08 | 119.26 | 37.82
PA2 | 155.77 | 118.26 | 37.51
PA1 | 151.83 | 115.27 | 36.56

3. Calculating the Budget Neutrality Factor

Section 1888(e)(4)(G)(ii) of the Act also requires that we apply this wage index in a manner that does not result in aggregate payments that are greater or lesser than would otherwise be made in the absence of the wage adjustment. For FY 2006 (Federal rates effective October 1, 2005), we are applying the wage index applicable to SNF payments using the most recent hospital wage data applicable to FY 2006 payments (as discussed previously in section III.D.1 of this final rule), and applying an adjustment to fulfill the budget neutrality requirement. This requirement is met by multiplying each of the components of the unadjusted Federal rates by a factor equal to the ratio of the volume weighted mean wage adjustment factor (using the wage index from the previous year) to the volume weighted mean wage adjustment factor, using the wage index for the fiscal year beginning October 1, 2005. The same volume weights are used in both the numerator and denominator and were derived from 1997 Medicare Provider Analysis and Review File (MEDPAR) data. The wage adjustment factor used in this calculation is defined as the labor share of the rate component multiplied by the wage index plus the non-labor share. The budget neutrality factor has been recalculated to reflect the addition of a transition policy. Effective October 1, 2005, we will adopt a budget neutrality factor of 1.0012. In order to give the public a sense of the magnitude of this adjustment, last year's factor was 1.0011.

E. Updates to the Federal Rates

In accordance with section 1888(e)(4)(E) of the Act, the final payment rates listed here reflect an update equal to the full SNF market basket, which equals 3.1 percent.

We will continue to disseminate the rates, wage index, and case-mix classification methodology in the Federal Register before August 1 preceding the start of each succeeding fiscal year. Along with a number of other revisions discussed elsewhere in this preamble, this final rule provides the annual updates to the Federal rates as required by statute.

F. Relationship of Case-Mix Classification System to Existing SNF Level-of-Care Criteria

As discussed in § 413.345, we include in each update of the Federal payment rates in the Federal Register the designation of those specific RUGs under the classification system that represent the required SNF level of care, as provided in § 409.30. This designation reflects an administrative presumption that we initially adopted under the original 44-group RUG-III classification system. Under the presumption, any beneficiary correctly assigned to one of the upper 26 of the 44 RUG-III groups in the initial 5-day, Medicare-required assessment is automatically classified as meeting the SNF level of care definition up to the assessment reference date (ARD) for that assessment.

A beneficiary assigned to any of the lower 18 of the 44 RUG-III groups is not automatically classified as either meeting or not meeting the definition, but instead receives an individual level of care determination using the existing administrative criteria. This presumption recognizes the strong likelihood that beneficiaries assigned to one of the upper 26 groups during the immediate post-hospital period require a covered level of care, which would be significantly less likely for those beneficiaries assigned to one of the lower 18 groups.

1. Proposals on the 9 New Rehabilitation Plus Extensive Services Groups

In the FY 2006 SNF PPS proposed rule, we noted that the 9 new Rehabilitation plus Extensive Services groups that we proposed to add at the top of the existing RUG-III hierarchy would effectively encompass care “* * * that is at least as intensive as that identified by any of the upper 26 RUG-III groups under the original, 44-group RUG-III classification system.” Accordingly, with the adoption of those 9 new groups as discussed elsewhere in this final rule (and as proposed), we hereby designate as representing a covered level of care under the administrative presumption the upper 35 groups of the refined case-mix classification system (including the upper 26 groups that were previously so designated under the original 44-group system, plus the additional 9 Rehabilitation plus Extensive Services groups that we are now adopting), consisting of the following RUG classifications:

• All groups within the new Rehabilitation plus Extensive Services category;

• All groups within the Ultra High Rehabilitation category;

• All groups within the Very High Rehabilitation category;

• All groups within the High Rehabilitation category;

• All groups within the Medium Rehabilitation category;

• All groups within the Low Rehabilitation category;

• All groups within the Extensive Services category;

• All groups within the Special Care category; and

• All groups within the Clinically Complex category.

Comment: Commenters consistently supported the extension of the administrative presumption to the nine new RUG groups.

Response: We appreciate the commenters' support, and will implement this provision as proposed without modification.

G. Example of Computation of Adjusted PPS Rates and SNF Payment

As explained in section II., from October 1, 2005, through December 31, 2005, we will make payment based entirely on the existing 44-group RUG-III classification system (including any associated add-on payments). Using the model SNF (XYZ) described in Table 10, the following shows the adjustments made to the Federal per diem rate to compute the provider's actual per diem PPS for the time period mentioned above using the existing 44-group RUG-III classification system.

Beginning January 1, 2006, we will make payment based on the refined RUG-53 classification system (and, thus, would not include the add-on payments). Table 10a shows an example of the actual per diem PPS payments under the RUG-53 classification system.

The Labor and Non-labor columns are derived from Tables 6 or 6a. In addition, the adjustment for residents with AIDS enacted in section 511 of the MMA is reflected in Tables 10 and 10a.

Table 10.—RUG-44, SNF XYZ: Located in Benton County, IA (Urban CBSA Designation), Wage Index: 0.8710 (See Transition Wage Index in Table A)
RUG group | Labor | Wage index | Adjusted labor | Non-labor | Adjusted rate | Percent adjustment | Medicare days | Payment
RVC | $282.30 | 0.8710 | $245.88 | $89.53 | $335.41 | *$357.88 | 14 | $5,010
RHA | 218.15 | 0.8710 | 190.01 | 69.19 | 259.20 | *276.57 | 16 | 4,425
CC2 | 180.67 | 0.8710 | 157.36 | 57.30 | 214.66 | **489.42 | 10 | 4,894
SSC | 181.72 | 0.8710 | 158.28 | 57.63 | 215.91 | ***259.09 | 30 | 7,773
IA2 | 123.22 | 0.8710 | 107.32 | 39.08 | 146.40 | 146.40 | 30 | 4,392
Total |  |  |  |  |  |  | 100 | 26,494
*Reflects a 6.7 percent adjustment from section 314 of the BIPA.
**Reflects a 128 percent adjustment from section 511 of the MMA. Section 101(a) of the BBRA no longer applies because of the MMA section 511 adjustment.
***Reflects a 20 percent adjustment from section 101(a) of the BBRA.

Table 10a.—RUG-53, SNF XYZ: Located in Benton County, IA (Urban CBSA Designation) Wage Index: 0.8710 (See Transition Wage Index in Table A)
RUG group | Labor | Wage index | Adjusted labor | Non-labor | Adjusted rate | Percent adjustment | Medicare days | Payment
RVX | $325.13 | 0.871 | $283.19 | $103.11 | $386.30 | $386.30 | 14 | $5,408
RHA | 225.47 | 0.871 | 196.38 | 71.50 | 267.88 | 267.88 | 16 | 4,286
CC2 | 191.12 | 0.871 | 166.47 | 60.61 | 227.08 | 517.73 | 10 | 5,177
RLX | 223.99 | 0.871 | 195.10 | 71.04 | 266.14 | 266.14 | 30 | 7,984
IA2 | 127.40 | 0.871 | 110.97 | 40.40 | 151.37 | 151.37 | 30 | 4,541
Total |  |  |  |  |  |  | 100 | 27,396
* Reflects a 128 percent adjustment from section 511 of the MMA.

H. SNF Market Basket Index

1. Background

Section 1888(e)(5)(A) of the Act requires us to establish a SNF market basket index (input price index) that reflects changes over time in the prices of an appropriate mix of goods and services included in the SNF PPS. This final rule incorporates the latest available projections of the SNF market basket index. Accordingly, we have developed a SNF market basket index that encompasses the most commonly used cost categories for SNF routine services, ancillary services, and capital-related expenses. In the July 31, 2001 Federal Register (66 FR 39562), we included a complete discussion on the rebasing of the SNF market basket to FY 1997. There are 21 separate cost categories and respective price proxies. These cost categories were illustrated in Table 10.A, Table 10.B, and Appendix A, along with other relevant information, in the July 31, 2001 Federal Register.

Each year, we calculate a revised labor-related share based on the relative importance of labor-related cost categories in the input price index. Table 11 summarizes the updated labor-related share for FY 2006.

Table 11.—Labor-related Relative Importance, FY2005 and FY2006
| Relative importance, labor-related, FY 2005 (97 index) | Relative importance, labor-related, FY 2006 (97 index)
Wages and salaries | 54.356 | 54.391
Employee benefits | 11.506 | 11.648
Nonmedical professional fees | 2.708 | 2.739
Labor-intensive services | 4.114 | 4.128
Capital-related | 3.092 | 3.016
Total | 75.776 | 75.922
Source: Global Insights, Inc., formerly DRI-WEFA, 2nd Quarter, 2005.

2. Use of the SNF Market Basket Percentage

Section 1888(e)(5)(B) of the Act defines the SNF market basket percentage as the percentage change in the SNF market basket index, as described in the previous section, from the average index level of the prior fiscal year to the average index level of the current fiscal year. For the Federal rates established in this final rule, this percentage increase in the SNF market basket index is used to compute the update factor occurring between FY 2005 and FY 2006. We used the Global Insights, Inc. (formerly DRI-WEFA), 2nd quarter 2005 forecasted percentage increase in the FY 1997-based SNF market basket index for routine, ancillary, and capital-related expenses, described in the previous section, to compute the update factor.

Comment: The current SNF market basket is based on FY 1997 Medicare cost report data. Several commenters requested that CMS utilize more up-to-date cost reports in the SNF market basket in order to produce more accurate and representative weights for the various cost categories, such as compensation and pharmaceuticals. They also requested that CMS review the price proxies used in the market basket, specifically the Employment Cost Index (ECI) for wages and salaries for Private Nursing Homes. This price proxy includes wage price data for SNFs as well as for other nursing and long-term care facilities. One commenter claimed the staffing mix in a SNF is much different than in these other types of facilities. Finally, a few commenters suggested that CMS collect SNF-specific labor data provided by the SNF industry.

Response: CMS is considering revising and rebasing the SNF market basket in the near future. We would expect to use the most recent and complete SNF Medicare cost reports available. Moreover, we would use the SNF Medicare cost reports to develop as many viable cost category weights (such as wages and salaries, benefits, contract labor, and pharmaceuticals) as possible. We also plan to review alternative price proxies based on our criteria of relevance, reliability, timeliness, and public availability. We will include a detailed discussion of our analysis when we propose a revised and rebased SNF market basket, and will also provide an opportunity for public comment.

Comment: Several commenters requested that the SNF rebasing follow the same frequency planned for IPPS hospital rebasing, currently set at every four years.

Response: As noted above, we intend to revise and rebase the SNF market basket in the near future, and we would use the most recent and complete SNF Medicare cost reports available to do this. We will keep the commenters' suggestions in mind in considering whether to establish a schedule for rebasing the SNF market basket.

Comment: Several commenters requested that the SNF market basket be revised to reflect industry data and CMS's own data, which show that prescription drugs represent more than 10 percent of SNF costs. They cite the CMS Health Care Financing Review, which shows that Medicare SNF facility charges for pharmaceuticals from 1997 to 2001 represent over 10 percent of total Medicare SNF facility charges. Also, one commenter stated the pharmaceutical cost weight was derived using a combination of nursing facility and hospital cost reports.

Response: The market basket is intended to reflect the average change in the price of a basket of goods and services that SNFs purchase in order to furnish patient care. The current market basket is based on the purchasing behavior of SNFs in 1997. Preliminary analysis shows that both the FY 2002 and FY 2003 pharmaceutical cost weights (the cost of pharmaceuticals as a percent of total costs), based on freestanding SNF Medicare cost reports, are slightly below 3 percent, compared to 3 percent in the 1997-based SNF market basket. It would be inappropriate for the market basket weight to reflect trends in charges, which have little relationship to the actual costs incurred.

The pharmaceutical cost weight in the 1997-based SNF market basket is based on Medicare cost reports of freestanding SNF facilities. As discussed in the SNF PPS proposed rule for FY 2002, hospital cost report data were not used to derive this cost weight (66 FR 24013, May 10, 2001).

Comment: In view of the concern regarding the adequacy of the pharmaceutical cost weight included in the SNF market basket, we received a comment recommending that we identify discrepancies between the forecasted and actual cost of pharmaceuticals, and develop an adjustment mechanism similar to the forecast error correction policy described previously in section I.G of this final rule.

Response: As part of the forecast error correction, the difference between the projected and actual pharmaceutical price increases is incorporated. Therefore, it would be inappropriate to develop a separate mechanism.

Comment: One commenter suggested that CMS should study the effect of adding a separate weight for professional liability insurance (PLI), and should work with the SNF industry to determine how the weight should be calculated and how to develop an appropriate price index.

Response: We intend to review both SNF cost reports and other industry data to determine the feasibility of developing a weight and price proxy for PLI for SNFs. We look forward to working with the SNF industry on this effort, and have already received feedback about the nature of PLI for SNFs.

3. Market Basket Forecast Error Adjustment

As discussed in the June 10, 2003, supplemental proposed rule (68 FR 34768) and finalized in the August 4, 2003, final rule (68 FR 46067), the regulations at 42 CFR 413.337(d)(2) provide for an adjustment to account for market basket forecast error. The initial adjustment applied to the update of the FY 2003 rate that occurred in FY 2004, and took into account the cumulative forecast error for the period from FY 2000 through FY 2002. Subsequent adjustments in succeeding FYs take into account the forecast error from the most recently available fiscal year for which there is final data, and are applied whenever the difference between the forecasted and actual change in the market basket exceeds a 0.25 percentage point threshold. As discussed previously in section I.G of this final rule, as the difference between the estimated and actual amounts of increase in the market basket index for FY 2004 (the most recently available fiscal year for which there is final data) did not exceed the 0.25 percentage point threshold, the payment rates for FY 2006 do not include a forecast error adjustment.

4. Federal Rate Update Factor

Section 1888(e)(4)(E)(ii)(IV) of the Act requires that the update factor used to establish the FY 2006 Federal rates be at a level equal to the full market basket percentage change. Accordingly, to establish the update factor, we determined the total growth from the average market basket level for the period of October 1, 2004 through September 30, 2005 to the average market basket level for the period of October 1, 2005 through September 30, 2006. Using this process, the market basket update factor for FY 2006 SNF Federal rates is 3.1 percent. We used this revised update factor to compute the Federal portion of the SNF PPS rate shown in Tables 2 and 3.

I. Consolidated Billing

As established by section 4432(b) of the BBA, the consolidated billing requirement places with the SNF the Medicare billing responsibility for virtually all of the services that the SNF's residents receive, except for a small number of services that the statute specifically identifies as being excluded from this provision. Section 103 of the BBRA amended this provision by further excluding a number of high-cost, low probability services (identified by Healthcare Common Procedure Coding System (HCPCS) codes) within several broader categories that otherwise remained subject to the provision. Section 313 of the BIPA further amended this provision by repealing its Part B aspect, that is, its applicability to services furnished to a resident during a SNF stay that Medicare does not cover. (However, physical and occupational therapy, and speech-language pathology services remain subject to consolidated billing, regardless of whether the resident who receives these services is in a covered Part A stay.) In addition, section 313 of the BIPA specified that consolidated billing applies only to services furnished to those individuals residing in an institution (or portion of an institution) that is actually certified by Medicare as a SNF. Further, as noted in section I.E. of this final rule, section 410 of the MMA revised the SNF consolidated billing requirement as to certain services furnished on or after January 1, 2005, by rural health clinics (RHCs) and Federally qualified health centers (FQHCs).

To date, the Congress has enacted no further legislation affecting the consolidated billing provision. However, as we noted in the April 10, 2000 proposed rule (65 FR 19232), section 1888(e)(2)(A)(iii) of the Act, as added by section 103 of the BBRA, not only identified for exclusion from this provision a number of particular service codes within four specified categories (that is, chemotherapy items, chemotherapy administration services, radioisotope services, and customized prosthetic devices), but “ * * * also gives the Secretary the authority to designate additional, individual services for exclusion within each of the specified service categories.” In the FY 2001 proposed rule, we also noted that the BBRA Conference Report (H.R. Conf. Rep. No. 106-479 at 854) characterizes the individual services that this legislation targets for exclusion as “* * * high-cost, low probability events that could have devastating financial impacts because their costs far exceed the payment [SNFs] receive under the prospective payment system * * *.” According to the conferees, section 103(a) “is an attempt to exclude from the PPS certain services and costly items that are provided infrequently in SNFs * * *.” By contrast, we noted that the Congress declined to designate for exclusion any of the remaining services within those four categories (thus leaving all of those services subject to SNF consolidated billing), because they are relatively inexpensive and are furnished routinely in SNFs.

As we further explained in the July 31, 2000 final rule (65 FR 46790), any additional service codes that we might designate for exclusion under our discretionary authority must meet the same criteria that the Congress used in identifying the original codes excluded from consolidated billing under section 103(a) of the BBRA: They must fall within one of the four service categories specified in the BBRA, and they also must meet the same standards of high cost and low probability in the SNF setting. Accordingly, we characterized this statutory authority to identify additional service codes for exclusion “* * * as essentially affording the flexibility to revise the list of excluded codes in response to changes of major significance that may occur over time (for example, the development of new medical technologies or other advances in the state of medical practice)” (65 FR 46791). In view of the amount of time that has elapsed since we last invited comments on this issue, we invited public comments in the FY 2006 SNF PPS proposed rule on codes in any of these four service categories which represent recent medical advances that might meet the BBRA criteria for exclusion from SNF consolidated billing (70 FR 29098).

Comment: Commenters proposed for exclusion particular services that fell within the four specified categories specified by section 103 of the BBRA (chemotherapy items, chemotherapy administration services, radioisotope services, and customized prosthetic devices).

Response: We will further examine whether these particular services should be excluded as we complete work on the 2006 annual updated list of the specific HCPCS codes that are excluded from consolidated billing, which we plan to issue this fall.

Comment: Noting that some chemotherapy drugs have two HCPCS codes assigned—both a C code and a J code—two commenters pointed out that a number of the chemotherapy medications that we exclude by J code also have C codes assigned to them. They asserted that hospital outpatient departments are mandated to use C codes when billing Medicare for some chemotherapy medications under the hospital outpatient prospective payment system and asked that we add the corresponding C codes for the following codes: J9040, J9060, J9065, J9070, J9093, J9100, J9130, J9150, J9181, J9200, J9208, J9211, J9265, and J9280.

Response: It is our understanding that hospital outpatient departments can, in fact, use J codes when billing Medicare for chemotherapy medications. Accordingly, at this time we see no need to add the corresponding C codes when the J code chemotherapy medications are already excluded.

Comment: Although the FY 2006 SNF PPS proposed rule specifically invited comments on possible exclusions within the specific service categories identified in the BBRA legislation, a number of commenters took this opportunity to reiterate concerns about other aspects of consolidated billing. For example, we received a number of comments concerning the possible exclusion of additional categories of services from SNF consolidated billing, beyond those specified in the BBRA. The commenters identified services such as barium swallows, video fluoroscopies, hyperbaric oxygen therapy, sterile larvae therapy, ultrasonic procedures and duplex scans, PET scans, and nuclear medicine as appropriate candidates for exclusion. In addition, a number of commenters recommended a further set of services for exclusion. These additional services are durable medical equipment (including, but not limited to, wound care devices and diabetic shoes), total parenteral nutrition (TPN), and specialized bariatric equipment.

Response: As we noted previously in the final rule of August 4, 2003 (68 FR 46060), the original set of consolidated billing exclusions at section 1888(e)(2)(A)(ii) of the Act (as enacted by section 4432(b) of the BBA) broadly excluded entire categories of services from consolidated billing (primarily, those of physicians and certain other types of medical practitioners). By contrast, the set of statutory exclusions at section 1888(e)(2)(A)(iii) of the Act, as subsequently enacted by section 103 of the BBRA, was more specifically targeted within a number of broader service categories. In the FY 2006 SNF PPS proposed rule, we noted that the original BBRA legislation (as well as the implementing regulations) provides the Secretary the authority to designate additional, individual services for exclusion within each of the BBRA-specified service categories. However, the statute does not provide the Secretary the authority to create additional categories of excluded services beyond those specified in the law. Therefore, based on the statute, we cannot exclude services and items from consolidated billing unless they fall into the categories of services provided in the statute.

Comment: Some commenters cited the existing list of exclusions (in § 411.15(p)(3)(iii)) for certain high-intensity outpatient hospital services, and expressed the view that these exclusions should not be limited to only those services that actually require the intensity of a hospital setting, but rather, should also encompass services furnished in other, nonhospital settings as well. As examples, they cited services such as magnetic resonance imaging (MRIs) and computerized axial tomography (CT) scans furnished in freestanding imaging centers, and radiation therapy furnished in physician's clinics or ambulatory care centers, all of which may be cheaper and more accessible in certain particular localities (such as rural settings) than those furnished by hospitals.

Response: As we noted in the May 12, 1998 interim final rule (63 FR 26298), in the July 31, 2000 final rule (65 FR 46790 through 46791), and again in the August 4, 2003 final rule (68 FR 46061), the exclusion of certain outpatient hospital services (in § 411.15(p)(3)(iii)) is targeted specifically at those services “* * * that, under commonly accepted standards of medical practice, lie exclusively within the purview of hospitals * * *” (emphasis added); that is, services which generally require the intensity of the hospital setting in order to be furnished safely and effectively. We have determined that this high level of outpatient hospital care is beyond the scope of SNF comprehensive care plans and should be excluded from consolidated billing. However, this exclusion does not encompass services furnished in any other health care setting. Thus, to the extent that advances in medical practice over time may make it feasible to perform such a service more widely in a less intensive, nonhospital setting, this would not argue in favor of excluding the nonhospital performance of the service from consolidated billing under these regulations, but rather, would call into question whether the service should continue to be excluded from consolidated billing at all, even when performed in the hospital setting. In addition, we note that unlike the outpatient hospital exclusions in § 411.15(p)(3)(iii), the statutory exclusions enacted by the BBRA for certain chemotherapy and other services apply regardless of the setting (hospital versus freestanding) in which the services are furnished. However, we do not have the authority to add services such as MRIs, CT scans, or radiation therapy to the existing statutory list administratively.

Comment: Several commenters also proposed expanding the list of excluded services by redefining categories of service that are currently excluded from consolidated billing. For example, while the BBRA excludes specific chemotherapy services by HCPCS codes, these commenters recommended not only adding to the list of excluded chemotherapy pharmaceuticals, but expanding the exclusion to encompass all related services associated with a chemotherapy treatment, such as supplies and other pharmaceuticals used to treat side effects. In addition, several commenters recommended exclusion of oral chemotherapy agents that are not separately billable to Medicare Part B for any beneficiary, and are currently covered only as part of the overall package of services furnished under the Part A inpatient hospital or SNF benefits.

Response: In the FY 2006 SNF PPS proposed rule, we noted that the BBRA's list of services excluded by HCPCS code is a targeted list, narrowly carving out only certain individual “high-cost, low probability” services within a number of broader service categories—such as chemotherapy services—that otherwise remained subject to consolidated billing. As we noted in the FY 2006 SNF PPS proposed rule, the BBRA provides the Secretary the authority to designate additional, individual services for exclusion within each of the service categories that it specifies. However, the statute does not provide authority to exclude other services that, while related, fall outside of the specified service categories themselves. For example, although anti-nausea drugs are commonly used in conjunction with chemotherapy, they are not in themselves chemotherapeutic agents and, consequently, do not fall within one of the excluded categories designated in the BBRA. Further, we believe that the Congress was clear in its intent regarding the particular items and services to be excluded from consolidated billing, by use of the HCPCS codes specified in the Act. Regarding the suggestion to exclude from consolidated billing those oral chemotherapy agents that are not separately billable to Part B (and are currently covered only under the Part A inpatient hospital and SNF benefits), we note that expanding the existing statutory drug coverage available under Part B to include those drugs is not within our authority.

We note that some chemotherapy pharmaceuticals that commenters proposed for exclusion have already been added to the list of HCPCS codes excluded from the consolidated billing provisions. The most recent annual update regarding HCPCS exclusions from consolidated billing can be found in Transmittal No. 360 (Change Request (CR) No. 3542), issued on November 5, 2004, which is available online at http://www.cms.hhs.gov/manuals/transmittals/comm_date_dsc.asp.

Comment: A few commenters requested an expansion of the existing Part B dialysis exclusion to encompass dialysis services furnished directly by the SNF. In addition, several commenters noted that erythropoietin (EPO or Aranesp) currently is excluded from consolidated billing only when furnished in conjunction with the Part B dialysis benefit, and they recommended expanding this exclusion to encompass its use in connection with other, non-dialysis forms of treatment (such as chemotherapy).

Response: As we noted previously in the final rule published on August 4, 2003 (68 FR 46062), under section 1888(e)(2)(A)(ii) of the Act, the exclusion of dialysis services from consolidated billing applies only to those services that meet the requirements for coverage under the separate Part B dialysis benefit at section 1861(s)(2)(F) of the Act. The Part B benefit allows for home dialysis and dialysis performed on the premises of a certified dialysis facility. By contrast, if the SNF itself elects to furnish dialysis services to a resident during a covered Part A stay (either directly with its own resources, or under an “arrangement” with a certified dialysis facility in which the SNF itself does the billing), the services are no longer considered Part B dialysis services, but instead are Part A SNF services. Accordingly, they would no longer be subject to the statutory exclusion of Part B dialysis services from consolidated billing, and would instead be bundled into the comprehensive PPS per diem payment that the SNF receives for the package of services that it furnishes during the resident's covered Part A stay.

Similarly, under section 1888(e)(2)(A)(ii) of the Act, the exclusion of EPO from consolidated billing applies only to those services that meet the requirements for coverage under the separate Part B EPO benefit at section 1861(s)(2)(O) of the Act. Section 1861(s)(2)(O) of the Act permits coverage of EPO and items related to its administration for those dialysis patients who can self-administer the drug, subject to methods and standards established by the Secretary for its safe and effective use (as described in § 405.2163(g) and (h)). Since EPO that is used for non-dialysis patients does not fall within the scope of section 1861(s)(2)(O) of the Act, that usage does not fall within the scope of the EPO exclusion from consolidated billing.

Comment: One commenter requested that we amend 42 CFR § 409.20(a)(3) and 409.23 to add recreational therapy to the current list of rehabilitation services (i.e., physical and occupational therapy and speech-language pathology services).

Response: The purpose of the two above-cited sections of the regulations is to implement section 1861(h)(3) of the Act, which currently specifies that “* * * ‘extended care services’ means the following items and services furnished to an inpatient of a skilled nursing facility * * * (3) physical or occupational therapy or speech-language pathology services furnished by the skilled nursing facility or by others under arrangements with them made by the facility * * *.” Notably, recreational therapy is not included in this statutory definition and we cannot adopt the commenter's request to revise the regulations.

J. Application of the SNF PPS to SNF Services Furnished by Swing-Bed Hospitals

In accordance with section 1888(e)(7) of the Act (as amended by section 203 of the BIPA), Part A pays critical access hospitals (CAHs) on a reasonable cost basis for SNF services furnished under a swing-bed agreement. However, as noted previously in section I.A. of this final rule, the services furnished by non-CAH rural hospitals are paid under the SNF PPS. In the July 31, 2001 final rule (66 FR 39562), we announced the conversion of swing-bed rural hospitals to the SNF PPS, effective with the start of the provider's first cost reporting period beginning on or after July 1, 2002. We selected this date consistent with the statutory provision to integrate swing-bed rural hospitals into the SNF PPS by the end of the SNF transition period, June 30, 2002.

As of June 30, 2003, all swing-bed rural hospitals have come under the SNF PPS. Therefore, the SNF PPS rates and wage indexes outlined in earlier sections of this final rule for SNFs also apply to all swing-bed rural hospitals. A complete discussion of assessment schedules, the MDS and the transmission software, Raven-SB for Swing Beds can be found in the July 31, 2001 final rule (66 FR 39562). The latest changes in the MDS for swing-bed rural hospitals are listed on our SNF PPS web site, http://www.cms.hhs.gov/providers/snfpps/default.asp.

K. Qualifying Three-Day Inpatient Hospital Stay Requirement

In the FY 2006 SNF PPS proposed rule, we noted that one of the prerequisites for Part A coverage under the Medicare SNF benefit is a qualifying hospital stay of at least 3 consecutive days, and that under current policy, only time following the formal inpatient admission to the hospital counts toward meeting this requirement. We invited comments on having patients spend time in observation status prior to a formal inpatient admission, and on the potential implications of this practice for the SNF benefit's qualifying 3-day hospital stay requirement.

Comment: Of the comments that we received on this issue, most expressed support for the idea that hospital time spent in observation status immediately preceding a formal inpatient admission should count toward satisfying the SNF benefit's statutory qualifying three-day hospital stay requirement, while some advocated eliminating the statutory requirement altogether. Still others recommended counting all time spent in the hospital (not only in observation status, but also in the emergency room as well), while some others supported counting the observation time but were opposed to counting time spent in the emergency room. Other commenters raised related issues regarding the availability of information in this area, such as the inability of existing CMS operating systems (including the claims and cost reporting systems) to accommodate the counting of observation time for this purpose without further modification, and the inability of SNFs to distinguish between observation and emergency room time spent in the hospital. Some of these commenters also suggested taking certain additional measures, such as requiring the hospital to certify that a beneficiary has met the SNF benefit's qualifying 3-day stay requirement (and to assume the financial liability for any related coverage denials), and examining ways in which SNFs can obtain better information from hospitals about the specific nature and duration of a patient's hospital stay.

Response: Regarding the comments that expressed support for repealing the statutory 3-day qualifying hospital stay requirement altogether, we note that such an action would require legislation by the Congress to amend the law itself and, thus, is beyond the scope of this final rule. Further, we do not share the belief expressed by some commenters that time spent in the emergency room is essentially comparable to observation time in this context. As we noted in the FY 2006 SNF PPS proposed rule, except for scheduled admissions, the emergency room generally serves as the overall point of entry into the hospital for most patients; thus, the mere presence of time spent in the emergency room prior to formal admission would not, in itself, serve to identify the degree of severity of a particular patient's condition during that time.

With regard to the comments that suggested other possible modifications to the 3-day inpatient hospital stay requirement, we note that we are continuing to review this issue, but are not yet ready to make a final determination at this time. As we observed in the FY 2006 SNF PPS proposed rule, the SNF benefit was never intended to cover long-term, relatively low-level “custodial” care; rather, the Congress envisioned this benefit more narrowly, in terms of serving as a less expensive alternative to what would otherwise be the final, convalescent portion of an acute care stay of several days as an inpatient at a hospital. Thus, any potential changes in the SNF benefit's qualifying hospital stay requirement would need to be carefully evaluated, in order to ensure that they accurately reflect Congressional intent in establishing the qualifying hospital stay requirement, and would not result in altering the unique nature of the SNF benefit in a manner that is inconsistent with that intent.

IV. Provisions of the Final Rule

In section III. above, “Analysis of and Responses to Public Comments on the FY 2006 SNF PPS Proposed Rule,” we have added a statement at the end of each issue indicating our final decision either to adopt the provisions as set forth in the FY 2006 SNF PPS proposed rule or to make modifications based on public comments. However, all other changes, including clarifying and technical changes that are not issue-specific will be addressed in this section below.

Specifically, we are making the following technical correction in the regulations text, as discussed in the FY 2006 SNF PPS proposed rule: we are correcting the definition of “HCPCS” that appears in § 424.3, by removing the acronym “CMS” and adding the word “Healthcare” in its place.

Further, we note that we are taking this opportunity to make two additional technical corrections in Part 409 of the regulations. The first involves updating an obsolete citation that appears in several places in § 409.60(c). This section of the regulations sets forth several administrative presumptions that serve to help determine the end of a benefit period in a SNF, and it makes repeated references to an obsolete citation (§ 405.330) for the provision dealing with limitation of liability for care that is custodial or not reasonable and necessary. Accordingly, we are hereby updating that obsolete citation by replacing it with the current citation, § 411.400.

The other correction to Part 409 involves the regulations at 42 CFR 409.31(b)(2), which describe one aspect of the SNF level of care requirements. In a final rule published on August 22, 2003 (68 FR 50855), we added § 409.31(b)(2)(iii) regarding Medicare+Choice (M+C) enrollees. However, in republishing § 409.31(b)(2)(ii), we inadvertently omitted several words that previously had appeared in the text. Accordingly, we are now taking this opportunity to restore the missing language, so that § 409.31(b)(2)(ii) is revised to reflect its original complete and accurate language.

Finally, we note that in the FY 2004 final rule (68 FR 46060, 46070, August 4, 2003), we added two radiopharmaceuticals, Zevalin and Bexxar, to the list of chemotherapy drugs that are excluded from consolidated billing (and, thus, are separately billable to Part B when furnished to a SNF resident during a covered Part A stay). The final rule specified that regulation text at 42 CFR 411.15(p)(2)(xii) and 42 CFR 489.20(s)(12) list the Healthcare Common Procedure Coding System (HCPCS) codes for Zevalin (A9522 and A9523) “as of January 1, 2004.” At the time the FY 2004 final rule was published, the codes for Bexxar were not yet available (see 68 FR 46060) but were about to be issued. Accordingly, we are now adding the initial Bexxar HCPCS codes to 42 CFR 411.15(p)(2)(xii) and 42 CFR 489.20(s)(12) effective “as of January 1, 2004.” These codes for Bexxar are A9533 and A9534. As we clarified in the September 29, 2003 Federal Register(68 FR 55883), the HCPCS codes to be utilized in connection with Bexxar and Zevalin include any successor codes that may replace (or supplement) the codes currently listed in the regulation. Such successor codes are disseminated through program instructions.

V. Waiver of Proposed Rulemaking

Regarding the technical corrections to Parts 409, 411, and 489 of the regulations that we discuss in the preceding section, we note that we would ordinarily publish a notice of proposed rulemaking in the Federal Register to provide a period for public comment before revisions in the regulations text would take effect; however, we can waive this procedure if we find good cause that a notice and comment procedure is impracticable, unnecessary, or contrary to the public interest and incorporate a statement of the finding and its reasons in the notice issued. We find it unnecessary to undertake notice and comment rulemaking in connection with these particular revisions, as they merely provide technical corrections to the regulations, without making any substantive changes. Therefore, for good cause, we waive notice and comment procedures for the revisions that we are making to the regulations text in Parts 409, 411, and 489.

VI. Collection of Information Requirements

This document does not impose information collection and recordkeeping requirements. Consequently, it need not be reviewed by the Office of Management and Budget under the authority of the Paperwork Reduction Act of 1995 (44 U.S.C. 3501 et seq.).

VII. Regulatory Impact Analysis

A. Overall Impact

We have examined the impacts of this final rule as required by Executive Order 12866 (September 1993, Regulatory Planning and Review), the Regulatory Flexibility Act (RFA, September 16, 1980, Pub. L. 96-354), section 1102(b) of the Social Security Act, the Unfunded Mandates Reform Act of 1995 (Pub. L. 104-4), and Executive Order 13132.

Executive Order 12866 (as amended by Executive Order 13258, which merely reassigns responsibility of duties) directs agencies to assess all costs and benefits of available regulatory alternatives and, if regulation is necessary, to select regulatory approaches that maximize net benefits (including potential economic, environmental, public health and safety effects, distributive impacts, and equity). A regulatory impact analysis (RIA) must be prepared for major rules with economically significant effects ($100 million or more in any 1 year). This final rule is a major rule, as defined in Title 5, United States Code, section 804(2), because we estimate the impact to the Medicare program, and the annual effects to the overall economy, would be more than $100 million.

The RFA requires agencies to analyze options for regulatory relief of small businesses. For purposes of the RFA, small entities include small businesses, nonprofit organizations, and government agencies. Most SNFs and most other providers and suppliers are small entities, either by their nonprofit status or by having revenues of $11.5 million or less in any 1 year. For purposes of the RFA, approximately 53 percent of SNFs are considered small businesses according to the Small Business Administration's latest size standards, with total revenues of $11.5 million or less in any 1 year (for further information, see 65 FR 69432, November 17, 2000). Individuals and States are not included in the definition of a small entity. In addition, approximately 29 percent of SNFs are nonprofit organizations.

This final rule updates the SNF PPS rates published in the FY 2005 update notice on July 30, 2004 (69 FR 45775) and the associated correction notices published on October 7, 2004 (69 FR 60158), and December 30, 2004 (69 FR 78445).

In addition, section 1102(b) of the Act requires us to prepare a regulatory impact analysis if a rule may have a significant impact on the operations of a substantial number of small rural hospitals. This analysis must conform to the provisions of section 603 of the RFA. For purposes of section 1102(b) of the Act, we define a small rural hospital as a hospital that is located outside of a Metropolitan Statistical Area and has fewer than 100 beds. We anticipate that the impact on swing-bed facilities will be similar to the impact on rural hospital-based facilities, which benefit from the case-mix refinement (see Table 12 below).

Section 202 of the Unfunded Mandates Reform Act of 1995 also requires that agencies assess anticipated costs and benefits before issuing any rule that may result in expenditure in any 1 year by State, local, or tribal governments, in the aggregate, or by the private sector, of $110 million or more. This final rule will not have a substantial effect on the governments mentioned, or on private sector costs.

Executive Order 13132 establishes certain requirements that an agency must meet when it promulgates a proposed rule (and subsequent final rule) that imposes substantial direct requirement costs on State and local governments, preempts State law, or otherwise has Federalism implications. As stated above, this final rule will not have a substantial effect on State and local governments.

B. Anticipated Effects

This final rule sets forth updates of the SNF PPS rates contained in the FY 2005 update notice (69 FR 45775) and the associated correction notices (69 FR 60158 and 69 FR 78445), and implements a refinement to the RUG-III case-mix classification system to be incorporated into the Medicare SNF PPS effective January 1, 2006.

As described in Section III., providers will continue to be paid under the current 44-group RUG-III system from October 1, 2005 through December 31, 2005. Beginning January 1, 2006, providers will be paid under the refined RUG-53 system.

Based on the above, we estimate the FY 2006 impact will be a net increase of $20 million in payments to SNF providers (this reflects a $1.02 billion reduction from the expiration of temporary payment increases, offset by a $510 million increase from the refined case-mix classification system and a $530 million increase from the update to the payment rates, as explained in greater detail later in this section). The impact analysis in Table 12 of this final rule represents the projected effects of the policy changes in the SNF PPS from FY 2005 to FY 2006. We estimate the effects by estimating payments while holding all other payment variables constant. We use the best data available, but we do not attempt to predict behavioral responses to these changes, and we do not make adjustments for future changes in such variables as days or case-mix.

We note that certain events may combine to limit the scope or accuracy of our impact analysis, because such an analysis is future-oriented and, thus, susceptible to forecasting errors due to other changes in the forecasted impact time period. Some examples are newly-legislated general Medicare program funding changes by the Congress, or changes specifically related to SNFs. In addition, changes to the Medicare program may continue to be made as a result of the BBA, the BBRA, the BIPA, the MMA, or new statutory provisions. Although these changes may not be specific to the SNF PPS, the nature of the Medicare program is such that the changes may interact, and the complexity of the interaction of these changes could make it difficult to predict accurately the full scope of the impact upon SNFs.

In accordance with section 1888(e)(4)(E) of the Act, we are updating the payment rates for FY 2006. The BBRA, BIPA, and MMA provided for several temporary adjustments to the SNF PPS payment rates that together, using the most recent data available, accounted for an estimated impact of $1.4 billion per year.

We note that in accordance with section 101(a) of the BBRA and section 314 of the BIPA, the existing, temporary increase in the per diem adjusted payment rates of 20 percent for certain specified clinically complex RUGs (and 6.7 percent for other, rehabilitation RUGs) would expire with the implementation of the case-mix refinements in the SNF PPS. As explained in section II. of this final rule, section 511 of the MMA, which provides for a 128 percent increase in the PPS per diem payment for any SNF resident with Acquired Immune Deficiency Syndrome (AIDS), remains in effect. However, we have not provided a separate impact analysis for the MMA provision. Our latest estimates indicate that there are less than 2,000 beneficiaries who qualify for the AIDS add-on payment. The impact to Medicare is included in the “total” column of Table 12.

In updating the rates for FY 2006, we made a number of standard annual revisions and clarifications mentioned elsewhere in this final rule (for example, the update to the wage and market basket indexes used for adjusting the Federal rates). These revisions would increase payments to SNFs by approximately $530 million.

The aggregate change in payments associated with this final rule is estimated to be an increase in payments to SNFs of $20 million for FY 2006. The decrease of $1.02 billion due to the elimination of the temporary add-ons, together with the additional payment due to the refined case-mix classification system of $510 million and the market basket increase of $530 million, results in a net change in payments of $20 million. There are two areas of change that produce this impact on SNFs:

1. The implementation of a refined case-mix classification system under section 1888(e)(4)(G)(i) of the Act and, consequently, the expiration of the temporary 20 percent/6.7 percent add-ons to the Federal rates for the specified RUG groups.

2. The total change in payments from FY 2005 levels to FY 2006 levels. This includes all of the previously noted changes in addition to the effect of the update to the rates.

The impacts are shown in Table 12. The breakdown of the various categories of data in the table follows.

The first column shows the breakdown of all SNFs by urban or rural status, hospital-based or freestanding status, and census region.

The first row of figures in the first column describes the estimated effects of the various changes on all facilities. The next 6 rows show the effects on facilities split by hospital-based, freestanding, urban, and rural categories. The urban and rural designations are based on the location of the facility under the CBSA designations. The next 20 rows show the effects on urban versus rural status by census region.

The second column in the table shows the number of facilities in the impact database.

The third column of the table shows the effect of the annual update to the wage index. This represents the effect of using the most recent wage data available. The total impact of this change is zero percent; however, there are distributional effects of the change.

The fourth column of the table shows the effect of using the new OMB geographic designations based on CBSAs. During the FY 2006 transition to CBSAs, SNFs will receive a transition-based wage index value consisting of a blend of 50 percent of the FY 2006 MSA-based wage index and 50 percent of the FY 2006 CBSA-based wage index (see Table A in the Addendum), as described in Section III.D.1 of this final rule.

The fifth column of the table shows the effect of the elimination of the add-on for specified RUG groups. As expected, this results in a decrease in payments for all providers.

The sixth column of the table shows the effect of the refinements to the case-mix classification system. Table 12 shows that there is a positive 3 percent overall impact from the case-mix refinements. Distributional effects are noted for specific providers. For example, hospital-based facilities are expected to receive greater than an 7.7 percent increase in payment, compared with freestanding facilities that show an increase in payments of between 2.2 percent and 2.6 percent. Additionally, rural Census regions show increases in payments of 3.4 percent.

The seventh column of the table shows the effect of all of the changes on the FY 2006 payments. As the market basket increase of 3.1 percentage points is constant for all providers, it is not shown individually; however, we note that the “Total FY 2006 change” column does incorporate this increase. It is projected that aggregate payments will increase by $20 million, assuming facilities do not change their care delivery and billing practices in response.

As can be seen from this table, the combined effects of all of the changes would vary by specific types of providers and by location. For example, though facilities in the urban New England and rural South Atlantic regions experience payment decreases of 0.4 percent and 0.4 percent, respectively, some providers (such as those in the rural Pacific and rural New England regions) show increases of 4.1 percent and 2.4 percent, respectively. Payment increases for facilities in the Rural Pacific area of the country are the highest for any provider category.

Table 12.—Projected Impact to the SNF PPS for FY 2006
| Number of facilities | Update wage data (percent) | MSA to CBSA (percent) | Eliminate add-on to certain RUGs (percent) | Case-mix refinements (percent) | Total FY 2006 change (percent)
Total | 15,675 | 0.0 | 0.0 | −6.0 | 3.0 | 0.1
Urban | 10,599 | 0.0 | 0.0 | −6.0 | 2.9 | 0.0
Rural | 5,076 | 0.1 | 0.1 | −6.0 | 3.4 | 0.7
Hospital based urban | 1,097 | 0.0 | 0.0 | −6.3 | 7.8 | 4.6
Freestanding urban | 8,693 | 0.0 | 0.0 | −5.9 | 2.2 | −0.6
Hospital based rural | 1,160 | 0.0 | 0.1 | −6.8 | 7.7 | 4.1
Freestanding rural | 3,372 | 0.1 | 0.1 | −5.9 | 2.6 | 0.1
Urban by Region
New England | 917 | −0.2 | −0.1 | −6.4 | 3.2 | −0.4
Middle Atlantic | 1,499 | 0.2 | 0.0 | −6.1 | 3.0 | 0.2
South Atlantic | 1,739 | −0.3 | 0.0 | −5.9 | 2.9 | −0.3
East North Central | 2,009 | −0.4 | 0.0 | −5.7 | 2.9 | −0.2
East South Central | 531 | 0.3 | 0.0 | −6.0 | 2.6 | 0.0
West North Central | 836 | −0.6 | 0.0 | −5.9 | 3.6 | 0.3
West South Central | 1,093 | −0.1 | 0.1 | −5.8 | 2.6 | 0.0
Mountain | 467 | −0.3 | 0.1 | −5.6 | 2.9 | 0.2
Pacific | 1,501 | 1.2 | 0.0 | −6.2 | 2.9 | 1.0
Rural by Region
New England | 139 | 2.0 | 0.0 | −5.7 | 3.0 | 2.4
Middle Atlantic | 283 | −0.1 | 0.1 | −6.0 | 3.6 | 0.7
South Atlantic | 612 | −0.3 | 0.0 | −6.2 | 3.0 | −0.4
East North Central | 947 | 0.3 | 0.0 | −5.9 | 3.8 | 1.4
East South Central | 571 | 0.1 | 0.1 | −6.3 | 2.6 | −0.4
West North Central | 1,219 | −0.5 | 0.1 | −6.2 | 4.1 | 0.7
West South Central | 823 | 0.2 | 0.0 | −6.2 | 2.7 | −0.2
Mountain | 298 | 0.6 | −0.2 | −5.9 | 3.8 | 1.4
Pacific | 182 | 1.6 | 0.0 | −4.2 | 3.6 | 4.1
Ownership
Government | 693 | 0.0 | 0.2 | −6.5 | 4.8 | 1.6
Proprietary | 9,317 | 0.0 | 0.0 | −5.9 | 2.3 | −0.6
Voluntary | 3,493 | −0.1 | 0.0 | −6.0 | 4.9 | 1.9

Comment: Several commenters asked that we provide additional data and files to help them model the impact on providers.

Response: CMS worked to make additional data and updated analyses readily available throughout the comment period, and posted these additional data and analyses to the CMS website as soon as they became available.

Comment: A few commenters expressed concern that the proposed FY 2006 market basket update was included in our impact analysis. They contended that the market basket update reflects changes in price levels that have already taken place and, in their view, reimburses them for expenses they have already incurred. By including the market basket update in the impact analysis, these commenters argue that we have understated the actual impact of the FY 2006 changes.

Response: The impact analyses presented here and in the proposed rule utilize the same methodology that has been in effect since the introduction of the SNF PPS. Specifically, we determine the impact analysis by estimating aggregate payments attributable to each major component of the rate, including the market basket adjustment, while holding all other payment variables constant. By including the FY 2006 market basket variable in the analysis, and then comparing the expenditures to the FY 2005 levels (which also include a market basket update factor), we obtain a more accurate picture of aggregate spending changes.

Comment: Several commenters expressed concern regarding the overall fiscal impact of the proposed changes and recommended that the aggregate expenditure levels be increased. Other commenters stated that they had been unable to reconcile their independent analyses with the information contained in the proposed rule, and were concerned that the impact of the proposed rate structure would exceed the CMS projections.

Response: As mentioned in Section III., throughout the comment period, we reexamined the data presented in the proposed rule, updated the analyses to reflect the most recent available data, and corrected minor technical errors. We also received information from industry representatives and others, which helped us to verify the accuracy of the data used in the rate calculations, and then to ensure that the resulting rates correctly reflected the policies specified in the proposed rule. We then repeated the payment simulation described in the proposed rule. Next we recalculated the payment adjustment needed to ensure parity when comparing the aggregate expenditure levels of the 44-group and 53-group RUG models. As a final step, we applied an 8.51 percent increase to the nursing weights to reflect variation in non-therapy ancillary costs.

The impact analyses presented here and in the proposed rule utilize the same methodology that has been in effect since the introduction of the SNF PPS. The numbers presented in the impact analysis section represent the impact to the Federal Government which is calculated as total payments net of coinsurance. However, when considering total payments (not total impact), such as determining any adjustment to the nursing weights to reflect the variation in non-therapy ancillary costs, we use total payments including the coinsurance amounts.

We further note that, while the market basket increases are mandated in the statute, the Congress established an oversight mechanism to adjust or eliminate the updates based on MedPAC's annual analysis and recommendations. For FY 2006, MedPAC recommended a zero update. Had the Congress accepted that recommendation and enacted a change, the market basket adjustment would have been zero, and we would have included that factor in our impact analyses.

C. Accounting Statement

As required by OMB Circular A-4 (available at http://www.whitehouse.gov/omb/circulars/a004/a-4.pdf), in Table 13 below, we have prepared an accounting statement showing the classification of the expenditures associated with the provisions of this final rule. This table provides our best estimate of the change in Medicare payments under the SNF PPS as a result of the policies in this final rule based on the data for 15,675 SNFs in our database. All expenditures are classified as transfers to Medicare providers (that is, SNFs).

Table 13.—Accounting Statement: Classification of Estimated Expenditures, From the 2005 SNF PPS Rate Year to the 2006 SNF PPS Rate Year (in Millions)
Category | Transfers
Annualized Monetized Transfers | $20 million.
From Whom To Whom? | Federal Government to SNF Medicare Providers.

D. Alternatives Considered

Section 1888(e) of the Act establishes the SNF PPS for the payment of Medicare SNF services for cost reporting periods beginning on or after July 1, 1998. This section of the statute prescribes a detailed formula for calculating payment rates under the SNF PPS, and does not provide for the use of any alternative methodology. It specifies that the base year cost data to be used for computing the payment rates must be from FY 1995 (October 1, 1994, through September 30, 1995.) In accordance with the statute, we also incorporated a number of elements into the SNF PPS, such as a case-mix classification methodology, the MDS assessment schedule, a market basket index, a wage index, and the urban and rural distinction used in the development or adjustment of the Federal rates. Further, section 1888(e)(4)(H) of the Act specifically requires us to disseminate the payment rates for each new fiscal year through the Federal Register, and to do so before the August 1 that precedes the start of the new fiscal year.

Because we have determined that this final rule will have a significant economic impact on SNFs, we will discuss the alternatives we considered. We reviewed the options considered in the proposed rule and took into consideration comments received during the public comment period as discussed in the preamble.

As discussed previously in section II. of this final rule, we will implement refinements to the RUG-III case-mix classification system under section 1888(e)(4)(G)(i) of the Act. At the same time, we continue to evaluate longer-range, more comprehensive changes in the case-mix classification system. One alternative that we considered was to defer refinements at this time until our evaluation of longer-range, more comprehensive changes is complete. However, we believe that these refinements will serve to improve the distribution of payments under the PPS in a manner that more accurately accounts for the care needs of the most medically complex patients. While our additional research may identify more comprehensive modifications, it is not currently known when the results of this research would become available. Therefore, we have decided to implement the refinements discussed elsewhere in this final rule.

As discussed in section III.D, we considered several budget neutral options that would most effectively implement the adoption of the CBSA designation. Among the alternatives that we considered were the options discussed in the proposed rule and new options that took into consideration comments received during the public comment period, as discussed elsewhere in this final rule.

In accordance with the provisions of Executive Order 12866, this regulation was reviewed by the Office of Management and Budget.

List of Subjects

42 CFR Part 409

Health facilities, Medicare.

42 CFR Part 411

Kidney diseases, Medicare, Reporting and recordkeeping requirements.

42 CFR Part 424

Emergency medical services, Health facilities, Health professions, Medicare.

42 CFR Part 489

Health facilities, Medicare, Reporting and recordkeeping requirements.

For the reasons set forth in the preamble, the Centers for Medicare & Medicaid Services amends 42 CFR chapter IV as follows:

PART 409—HOSPITAL INSURANCE BENEFITS

1. The authority citation for part 409 continues to read as follows:

Authority: Secs. 1102 and 1871 of the Social Security Act (42 U.S.C. 1302 and 1395hh).

Subpart D—Requirements for Coverage of Posthospital SNF Care

2. Amend § 409.31 by—

A. Republishing paragraph (b)(2) introductory text.

B. Revising paragraph (b)(2)(ii) to read as follows:

§ 409.31 Level of care requirement.

* * * * *

(b) * * *

(2) Those services must be furnished for a condition—

(i) * * *

(ii) Which arose while the beneficiary was receiving care in a SNF or swing-bed hospital for a condition for which he or she received inpatient hospital or inpatient CAH services; or

* * * * *

Subpart F—Scope of Hospital Insurance Benefits

3. Amend § 409.60(c) by removing the references to “§ 405.330” and adding “§ 411.400” in its place.

PART 411—EXCLUSIONS FROM MEDICARE AND LIMITATIONS ON MEDICARE PAYMENT

1. The authority citation for part 411 continues to read as follows:

Authority: Secs. 1102 and 1871 of the Social Security Act (42 U.S.C. 1302 and 1395hh).

Subpart A—General Exclusions and Exclusion of Particular Services

2. Amend § 411.15 by—

A. Republishing paragraph (p)(2) introductory text.

B. Revising paragraph (p)(2)(xii) to read as follows:

§ 411.15 Particular services excluded from coverage.

* * * * *

(p) * * *

(2) Exceptions. The following services are not excluded from coverage, provided that the claim for payment includes the SNF's Medicare provider number in accordance with § 424.32(a)(5) of this chapter:

* * * * *

(xii) Those chemotherapy items identified, as of July 1, 1999, by HCPCS codes J9000-J9020; J9040-J9151; J9170-J9185; J9200-J9201; J9206-J9208; J9211; J9230-J9245; and J9265-J9600; and, as of January 1, 2004, by HCPCS codes A9522, A9523, A9533, and A9534.

* * * * *

PART 424—CONDITIONS FOR MEDICARE PAYMENT

1. The authority citation for part 424 continues to read as follows:

Authority: Secs. 1102 and 1871 of the Social Security Act (42 U.S.C. 1302 and 1395hh).

Subpart B—Certification and Plan of Treatment Requirements

§ 424.3 Definitions.

2. In § 424.3, in the definition of “HCPCS” remove the word “CMS” and add the word “Healthcare” in its place.

3. In § 424.20, paragraph (e)(2) is revised to read as follows:

§ 424.20 Requirements for posthospital SNF care.

* * * * *

(e) * * *

(2) A nurse practitioner or clinical nurse specialist, neither of whom has a direct or indirect employment relationship with the facility but who is working in collaboration with a physician. For purposes of this section—

(i) Collaboration means a process whereby a nurse practitioner or clinical nurse specialist works with a doctor of medicine or osteopathy to deliver health care services. The services are delivered within the scope of the nurse's professional expertise, with medical direction and appropriate supervision as provided for in guidelines jointly developed by the nurse and the physician or other mechanisms defined by Federal regulations and the law of the State in which the services are performed.

(ii) A direct employment relationship with the facility is one in which the nurse practitioner or clinical nurse specialist meets the common law definition of the facility's “employee,” as specified in § 404.1005, § 404.1007, and § 404.1009 of title 20 of the regulations. When a nurse practitioner or clinical nurse specialist meets this definition with respect to an entity other than the facility itself, and that entity has an agreement with the facility for the provision of nursing services under § 409.21 of this subchapter, the facility is considered to have an indirect employment relationship with the nurse practitioner or clinical nurse specialist. An indirect employment relationship does not exist if the agreement between the entity and the facility involves only the performance of delegated physician tasks under § 483.40(e) of this chapter.

* * * * *

PART 489—PROVIDER AGREEMENTS AND SUPPLIER APPROVAL

1. The authority citation for part 489 continues to read as follows:

Authority: Secs. 1102 and 1871 of the Social Security Act (42 U.S.C. 1302 and 1395hh).

Subpart B—Essentials of Provider Agreements

2. Section 489.20 is amended by:

A. Republishing the introductory text and the paragraph (s) introductory text.

B. Revising paragraph (s)(12).

§ 489.20 Basic commitments.

The provider agrees to the following:

* * * * *

(s) In the case of an SNF, either to furnish directly or make arrangements (as defined in § 409.3 of this chapter) for all Medicare-covered services furnished to a resident (as defined in § 411.15(p)(3) of this chapter) of the SNF, except the following:

* * * * *

(12) Those chemotherapy items identified, as of July 1, 1999, by HCPCS codes J9000-J9020; J9040-J9151; J9170-J9185; J9200-J9201; J9206-J9208; J9211; J9230-J9245; and J9265-J9600; and, as of January 1, 2004, by HCPCS codes A9522, A9523, A9533, and A9534.

* * * * *

(Catalog of Federal Domestic Assistance Program No. 93.773, Medicare—Hospital Insurance Program; and No. 93.774, Medicare—Supplementary Medical Insurance Program)

Dated: July 19, 2005.
Mark B. McClellan,
Administrator, Centers for Medicare & Medicaid Services.
Approved: July 27, 2005.
Michael O. Leavitt,
Secretary.

Addendum—FY 2006 Transition Wage Index and CBSA Tables

In this addendum, we provide the tables referred to in the preamble to this final rule. Tables 8 and 9 provide the CBSA-based wage index values for urban and rural providers. Though we will use the transition-based wage index values presented in Table A for FY 2006, CBSA-based wage index values will be used for FY 2007 when the transition will expire. Tables 8 and 9 serve the purpose of showing a possible format of how the CBSA-based wage index values will be presented for FY 2007.

Table A provides the following information: Social Security Administration (SSA) State and County Code; State and County name; existing MSA-based labor market area designation; MSA-based urban/rural geographic designation; FY 2006 MSA-based wage index; FY 2006 CBSA-based wage index; CBSA-based labor market area; CBSA-based urban/rural geographic designation (which will be used for the FY 2006 transition); and the FY 2006 transition wage index (based on 50 percent of the FY 2006 MSA-based wage index and 50 percent of the FY 2006 CBSA-based wage index).

Table 8.—FY 2006 Wage Index For Urban Areas Based On CBSA Labor Market Areas
CBSA code | Urban area (constituent counties) | Wage index
10180 | Abilene, TX | 0.7896
| Callahan County, TX
| Jones County, TX
| Taylor County, TX
10380 | Aguadilla-Isabela-San Sebastián, PR | 0.4738
| Aguada Municipio, PR
| Aguadilla Municipio, PR
| Añasco Municipio, PR
| Isabela Municipio, PR
| Lares Municipio, PR
| Moca Municipio, PR
| Rincón Municipio, PR
| San Sebastián Municipio, PR
10420 | Akron, OH | 0.8982
| Portage County, OH
| Summit County, OH
10500 | Albany, GA | 0.8628
| Baker County, GA
| Dougherty County, GA
| Lee County, GA
| Terrell County, GA
| Worth County, GA
10580 | Albany-Schenectady-Troy, NY | 0.8589
| Albany County, NY
| Rensselaer County, NY
| Saratoga County, NY
| Schenectady County, NY
| Schoharie County, NY
10740 | Albuquerque, NM | 0.9684
| Bernalillo County, NM
| Sandoval County, NM
| Torrance County, NM
| Valencia County, NM
10780 | Alexandria, LA | 0.8033
| Grant Parish, LA
| Rapides Parish, LA
10900 | Allentown-Bethlehem-Easton, PA-NJ | 0.9818
| Warren County, NJ
| Carbon County, PA
| Lehigh County, PA
| Northampton County, PA
11020 | Altoona, PA | 0.8944
| Blair County, PA
11100 | Amarillo, TX | 0.9156
| Armstrong County, TX
| Carson County, TX
| Potter County, TX
| Randall County, TX
11180 | Ames, IA | 0.9536
| Story County, IA
11260 | Anchorage, AK | 1.1895
| Anchorage Municipality, AK
| Matanuska-Susitna Borough, AK
11300 | Anderson, IN | 0.8586
| Madison County, IN
11340 | Anderson, SC | 0.8997
| Anderson County, SC
11460 | Ann Arbor, MI | 1.0859
| Washtenaw County, MI
11500 | Anniston-Oxford, AL | 0.7682
| Calhoun County, AL
11540 | Appleton, WI | 0.9288
| Calumet County, WI
| Outagamie County, WI
11700 | Asheville, NC | 0.9285
| Buncombe County, NC
| Haywood County, NC
| Henderson County, NC
| Madison County, NC
12020 | Athens-Clarke County, GA | 0.9855
| Clarke County, GA
| Madison County, GA
| Oconee County, GA
| Oglethorpe County, GA
12060 | Atlanta-Sandy Springs-Marietta, GA | 0.9793
| Barrow County, GA
| Bartow County, GA
| Butts County, GA
| Carroll County, GA
| Cherokee County, GA
| Clayton County, GA
| Cobb County, GA
| Coweta County, GA
| Dawson County, GA
| DeKalb County, GA
| Douglas County, GA
| Fayette County, GA
| Forsyth County, GA
| Fulton County, GA
| Gwinnett County, GA
| Haralson County, GA
| Heard County, GA
| Henry County, GA
| Jasper County, GA
| Lamar County, GA
| Meriwether County, GA
| Newton County, GA
| Paulding County, GA
| Pickens County, GA
| Pike County, GA
| Rockdale County, GA
| Spalding County, GA
| Walton County, GA
12100 | Atlantic City, NJ | 1.1615
| Atlantic County, NJ
12220 | Auburn-Opelika, AL | 0.8100
| Lee County, AL
12260 | Augusta-Richmond County, GA-SC | 0.9748
| Burke County, GA
| Columbia County, GA
| McDuffie County, GA
| Richmond County, GA
| Aiken County, SC
| Edgefield County, SC
12420 | Austin-Round Rock, TX | 0.9437
| Bastrop County, TX
| Caldwell County, TX
| Hays County, TX
| Travis County, TX
| Williamson County, TX
12540 | Bakersfield, CA | 1.0470
| Kern County, CA
12580 | Baltimore-Towson, MD | 0.9897
| Anne Arundel County, MD
| Baltimore County, MD
| Carroll County, MD
| Harford County, MD
| Howard County, MD
| Queen Anne's County, MD
| Baltimore City, MD
12620 | Bangor, ME | 0.9993
| Penobscot County, ME
12700 | Barnstable Town, MA | 1.2600
| Barnstable County, MA
12940 | Baton Rouge, LA | 0.8593
| Ascension Parish, LA
| East Baton Rouge Parish, LA
| East Feliciana Parish, LA
| Iberville Parish, LA
| Livingston Parish, LA
| Pointe Coupee Parish, LA
| St. Helena Parish, LA
| West Baton Rouge Parish, LA
| West Feliciana Parish, LA
12980 | Battle Creek, MI | 0.9508
| Calhoun County, MI
13020 | Bay City, MI | 0.9343
| Bay County, MI
13140 | Beaumont-Port Arthur, TX | 0.8412
| Hardin County, TX
| Jefferson County, TX
| Orange County, TX
13380 | Bellingham, WA | 1.1731
| Whatcom County, WA
13460 | Bend, OR | 1.0786
| Deschutes County, OR
13644 | Bethesda-Frederick-Gaithersburg, MD | 1.1483
| Frederick County, MD
| Montgomery County, MD
13740 | Billings, MT | 0.8834
| Carbon County, MT
| Yellowstone County, MT
13780 | Binghamton, NY | 0.8562
| Broome County, NY
| Tioga County, NY
13820 | Birmingham-Hoover, AL | 0.8959
| Bibb County, AL
| Blount County, AL
| Chilton County, AL
| Jefferson County, AL
| St. Clair County, AL
| Shelby County, AL
| Walker County, AL
13900 | Bismarck, ND | 0.7574
| Burleigh County, ND
| Morton County, ND
13980 | Blacksburg-Christiansburg-Radford, VA | 0.7954
| Giles County, VA
| Montgomery County, VA
| Pulaski County, VA
| Radford City, VA
14020 | Bloomington, IN | 0.8447
| Greene County, IN
| Monroe County, IN
| Owen County, IN
14060 | Bloomington-Normal, IL | 0.9075
| McLean County, IL
14260 | Boise City-Nampa, ID | 0.9052
| Ada County, ID
| Boise County, ID
| Canyon County, ID
| Gem County, ID
| Owyhee County, ID
14484 | Boston-Quincy, MA | 1.1558
| Norfolk County, MA
| Plymouth County, MA
| Suffolk County, MA
14500 | Boulder, CO | 0.9734
| Boulder County, CO
14540 | Bowling Green, KY | 0.8211
| Edmonson County, KY
| Warren County, KY
14740 | Bremerton-Silverdale, WA | 1.0675
| Kitsap County, WA
14860 | Bridgeport-Stamford-Norwalk, CT | 1.2592
| Fairfield County, CT
15180 | Brownsville-Harlingen, TX | 0.9804
| Cameron County, TX
15260 | Brunswick, GA | 0.9311
| Brantley County, GA
| Glynn County, GA
| McIntosh County, GA
15380 | Buffalo-Niagara Falls, NY | 0.9511
| Erie County, NY
| Niagara County, NY
15500 | Burlington, NC | 0.8905
| Alamance County, NC
15540 | Burlington-South Burlington, VT | 0.9410
| Chittenden County, VT
| Franklin County, VT
| Grand Isle County, VT
15764 | Cambridge-Newton-Framingham, MA | 1.1172
| Middlesex County, MA
15804 | Camden, NJ | 1.0517
| Burlington County, NJ
| Camden County, NJ
| Gloucester County, NJ
15940 | Canton-Massillon, OH | 0.8935
| Carroll County, OH
| Stark County, OH
15980 | Cape Coral-Fort Myers, FL | 0.9356
| Lee County, FL
16180 | Carson City, NV | 1.0234
| Carson City, NV
16220 | Casper, WY | 0.9026
| Natrona County, WY
16300 | Cedar Rapids, IA | 0.8825
| Benton County, IA
| Jones County, IA
| Linn County, IA
16580 | Champaign-Urbana, IL | 0.9594
| Champaign County, IL
| Ford County, IL
| Piatt County, IL
16620 | Charleston, WV | 0.8445
| Boone County, WV
| Clay County, WV
| Kanawha County, WV
| Lincoln County, WV
| Putnam County, WV
16700 | Charleston-North Charleston, SC | 0.9245
| Berkeley County, SC
| Charleston County, SC
| Dorchester County, SC
16740 | Charlotte-Gastonia-Concord, NC-SC | 0.9750
| Anson County, NC
| Cabarrus County, NC
| Gaston County, NC
| Mecklenburg County, NC
| Union County, NC
| York County, SC
16820 | Charlottesville, VA | 1.0187
| Albemarle County, VA
| Fluvanna County, VA
| Greene County, VA
| Nelson County, VA
| Charlottesville City, VA
16860 | Chattanooga, TN-GA | 0.9088
| Catoosa County, GA
| Dade County, GA
| Walker County, GA
| Hamilton County, TN
| Marion County, TN
| Sequatchie County, TN
16940 | Cheyenne, WY | 0.8775
| Laramie County, WY
16974 | Chicago-Naperville-Joliet, IL | 1.0790
| Cook County, IL
| DeKalb County, IL
| DuPage County, IL
| Grundy County, IL
| Kane County, IL
| Kendall County, IL
| McHenry County, IL
| Will County, IL
17020 | Chico, CA | 1.0511
| Butte County, CA
17140 | Cincinnati-Middletown, OH-KY-IN | 0.9615
| Dearborn County, IN
| Franklin County, IN
| Ohio County, IN
| Boone County, KY
| Bracken County, KY
| Campbell County, KY
| Gallatin County, KY
| Grant County, KY
| Kenton County, KY
| Pendleton County, KY
| Brown County, OH
| Butler County, OH
| Clermont County, OH
| Hamilton County, OH
| Warren County, OH
17300 | Clarksville, TN-KY | 0.8284
| Christian County, KY
| Trigg County, KY
| Montgomery County, TN
| Stewart County, TN
17420 | Cleveland, TN | 0.8139
| Bradley County, TN
| Polk County, TN
17460 | Cleveland-Elyria-Mentor, OH | 0.9213
| Cuyahoga County, OH
| Geauga County, OH
| Lake County, OH
| Lorain County, OH
| Medina County, OH
17660 | Coeur d'Alene, ID | 0.9647
| Kootenai County, ID
17780 | College Station-Bryan, TX | 0.8900
| Brazos County, TX
| Burleson County, TX
| Robertson County, TX
17820 | Colorado Springs, CO | 0.9468
| El Paso County, CO
| Teller County, CO
17860 | Columbia, MO | 0.8345
| Boone County, MO
| Howard County, MO
17900 | Columbia, SC | 0.9057
| Calhoun County, SC
| Fairfield County, SC
| Kershaw County, SC
| Lexington County, SC
| Richland County, SC
| Saluda County, SC
17980 | Columbus, GA-AL | 0.8560
| Russell County, AL
| Chattahoochee County, GA
| Harris County, GA
| Marion County, GA
| Muscogee County, GA
18020 | Columbus, IN | 0.9588
| Bartholomew County, IN
18140 | Columbus, OH | 0.9860
| Delaware County, OH
| Fairfield County, OH
| Franklin County, OH
| Licking County, OH
| Madison County, OH
| Morrow County, OH
| Pickaway County, OH
| Union County, OH
18580 | Corpus Christi, TX | 0.8550
| Aransas County, TX
| Nueces County, TX
| San Patricio County, TX
18700 | Corvallis, OR | 1.0729
| Benton County, OR
19060 | Cumberland, MD-WV | 0.9317
| Allegany County, MD
| Mineral County, WV
19124 | Dallas-Plano-Irving, TX | 1.0228
| Collin County, TX
| Dallas County, TX
| Delta County, TX
| Denton County, TX
| Ellis County, TX
| Hunt County, TX
| Kaufman County, TX
| Rockwall County, TX
19140 | Dalton, GA | 0.9079
| Murray County, GA
| Whitfield County, GA
19180 | Danville, IL | 0.9028
| Vermilion County, IL
19260 | Danville, VA | 0.8489
| Pittsylvania County, VA
| Danville City, VA
19340 | Davenport-Moline-Rock Island, IA-IL | 0.8724
| Henry County, IL
| Mercer County, IL
| Rock Island County, IL
| Scott County, IA
19380 | Dayton, OH | 0.9064
| Greene County, OH
| Miami County, OH
| Montgomery County, OH
| Preble County, OH
19460 | Decatur, AL | 0.8469
| Lawrence County, AL
| Morgan County, AL
19500 | Decatur, IL | 0.8067
| Macon County, IL
19660 | Deltona-Daytona Beach-Ormond Beach, FL | 0.9299
| Volusia County, FL
19740 | Denver-Aurora, CO | 1.0723
| Adams County, CO
| Arapahoe County, CO
| Broomfield County, CO
| Clear Creek County, CO
| Denver County, CO
| Douglas County, CO
| Elbert County, CO
| Gilpin County, CO
| Jefferson County, CO
| Park County, CO
19780 | Des Moines, IA | 0.9669
| Dallas County, IA
| Guthrie County, IA
| Madison County, IA
| Polk County, IA
| Warren County, IA
19804 | Detroit-Livonia-Dearborn, MI | 1.0424
| Wayne County, MI
20020 | Dothan, AL | 0.7721
| Geneva County, AL
| Henry County, AL
| Houston County, AL
20100 | Dover, DE | 0.9776
| Kent County, DE
20220 | Dubuque, IA | 0.9024
| Dubuque County, IA
20260 | Duluth, MN-WI | 1.0213
| Carlton County, MN
| St. Louis County, MN
| Douglas County, WI
20500 | Durham, NC | 1.0244
| Chatham County, NC
| Durham County, NC
| Orange County, NC
| Person County, NC
20740 | Eau Claire, WI | 0.9201
| Chippewa County, WI
| Eau Claire County, WI
20764 | Edison, NJ | 1.1249
| Middlesex County, NJ
| Monmouth County, NJ
| Ocean County, NJ
| Somerset County, NJ
20940 | El Centro, CA | 0.8906
| Imperial County, CA
21060 | Elizabethtown, KY | 0.8802
| Hardin County, KY
| Larue County, KY
21140 | Elkhart-Goshen, IN | 0.9627
| Elkhart County, IN
21300 | Elmira, NY | 0.8250
| Chemung County, NY
21340 | El Paso, TX | 0.8977
| El Paso County, TX
21500 | Erie, PA | 0.8737
| Erie County, PA
21604 | Essex County, MA | 1.0538
| Essex County, MA
21660 | Eugene-Springfield, OR | 1.0818
| Lane County, OR
21780 | Evansville, IN-KY | 0.8713
| Gibson County, IN
| Posey County, IN
| Vanderburgh County, IN
| Warrick County, IN
| Henderson County, KY
| Webster County, KY
21820 | Fairbanks, AK | 1.1408
| Fairbanks North Star Borough, AK
21940 | Fajardo, PR | 0.4153
| Ceiba Municipio, PR
| Fajardo Municipio, PR
| Luquillo Municipio, PR
22020 | Fargo, ND-MN | 0.8486
| Cass County, ND
| Clay County, MN
22140 | Farmington, NM | 0.8509
| San Juan County, NM
22180 | Fayetteville, NC | 0.9416
| Cumberland County, NC
| Hoke County, NC
22220 | Fayetteville-Springdale-Rogers, AR-MO | 0.8661
| Benton County, AR
| Madison County, AR
| Washington County, AR
| McDonald County, MO
22380 | Flagstaff, AZ | 1.2092
| Coconino County, AZ
22420 | Flint, MI | 1.0655
| Genesee County, MI
22500 | Florence, SC | 0.8947
| Darlington County, SC
| Florence County, SC
22520 | Florence-Muscle Shoals, AL | 0.8272
| Colbert County, AL
| Lauderdale County, AL
22540 | Fond du Lac, WI | 0.9640
| Fond du Lac County, WI
22660 | Fort Collins-Loveland, CO | 1.0122
| Larimer County, CO
22744 | Fort Lauderdale-Pompano Beach-Deerfield Beach, FL | 1.0432
| Broward County, FL
22900 | Fort Smith, AR-OK | 0.8230
| Crawford County, AR
| Franklin County, AR
| Sebastian County, AR
| Le Flore County, OK
| Sequoyah County, OK
23020 | Fort Walton Beach-Crestview-Destin, FL | 0.8872
| Okaloosa County, FL
23060 | Fort Wayne, IN | 0.9793
| Allen County, IN
| Wells County, IN
| Whitley County, IN
23104 | Fort Worth-Arlington, TX | 0.9486
| Johnson County, TX
| Parker County, TX
| Tarrant County, TX
| Wise County, TX
23420 | Fresno, CA | 1.0538
| Fresno County, CA
23460 | Gadsden, AL | 0.7938
| Etowah County, AL
23540 | Gainesville, FL | 0.9388
| Alachua County, FL
| Gilchrist County, FL
23580 | Gainesville, GA | 0.8874
| Hall County, GA
23844 | Gary, IN | 0.9395
| Jasper County, IN
| Lake County, IN
| Newton County, IN
| Porter County, IN
24020 | Glens Falls, NY | 0.8559
| Warren County, NY
| Washington County, NY
24140 | Goldsboro, NC | 0.8775
| Wayne County, NC
24220 | Grand Forks, ND-MN | 0.7901
| Polk County, MN
| Grand Forks County, ND
24300 | Grand Junction, CO | 0.9550
| Mesa County, CO
24340 | Grand Rapids-Wyoming, MI | 0.9390
| Barry County, MI
| Ionia County, MI
| Kent County, MI
| Newaygo County, MI
24500 | Great Falls, MT | 0.9052
| Cascade County, MT
24540 | Greeley, CO | 0.9570
| Weld County, CO
24580 | Green Bay, WI | 0.9483
| Brown County, WI
| Kewaunee County, WI
| Oconto County, WI
24660 | Greensboro-High Point, NC | 0.9104
| Guilford County, NC
| Randolph County, NC
| Rockingham County, NC
24780 | Greenville, NC | 0.9425
| Greene County, NC
| Pitt County, NC
24860 | Greenville, SC | 1.0027
| Greenville County, SC
| Laurens County, SC
| Pickens County, SC
25020 | Guayama, PR | 0.3181
| Arroyo Municipio, PR
| Guayama Municipio, PR
| Patillas Municipio, PR
25060 | Gulfport-Biloxi, MS | 0.8929
| Hancock County, MS
| Harrison County, MS
| Stone County, MS
25180 | Hagerstown-Martinsburg, MD-WV | 0.9489
| Washington County, MD
| Berkeley County, WV
| Morgan County, WV
25260 | Hanford-Corcoran, CA | 1.0036
| Kings County, CA
25420 | Harrisburg-Carlisle, PA | 0.9313
| Cumberland County, PA
| Dauphin County, PA
| Perry County, PA
25500 | Harrisonburg, VA | 0.9088
| Rockingham County, VA
| Harrisonburg City, VA
25540 | Hartford-West Hartford-East Hartford, CT | 1.1073
| Hartford County, CT
| Litchfield County, CT
| Middlesex County, CT
| Tolland County, CT
25620 | Hattiesburg, MS | 0.7601
| Forrest County, MS
| Lamar County, MS
| Perry County, MS
25860 | Hickory-Lenoir-Morganton, NC | 0.8921
| Alexander County, NC
| Burke County, NC
| Caldwell County, NC
| Catawba County, NC
25980 | Hinesville-Fort Stewart, GA¹ |
| Liberty County, GA
| Long County, GA
26100 | Holland-Grand Haven, MI | 0.9055
| Ottawa County, MI
26180 | Honolulu, HI | 1.1214
| Honolulu County, HI
26300 | Hot Springs, AR | 0.9005
| Garland County, AR
26380 | Houma-Bayou Cane-Thibodaux, LA | 0.7894
| Lafourche Parish, LA
| Terrebonne Parish, LA
26420 | Houston-Baytown-Sugar Land, TX | 0.9992
| Austin County, TX
| Brazoria County, TX
| Chambers County, TX
| Fort Bend County, TX
| Galveston County, TX
| Harris County, TX
| Liberty County, TX
| Montgomery County, TX
| San Jacinto County, TX
| Waller County, TX
26580 | Huntington-Ashland, WV-KY-OH | 0.9477
| Boyd County, KY
| Greenup County, KY
| Lawrence County, OH
| Cabell County, WV
| Wayne County, WV
26620 | Huntsville, AL | 0.9146
| Limestone County, AL
| Madison County, AL
26820 | Idaho Falls, ID | 0.9420
| Bonneville County, ID
| Jefferson County, ID
26900 | Indianapolis, IN | 0.9920
| Boone County, IN
| Brown County, IN
| Hamilton County, IN
| Hancock County, IN
| Hendricks County, IN
| Johnson County, IN
| Marion County, IN
| Morgan County, IN
| Putnam County, IN
| Shelby County, IN
26980 | Iowa City, IA | 0.9747
| Johnson County, IA
| Washington County, IA
27060 | Ithaca, NY | 0.9793
| Tompkins County, NY
27100 | Jackson, MI | 0.9304
| Jackson County, MI
27140 | Jackson, MS | 0.8311
| Copiah County, MS
| Hinds County, MS
| Madison County, MS
| Rankin County, MS
| Simpson County, MS
27180 | Jackson, TN | 0.8964
| Chester County, TN
| Madison County, TN
27260 | Jacksonville, FL | 0.9290
| Baker County, FL
| Clay County, FL
| Duval County, FL
| Nassau County, FL
| St. Johns County, FL
27340 | Jacksonville, NC | 0.8236
| Onslow County, NC
27500 | Janesville, WI | 0.9538
| Rock County, WI
27620 | Jefferson City, MO | 0.8387
| Callaway County, MO
| Cole County, MO
| Moniteau County, MO
| Osage County, MO
27740 | Johnson City, TN | 0.7937
| Carter County, TN
| Unicoi County, TN
| Washington County, TN
27780 | Johnstown, PA | 0.8354
| Cambria County, PA
27860 | Jonesboro, AR | 0.7911
| Craighead County, AR
| Poinsett County, AR
27900 | Joplin, MO | 0.8582
| Jasper County, MO
| Newton County, MO
28020 | Kalamazoo-Portage, MI | 1.0381
| Kalamazoo County, MI
| Van Buren County, MI
28100 | Kankakee-Bradley, IL | 1.0721
| Kankakee County, IL
28140 | Kansas City, MO-KS | 0.9476
| Franklin County, KS
| Johnson County, KS
| Leavenworth County, KS
| Linn County, KS
| Miami County, KS
| Wyandotte County, KS
| Bates County, MO
| Caldwell County, MO
| Cass County, MO
| Clay County, MO
| Clinton County, MO
| Jackson County, MO
| Lafayette County, MO
| Platte County, MO
| Ray County, MO
28420 | Kennewick-Richland-Pasco, WA | 1.0619
| Benton County, WA
| Franklin County, WA
28660 | Killeen-Temple-Fort Hood, TX | 0.8526
| Bell County, TX
| Coryell County, TX
| Lampasas County, TX
28700 | Kingsport-Bristol-Bristol, TN-VA | 0.8054
| Hawkins County, TN
| Sullivan County, TN
| Bristol City, VA
| Scott County, VA
| Washington County, VA
28740 | Kingston, NY | 0.9255
| Ulster County, NY
28940 | Knoxville, TN | 0.8441
| Anderson County, TN
| Blount County, TN
| Knox County, TN
| Loudon County, TN
| Union County, TN
29020 | Kokomo, IN | 0.9508
| Howard County, IN
| Tipton County, IN
29100 | La Crosse, WI-MN | 0.9564
| Houston County, MN
| La Crosse County, WI
29140 | Lafayette, IN | 0.8736
| Benton County, IN
| Carroll County, IN
| Tippecanoe County, IN
29180 | Lafayette, LA | 0.8428
| Lafayette Parish, LA
| St. Martin Parish, LA
29340 | Lake Charles, LA | 0.7833
| Calcasieu Parish, LA
| Cameron Parish, LA
29404 | Lake County-Kenosha County, IL-WI | 1.0429
| Lake County, IL
| Kenosha County, WI
29460 | Lakeland, FL | 0.8912
| Polk County, FL
29540 | Lancaster, PA | 0.9694
| Lancaster County, PA
29620 | Lansing-East Lansing, MI | 0.9794
| Clinton County, MI
| Eaton County, MI
| Ingham County, MI
29700 | Laredo, TX | 0.8068
| Webb County, TX
29740 | Las Cruces, NM | 0.8467
| Dona Ana County, NM
29820 | Las Vegas-Paradise, NV | 1.1437
| Clark County, NV
29940 | Lawrence, KS | 0.8537
| Douglas County, KS
30020 | Lawton, OK | 0.7872
| Comanche County, OK
30140 | Lebanon, PA | 0.8459
| Lebanon County, PA
30300 | Lewiston, ID-WA | 0.9886
| Nez Perce County, ID
| Asotin County, WA
30340 | Lewiston-Auburn, ME | 0.9331
| Androscoggin County, ME
30460 | Lexington-Fayette, KY | 0.9075
| Bourbon County, KY
| Clark County, KY
| Fayette County, KY
| Jessamine County, KY
| Scott County, KY
| Woodford County, KY
30620 | Lima, OH | 0.9225
| Allen County, OH
30700 | Lincoln, NE | 1.0214
| Lancaster County, NE
| Seward County, NE
30780 | Little Rock-North Little Rock, AR | 0.8747
| Faulkner County, AR
| Grant County, AR
| Lonoke County, AR
| Perry County, AR
| Pulaski County, AR
| Saline County, AR
30860 | Logan, UT-ID | 0.9164
| Franklin County, ID
| Cache County, UT
30980 | Longview, TX | 0.8730
| Gregg County, TX
| Rusk County, TX
| Upshur County, TX
31020 | Longview, WA | 0.9579
| Cowlitz County, WA
31084 | Los Angeles-Long Beach-Glendale, CA | 1.1783
| Los Angeles County, CA
31140 | Louisville, KY-IN | 0.9251
| Clark County, IN
| Floyd County, IN
| Harrison County, IN
| Washington County, IN
| Bullitt County, KY
| Henry County, KY
| Jefferson County, KY
| Meade County, KY
| Nelson County, KY
| Oldham County, KY
| Shelby County, KY
| Spencer County, KY
| Trimble County, KY
31180 | Lubbock, TX | 0.8783
| Crosby County, TX
| Lubbock County, TX
31340 | Lynchburg, VA | 0.8691
| Amherst County, VA
| Appomattox County, VA
| Bedford County, VA
| Campbell County, VA
| Bedford City, VA
| Lynchburg City, VA
31420 | Macon, GA | 0.9443
| Bibb County, GA
| Crawford County, GA
| Jones County, GA
| Monroe County, GA
| Twiggs County, GA
31460 | Madera, CA | 0.8713
| Madera County, CA
31540 | Madison, WI | 1.0659
| Columbia County, WI
| Dane County, WI
| Iowa County, WI
31700 | Manchester-Nashua, NH | 1.0354
| Hillsborough County, NH
| Merrimack County, NH
31900 | Mansfield, OH ¹ |
| Richland County, OH
32420 | Mayagüez, PR | 0.4020
| Hormigueros Municipio, PR
| Mayagüez Municipio, PR
32580 | McAllen-Edinburg-Pharr, TX | 0.8934
| Hidalgo County, TX
32780 | Medford, OR | 1.0225
| Jackson County, OR
32820 | Memphis, TN-MS-AR | 0.9397
| Crittenden County, AR
| DeSoto County, MS
| Marshall County, MS
| Tate County, MS
| Tunica County, MS
| Fayette County, TN
| Shelby County, TN
| Tipton County, TN
32900 | Merced, CA | 1.1109
| Merced County, CA
33124 | Miami-Miami Beach-Kendall, FL | 0.9750
| Miami-Dade County, FL
33140 | Michigan City-La Porte, IN | 0.9399
| LaPorte County, IN
33260 | Midland, TX | 0.9514
| Midland County, TX
33340 | Milwaukee-Waukesha-West Allis, WI | 1.0146
| Milwaukee County, WI
| Ozaukee County, WI
| Washington County, WI
| Waukesha County, WI
33460 | Minneapolis-St. Paul-Bloomington, MN-WI | 1.1075
| Anoka County, MN
| Carver County, MN
| Chisago County, MN
| Dakota County, MN
| Hennepin County, MN
| Isanti County, MN
| Ramsey County, MN
| Scott County, MN
| Sherburne County, MN
| Washington County, MN
| Wright County, MN
| Pierce County, WI
| St. Croix County, WI
33540 | Missoula, MT | 0.9473
| Missoula County, MT
33660 | Mobile, AL | 0.7891
| Mobile County, AL
33700 | Modesto, CA | 1.1885
| Stanislaus County, CA
33740 | Monroe, LA | 0.8031
| Ouachita Parish, LA
| Union Parish, LA
33780 | Monroe, MI | 0.9468
| Monroe County, MI
33860 | Montgomery, AL | 0.8618
| Autauga County, AL
| Elmore County, AL
| Lowndes County, AL
| Montgomery County, AL
34060 | Morgantown, WV | 0.8420
| Monongalia County, WV
| Preston County, WV
34100 | Morristown, TN | 0.7961
| Grainger County, TN
| Hamblen County, TN
| Jefferson County, TN
34580 | Mount Vernon-Anacortes, WA | 1.0454
| Skagit County, WA
34620 | Muncie, IN | 0.8930
| Delaware County, IN
34740 | Muskegon-Norton Shores, MI | 0.9664
| Muskegon County, MI
34820 | Myrtle Beach-Conway-North Myrtle Beach, SC | 0.8934
| Horry County, SC
34900 | Napa, CA | 1.2643
| Napa County, CA
34940 | Naples-Marco Island, FL | 1.0139
| Collier County, FL
34980 | Nashville-Davidson--Murfreesboro, TN | 0.9741
| Cannon County, TN
| Cheatham County, TN
| Davidson County, TN
| Dickson County, TN
| Hickman County, TN
| Macon County, TN
| Robertson County, TN
| Rutherford County, TN
| Smith County, TN
| Sumner County, TN
| Trousdale County, TN
| Williamson County, TN
| Wilson County, TN
35004 | Nassau-Suffolk, NY | 1.2719
| Nassau County, NY
| Suffolk County, NY
35084 | Newark-Union, NJ-PA | 1.1883
| Essex County, NJ
| Hunterdon County, NJ
| Morris County, NJ
| Sussex County, NJ
| Union County, NJ
| Pike County, PA
35300 | New Haven-Milford, CT | 1.1887
| New Haven County, CT
35380 | New Orleans-Metairie-Kenner, LA | 0.8995
| Jefferson Parish, LA
| Orleans Parish, LA
| Plaquemines Parish, LA
| St. Bernard Parish, LA
| St. Charles Parish, LA
| St. John the Baptist Parish, LA
| St. Tammany Parish, LA
35644 | New York-Wayne-White Plains, NY-NJ | 1.3188
| Bergen County, NJ
| Hudson County, NJ
| Passaic County, NJ
| Bronx County, NY
| Kings County, NY
| New York County, NY
| Putnam County, NY
| Queens County, NY
| Richmond County, NY
| Rockland County, NY
| Westchester County, NY
35660 | Niles-Benton Harbor, MI | 0.8879
| Berrien County, MI
35980 | Norwich-New London, CT | 1.1345
| New London County, CT
36084 | Oakland-Fremont-Hayward, CA | 1.5346
| Alameda County, CA
| Contra Costa County, CA
36100 | Ocala, FL | 0.8925
| Marion County, FL
36140 | Ocean City, NJ | 1.1011
| Cape May County, NJ
36220 | Odessa, TX | 0.9884
| Ector County, TX
36260 | Ogden-Clearfield, UT | 0.9029
| Davis County, UT
| Morgan County, UT
| Weber County, UT
36420 | Oklahoma City, OK | 0.9031
| Canadian County, OK
| Cleveland County, OK
| Grady County, OK
| Lincoln County, OK
| Logan County, OK
| McClain County, OK
| Oklahoma County, OK
36500 | Olympia, WA | 1.0927
| Thurston County, WA
36540 | Omaha-Council Bluffs, NE-IA | 0.9560
| Harrison County, IA
| Mills County, IA
| Pottawattamie County, IA
| Cass County, NE
| Douglas County, NE
| Sarpy County, NE
| Saunders County, NE
| Washington County, NE
36740 | Orlando, FL | 0.9464
| Lake County, FL
| Orange County, FL
| Osceola County, FL
| Seminole County, FL
36780 | Oshkosh-Neenah, WI | 0.9183
| Winnebago County, WI
36980 | Owensboro, KY | 0.8780
| Daviess County, KY
| Hancock County, KY
| McLean County, KY
37100 | Oxnard-Thousand Oaks-Ventura, CA | 1.1622
| Ventura County, CA
37340 | Palm Bay-Melbourne-Titusville, FL | 0.9839
| Brevard County, FL
37460 | Panama City-Lynn Haven, FL | 0.8005
| Bay County, FL
37620 | Parkersburg-Marietta, WV-OH | 0.8270
| Washington County, OH
| Pleasants County, WV
| Wirt County, WV
| Wood County, WV
37700 | Pascagoula, MS | 0.8156
| George County, MS
| Jackson County, MS
37860 | Pensacola-Ferry Pass-Brent, FL | 0.8096
| Escambia County, FL
| Santa Rosa County, FL
37900 | Peoria, IL | 0.8870
| Marshall County, IL
| Peoria County, IL
| Stark County, IL
| Tazewell County, IL
| Woodford County, IL
37964 | Philadelphia, PA | 1.1038
| Bucks County, PA
| Chester County, PA
| Delaware County, PA
| Montgomery County, PA
| Philadelphia County, PA
38060 | Phoenix-Mesa-Scottsdale, AZ | 1.0127
| Maricopa County, AZ
| Pinal County, AZ
38220 | Pine Bluff, AR | 0.8680
| Cleveland County, AR
| Jefferson County, AR
| Lincoln County, AR
38300 | Pittsburgh, PA | 0.8845
| Allegheny County, PA
| Armstrong County, PA
| Beaver County, PA
| Butler County, PA
| Fayette County, PA
| Washington County, PA
| Westmoreland County, PA
38340 | Pittsfield, MA | 1.0181
| Berkshire County, MA
38540 | Pocatello, ID | 0.9351
| Bannock County, ID
| Power County, ID
38660 | Ponce, PR | 0.4939
| Juana Díaz Municipio, PR
| Ponce Municipio, PR
| Villalba Municipio, PR
38860 | Portland-South Portland-Biddeford, ME | 1.0382
| Cumberland County, ME
| Sagadahoc County, ME
| York County, ME
38900 | Portland-Vancouver-Beaverton, OR-WA | 1.1266
| Clackamas County, OR
| Columbia County, OR
| Multnomah County, OR
| Washington County, OR
| Yamhill County, OR
| Clark County, WA
| Skamania County, WA
38940 | Port St. Lucie-Fort Pierce, FL | 1.0123
| Martin County, FL
| St. Lucie County, FL
39100 | Poughkeepsie-Newburgh-Middletown, NY | 1.0891
| Dutchess County, NY
| Orange County, NY
39140 | Prescott, AZ | 0.9869
| Yavapai County, AZ
39300 | Providence-New Bedford-Fall River, RI-MA | 1.0966
| Bristol County, MA
| Bristol County, RI
| Kent County, RI
| Newport County, RI
| Providence County, RI
| Washington County, RI
39340 | Provo-Orem, UT | 0.9500
| Juab County, UT
| Utah County, UT
39380 | Pueblo, CO | 0.8623
| Pueblo County, CO
39460 | Punta Gorda, FL | 0.9255
| Charlotte County, FL
39540 | Racine, WI | 0.8997
| Racine County, WI
39580 | Raleigh-Cary, NC | 0.9691
| Franklin County, NC
| Johnston County, NC
| Wake County, NC
39660 | Rapid City, SD | 0.8987
| Meade County, SD
| Pennington County, SD
39740 | Reading, PA | 0.9686
| Berks County, PA
39820 | Redding, CA | 1.2203
| Shasta County, CA
39900 | Reno-Sparks, NV | 1.0982
| Storey County, NV
| Washoe County, NV
40060 | Richmond, VA | 0.9328
| Amelia County, VA
| Caroline County, VA
| Charles City County, VA
| Chesterfield County, VA
| Cumberland County, VA
| Dinwiddie County, VA
| Goochland County, VA
| Hanover County, VA
| Henrico County, VA
| King and Queen County, VA
| King William County, VA
| Louisa County, VA
| New Kent County, VA
| Powhatan County, VA
| Prince George County, VA
| Sussex County, VA
| Colonial Heights City, VA
| Hopewell City, VA
| Petersburg City, VA
| Richmond City, VA
40140 | Riverside-San Bernardino-Ontario, CA | 1.1027
| Riverside County, CA
| San Bernardino County, CA
40220 | Roanoke, VA | 0.8374
| Botetourt County, VA
| Craig County, VA
| Franklin County, VA
| Roanoke County, VA
| Roanoke City, VA
| Salem City, VA
40340 | Rochester, MN | 1.1131
| Dodge County, MN
| Olmsted County, MN
| Wabasha County, MN
40380 | Rochester, NY | 0.9121
| Livingston County, NY
| Monroe County, NY
| Ontario County, NY
| Orleans County, NY
| Wayne County, NY
40420 | Rockford, IL | 0.9984
| Boone County, IL
| Winnebago County, IL
40484 | Rockingham County-Strafford County, NH | 1.0374
| Rockingham County, NH
| Strafford County, NH
40580 | Rocky Mount, NC | 0.8915
| Edgecombe County, NC
| Nash County, NC
40660 | Rome, GA | 0.9414
| Floyd County, GA
40900 | Sacramento--Arden-Arcade--Roseville, CA | 1.2969
| El Dorado County, CA
| Placer County, CA
| Sacramento County, CA
| Yolo County, CA
40980 | Saginaw-Saginaw Township North, MI | 0.9088
| Saginaw County, MI
41060 | St. Cloud, MN | 0.9965
| Benton County, MN
| Stearns County, MN
41100 | St. George, UT | 0.9392
| Washington County, UT
41140 | St. Joseph, MO-KS | 0.9519
| Doniphan County, KS
| Andrew County, MO
| Buchanan County, MO
| DeKalb County, MO
41180 | St. Louis, MO-IL | 0.8954
| Bond County, IL
| Calhoun County, IL
| Clinton County, IL
| Jersey County, IL
| Macoupin County, IL
| Madison County, IL
| Monroe County, IL
| St. Clair County, IL
| Crawford County, MO
| Franklin County, MO
| Jefferson County, MO
| Lincoln County, MO
| St. Charles County, MO
| St. Louis County, MO
| Warren County, MO
| Washington County, MO
| St. Louis City, MO
41420 | Salem, OR | 1.0442
| Marion County, OR
| Polk County, OR
41500 | Salinas, CA | 1.4128
| Monterey County, CA
41540 | Salisbury, MD | 0.9064
| Somerset County, MD
| Wicomico County, MD
41620 | Salt Lake City, UT | 0.9421
| Salt Lake County, UT
| Summit County, UT
| Tooele County, UT
41660 | San Angelo, TX | 0.8271
| Irion County, TX
| Tom Green County, TX
41700 | San Antonio, TX | 0.8980
| Atascosa County, TX
| Bandera County, TX
| Bexar County, TX
| Comal County, TX
| Guadalupe County, TX
| Kendall County, TX
| Medina County, TX
| Wilson County, TX
41740 | San Diego-Carlsbad-San Marcos, CA | 1.1413
| San Diego County, CA
41780 | Sandusky, OH | 0.9019
| Erie County, OH
41884 | San Francisco-San Mateo-Redwood City, CA | 1.4994
| Marin County, CA
| San Francisco County, CA
| San Mateo County, CA
41900 | San Germán-Cabo Rojo, PR | 0.4650
| Cabo Rojo Municipio, PR
| Lajas Municipio, PR
| Sabana Grande Municipio, PR
| San Germán Municipio, PR
41940 | San Jose-Sunnyvale-Santa Clara, CA | 1.5099
| San Benito County, CA
| Santa Clara County, CA
41980 | San Juan-Caguas-Guaynabo, PR | 0.4621
| Aguas Buenas Municipio, PR
| Aibonito Municipio, PR
| Arecibo Municipio, PR
| Barceloneta Municipio, PR
| Barranquitas Municipio, PR
| Bayamón Municipio, PR
| Caguas Municipio, PR
| Camuy Municipio, PR
| Canóvanas Municipio, PR
| Carolina Municipio, PR
| Cataño Municipio, PR
| Cayey Municipio, PR
| Ciales Municipio, PR
| Cidra Municipio, PR
| Comerío Municipio, PR
| Corozal Municipio, PR
| Dorado Municipio, PR
| Florida Municipio, PR
| Guaynabo Municipio, PR
| Gurabo Municipio, PR
| Hatillo Municipio, PR
| Humacao Municipio, PR
| Juncos Municipio, PR
| Las Piedras Municipio, PR
| Loíza Municipio, PR
| Manatí Municipio, PR
| Maunabo Municipio, PR
| Morovis Municipio, PR
| Naguabo Municipio, PR
| Naranjito Municipio, PR
| Orocovis Municipio, PR
| Quebradillas Municipio, PR
| Río Grande Municipio, PR
| San Juan Municipio, PR
| San Lorenzo Municipio, PR
| Toa Alta Municipio, PR
| Toa Baja Municipio, PR
| Trujillo Alto Municipio, PR
| Vega Alta Municipio, PR
| Vega Baja Municipio, PR
| Yabucoa Municipio, PR
42020 | San Luis Obispo-Paso Robles, CA | 1.1349
| San Luis Obispo County, CA
42044 | Santa Ana-Anaheim-Irvine, CA | 1.1559
| Orange County, CA
42060 | Santa Barbara-Santa Maria-Goleta, CA | 1.1694
| Santa Barbara County, CA
42100 | Santa Cruz-Watsonville, CA | 1.5166
| Santa Cruz County, CA
42140 | Santa Fe, NM | 1.0920
| Santa Fe County, NM
42220 | Santa Rosa-Petaluma, CA | 1.3493
| Sonoma County, CA
42260 | Sarasota-Bradenton-Venice, FL | 0.9639
| Manatee County, FL
| Sarasota County, FL
42340 | Savannah, GA | 0.9461
| Bryan County, GA
| Chatham County, GA
| Effingham County, GA
42540 | Scranton--Wilkes-Barre, PA | 0.8540
| Lackawanna County, PA
| Luzerne County, PA
| Wyoming County, PA
42644 | Seattle-Bellevue-Everett, WA | 1.1577
| King County, WA
| Snohomish County, WA
43100 | Sheboygan, WI | 0.8911
| Sheboygan County, WI
43300 | Sherman-Denison, TX | 0.9507
| Grayson County, TX
43340 | Shreveport-Bossier City, LA | 0.8760
| Bossier Parish, LA
| Caddo Parish, LA
| De Soto Parish, LA
43580 | Sioux City, IA-NE-SD | 0.9381
| Woodbury County, IA
| Dakota County, NE
| Dixon County, NE
| Union County, SD
43620 | Sioux Falls, SD | 0.9635
| Lincoln County, SD
| McCook County, SD
| Minnehaha County, SD
| Turner County, SD
43780 | South Bend-Mishawaka, IN-MI | 0.9788
| St. Joseph County, IN
| Cass County, MI
43900 | Spartanburg, SC | 0.9172
| Spartanburg County, SC
44060 | Spokane, WA | 1.0905
| Spokane County, WA
44100 | Springfield, IL | 0.8792
| Menard County, IL
| Sangamon County, IL
44140 | Springfield, MA | 1.0248
| Franklin County, MA
| Hampden County, MA
| Hampshire County, MA
44180 | Springfield, MO | 0.8237
| Christian County, MO
| Dallas County, MO
| Greene County, MO
| Polk County, MO
| Webster County, MO
44220 | Springfield, OH | 0.8396
| Clark County, OH
44300 | State College, PA | 0.8356
| Centre County, PA
44700 | Stockton, CA | 1.1307
| San Joaquin County, CA
44940 | Sumter, SC | 0.8377
| Sumter County, SC
45060 | Syracuse, NY | 0.9574
| Madison County, NY
| Onondaga County, NY
| Oswego County, NY
45104 | Tacoma, WA | 1.0742
| Pierce County, WA
45220 | Tallahassee, FL | 0.8688
| Gadsden County, FL
| Jefferson County, FL
| Leon County, FL
| Wakulla County, FL
45300 | Tampa-St. Petersburg-Clearwater, FL | 0.9233
| Hernando County, FL
| Hillsborough County, FL
| Pasco County, FL
| Pinellas County, FL
45460 | Terre Haute, IN | 0.8304
| Clay County, IN
| Sullivan County, IN
| Vermillion County, IN
| Vigo County, IN
45500 | Texarkana, TX-Texarkana, AR | 0.8283
| Miller County, AR
| Bowie County, TX
45780 | Toledo, OH | 0.9574
| Fulton County, OH
| Lucas County, OH
| Ottawa County, OH
| Wood County, OH
45820 | Topeka, KS | 0.8920
| Jackson County, KS
| Jefferson County, KS
| Osage County, KS
| Shawnee County, KS
| Wabaunsee County, KS
45940 | Trenton-Ewing, NJ | 1.0834
| Mercer County, NJ
46060 | Tucson, AZ | 0.9007
| Pima County, AZ
46140 | Tulsa, OK | 0.8543
| Creek County, OK
| Okmulgee County, OK
| Osage County, OK
| Pawnee County, OK
| Rogers County, OK
| Tulsa County, OK
| Wagoner County, OK
46220 | Tuscaloosa, AL | 0.8645
| Greene County, AL
| Hale County, AL
| Tuscaloosa County, AL
46340 | Tyler, TX | 0.9168
| Smith County, TX
46540 | Utica-Rome, NY | 0.8358
| Herkimer County, NY
| Oneida County, NY
46660 | Valdosta, GA | 0.8866
| Brooks County, GA
| Echols County, GA
| Lanier County, GA
| Lowndes County, GA
46700 | Vallejo-Fairfield, CA | 1.4936
| Solano County, CA
46940 | Vero Beach, FL | 0.9434
| Indian River County, FL
47020 | Victoria, TX | 0.8160
| Calhoun County, TX
| Goliad County, TX
| Victoria County, TX
47220 | Vineland-Millville-Bridgeton, NJ | 0.9827
| Cumberland County, NJ
47260 | Virginia Beach-Norfolk-Newport News, VA-NC | 0.8799
| Currituck County, NC
| Gloucester County, VA
| Isle of Wight County, VA
| James City County, VA
| Mathews County, VA
| Surry County, VA
| York County, VA
| Chesapeake City, VA
| Hampton City, VA
| Newport News City, VA
| Norfolk City, VA
| Poquoson City, VA
| Portsmouth City, VA
| Suffolk City, VA
| Virginia Beach City, VA
| Williamsburg City, VA
47300 | Visalia-Porterville, CA | 1.0123
| Tulare County, CA
47380 | Waco, TX | 0.8518
| McLennan County, TX
47580 | Warner Robins, GA | 0.8645
| Houston County, GA
47644 | Warren-Farmington Hills-Troy, MI | 0.9871
| Lapeer County, MI
| Livingston County, MI
| Macomb County, MI
| Oakland County, MI
| St. Clair County, MI
47894 | Washington-Arlington-Alexandria, DC-VA-MD-WV | 1.0926
| District of Columbia, DC
| Calvert County, MD
| Charles County, MD
| Prince George's County, MD
| Arlington County, VA
| Clarke County, VA
| Fairfax County, VA
| Fauquier County, VA
| Loudoun County, VA
| Prince William County, VA
| Spotsylvania County, VA
| Stafford County, VA
| Warren County, VA
| Alexandria City, VA
| Fairfax City, VA
| Falls Church City, VA
| Fredericksburg City, VA
| Manassas City, VA
| Manassas Park City, VA
| Jefferson County, WV
47940 | Waterloo-Cedar Falls, IA | 0.8557
| Black Hawk County, IA
| Bremer County, IA
| Grundy County, IA
48140 | Wausau, WI | 0.9590
| Marathon County, WI
48260 | Weirton-Steubenville, WV-OH | 0.7819
| Jefferson County, OH
| Brooke County, WV
| Hancock County, WV
48300 | Wenatchee, WA | 1.0070
| Chelan County, WA
| Douglas County, WA
48424 | West Palm Beach-Boca Raton-Boynton Beach, FL | 1.0067
| Palm Beach County, FL
48540 | Wheeling, WV-OH | 0.7161
| Belmont County, OH
| Marshall County, WV
| Ohio County, WV
48620 | Wichita, KS | 0.9153
| Butler County, KS
| Harvey County, KS
| Sedgwick County, KS
| Sumner County, KS
48660 | Wichita Falls, TX | 0.8285
| Archer County, TX
| Clay County, TX
| Wichita County, TX
48700 | Williamsport, PA | 0.8364
| Lycoming County, PA
48864 | Wilmington, DE-MD-NJ | 1.0471
| New Castle County, DE
| Cecil County, MD
| Salem County, NJ
48900 | Wilmington, NC | 0.9582
| Brunswick County, NC
| New Hanover County, NC
| Pender County, NC
49020 | Winchester, VA-WV | 1.0214
| Frederick County, VA
| Winchester City, VA
| Hampshire County, WV
49180 | Winston-Salem, NC | 0.8944
| Davie County, NC
| Forsyth County, NC
| Stokes County, NC
| Yadkin County, NC
49340 | Worcester, MA | 1.1028
| Worcester County, MA
49420 | Yakima, WA | 1.0155
| Yakima County, WA
49500 | Yauco, PR | 0.4408
| Guánica Municipio, PR
| Guayanilla Municipio, PR
| Peñuelas Municipio, PR
| Yauco Municipio, PR
49620 | York-Hanover, PA | 0.9347
| York County, PA
49660 | Youngstown-Warren-Boardman, OH-PA | 0.8603
| Mahoning County, OH
| Trumbull County, OH
| Mercer County, PA
49700 | Yuba City, CA | 1.0921
| Sutter County, CA
| Yuba County, CA
49740 | Yuma, AZ | 0.9126
| Yuma County, AZ
¹At this time, there are no hospitals located in these urban areas on which to base a wage index.

Table 9.—FY 2006 Wage Index Based on CBSA Labor Market Areas for Rural Areas
CBSA code | Nonurban area | Wage index
1 | Alabama | 0.7446
2 | Alaska | 1.1977
3 | Arizona | 0.8768
4 | Arkansas | 0.7466
5 | California | 1.1054
6 | Colorado | 0.9380
7 | Connecticut | 1.1730
8 | Delaware | 0.9579
10 | Florida | 0.8568
11 | Georgia | 0.7662
12 | Hawaii | 1.0551
13 | Idaho | 0.8037
14 | Illinois | 0.8271
15 | Indiana | 0.8624
16 | Iowa | 0.8509
17 | Kansas | 0.8035
18 | Kentucky | 0.7766
19 | Louisiana | 0.7411
20 | Maine | 0.8843
21 | Maryland | 0.9353
22 | Massachusetts ¹ | 1.2016
23 | Michigan | 0.8895
24 | Minnesota | 0.9132
25 | Mississippi | 0.7674
26 | Missouri | 0.7900
27 | Montana | 0.8762
28 | Nebraska | 0.8657
29 | Nevada | 0.9065
30 | New Hampshire | 1.0817
31 | New Jersey ¹ |
32 | New Mexico | 0.8635
33 | New York | 0.8154
34 | North Carolina | 0.8540
35 | North Dakota | 0.7261
36 | Ohio | 0.8826
37 | Oklahoma | 0.7581
38 | Oregon | 0.9826
39 | Pennsylvania | 0.8291
40 | Puerto Rico1 | 0.4047
41 | Rhode Island ¹ |
42 | South Carolina | 0.8638
43 | South Dakota | 0.8560
44 | Tennessee | 0.7895
45 | Texas | 0.8003
46 | Utah | 0.8118
47 | Vermont | 0.9830
48 | Virgin Islands | 0.7615
49 | Virginia | 0.8013
50 | Washington | 1.0510
51 | West Virginia | 0.7717
52 | Wisconsin | 0.9509
53 | Wyoming | 0.9257
65 | Guam | 0.9611
¹ All counties within the State are classified as urban, with the exception of Massachusetts and Puerto Rico. Massachusetts and Puerto Rico have areas designated as rural; however, no short-term, acute care hospitals are located in the area(s) for FY 2006. Because more recent data is not available for those areas, we are using last year's wage index value.

Table A.—FY 2006 SNF PPS Transition Wage Index Table
SSA state/county code | County name | MSA No. | MSA urban/rural | 2006 MSA-based WI | 2006 CBSA-based WI | CBSA No. | CBSA urban/rural | Transition wage index *
01000 | Autauga County, Alabama | 5240 | Urban | 0.8618 | 0.8618 | 33860 | Urban | 0.8618
01010 | Baldwin County, Alabama | 5160 | Urban | 0.7861 | 0.7446 | 99901 | Rural | 0.7654
01020 | Barbour County, Alabama | 01 | Rural | 0.7432 | 0.7446 | 99901 | Rural | 0.7439
01030 | Bibb County, Alabama | 01 | Rural | 0.7432 | 0.8959 | 13820 | Urban | 0.8196
01040 | Blount County, Alabama | 1000 | Urban | 0.9000 | 0.8959 | 13820 | Urban | 0.8980
01050 | Bullock County, Alabama | 01 | Rural | 0.7432 | 0.7446 | 99901 | Rural | 0.7439
01060 | Butler County, Alabama | 01 | Rural | 0.7432 | 0.7446 | 99901 | Rural | 0.7439
01070 | Calhoun County, Alabama | 0450 | Urban | 0.7682 | 0.7682 | 11500 | Urban | 0.7682
01080 | Chambers County, Alabama | 01 | Rural | 0.7432 | 0.7446 | 99901 | Rural | 0.7439
01090 | Cherokee County, Alabama | 01 | Rural | 0.7432 | 0.7446 | 99901 | Rural | 0.7439
01100 | Chilton County, Alabama | 01 | Rural | 0.7432 | 0.8959 | 13820 | Urban | 0.8196
01110 | Choctaw County, Alabama | 01 | Rural | 0.7432 | 0.7446 | 99901 | Rural | 0.7439
01120 | Clarke County, Alabama | 01 | Rural | 0.7432 | 0.7446 | 99901 | Rural | 0.7439
01130 | Clay County, Alabama | 01 | Rural | 0.7432 | 0.7446 | 99901 | Rural | 0.7439
01140 | Cleburne County, Alabama | 01 | Rural | 0.7432 | 0.7446 | 99901 | Rural | 0.7439
01150 | Coffee County, Alabama | 01 | Rural | 0.7432 | 0.7446 | 99901 | Rural | 0.7439
01160 | Colbert County, Alabama | 2650 | Urban | 0.8272 | 0.8272 | 22520 | Urban | 0.8272
01170 | Conecuh County, Alabama | 01 | Rural | 0.7432 | 0.7446 | 99901 | Rural | 0.7439
01180 | Coosa County, Alabama | 01 | Rural | 0.7432 | 0.7446 | 99901 | Rural | 0.7439
01190 | Covington County, Alabama | 01 | Rural | 0.7432 | 0.7446 | 99901 | Rural | 0.7439
01200 | Crenshaw County, Alabama | 01 | Rural | 0.7432 | 0.7446 | 99901 | Rural | 0.7439
01210 | Cullman County, Alabama | 01 | Rural | 0.7432 | 0.7446 | 99901 | Rural | 0.7439
01220 | Dale County, Alabama | 2180 | Urban | 0.7701 | 0.7446 | 99901 | Rural | 0.7574
01230 | Dallas County, Alabama | 01 | Rural | 0.7432 | 0.7446 | 99901 | Rural | 0.7439
01240 | De Kalb County, Alabama | 01 | Rural | 0.7432 | 0.7446 | 99901 | Rural | 0.7439
01250 | Elmore County, Alabama | 5240 | Urban | 0.8618 | 0.8618 | 33860 | Urban | 0.8618
01260 | Escambia County, Alabama | 01 | Rural | 0.7432 | 0.7446 | 99901 | Rural | 0.7439
01270 | Etowah County, Alabama | 2880 | Urban | 0.7938 | 0.7938 | 23460 | Urban | 0.7938
01280 | Fayette County, Alabama | 01 | Rural | 0.7432 | 0.7446 | 99901 | Rural | 0.7439
01290 | Franklin County, Alabama | 01 | Rural | 0.7432 | 0.7446 | 99901 | Rural | 0.7439
01300 | Geneva County, Alabama | 01 | Rural | 0.7432 | 0.7721 | 20020 | Urban | 0.7577
01310 | Greene County, Alabama | 01 | Rural | 0.7432 | 0.8645 | 46220 | Urban | 0.8039
01320 | Hale County, Alabama | 01 | Rural | 0.7432 | 0.8645 | 46220 | Urban | 0.8039
01330 | Henry County, Alabama | 01 | Rural | 0.7432 | .7721 | 20020 | Urban | 0.7577
01340 | Houston County, Alabama | 2180 | Urban | 0.7701 | 0.7721 | 20020 | Urban | 0.7711
01350 | Jackson County, Alabama | 01 | Rural | 0.7432 | 0.7446 | 99901 | Rural | 0.7439
01360 | Jefferson County, Alabama | 1000 | Urban | 0.9000 | 0.8959 | 13820 | Urban | 0.8980
01370 | Lamar County, Alabama | 01 | Rural | 0.7432 | 0.7446 | 99901 | Rural | 0.7439
01380 | Lauderdale County, Alabama | 2650 | Urban | 0.8272 | 0.8272 | 22520 | Urban | 0.8272
01390 | Lawrence County, Alabama | 2030 | Urban | 0.8469 | 0.8469 | 19460 | Urban | 0.8469
01400 | Lee County, Alabama | 0580 | Urban | 0.8100 | 0.8100 | 12220 | Urban | 0.8100
01410 | Limestone County, Alabama | 3440 | Urban | 0.9146 | 0.9146 | 26620 | Urban | 0.9146
01420 | Lowndes County, Alabama | 01 | Rural | 0.7432 | 0.8618 | 33860 | Urban | 0.8025
01430 | Macon County, Alabama | 01 | Rural | 0.7432 | 0.7446 | 99901 | Rural | 0.7439
01440 | Madison County, Alabama | 3440 | Urban | 0.9146 | 0.9146 | 26620 | Urban | 0.9146
01450 | Marengo County, Alabama | 01 | Rural | 0.7432 | 0.7446 | 99901 | Rural | 0.7439
01460 | Marion County, Alabama | 01 | Rural | 0.7432 | 0.7446 | 99901 | Rural | 0.7439
01470 | Marshall County, Alabama | 01 | Rural | 0.7432 | 0.7446 | 99901 | Rural | 0.7439
01480 | Mobile County, Alabama | 5160 | Urban | 0.7861 | 0.7891 | 33660 | Urban | 0.7876
01490 | Monroe County, Alabama | 01 | Rural | 0.7432 | 0.7446 | 99901 | Rural | 0.7439
01500 | Montgomery County, Alabama | 5240 | Urban | 0.8618 | 0.8618 | 33860 | Urban | 0.8618
01510 | Morgan County, Alabama | 2030 | Urban | 0.8469 | 0.8469 | 19460 | Urban | 0.8469
01520 | Perry County, Alabama | 01 | Rural | 0.7432 | 0.7446 | 99901 | Rural | 0.7439
01530 | Pickens County, Alabama | 01 | Rural | 0.7432 | 0.7446 | 99901 | Rural | 0.7439
01540 | Pike County, Alabama | 01 | Rural | 0.7432 | 0.7446 | 99901 | Rural | 0.7439
01550 | Randolph County, Alabama | 01 | Rural | 0.7432 | 0.7446 | 99901 | Rural | 0.7439
01560 | Russell County, Alabama | 1800 | Urban | 0.8560 | 0.8560 | 17980 | Urban | 0.8560
01570 | St Clair County, Alabama | 1000 | Urban | 0.9000 | 0.8959 | 13820 | Urban | 0.8980
01580 | Shelby County, Alabama | 1000 | Urban | 0.9000 | 0.8959 | 13820 | Urban | 0.8980
01590 | Sumter County, Alabama | 01 | Rural | 0.7432 | 0.7446 | 99901 | Rural | 0.7439
01600 | Talladega County, Alabama | 01 | Rural | 0.7432 | 0.7446 | 99901 | Rural | 0.7439
01610 | Tallapoosa County, Alabama | 01 | Rural | 0.7432 | 0.7446 | 99901 | Rural | 0.7439
01620 | Tuscaloosa County, Alabama | 8600 | Urban | 0.8764 | 0.8645 | 46220 | Urban | 0.8705
01630 | Walker County, Alabama | 01 | Rural | 0.7432 | 0.8959 | 13820 | Urban | 0.8196
01640 | Washington County, Alabama | 01 | Rural | 0.7432 | 0.7446 | 99901 | Rural | 0.7439
01650 | Wilcox County, Alabama | 01 | Rural | 0.7432 | 0.7446 | 99901 | Rural | 0.7439
01660 | Winston County, Alabama | 01 | Rural | 0.7432 | 0.7446 | 99901 | Rural | 0.7439
02013 | Aleutians County East, Alaska | 02 | Rural | 1.1888 | 1.1977 | 99902 | Rural | 1.1933
02016 | Aleutians County West, Alaska | 02 | Rural | 1.1888 | 1.1977 | 99902 | Rural | 1.1933
02020 | Anchorage County, Alaska | 0380 | Urban | 1.1784 | 1.1895 | 11260 | Urban | 1.1840
02030 | Angoon County, Alaska | 02 | Rural | 1.1888 | 1.1977 | 99902 | Rural | 1.1933
02040 | Barrow-North Slope County, Alaska | 02 | Rural | 1.1888 | 1.1977 | 99902 | Rural | 1.1933
02050 | Bethel County, Alaska | 02 | Rural | 1.1888 | 1.1977 | 99902 | Rural | 1.1933
02060 | Bristol Bay Borough County, Alaska | 02 | Rural | 1.1888 | 1.1977 | 99902 | Rural | 1.1933
02068 | Denali County, Alaska | 02 | Rural | 1.1888 | 1.1977 | 99902 | Rural | 1.1933
02070 | Bristol Bay County, Alaska | 02 | Rural | 1.1888 | 1.1977 | 99902 | Rural | 1.1933
02080 | Cordova-Mc Carthy County, Alaska | 02 | Rural | 1.1888 | 1.1977 | 99902 | Rural | 1.1933
02090 | Fairbanks County, Alaska | 02 | Rural | 1.1888 | 1.1408 | 21820 | Urban | 1.1648
02100 | Haines County, Alaska | 02 | Rural | 1.1888 | 1.1977 | 99902 | Rural | 1.1933
02110 | Juneau County, Alaska | 02 | Rural | 1.1888 | 1.1977 | 99902 | Rural | 1.1933
02120 | Kenai-Cook Inlet County, Alaska | 02 | Rural | 1.1888 | 1.1977 | 99902 | Rural | 1.1933
02122 | Kenai Peninsula Borough, Alaska | 02 | Rural | 1.1888 | 1.1977 | 99902 | Rural | 1.1933
02130 | Ketchikan County, Alaska | 02 | Rural | 1.1888 | 1.1977 | 99902 | Rural | 1.1933
02140 | Kobuk County, Alaska | 02 | Rural | 1.1888 | 1.1977 | 99902 | Rural | 1.1933
02150 | Kodiak County, Alaska | 02 | Rural | 1.1888 | 1.1977 | 99902 | Rural | 1.1933
02160 | Kuskokwin County, Alaska | 02 | Rural | 1.1888 | 1.1977 | 99902 | Rural | 1.1933
02164 | Lake and Peninsula Borough, Alaska | 02 | Rural | 1.1888 | 1.1977 | 99902 | Rural | 1.1933
02170 | Matanuska County, Alaska | 02 | Rural | 1.1888 | 1.1895 | 11260 | Urban | 1.1892
02180 | Nome County, Alaska | 02 | Rural | 1.1888 | 1.1977 | 99902 | Rural | 1.1933
02185 | North Slope Borough, Alaska | 02 | Rural | 1.1888 | 1.1977 | 99902 | Rural | 1.1933
02188 | Northwest Arctic Borough, Alaska | 02 | Rural | 1.1888 | 1.1977 | 99902 | Rural | 1.1933
02190 | Outer Ketchikan County, Alaska | 02 | Rural | 1.1888 | 1.1977 | 99902 | Rural | 1.1933
02200 | Prince Of Wales County, Alaska | 02 | Rural | 1.1888 | 1.1977 | 99902 | Rural | 1.1933
02201 | Prince of Wales-Outer Ketchikan Census Area, Alaska | 02 | Rural | 1.1888 | 1.1977 | 99902 | Rural | 1.1933
02210 | Seward County, Alaska | 02 | Rural | 1.1888 | 1.1977 | 99902 | Rural | 1.1933
02220 | Sitka County, Alaska | 02 | Rural | 1.1888 | 1.1977 | 99902 | Rural | 1.1933
02230 | Skagway-Yakutat County, Alaska | 02 | Rural | 1.1888 | 1.1977 | 99902 | Rural | 1.1933
02231 | Skagway-Yakutat-Angoon Census Area, Alaska | 02 | Rural | 1.1888 | 1.1977 | 99902 | Rural | 1.1933
02232 | Skagway-Hoonah-Angoon Census Area, Alaska | 02 | Rural | 1.1888 | 1.1977 | 99902 | Rural | 1.1933
02240 | Southeast Fairbanks County, Alaska | 02 | Rural | 1.1888 | 1.1977 | 99902 | Rural | 1.1933
02250 | Upper Yukon County, Alaska | 02 | Rural | 1.1888 | 1.1977 | 99902 | Rural | 1.1933
02260 | Valdz-Chitna-Whitier County, Alaska | 02 | Rural | 1.1888 | 1.1977 | 99902 | Rural | 1.1933
02261 | Valdex-Cordove Census Area, Alaska | 02 | Rural | 1.1888 | 1.1977 | 99902 | Rural | 1.1933
02270 | Wade Hampton County, Alaska | 02 | Rural | 1.1888 | 1.1977 | 99902 | Rural | 1.1933
02280 | Wrangell-Petersburg County, Alaska | 02 | Rural | 1.1888 | 1.1977 | 99902 | Rural | 1.1933
02282 | Yakutat Borough, Alaska | 02 | Rural | 1.1888 | 1.1977 | 99902 | Rural | 1.1933
02290 | Yukon-Koyukuk County, Alaska | 02 | Rural | 1.1888 | 1.1977 | 99902 | Rural | 1.1933
03000 | Apache County, Arizona | 03 | Rural | 0.9045 | 0.8768 | 99903 | Rural | 0.8907
03010 | Cochise County, Arizona | 03 | Rural | 0.9045 | 0.8768 | 99903 | Rural | 0.8907
03020 | Coconino County, Arizona | 2620 | Urban | 1.1845 | 1.2092 | 22380 | Urban | 1.1969
03030 | Gila County, Arizona | 03 | Rural | 0.9045 | 0.8768 | 99903 | Rural | 0.8907
03040 | Graham County, Arizona | 03 | Rural | 0.9045 | 0.8768 | 99903 | Rural | 0.8907
03050 | Greenlee County, Arizona | 03 | Rural | 0.9045 | 0.8768 | 99903 | Rural | 0.8907
03055 | La Paz County, Arizona | 03 | Rural | 0.9045 | 0.8768 | 99903 | Rural | 0.8907
03060 | Maricopa County, Arizona | 6200 | Urban | 1.0127 | 1.0127 | 38060 | Urban | 1.0127
03070 | Mohave County, Arizona | 4120 | Urban | 1.1155 | 0.8768 | 99903 | Rural | 0.9962
03080 | Navajo County, Arizona | 03 | Rural | 0.9045 | 0.8768 | 99903 | Rural | 0.8907
03090 | Pima County, Arizona | 8520 | Urban | 0.9007 | 0.9007 | 46060 | Urban | 0.9007
03100 | Pinal County, Arizona | 6200 | Urban | 1.0127 | 1.0127 | 38060 | Urban | 1.0127
03110 | Santa Cruz County, Arizona | 03 | Rural | 0.9045 | 0.8768 | 99903 | Rural | 0.8907
03120 | Yavapai County, Arizona | 03 | Rural | 0.9045 | 0.9869 | 39140 | Urban | 0.9457
03130 | Yuma County, Arizona | 9360 | Urban | 0.9126 | 0.9126 | 49740 | Urban | 0.9126
04000 | Arkansas County, Arkansas | 04 | Rural | 0.7744 | 0.7466 | 99904 | Rural | 0.7605
04010 | Ashley County, Arkansas | 04 | Rural | 0.7744 | 0.7466 | 99904 | Rural | 0.7605
04020 | Baxter County, Arkansas | 04 | Rural | 0.7744 | 0.7466 | 99904 | Rural | 0.7605
04030 | Benton County, Arkansas | 2580 | Urban | 0.8661 | 0.8661 | 22220 | Urban | 0.8661
04040 | Boone County, Arkansas | 04 | Rural | 0.7744 | 0.7466 | 99904 | Rural | 0.7605
04050 | Bradley County, Arkansas | 04 | Rural | 0.7744 | 0.7466 | 99904 | Rural | 0.7605
04060 | Calhoun County, Arkansas | 04 | Rural | 0.7744 | 0.7466 | 99904 | Rural | 0.7605
04070 | Carroll County, Arkansas | 04 | Rural | 0.7744 | 0.7466 | 99904 | Rural | 0.7605
04080 | Chicot County, Arkansas | 04 | Rural | 0.7744 | 0.7466 | 99904 | Rural | 0.7605
04090 | Clark County, Arkansas | 04 | Rural | 0.7744 | 0.7466 | 99904 | Rural | 0.7605
04100 | Clay County, Arkansas | 04 | Rural | 0.7744 | 0.7466 | 99904 | Rural | 0.7605
04110 | Cleburne County, Arkansas | 04 | Rural | 0.7744 | 0.7466 | 99904 | Rural | 0.7605
04120 | Cleveland County, Arkansas | 04 | Rural | 0.7744 | 0.8680 | 38220 | Urban | 0.8212
04130 | Columbia County, Arkansas | 04 | Rural | 0.7744 | 0.7466 | 99904 | Rural | 0.7605
04140 | Conway County, Arkansas | 04 | Rural | 0.7744 | 0.7466 | 99904 | Rural | 0.7605
04150 | Craighead County, Arkansas | 3700 | Urban | 0.7911 | 0.7911 | 27860 | Urban | 0.7911
04160 | Crawford County, Arkansas | 2720 | Urban | 0.8246 | 0.8230 | 22900 | Urban | 0.8238
04170 | Crittenden County, Arkansas | 4920 | Urban | 0.9416 | 0.9397 | 32820 | Urban | 0.9407
04180 | Cross County, Arkansas | 04 | Rural | 0.7744 | 0.7466 | 99904 | Rural | 0.7605
04190 | Dallas County, Arkansas | 04 | Rural | 0.7744 | 0.7466 | 99904 | Rural | 0.7605
04200 | Desha County, Arkansas | 04 | Rural | 0.7744 | 0.7466 | 99904 | Rural | 0.7605
04210 | Drew County, Arkansas | 04 | Rural | 0.7744 | 0.7466 | 99904 | Rural | 0.7605
04220 | Faulkner County, Arkansas | 4400 | Urban | 0.8747 | 0.8747 | 30780 | Urban | 0.8747
04230 | Franklin County, Arkansas | 04 | Rural | 0.7744 | 0.8230 | 22900 | Urban | 0.7987
04240 | Fulton County, Arkansas | 04 | Rural | 0.7744 | 0.7466 | 99904 | Rural | 0.7605
04250 | Garland County, Arkansas | 04 | Rural | 0.7744 | 0.9005 | 26300 | Urban | 0.8375
04260 | Grant County, Arkansas | 04 | Rural | 0.7744 | 0.8747 | 30780 | Urban | 0.8246
04270 | Greene County, Arkansas | 04 | Rural | 0.7744 | 0.7466 | 99904 | Rural | 0.7605
4280 | Hempstead County, Arkansas | 04 | Rural | 0.7744 | 0.7466 | 99904 | Rural | 0.7605
04290 | Hot Spring County, Arkansas | 04 | Rural | 0.7744 | 0.7466 | 99904 | Rural | 0.7605
04300 | Howard County, Arkansas | 04 | Rural | 0.7744 | 0.7466 | 99904 | Rural | 0.7605
04310 | Independence County, Arkansas | 04 | Rural | 0.7744 | 0.7466 | 99904 | Rural | 0.7605
04320 | Izard County, Arkansas | 04 | Rural | 0.7744 | 0.7466 | 99904 | Rural | 0.7605
04330 | Jackson County, Arkansas | 04 | Rural | 0.7744 | 0.7466 | 99904 | Rural | 0.7605
04340 | Jefferson County, Arkansas | 6240 | Urban | 0.8680 | 0.8680 | 38220 | Urban | 0.8680
04350 | Johnson County, Arkansas | 04 | Rural | 0.7744 | 0.7466 | 99904 | Rural | 0.7605
04360 | Lafayette County, Arkansas | 04 | Rural | 0.7744 | 0.7466 | 99904 | Rural | 0.7605
04370 | Lawrence County, Arkansas | 04 | Rural | 0.7744 | 0.7466 | 99904 | Rural | 0.7605
04380 | Lee County, Arkansas | 04 | Rural | 0.7744 | 0.7466 | 99904 | Rural | 0.7605
04390 | Lincoln County, Arkansas | 04 | Rural | 0.7744 | 0.8680 | 38220 | Urban | 0.8212
04400 | Little River County, Arkansas | 04 | Rural | 0.7744 | 0.7466 | 99904 | Rural | 0.7605
04410 | Logan County, Arkansas | 04 | Rural | 0.7744 | 0.7466 | 99904 | Rural | 0.7605
04420 | Lonoke County, Arkansas | 4400 | Urban | 0.8747 | 0.8747 | 30780 | Urban | 0.8747
04430 | Madison County, Arkansas | 04 | Rural | 0.7744 | 0.8661 | 22220 | Urban | 0.8203
04440 | Marion County, Arkansas | 04 | Rural | 0.7744 | 0.7466 | 99904 | Rural | 0.7605
04450 | Miller County, Arkansas | 8360 | Urban | 0.8283 | 0.8283 | 45500 | Urban | 0.8283
04460 | Mississippi County, Arkansas | 04 | Rural | 0.7744 | 0.7466 | 99904 | Rural | 0.7605
04470 | Monroe County, Arkansas | 04 | Rural | 0.7744 | 0.7466 | 99904 | Rural | 0.7605
04480 | Montgomery County, Arkansas | 04 | Rural | 0.7744 | 0.7466 | 99904 | Rural | 0.7605
04490 | Nevada County, Arkansas | 04 | Rural | 0.7744 | 0.7466 | 99904 | Rural | 0.7605
04500 | Newton County, Arkansas | 04 | Rural | 0.7744 | 0.7466 | 99904 | Rural | 0.7605
04510 | Ouachita County, Arkansas | 04 | Rural | 0.7744 | 0.7466 | 99904 | Rural | 0.7605
04520 | Perry County, Arkansas | 04 | Rural | 0.7744 | 0.8747 | 30780 | Urban | 0.8246
04530 | Phillips County, Arkansas | 04 | Rural | 0.7744 | 0.7466 | 99904 | Rural | 0.7605
04540 | Pike County, Arkansas | 04 | Rural | 0.7744 | 0.7466 | 99904 | Rural | 0.7605
04550 | Poinsett County, Arkansas | 04 | Rural | 0.7744 | 0.7911 | 27860 | Urban | 0.7828
04560 | Polk County, Arkansas | 04 | Rural | 0.7744 | 0.7466 | 99904 | Rural | 0.7605
04570 | Pope County, Arkansas | 04 | Rural | 0.7744 | 0.7466 | 99904 | Rural | 0.7605
04580 | Prairie County, Arkansas | 04 | Rural | 0.7744 | 0.7466 | 99904 | Rural | 0.7605
04590 | Pulaski County, Arkansas | 4400 | Urban | 0.8747 | 0.8747 | 30780 | Urban | 0.8747
04600 | Randolph County, Arkansas | 04 | Rural | 0.7744 | 0.7466 | 99904 | Rural | 0.7605
04610 | St Francis County, Arkansas | 04 | Rural | 0.7744 | 0.7466 | 99904 | Rural | 0.7605
04620 | Saline County, Arkansas | 4400 | Urban | 0.8747 | 0.8747 | 30780 | Urban | 0.8747
04630 | Scott County, Arkansas | 04 | Rural | 0.7744 | 0.7466 | 99904 | Rural | 0.7605
04640 | Searcy County, Arkansas | 04 | Rural | 0.7744 | 0.7466 | 99904 | Rural | 0.7605
04650 | Sebastian County, Arkansas | 2720 | Urban | 0.8246 | 0.8230 | 22900 | Urban | 0.8238
04660 | Sevier County, Arkansas | 04 | Rural | 0.7744 | 0.7466 | 99904 | Rural | 0.7605
04670 | Sharp County, Arkansas | 04 | Rural | 0.7744 | 0.7466 | 99904 | Rural | 0.7605
04680 | Stone County, Arkansas | 04 | Rural | 0.7744 | 0.7466 | 99904 | Rural | 0.7605
04690 | Union County, Arkansas | 04 | Rural | 0.7744 | 0.7466 | 99904 | Rural | 0.7605
04700 | Van Buren County, Arkansas | 04 | Rural | 0.7744 | 0.7466 | 99904 | Rural | 0.7605
04710 | Washington County, Arkansas | 2580 | Urban | 0.8661 | 0.8661 | 22220 | Urban | 0.8661
04720 | White County, Arkansas | 04 | Rural | 0.7744 | 0.7466 | 99904 | Rural | 0.7605
04730 | Woodruff County, Arkansas | 04 | Rural | 0.7744 | 0.7466 | 99904 | Rural | 0.7605
04740 | Yell County, Arkansas | 04 | Rural | 0.7744 | 0.7466 | 99904 | Rural | 0.7605
05000 | Alameda County, California | 5775 | Urban | 1.5346 | 1.5346 | 36084 | Urban | 1.5346
05010 | Alpine County, California | 05 | Rural | 1.0775 | 1.1054 | 99905 | Rural | 1.0915
05020 | Amador County, California | 05 | Rural | 1.0775 | 1.1054 | 99905 | Rural | 1.0915
05030 | Butte County, California | 1620 | Urban | 1.0511 | 1.0511 | 17020 | Urban | 1.0511
05040 | Calaveras County, California | 05 | Rural | 1.0775 | 1.1054 | 99905 | Rural | 1.0915
05050 | Colusa County, California | 05 | Rural | 1.0775 | 1.1054 | 99905 | Rural | 1.0915
05060 | Contra Costa County, California | 5775 | Urban | 1.5346 | 1.5346 | 36084 | Urban | 1.5346
05070 | Del Norte County, California | 05 | Rural | 1.0775 | 1.1054 | 99905 | Rural | 1.0915
05080 | Eldorado County, California | 6920 | Urban | 1.3143 | 1.2969 | 40900 | Urban | 1.3056
05090 | Fresno County, California | 2840 | Urban | 1.0428 | 1.0538 | 23420 | Urban | 1.0483
05100 | Glenn County, California | 05 | Rural | 1.0775 | 1.1054 | 99905 | Rural | 1.0915
05110 | Humboldt County, California | 05 | Rural | 1.0775 | 1.1054 | 99905 | Rural | 1.0915
05120 | Imperial County, California | 05 | Rural | 1.0775 | 0.8906 | 20940 | Urban | 0.9841
05130 | Inyo County, California | 05 | Rural | 1.0775 | 1.1054 | 99905 | Rural | 1.0915
05140 | Kern County, California | 0680 | Urban | 1.0470 | 1.0470 | 12540 | Urban | 1.0470
05150 | Kings County, California | 05 | Rural | 1.0775 | 1.0036 | 25260 | Urban | 1.0406
05160 | Lake County, California | 05 | Rural | 1.0775 | 1.1054 | 99905 | Rural | 1.0915
05170 | Lassen County, California | 05 | Rural | 1.0775 | 1.1054 | 99905 | Rural | 1.0915
05200 | Los Angeles County, California | 4480 | Urban | 1.1783 | 1.1783 | 31084 | Urban | 1.1783
05210 | Los Angeles County, California | 4480 | Urban | 1.1783 | 1.1783 | 31084 | Urban | 1.1783
05300 | Madera County, California | 2840 | Urban | 1.0428 | 0.8713 | 31460 | Urban | 0.9571
05310 | Marin County, California | 7360 | Urban | 1.4994 | 1.4994 | 41884 | Urban | 1.4994
05320 | Mariposa County, California | 05 | Rural | 1.0775 | 1.1054 | 99905 | Rural | 1.0915
05330 | Mendocino County, California | 05 | Rural | 1.0775 | 1.1054 | 99905 | Rural | 1.0915
05340 | Merced County, California | 4940 | Urban | 1.1109 | 1.1109 | 32900 | Urban | 1.1109
05350 | Modoc County, California | 05 | Rural | 1.0775 | 1.1054 | 99905 | Rural | 1.0915
05360 | Mono County, California | 05 | Rural | 1.0775 | 1.1054 | 99905 | Rural | 1.0915
05370 | Monterey County, California | 7120 | Urban | 1.4128 | 1.4128 | 41500 | Urban | 1.4128
05380 | Napa County, California | 8720 | Urban | 1.3983 | 1.2643 | 34900 | Urban | 1.3313
05390 | Nevada County, California | 05 | Rural | 1.0775 | 1.1054 | 99905 | Rural | 1.0915
05400 | Orange County, California | 5945 | Urban | 1.1559 | 1.1559 | 42044 | Urban | 1.1559
05410 | Placer County, California | 6920 | Urban | 1.3143 | 1.2969 | 40900 | Urban | 1.3056
05420 | Plumas County, California | 05 | Rural | 1.0775 | 1.1054 | 99905 | Rural | 1.0915
05430 | Riverside County, California | 6780 | Urban | 1.1027 | 1.1027 | 40140 | Urban | 1.1027
05440 | Sacramento County, California | 6920 | Urban | 1.3143 | 1.2969 | 40900 | Urban | 1.3056
05450 | San Benito County, California | 05 | Rural | 1.0775 | 1.5099 | 41940 | Urban | 1.2937
05460 | San Bernardino County, California | 6780 | Urban | 1.1027 | 1.1027 | 40140 | Urban | 1.1027
05470 | San Diego County, California | 7320 | Urban | 1.1413 | 1.1413 | 41740 | Urban | 1.1413
05480 | San Francisco County, California | 7360 | Urban | 1.4994 | 1.4994 | 41884 | Urban | 1.4994
05490 | San Joaquin County, California | 8120 | Urban | 1.1307 | 1.1307 | 44700 | Urban | 1.1307
05500 | San Luis Obispo County, California | 7460 | Urban | 1.1349 | 1.1349 | 42020 | Urban | 1.1349
05510 | San Mateo County, California | 7360 | Urban | 1.4994 | 1.4994 | 41884 | Urban | 1.4994
05520 | Santa Barbara County, California | 7480 | Urban | 1.1694 | 1.1694 | 42060 | Urban | 1.1694
05530 | Santa Clara County, California | 7400 | Urban | 1.5118 | 1.5099 | 41940 | Urban | 1.5109
05540 | Santa Cruz County, California | 7485 | Urban | 1.5166 | 1.5166 | 42100 | Urban | 1.5166
05550 | Shasta County, California | 6690 | Urban | 1.2203 | 1.2203 | 39820 | Urban | 1.2203
05560 | Sierra County, California | 05 | Rural | 1.0775 | 1.1054 | 99905 | Rural | 1.0915
05570 | Siskiyou County, California | 05 | Rural | 1.0775 | 1.1054 | 99905 | Rural | 1.0915
05580 | Solano County, California | 8720 | Urban | 1.3983 | 1.4936 | 46700 | Urban | 1.4460
05590 | Sonoma County, California | 7500 | Urban | 1.3493 | 1.3493 | 42220 | Urban | 1.3493
05600 | Stanislaus County, California | 5170 | Urban | 1.1885 | 1.1885 | 33700 | Urban | 1.1885
05610 | Sutter County, California | 9340 | Urban | 1.0921 | 1.0921 | 49700 | Urban | 1.0921
05620 | Tehama County, California | 05 | Rural | 1.0775 | 1.1054 | 99905 | Rural | 1.0915
05630 | Trinity County, California | 05 | Rural | 1.0775 | 1.1054 | 99905 | Rural | 1.0915
05640 | Tulare County, California | 8780 | Urban | 1.0123 | 1.0123 | 47300 | Urban | 1.0123
05650 | Tuolumne County, California | 05 | Rural | 1.0775 | 1.1054 | 99905 | Rural | 1.0915
05660 | Ventura County, California | 8735 | Urban | 1.1622 | 1.1622 | 37100 | Urban | 1.1622
05670 | Yolo County, California | 9270 | Urban | 0.9950 | 1.2969 | 40900 | Urban | 1.1460
05680 | Yuba County, California | 9340 | Urban | 1.0921 | 1.0921 | 49700 | Urban | 1.0921
06000 | Adams County, Colorado | 2080 | Urban | 1.0723 | 1.0723 | 19740 | Urban | 1.0723
06010 | Alamosa County, Colorado | 06 | Rural | 0.9380 | 0.9380 | 99906 | Rural | 0.9380
06020 | Arapahoe County, Colorado | 2080 | Urban | 1.0723 | 1.0723 | 19740 | Urban | 1.0723
06030 | Archuleta County, Colorado | 06 | Rural | 0.9380 | 0.9380 | 99906 | Rural | 0.9380
06040 | Baca County, Colorado | 06 | Rural | 0.9380 | 0.9380 | 99906 | Rural | 0.9380
06050 | Bent County, Colorado | 06 | Rural | 0.9380 | 0.9380 | 99906 | Rural | 0.9380
06060 | Boulder County, Colorado | 1125 | Urban | 0.9734 | 0.9734 | 14500 | Urban | 0.9734
06070 | Chaffee County, Colorado | 06 | Rural | 0.9380 | 0.9380 | 99906 | Rural | 0.9380
06080 | Cheyenne County, Colorado | 06 | Rural | 0.9380 | 0.9380 | 99906 | Rural | 0.9380
06090 | Clear Creek County, Colorado | 06 | Rural | 0.9380 | 1.0723 | 19740 | Urban | 1.0052
06100 | Conejos County, Colorado | 06 | Rural | 0.9380 | 0.9380 | 99906 | Rural | 0.9380
06110 | Costilla County, Colorado | 06 | Rural | 0.9380 | 0.9380 | 99906 | Rural | 0.9380
06120 | Crowley County, Colorado | 06 | Rural | 0.9380 | 0.9380 | 99906 | Rural | 0.9380
06130 | Custer County, Colorado | 06 | Rural | 0.9380 | 0.9380 | 99906 | Rural | 0.9380
06140 | Delta County, Colorado | 06 | Rural | 0.9380 | 0.9380 | 99906 | Rural | 0.9380
06150 | Denver County, Colorado | 2080 | Urban | 1.0723 | 1.0723 | 19740 | Urban | 1.0723
06160 | Dolores County, Colorado | 06 | Rural | 0.9380 | 0.9380 | 99906 | Rural | 0.9380
06170 | Douglas County, Colorado | 2080 | Urban | 1.0723 | 1.0723 | 19740 | Urban | 1.0723
06180 | Eagle County, Colorado | 06 | Rural | 0.9380 | 0.9380 | 99906 | Rural | 0.9380
06190 | Elbert County, Colorado | 06 | Rural | 0.9380 | 1.0723 | 19740 | Urban | 1.0052
06200 | El Paso County, Colorado | 1720 | Urban | 0.9468 | 0.9468 | 17820 | Urban | 0.9468
06210 | Fremont County, Colorado | 06 | Rural | 0.9380 | 0.9380 | 99906 | Rural | 0.9380
06220 | Garfield County, Colorado | 06 | Rural | 0.9380 | 0.9380 | 99906 | Rural | 0.9380
06230 | Gilpin County, Colorado | 06 | Rural | 0.9380 | 1.0723 | 19740 | Urban | 1.0052
06240 | Grand County, Colorado | 06 | Rural | 0.9380 | 0.9380 | 99906 | Rural | 0.9380
06250 | Gunnison County, Colorado | 06 | Rural | 0.9380 | 0.9380 | 99906 | Rural | 0.9380
06260 | Hinsdale County, Colorado | 06 | Rural | 0.9380 | 0.9380 | 99906 | Rural | 0.9380
06270 | Huerfano County, Colorado | 06 | Rural | 0.9380 | 0.9380 | 99906 | Rural | 0.9380
06280 | Jackson County, Colorado | 06 | Rural | 0.9380 | 0.9380 | 99906 | Rural | 0.9380
06290 | Jefferson County, Colorado | 2080 | Urban | 1.0723 | 1.0723 | 19740 | Urban | 1.0723
06300 | Kiowa County, Colorado | 06 | Rural | 0.9380 | 0.9380 | 99906 | Rural | 0.9380
06310 | Kit Carson County, Colorado | 06 | Rural | 0.9380 | 0.9380 | 99906 | Rural | 0.9380
06320 | Lake County, Colorado | 06 | Rural | 0.9380 | 0.9380 | 99906 | Rural | 0.9380
06330 | La Plata County, Colorado | 06 | Rural | 0.9380 | 0.9380 | 99906 | Rural | 0.9380
06340 | Larimer County, Colorado | 2670 | Urban | 1.0122 | 1.0122 | 22660 | Urban | 1.0122
06350 | Las Animas County, Colorado | 06 | Rural | 0.9380 | 0.9380 | 99906 | Rural | 0.9380
06360 | Lincoln County, Colorado | 06 | Rural | 0.9380 | 0.9380 | 99906 | Rural | 0.9380
06370 | Logan County, Colorado | 06 | Rural | 0.9380 | 0.9380 | 99906 | Rural | 0.9380
06380 | Mesa County, Colorado | 2995 | Urban | 0.9550 | 0.9550 | 24300 | Urban | 0.9550
06390 | Mineral County, Colorado | 06 | Rural | 0.9380 | 0.9380 | 99906 | Rural | 0.9380
06400 | Moffat County, Colorado | 06 | Rural | 0.9380 | 0.9380 | 99906 | Rural | 0.9380
06410 | Montezuma County, Colorado | 06 | Rural | 0.9380 | 0.9380 | 99906 | Rural | 0.9380
06420 | Montrose County, Colorado | 06 | Rural | 0.9380 | 0.9380 | 99906 | Rural | 0.9380
06430 | Morgan County, Colorado | 06 | Rural | 0.9380 | 0.9380 | 99906 | Rural | 0.9380
06440 | Otero County, Colorado | 06 | Rural | 0.9380 | 0.9380 | 99906 | Rural | 0.9380
06450 | Ouray County, Colorado | 06 | Rural | 0.9380 | 0.9380 | 99906 | Rural | 0.9380
06460 | Park County, Colorado | 06 | Rural | 0.9380 | 1.0723 | 19740 | Urban | 1.0052
06470 | Phillips County, Colorado | 06 | Rural | 0.9380 | 0.9380 | 99906 | Rural | 0.9380
06480 | Pitkin County, Colorado | 06 | Rural | 0.9380 | 0.9380 | 99906 | Rural | 0.9380
06490 | Prowers County, Colorado | 06 | Rural | 0.9380 | 0.9380 | 99906 | Rural | 0.9380
06500 | Pueblo County, Colorado | 6560 | Urban | 0.8623 | 0.8623 | 39380 | Urban | 0.8623
06510 | Rio Blanco County, Colorado | 06 | Rural | 0.9380 | 0.9380 | 99906 | Rural | 0.9380
06520 | Rio Grande County, Colorado | 06 | Rural | 0.9380 | 0.9380 | 99906 | Rural | 0.9380
06530 | Routt County, Colorado | 06 | Rural | 0.9380 | 0.9380 | 99906 | Rural | 0.9380
06540 | Saguache County, Colorado | 06 | Rural | 0.9380 | 0.9380 | 99906 | Rural | 0.9380
06550 | San Juan County, Colorado | 06 | Rural | 0.9380 | 0.9380 | 99906 | Rural | 0.9380
06560 | San Miguel County, Colorado | 06 | Rural | 0.9380 | 0.9380 | 99906 | Rural | 0.9380
06570 | Sedgwick County, Colorado | 06 | Rural | 0.9380 | 0.9380 | 99906 | Rural | 0.9380
06580 | Summit County, Colorado | 06 | Rural | 0.9380 | 0.9380 | 99906 | Rural | 0.9380
06590 | Teller County, Colorado | 06 | Rural | 0.9380 | 0.9468 | 17820 | Urban | 0.9424
06600 | Washington County, Colorado | 06 | Rural | 0.9380 | 0.9380 | 99906 | Rural | 0.9380
06610 | Weld County, Colorado | 3060 | Urban | 0.9570 | 0.9570 | 24540 | Urban | 0.9570
06620 | Yuma County, Colorado | 06 | Rural | 0.9380 | 0.9380 | 99906 | Rural | 0.9380
06630 | Broomfield County, Colorado | 2080 | Urban | 1.0723 | 1.0723 | 19740 | Urban | 1.0723
07000 | Fairfield County, Connecticut | 5483 | Urban | 1.2196 | 1.2592 | 14860 | Urban | 1.2394
07010 | Hartford County, Connecticut | 3283 | Urban | 1.1073 | 1.1073 | 25540 | Urban | 1.1073
07020 | Litchfield County, Connecticut | 3283 | Urban | 1.1073 | 1.1073 | 25540 | Urban | 1.1073
07030 | Middlesex County, Connecticut | 3283 | Urban | 1.1073 | 1.1073 | 25540 | Urban | 1.1073
07040 | New Haven County, Connecticut | 5483 | Urban | 1.2196 | 1.1887 | 35300 | Urban | 1.2042
07050 | New London County, Connecticut | 5523 | Urban | 1.1345 | 1.1345 | 35980 | Urban | 1.1345
07060 | Tolland County, Connecticut | 3283 | Urban | 1.1073 | 1.1073 | 25540 | Urban | 1.1073
07070 | Windham County, Connecticut | 07 | Rural | 1.1730 | 1.1730 | 99907 | Rural | 1.1730
08000 | Kent County, Delaware | 2190 | Urban | 0.9776 | 0.9776 | 20100 | Urban | 0.9776
08010 | New Castle County, Delaware | 9160 | Urban | 1.0527 | 1.0471 | 48864 | Urban | 1.0499
08020 | Sussex County, Delaware | 08 | Rural | 0.9579 | 0.9579 | 99908 | Rural | 0.9579
09000 | Washington Dc County, Dist Of Col | 8840 | Urban | 1.0976 | 1.0926 | 47894 | Urban | 1.0951
10000 | Alachua County, Florida | 2900 | Urban | 0.9388 | 0.9388 | 23540 | Urban | 0.9388
10010 | Baker County, Florida | 10 | Rural | 0.8677 | 0.9290 | 27260 | Urban | 0.8984
10020 | Bay County, Florida | 6015 | Urban | 0.8005 | 0.8005 | 37460 | Urban | 0.8005
10030 | Bradford County, Florida | 10 | Rural | 0.8677 | 0.8568 | 99910 | Rural | 0.8623
10040 | Brevard County, Florida | 4900 | Urban | 0.9839 | 0.9839 | 37340 | Urban | 0.9839
10050 | Broward County, Florida | 2680 | Urban | 1.0432 | 1.0432 | 22744 | Urban | 1.0432
10060 | Calhoun County, Florida | 10 | Rural | 0.8677 | 0.8568 | 99910 | Rural | 0.8623
10070 | Charlotte County, Florida | 6580 | Urban | 0.9255 | 0.9255 | 39460 | Urban | 0.9255
10080 | Citrus County, Florida | 10 | Rural | 0.8677 | 0.8568 | 99910 | Rural | 0.8623
10090 | Clay County, Florida | 3600 | Urban | 0.9299 | 0.9290 | 27260 | Urban | 0.9295
10100 | Collier County, Florida | 5345 | Urban | 1.0139 | 1.0139 | 34940 | Urban | 1.0139
10110 | Columbia County, Florida | 10 | Rural | 0.8677 | 0.8568 | 99910 | Rural | 0.8623
10120 | Dade County, Florida | 5000 | Urban | 0.9750 | 0.9750 | 33124 | Urban | 0.9750
10130 | De Soto County, Florida | 10 | Rural | 0.8677 | 0.8568 | 99910 | Rural | 0.8623
10140 | Dixie County, Florida | 10 | Rural | 0.8677 | 0.8568 | 99910 | Rural | 0.8623
10150 | Duval County, Florida | 3600 | Urban | 0.9299 | 0.9290 | 27260 | Urban | 0.9295
10160 | Escambia County, Florida | 6080 | Urban | 0.8096 | 0.8096 | 37860 | Urban | 0.8096
10170 | Flagler County, Florida | 2020 | Urban | 0.9325 | 0.8568 | 99910 | Rural | 0.8947
10180 | Franklin County, Florida | 10 | Rural | 0.8677 | 0.8568 | 99910 | Rural | 0.8623
10190 | Gadsden County, Florida | 8240 | Urban | 0.8688 | 0.8688 | 45220 | Urban | 0.8688
10200 | Gilchrist County, Florida | 10 | Rural | 0.8677 | 0.9388 | 23540 | Urban | 0.9033
10210 | Glades County, Florida | 10 | Rural | 0.8677 | 0.8568 | 99910 | Rural | 0.8623
10220 | Gulf County, Florida | 10 | Rural | 0.8677 | 0.8568 | 99910 | Rural | 0.8623
10230 | Hamilton County, Florida | 10 | Rural | 0.8677 | 0.8568 | 99910 | Rural | 0.8623
10240 | Hardee County, Florida | 10 | Rural | 0.8677 | 0.8568 | 99910 | Rural | 0.8623
10250 | Hendry County, Florida | 10 | Rural | 0.8677 | 0.8568 | 99910 | Rural | 0.8623
10260 | Hernando County, Florida | 8280 | Urban | 0.9233 | 0.9233 | 45300 | Urban | 0.9233
10270 | Highlands County, Florida | 10 | Rural | 0.8677 | 0.8568 | 99910 | Rural | 0.8623
10280 | Hillsborough County, Florida | 8280 | Urban | 0.9233 | 0.9233 | 45300 | Urban | 0.9233
10290 | Holmes County, Florida | 10 | Rural | 0.8677 | 0.8568 | 99910 | Rural | 0.8623
10300 | Indian River County, Florida | 10 | Rural | 0.8677 | 0.9434 | 46940 | Urban | 0.9056
10310 | Jackson County, Florida | 10 | Rural | 0.8677 | 0.8568 | 99910 | Rural | 0.8623
10320 | Jefferson County, Florida | 10 | Rural | 0.8677 | 0.8688 | 45220 | Urban | 0.8683
10330 | Lafayette County, Florida | 10 | Rural | 0.8677 | 0.8568 | 99910 | Rural | 0.8623
10340 | Lake County, Florida | 5960 | Urban | 0.9464 | 0.9464 | 36740 | Urban | 0.9464
10350 | Lee County, Florida | 2700 | Urban | 0.9356 | 0.9356 | 15980 | Urban | 0.9356
10360 | Leon County, Florida | 8240 | Urban | 0.8688 | 0.8688 | 45220 | Urban | 0.8688
10370 | Levy County, Florida | 10 | Rural | 0.8677 | 0.8568 | 99910 | Rural | 0.8623
10380 | Liberty County, Florida | 10 | Rural | 0.8677 | 0.8568 | 99910 | Rural | 0.8623
10390 | Madison County, Florida | 10 | Rural | 0.8677 | 0.8568 | 99910 | Rural | 0.8623
10400 | Manatee County, Florida | 7510 | Urban | 0.9639 | 0.9639 | 42260 | Urban | 0.9639
10410 | Marion County, Florida | 5790 | Urban | 0.8925 | 0.8925 | 36100 | Urban | 0.8925
10420 | Martin County, Florida | 2710 | Urban | 1.0123 | 1.0123 | 38940 | Urban | 1.0123
10430 | Monroe County, Florida | 10 | Rural | 0.8677 | 0.8568 | 99910 | Rural | 0.8623
10440 | Nassau County, Florida | 3600 | Urban | 0.9299 | 0.9290 | 27260 | Urban | 0.9295
10450 | Okaloosa County, Florida | 2750 | Urban | 0.8872 | 0.8872 | 23020 | Urban | 0.8872
10460 | Okeechobee County, Florida | 10 | Rural | 0.8677 | 0.8568 | 99910 | Rural | 0.8623
10470 | Orange County, Florida | 5960 | Urban | 0.9464 | 0.9464 | 36740 | Urban | 0.9464
10480 | Osceola County, Florida | 5960 | Urban | 0.9464 | 0.9464 | 36740 | Urban | 0.9464
10490 | Palm Beach County, Florida | 8960 | Urban | 1.0067 | 1.0067 | 48424 | Urban | 1.0067
10500 | Pasco County, Florida | 8280 | Urban | 0.9233 | 0.9233 | 45300 | Urban | 0.9233
10510 | Pinellas County, Florida | 8280 | Urban | 0.9233 | 0.9233 | 45300 | Urban | 0.9233
10520 | Polk County, Florida | 3980 | Urban | 0.8912 | 0.8912 | 29460 | Urban | 0.8912
10530 | Putnam County, Florida | 10 | Rural | 0.8677 | 0.8568 | 99910 | Rural | 0.8623
10540 | Johns County, Florida | 3600 | Urban | 0.9299 | 0.9290 | 27260 | Urban | 0.9295
10550 | St Lucie County, Florida | 2710 | Urban | 1.0123 | 1.0123 | 38940 | Urban | 1.0123
10560 | Santa Rosa County, Florida | 6080 | Urban | 0.8096 | 0.8096 | 37860 | Urban | 0.8096
10570 | Sarasota County, Florida | 7510 | Urban | 0.9639 | 0.9639 | 42260 | Urban | 0.9639
10580 | Seminole County, Florida | 5960 | Urban | 0.9464 | 0.9464 | 36740 | Urban | 0.9464
10590 | Sumter County, Florida | 10 | Rural | 0.8677 | 0.8568 | 99910 | Rural | 0.8623
10600 | Suwannee County, Florida | 10 | Rural | 0.8677 | 0.8568 | 99910 | Rural | 0.8623
10610 | Taylor County, Florida | 10 | Rural | 0.8677 | 0.8568 | 99910 | Rural | 0.8623
10620 | Union County, Florida | 10 | Rural | 0.8677 | 0.8568 | 99910 | Rural | 0.8623
10630 | Volusia County, Florida | 2020 | Urban | 0.9325 | 0.9299 | 19660 | Urban | 0.9312
10640 | Wakulla County, Florida | 10 | Rural | 0.8677 | 0.8688 | 45220 | Urban | 0.8683
10650 | Walton County, Florida | 10 | Rural | 0.8677 | 0.8568 | 99910 | Rural | 0.8623
10660 | Washington County, Florida | 10 | Rural | 0.8677 | 0.8568 | 99910 | Rural | 0.8623
11000 | Appling County, Georgia | 11 | Rural | 0.8166 | 0.7662 | 99911 | Rural | 0.7914
11010 | Atkinson County, Georgia | 11 | Rural | 0.8166 | 0.7662 | 99911 | Rural | 0.7914
11011 | Bacon County, Georgia | 11 | Rural | 0.8166 | 0.7662 | 99911 | Rural | 0.7914
11020 | Baker County, Georgia | 11 | Rural | 0.8166 | 0.8628 | 10500 | Urban | 0.8397
11030 | Baldwin County, Georgia | 11 | Rural | 0.8166 | 0.7662 | 99911 | Rural | 0.7914
11040 | Banks County, Georgia | 11 | Rural | 0.8166 | 0.7662 | 99911 | Rural | 0.7914
11050 | Barrow County, Georgia | 0520 | Urban | 0.9793 | 0.9793 | 12060 | Urban | 0.9793
11060 | Bartow County, Georgia | 0520 | Urban | 0.9793 | 0.9793 | 12060 | Urban | 0.9793
11070 | Ben Hill County, Georgia | 11 | Rural | 0.8166 | 0.7662 | 99911 | Rural | 0.7914
11080 | Berrien County, Georgia | 11 | Rural | 0.8166 | 0.7662 | 99911 | Rural | 0.7914
11090 | Bibb County, Georgia | 4680 | Urban | 0.9277 | 0.9443 | 31420 | Urban | 0.9360
11100 | Bleckley County, Georgia | 11 | Rural | 0.8166 | 0.7662 | 99911 | Rural | 0.7914
11110 | Brantley County, Georgia | 11 | Rural | 0.8166 | 0.9311 | 15260 | Urban | 0.8739
11120 | Brooks County, Georgia | 11 | Rural | 0.8166 | 0.8866 | 46660 | Urban | 0.8516
11130 | Bryan County, Georgia | 7520 | Urban | 0.9461 | 0.9461 | 42340 | Urban | 0.9461
11140 | Bulloch County, Georgia | 11 | Rural | 0.8166 | 0.7662 | 99911 | Rural | 0.7914
11150 | Burke County, Georgia | 11 | Rural | 0.8166 | 0.9748 | 12260 | Urban | 0.8957
11160 | Butts County, Georgia | 11 | Rural | 0.8166 | 0.9793 | 12060 | Urban | 0.8980
11161 | Calhoun County, Georgia | 11 | Rural | 0.8166 | 0.7662 | 99911 | Rural | 0.7914
11170 | Camden County, Georgia | 11 | Rural | 0.8166 | 0.7662 | 99911 | Rural | 0.7914
11180 | Candler County, Georgia | 11 | Rural | 0.8166 | 0.7662 | 99911 | Rural | 0.7914
11190 | Carroll County, Georgia | 0520 | Urban | 0.9793 | 0.9793 | 12060 | Urban | 0.9793
11200 | Catoosa County, Georgia | 1560 | Urban | 0.9088 | 0.9088 | 16860 | Urban | 0.9088
11210 | Charlton County, Georgia | 11 | Rural | 0.8166 | 0.7662 | 99911 | Rural | 0.7914
11220 | Chatham County, Georgia | 7520 | Urban | 0.9461 | 0.9461 | 42340 | Urban | 0.9461
11230 | Chattahoochee County, Georgia | 1800 | Urban | 0.8560 | 0.8560 | 17980 | Urban | 0.8560
11240 | Chattooga County, Georgia | 11 | Rural | 0.8166 | 0.7662 | 99911 | Rural | 0.7914
11250 | Cherokee County, Georgia | 0520 | Urban | 0.9793 | 0.9793 | 12060 | Urban | 0.9793
11260 | Clarke County, Georgia | 0500 | Urban | 0.9855 | 0.9855 | 12020 | Urban | 0.9855
11270 | Clay County, Georgia | 11 | Rural | 0.8166 | 0.7662 | 99911 | Rural | 0.7914
11280 | Clayton County, Georgia | 0520 | Urban | 0.9793 | 0.9793 | 12060 | Urban | 0.9793
11281 | Clinch County, Georgia | 11 | Rural | 0.8166 | 0.7662 | 99911 | Rural | 0.7914
11290 | Cobb County, Georgia | 0520 | Urban | 0.9793 | 0.9793 | 12060 | Urban | 0.9793
11291 | Coffee County, Georgia | 11 | Rural | 0.8166 | 0.7662 | 99911 | Rural | 0.7914
11300 | Colquitt County, Georgia | 11 | Rural | 0.8166 | 0.7662 | 99911 | Rural | 0.7914
11310 | Columbia County, Georgia | 0600 | Urban | 0.9808 | 0.9748 | 12260 | Urban | 0.9778
11311 | Cook County, Georgia | 11 | Rural | 0.8166 | 0.7662 | 99911 | Rural | 0.7914
11320 | Coweta County, Georgia | 0520 | Urban | 0.9793 | 0.9793 | 12060 | Urban | 0.9793
11330 | Crawford County, Georgia | 11 | Rural | 0.8166 | 0.9443 | 31420 | Urban | 0.8805
11340 | Crisp County, Georgia | 11 | Rural | 0.8166 | 0.7662 | 99911 | Rural | 0.7914
11341 | Dade County, Georgia | 1560 | Urban | 0.9088 | 0.9088 | 16860 | Urban | 0.9088
11350 | Dawson County, Georgia | 11 | Rural | 0.8166 | 0.9793 | 12060 | Urban | 0.8980
11360 | Decatur County, Georgia | 11 | Rural | 0.8166 | 0.7662 | 99911 | Rural | 0.7914
11370 | De Kalb County, Georgia | 0520 | Urban | 0.9793 | 0.9793 | 12060 | Urban | 0.9793
11380 | Dodge County, Georgia | 11 | Rural | 0.8166 | 0.7662 | 99911 | Rural | 0.7914
11381 | Dooly County, Georgia | 11 | Rural | 0.8166 | 0.7662 | 99911 | Rural | 0.7914
11390 | Dougherty County, Georgia | 0120 | Urban | 0.8628 | 0.8628 | 10500 | Urban | 0.8628
11400 | Douglas County, Georgia | 0520 | Urban | 0.9793 | 0.9793 | 12060 | Urban | 0.9793
11410 | Early County, Georgia | 11 | Rural | 0.8166 | 0.7662 | 99911 | Rural | 0.7914
11420 | Echols County, Georgia | 11 | Rural | 0.8166 | 0.8866 | 46660 | Urban | 0.8516
11421 | Effingham County, Georgia | 7520 | Urban | 0.9461 | 0.9461 | 42340 | Urban | 0.9461
11430 | Elbert County, Georgia | 11 | Rural | 0.8166 | 0.7662 | 99911 | Rural | 0.7914
11440 | Emanuel County, Georgia | 11 | Rural | 0.8166 | 0.7662 | 99911 | Rural | 0.7914
11441 | Evans County, Georgia | 11 | Rural | 0.8166 | 0.7662 | 99911 | Rural | 0.7914
11450 | Fannin County, Georgia | 11 | Rural | 0.8166 | 0.7662 | 99911 | Rural | 0.7914
11451 | Fayette County, Georgia | 0520 | Urban | 9793 | 0.9793 | 12060 | Urban | 0.9793
11460 | Floyd County, Georgia | 11 | Rural | 0.8166 | 0.9414 | 40660 | Urban | 0.8790
11461 | Forsyth County, Georgia | 0520 | Urban | 0.9793 | 0.9793 | 12060 | Urban | 0.9793
11462 | Franklin County, Georgia | 11 | Rural | 0.8166 | 0.7662 | 99911 | Rural | 0.7914
11470 | Fulton County, Georgia | 0520 | Urban | 0.9793 | 0.9793 | 12060 | Urban | 0.9793
11471 | Gilmer County, Georgia | 11 | Rural | 0.8166 | 0.7662 | 99911 | Rural | 0.7914
11480 | Glascock County, Georgia | 11 | Rural | 0.8166 | 0.7662 | 99911 | Rural | 0.7914
11490 | Glynn County, Georgia | 11 | Rural | 0.8166 | 0.9311 | 15260 | Urban | 0.8739
11500 | Gordon County, Georgia | 11 | Rural | 0.8166 | 0.7662 | 99911 | Rural | 0.7914
11510 | Grady County, Georgia | 11 | Rural | 0.8166 | 0.7662 | 99911 | Rural | 0.7914
11520 | Greene County, Georgia | 11 | Rural | 0.8166 | 0.7662 | 99911 | Rural | 0.7914
11530 | Gwinnett County, Georgia | 0520 | Urban | 0.9793 | 0.9793 | 12060 | Urban | 0.9793
11540 | Habersham County, Georgia | 11 | Rural | 0.8166 | 0.7662 | 99911 | Rural | 0.7914
11550 | Hall County, Georgia | 11 | Rural | 0.8166 | 0.8874 | 23580 | Urban | 0.8520
11560 | Hancock County, Georgia | 11 | Rural | 0.8166 | 0.7662 | 99911 | Rural | 0.7914
11570 | Haralson County, Georgia | 11 | Rural | 0.8166 | 0.9793 | 12060 | Urban | 0.8980
11580 | Harris County, Georgia | 1800 | Urban | 0.8560 | 0.8560 | 17980 | Urban | 0.8560
11581 | Hart County, Georgia | 11 | Rural | 0.8166 | 0.7662 | 99911 | Rural | 0.7914
11590 | Heard County, Georgia | 11 | Rural | 0.8166 | 0.9793 | 12060 | Urban | 0.8980
11591 | Henry County, Georgia | 0520 | Urban | 0.9793 | 0.9793 | 12060 | Urban | 0.9793
11600 | Houston County, Georgia | 4680 | Urban | 0.9277 | 0.8645 | 47580 | Urban | 0.8961
11601 | Irwin County, Georgia | 11 | Rural | 0.8166 | 0.7662 | 99911 | Rural | 0.7914
11610 | Jackson County, Georgia | 11 | Rural | 0.8166 | 0.7662 | 99911 | Rural | 0.7914
11611 | Jasper County, Georgia | 11 | Rural | 0.8166 | 0.9793 | 12060 | Urban | 0.8980
11612 | Jeff Davis County, Georgia | 11 | Rural | 0.8166 | 0.7662 | 99911 | Rural | 0.7914
11620 | Jefferson County, Georgia | 11 | Rural | 0.8166 | 0.7662 | 99911 | Rural | 0.7914
11630 | Jenkins County, Georgia | 11 | Rural | 0.8166 | 0.7662 | 99911 | Rural | 0.7914
11640 | Johnson County, Georgia | 11 | Rural | 0.8166 | 0.7662 | 99911 | Rural | 0.7914
11650 | Jones County, Georgia | 4680 | Urban | 0.9277 | 0.9443 | 31420 | Urban | 0.9360
11651 | Lamar County, Georgia | 11 | Rural | 0.8166 | 0.9793 | 12060 | Urban | 0.8980
11652 | Lanier County, Georgia | 11 | Rural | 0.8166 | 0.8866 | 46660 | Urban | 0.8516
11660 | Laurens County, Georgia | 11 | Rural | 0.8166 | 0.7662 | 99911 | Rural | 0.7914
11670 | Lee County, Georgia | 0120 | Urban | 0.8628 | 0.8628 | 10500 | Urban | 0.8628
11680 | Liberty County, Georgia | 11 | Rural | 0.8166 | (¹) | 25980 | Urban | 0.8973
11690 | Lincoln County, Georgia | 11 | Rural | 0.8166 | 0.7662 | 99911 | Rural | 0.7914
11691 | Long County, Georgia | 11 | Rural | 0.8166 | (¹) | 25980 | Urban | 0.8973
11700 | Lowndes County, Georgia | 11 | Rural | 0.8166 | 0.8866 | 46660 | Urban | 0.8516
11701 | Lumpkin County, Georgia | 11 | Rural | 0.8166 | 0.7662 | 99911 | Rural | 0.7914
11702 | Mc Duffie County, Georgia | 0600 | Urban | 0.9808 | 0.9748 | 12260 | Urban | 0.9778
11703 | Mc Intosh County, Georgia | 11 | Rural | 0.8166 | 0.9311 | 15260 | Urban | 0.8739
11710 | Macon County, Georgia | 11 | Rural | 0.8166 | 0.7662 | 99911 | Rural | 0.7914
11720 | Madison County, Georgia | 0500 | Urban | 0.9855 | 0.9855 | 12020 | Urban | 0.9855
11730 | Marion County, Georgia | 11 | Rural | 0.8166 | 0.8560 | 17980 | Urban | 0.8363
11740 | Meriwether County, Georgia | 11 | Rural | 0.8166 | 0.9793 | 12060 | Urban | 0.8980
11741 | Miller County, Georgia | 11 | Rural | 0.8166 | 0.7662 | 99911 | Rural | 0.7914
11750 | Mitchell County, Georgia | 11 | Rural | 0.8166 | 0.7662 | 99911 | Rural | 0.7914
11760 | Monroe County, Georgia | 11 | Rural | 0.8166 | 0.9443 | 31420 | Urban | 0.8805
11770 | Montgomery County, Georgia | 11 | Rural | 0.8166 | 0.7662 | 99911 | Rural | 0.7914
11771 | Morgan County, Georgia | 11 | Rural | 0.8166 | 0.7662 | 99911 | Rural | 0.7914
11772 | Murray County, Georgia | 11 | Rural | 0.8166 | 0.9079 | 19140 | Urban | 0.8623
11780 | Muscogee County, Georgia | 1800 | Urban | 0.8560 | 0.8560 | 17980 | Urban | 0.8560
11790 | Newton County, Georgia | 0520 | Urban | 0.9793 | 0.9793 | 12060 | Urban | 0.9793
11800 | Oconee County, Georgia | 0500 | Urban | 0.9855 | 0.9855 | 12020 | Urban | 0.9855
11801 | Oglethorpe County, Georgia | 11 | Rural | 0.8166 | 0.9855 | 12020 | Urban | 0.9011
11810 | Paulding County, Georgia | 0520 | Urban | 0.9793 | 0.9793 | 12060 | Urban | 0.9793
11811 | Peach County, Georgia | 4680 | Urban | 0.9277 | 0.7662 | 99911 | Rural | 0.8470
11812 | Pickens County, Georgia | 0520 | Urban | 0.9793 | 0.9793 | 12060 | Urban | 0.9793
11820 | Pierce County, Georgia | 11 | Rural | 0.8166 | 0.7662 | 99911 | Rural | 0.7914
11821 | Pike County, Georgia | 11 | Rural | 0.8166 | 0.9793 | 12060 | Urban | 0.8980
11830 | Polk County, Georgia | 11 | Rural | 0.8166 | 0.7662 | 99911 | Rural | 0.7914
11831 | Pulaski County, Georgia | 11 | Rural | 0.8166 | 0.7662 | 99911 | Rural | 0.7914
11832 | Putnam County, Georgia | 11 | Rural | 0.8166 | 0.7662 | 99911 | Rural | 0.7914
11833 | Quitman County, Georgia | 11 | Rural | 0.8166 | 0.7662 | 99911 | Rural | 0.7914
11834 | Rabun County, Georgia | 11 | Rural | 0.8166 | 0.7662 | 99911 | Rural | 0.7914
11835 | Randolph County, Georgia | 11 | Rural | 0.8166 | 0.7662 | 99911 | Rural | 0.7914
11840 | Richmond County, Georgia | 0600 | Urban | 0.9808 | 0.9748 | 12260 | Urban | 10.9778
11841 | Rockdale County, Georgia | 0520 | Urban | 0.9793 | 0.9793 | 12060 | Urban | 0.9793
11842 | Schley County, Georgia | 11 | Rural | 0.8166 | 0.7662 | 99911 | Rural | 0.7914
11850 | Screven County, Georgia | 11 | Rural | 0.8166 | 0.7662 | 99911 | Rural | 0.7914
11851 | Seminole County, Georgia | 11 | Rural | 0.8166 | 0.7662 | 99911 | Rural | 0.7914
11860 | Spalding County, Georgia | 0520 | Urban | 0.9793 | 0.9793 | 12060 | Urban | 0.9793
11861 | Stephens County, Georgia | 11 | Rural | 0.8166 | 0.7662 | 99911 | Rural | 0.7914
11862 | Stewart County, Georgia | 11 | Rural | 0.8166 | 0.7662 | 99911 | Rural | 0.7914
11870 | Sumter County, Georgia | 11 | Rural | 0.8166 | 0.7662 | 99911 | Rural | 0.7914
11880 | Talbot County, Georgia | 11 | Rural | 0.8166 | 0.7662 | 99911 | Rural | 0.7914
11881 | Taliaferro County, Georgia | 11 | Rural | 0.8166 | 0.7662 | 99911 | Rural | 0.7914
11882 | Tattnall County, Georgia | 11 | Rural | 0.8166 | 0.7662 | 99911 | Rural | 0.7914
11883 | Taylor County, Georgia | 11 | Rural | 0.8166 | 0.7662 | 99911 | Rural | 0.7914
11884 | Telfair County, Georgia | 11 | Rural | 0.8166 | 0.7662 | 99911 | Rural | 0.7914
11885 | Terrell County, Georgia | 11 | Rural | 0.8166 | 0.8628 | 10500 | Urban | 0.8397
11890 | Thomas County, Georgia | 11 | Rural | 0.8166 | 0.7662 | 99911 | Rural | 0.7914
11900 | Tift County, Georgia | 11 | Rural | 0.8166 | 0.7662 | 99911 | Rural | 0.7914
11901 | Toombs County, Georgia | 11 | Rural | 0.8166 | 0.7662 | 99911 | Rural | 0.7914
11902 | Towns County, Georgia | 11 | Rural | 0.8166 | 0.7662 | 99911 | Rural | 0.7914
11903 | Treutlen County, Georgia | 11 | Rural | 0.8166 | 0.7662 | 99911 | Rural | 0.7914
11910 | Troup County, Georgia | 11 | Rural | 0.8166 | 0.7662 | 99911 | Rural | 0.7914
11911 | Turner County, Georgia | 11 | Rural | 0.8166 | 0.7662 | 99911 | Rural | 0.7914
11912 | Twiggs County, Georgia | 4680 | Urban | 0.9277 | 0.9443 | 31420 | Urban | 0.9360
11913 | Union County, Georgia | 11 | Rural | 0.8166 | 0.7662 | 99911 | Rural | 0.7914
11920 | Upson County, Georgia | 11 | Rural | 0.8166 | 0.7662 | 99911 | Rural | 0.7914
11921 | Walker County, Georgia | 1560 | Urban | 0.9088 | 0.9088 | 16860 | Urban | 0.9088
11930 | Walton County, Georgia | 0520 | Urban | 0.9793 | 0.9793 | 12060 | Urban | 0.9793
11940 | Ware County, Georgia | 11 | Rural | 0.8166 | 0.7662 | 99911 | Rural | 0.7914
11941 | Warren County, Georgia | 11 | Rural | 0.8166 | 0.7662 | 99911 | Rural | 0.7914
11950 | Washington County, Georgia | 11 | Rural | 0.8166 | 0.7662 | 99911 | Rural | 0.7914
11960 | Wayne County, Georgia | 11 | Rural | 0.8166 | 0.7662 | 99911 | Rural | 0.7914
11961 | Webster County, Georgia | 11 | Rural | 0.8166 | 0.7662 | 99911 | Rural | 0.7914
11962 | Wheeler County, Georgia | 11 | Rural | 0.8166 | 0.7662 | 99911 | Rural | 0.7914
11963 | White County, Georgia | 11 | Rural | 0.8166 | 0.7662 | 99911 | Rural | 0.7914
11970 | Whitfield County, Georgia | 11 | Rural | 0.8166 | 0.9079 | 19140 | Urban | 0.8623
11971 | Wilcox County, Georgia | 11 | Rural | 0.8166 | 0.7662 | 99911 | Rural | 0.7914
11972 | Wilkes County, Georgia | 11 | Rural | 0.8166 | 0.7662 | 99911 | Rural | 0.7914
11973 | Wilkinson County, Georgia | 11 | Rural | 0.8166 | 0.7662 | 99911 | Rural | 0.7914
11980 | Worth County, Georgia | 11 | Rural | 0.8166 | 0.8628 | 10500 | Urban | 0.8397
12005 | Kalawao County, Hawaii | 12 | Rural | 1.0551 | 1.0551 | 99912 | Rural | 1.0551
12010 | Hawaii County, Hawaii | 12 | Rural | 1.0551 | 1.0551 | 99912 | Rural | 1.0551
12020 | Honolulu County, Hawaii | 3320 | Urban | 1.1214 | 1.1214 | 26180 | Urban | 1.1214
12040 | Kauai County, Hawaii | 12 | Rural | 1.0551 | 1.0551 | 99912 | Rural | 1.0551
12050 | Maui County, Hawaii | 12 | Rural | 1.0551 | 1.0551 | 99912 | Rural | 1.0551
13000 | Ada County, Idaho | 1080 | Urban | 0.9052 | 0.9052 | 14260 | Urban | 0.9052
13010 | Adams County, Idaho | 13 | Rural | 0.9097 | 0.8037 | 99913 | Rural | 0.8567
13020 | Bannock County, Idaho | 6340 | Urban | 0.9351 | 0.9351 | 38540 | Urban | 0.9351
13030 | Bear Lake County, Idaho | 13 | Rural | 0.9097 | 0.8037 | 99913 | Rural | 0.8567
13040 | Benewah County, Idaho | 13 | Rural | 0.9097 | 0.8037 | 99913 | Rural | 0.8567
13050 | Bingham County, Idaho | 13 | Rural | 0.9097 | 0.8037 | 99913 | Rural | 0.8567
13060 | Blaine County, Idaho | 13 | Rural | 0.9097 | 0.8037 | 99913 | Rural | 0.8567
13070 | Boise County, Idaho | 13 | Rural | 0.9097 | 0.9052 | 14260 | Urban | 0.9075
13080 | Bonner County, Idaho | 13 | Rural | 0.9097 | 0.8037 | 99913 | Rural | 0.8567
13090 | Bonneville County, Idaho | 13 | Rural | 0.9097 | 0.9420 | 26820 | Urban | 0.9259
13100 | Boundary County, Idaho | 13 | Rural | 0.9097 | 0.8037 | 99913 | Rural | 0.8567
13110 | Butte County, Idaho | 13 | Rural | 0.9097 | 0.8037 | 99913 | Rural | 0.8567
13120 | Camas County, Idaho | 13 | Rural | 0.9097 | 0.8037 | 99913 | Rural | 0.8567
13130 | Canyon County, Idaho | 1080 | Urban | 0.9052 | 0.9052 | 14260 | Urban | 0.9052
13140 | Caribou County, Idaho | 13 | Rural | 0.9097 | 0.8037 | 99913 | Rural | 0.8567
13150 | Cassia County, Idaho | 13 | Rural | 0.9097 | 0.8037 | 99913 | Rural | 0.8567
13160 | Clark County, Idaho | 13 | Rural | 0.9097 | 0.8037 | 99913 | Rural | 0.8567
13170 | Clearwater County, Idaho | 13 | Rural | 0.9097 | 0.8037 | 99913 | Rural | 0.8567
13180 | Custer County, Idaho | 13 | Rural | 0.9097 | 0.8037 | 99913 | Rural | 0.8567
13190 | Elmore County, Idaho | 13 | Rural | 0.9097 | 0.8037 | 99913 | Rural | 0.8567
13200 | Franklin County, Idaho | 13 | Rural | 0.9097 | 0.9164 | 30860 | Urban | 0.9131
13210 | Fremont County, Idaho | 13 | Rural | 0.9097 | 0.8037 | 99913 | Rural | 0.8567
13220 | Gem County, Idaho | 13 | Rural | 0.9097 | 0.9052 | 14260 | Urban | 0.9075
13230 | Gooding County, Idaho | 13 | Rural | 0.9097 | 0.8037 | 99913 | Rural | 0.8567
13240 | Idaho County, Idaho | 13 | Rural | 0.9097 | 0.8037 | 99913 | Rural | 0.8567
13250 | Jefferson County, Idaho | 13 | Rural | 0.9097 | 0.9420 | 26820 | Urban | 0.9259
13260 | Jerome County, Idaho | 13 | Rural | 0.9097 | 0.8037 | 99913 | Rural | 0.8567
13270 | Kootenai County, Idaho | 13 | Rural | 0.9097 | 0.9647 | 17660 | Urban | 0.9372
13280 | Latah County, Idaho | 13 | Rural | 0.9097 | 0.8037 | 99913 | Rural | 0.8567
13290 | Lemhi County, Idaho | 13 | Rural | 0.9097 | 0.8037 | 99913 | Rural | 0.8567
13300 | Lewis County, Idaho | 13 | Rural | 0.9097 | 0.8037 | 99913 | Rural | 0.8567
13310 | Lincoln County, Idaho | 13 | Rural | 0.9097 | 0.8037 | 99913 | Rural | 0.8567
13320 | Madison County, Idaho | 13 | Rural | 0.9097 | 0.8037 | 99913 | Rural | 0.8567
13330 | Minidoka County, Idaho | 13 | Rural | 0.9097 | 0.8037 | 99913 | Rural | 0.8567
13340 | Nez Perce County, Idaho | 13 | Rural | 0.9097 | 0.9886 | 30300 | Urban | 0.9492
13350 | Oneida County, Idaho | 13 | Rural | 0.9097 | 0.8037 | 99913 | Rural | 0.8567
13360 | Owyhee County, Idaho | 13 | Rural | 0.9097 | 0.9052 | 14260 | Urban | 0.9075
13370 | Payette County, Idaho | 13 | Rural | 0.9097 | 0.8037 | 99913 | Rural | 0.8567
13380 | Power County, Idaho | 13 | Rural | 0.9097 | 0.9351 | 38540 | Urban | 0.9224
13390 | Shoshone County, Idaho | 13 | Rural | 0.9097 | 0.8037 | 99913 | Rural | 0.8567
13400 | Teton County, Idaho | 13 | Rural | 0.9097 | 0.8037 | 99913 | Rural | 0.8567
13410 | Twin Falls County, Idaho | 13 | Rural | 0.9097 | 0.8037 | 99913 | Rural | 0.8567
13420 | Valley County, Idaho | 13 | Rural | 0.9097 | 0.8037 | 99913 | Rural | 0.8567
13430 | Washington County, Idaho | 13 | Rural | 0.9097 | 0.8037 | 99913 | Rural | 0.8567
14000 | Adams County, Illinois | 14 | Rural | 0.8301 | 0.8271 | 99914 | Rural | 0.8286
14010 | Alexander County, Illinois | 14 | Rural | 0.8301 | 0.8271 | 99914 | Rural | 0.8286
14020 | Bond County, Illinois | 14 | Rural | 0.8301 | 0.8954 | 41180 | Urban | 0.8628
14030 | Boone County, Illinois | 6880 | Urban | 0.9984 | 0.9984 | 40420 | Urban | 0.9984
14040 | Brown County, Illinois | 14 | Rural | 0.8301 | 0.8271 | 99914 | Rural | 0.8286
14050 | Bureau County, Illinois | 14 | Rural | 0.8301 | 0.8271 | 99914 | Rural | 0.8286
14060 | Calhoun County, Illinois | 14 | Rural | 0.8301 | 0.8954 | 41180 | Urban | 0.8628
14070 | Carroll County, Illinois | 14 | Rural | 0.8301 | 0.8271 | 99914 | Rural | 0.8286
14080 | Cass County, Illinois | 14 | Rural | 0.8301 | 0.8271 | 99914 | Rural | 0.8286
14090 | Champaign County, Illinois | 1400 | Urban | 0.9594 | 0.9594 | 16580 | Urban | 0.9594
14100 | Christian County, Illinois | 14 | Rural | 0.8301 | 0.8271 | 99914 | Rural | 0.8286
14110 | Clark County, Illinois | 14 | Rural | 0.8301 | 0.8271 | 99914 | Rural | 0.8286
14120 | Clay County, Illinois | 14 | Rural | 0.8301 | 0.8271 | 99914 | Rural | 0.8286
14130 | Clinton County, Illinois | 7040 | Urban | 0.8962 | 0.8954 | 41180 | Urban | 0.8958
14140 | Coles County, Illinois | 14 | Rural | 0.8301 | 0.8271 | 99914 | Rural | 0.8286
14141 | Cook County, Illinois | 1600 | Urban | 1.0783 | 1.0790 | 16974 | Urban | 1.0787
14150 | Crawford County, Illinois | 14 | Rural | 0.8301 | 0.8271 | 99914 | Rural | 0.8286
14160 | Cumberland County, Illinois | 14 | Rural | 0.8301 | 0.8271 | 99914 | Rural | 0.8286
14170 | De Kalb County, Illinois | 1600 | Urban | 1.0783 | 1.0790 | 16974 | Urban | 1.0787
14180 | De Witt County, Illinois | 14 | Rural | 0.8301 | 0.8271 | 99914 | Rural | 0.8286
14190 | Douglas County, Illinois | 14 | Rural | 0.8301 | 0.8271 | 99914 | Rural | 0.8286
14250 | Du Page County, Illinois | 1600 | Urban | 1.0783 | 1.0790 | 16974 | Urban | 1.0787
14310 | Edgar County, Illinois | 14 | Rural | 0.8301 | 0.8271 | 99914 | Rural | 0.8286
14320 | Edwards County, Illinois | 14 | Rural | 0.8301 | 0.8271 | 99914 | Rural | 0.8286
14330 | Effingham County, Illinois | 14 | Rural | 0.8301 | 0.8271 | 99914 | Rural | 0.8286
14340 | Fayette County, Illinois | 14 | Rural | 0.8301 | 0.8271 | 99914 | Rural | 0.8286
14350 | Ford County, Illinois | 14 | Rural | 0.8301 | 0.9594 | 16580 | Urban | 0.8948
14360 | Franklin County, Illinois | 14 | Rural | 0.8301 | 0.8271 | 99914 | Rural | 0.8286
14370 | Fulton County, Illinois | 14 | Rural | 0.8301 | 0.8271 | 99914 | Rural | 0.8286
14380 | Gallatin County, Illinois | 14 | Rural | 0.8301 | 0.8271 | 99914 | Rural | 0.8286
14390 | Greene County, Illinois | 14 | Rural | 0.8301 | 0.8271 | 99914 | Rural | 0.8286
14400 | Grundy County, Illinois | 1600 | Urban | 1.0783 | 1.0790 | 16974 | Urban | 1.0787
14410 | Hamilton County, Illinois | 14 | Rural | 0.8301 | 0.8271 | 99914 | Rural | 0.8286
14420 | Hancock County, Illinois | 14 | Rural | 0.8301 | 0.8271 | 99914 | Rural | 0.8286
14421 | Hardin County, Illinois | 14 | Rural | 0.8301 | 0.8271 | 99914 | Rural | 0.8286
14440 | Henderson County, Illinois | 14 | Rural | 0.8301 | 0.8271 | 99914 | Rural | 0.8286
14450 | Henry County, Illinois | 1960 | Urban | 0.8724 | 0.8724 | 19340 | Urban | 0.8724
14460 | Iroquois County, Illinois | 14 | Rural | 0.8301 | 0.8271 | 99914 | Rural | 0.8286
14470 | Jackson County, Illinois | 14 | Rural | 0.8301 | 0.8271 | 99914 | Rural | 0.8286
14480 | Jasper County, Illinois | 14 | Rural | 0.8301 | 0.8271 | 99914 | Rural | 0.8286
14490 | Jefferson County, Illinois | 14 | Rural | 0.8301 | 0.8271 | 99914 | Rural | 0.8286
14500 | Jersey County, Illinois | 7040 | Urban | 0.8962 | 0.8954 | 41180 | Urban | 0.8958
14510 | Jo Daviess County, Illinois | 14 | Rural | 0.8301 | 0.8271 | 99914 | Rural | 0.8286
14520 | Johnson County, Illinois | 14 | Rural | 0.8301 | 0.8271 | 99914 | Rural | 0.8286
14530 | Kane County, Illinois | 1600 | Urban | 1.0783 | 1.0790 | 16974 | Urban | 1.0787
14540 | Kankakee County, Illinois | 3740 | Urban | 1.0721 | 1.0721 | 28100 | Urban | 1.0721
14550 | Kendall County, Illinois | 1600 | Urban | 1.0783 | 1.0790 | 16974 | Urban | 1.0787
14560 | Knox County, Illinois | 14 | Rural | 0.8301 | 0.8271 | 99914 | Rural | 0.8286
14570 | Lake County, Illinois | 1600 | Urban | 1.0783 | 1.0429 | 29404 | Urban | 1.0606
14580 | La Salle County, Illinois | 14 | Rural | 0.8301 | 0.8271 | 99914 | Rural | 0.8286
14590 | Lawrence County, Illinois | 14 | Rural | 0.8301 | 0.8271 | 99914 | Rural | 0.8286
14600 | Lee County, Illinois | 14 | Rural | 0.8301 | 0.8271 | 99914 | Rural | 0.8286
14610 | Livingston County, Illinois | 14 | Rural | 0.8301 | 0.8271 | 99914 | Rural | 0.8286
14620 | Logan County, Illinois | 14 | Rural | 0.8301 | 0.8271 | 99914 | Rural | 0.8286
14630 | Mc Donough County, Illinois | 14 | Rural | 0.8301 | 0.8271 | 99914 | Rural | 0.8286
14640 | Mc Henry County, Illinois | 1600 | Urban | 1.0783 | 1.0790 | 16974 | Urban | 1.0787
14650 | Mclean County, Illinois | 1040 | Urban | 0.9075 | 0.9075 | 14060 | Urban | 0.9075
14660 | Macon County, Illinois | 2040 | Urban | 0.8067 | 0.8067 | 19500 | Urban | 0.8067
14670 | Macoupin County, Illinois | 14 | Rural | 0.8301 | 0.8954 | 41180 | Urban | 0.8628
14680 | Madison County, Illinois | 7040 | Urban | 0.8962 | 0.8954 | 41180 | Urban | 0.8958
14690 | Marion County, Illinois | 14 | Rural | 0.8301 | 0.8271 | 99914 | Rural | 0.8286
14700 | Marshall County, Illinois | 14 | Rural | 0.8301 | 0.8870 | 37900 | Urban | 0.8586
14710 | Mason County, Illinois | 14 | Rural | 0.8301 | 0.8271 | 99914 | Rural | 0.8286
14720 | Massac County, Illinois | 14 | Rural | 0.8301 | 0.8271 | 99914 | Rural | 0.8286
14730 | Menard County, Illinois | 7880 | Urban | 0.8792 | 0.8792 | 44100 | Urban | 0.8792
14740 | Mercer County, Illinois | 14 | Rural | 0.8301 | 0.8724 | 19340 | Urban | 0.8513
14750 | Monroe County, Illinois | 7040 | Urban | 0.8962 | 0.8954 | 41180 | Urban | 0.8958
14760 | Montgomery County, Illinois | 14 | Rural | 0.8301 | 0.8271 | 99914 | Rural | 0.8286
14770 | Morgan County, Illinois | 14 | Rural | 0.8301 | 0.8271 | 99914 | Rural | 0.8286
14780 | Moultrie County, Illinois | 14 | Rural | 0.8301 | 0.8271 | 99914 | Rural | 0.8286
14790 | Ogle County, Illinois | 6880 | Urban | 0.9984 | 0.8271 | 99914 | Rural | 0.9128
14800 | Peoria County, Illinois | 6120 | Urban | 0.8870 | 0.8870 | 37900 | Urban | 0.8870
14810 | Perry County, Illinois | 14 | Rural | 0.8301 | 0.8271 | 99914 | Rural | 0.8286
14820 | Piatt County, Illinois | 14 | Rural | 0.8301 | 0.9594 | 16580 | Urban | 0.8948
14830 | Pike County, Illinois | 14 | Rural | 0.8301 | 0.8271 | 99914 | Rural | 0.8286
14831 | Pope County, Illinois | 14 | Rural | 0.8301 | 0.8271 | 99914 | Rural | 0.8286
14850 | Pulaski County, Illinois | 14 | Rural | 0.8301 | 0.8271 | 99914 | Rural | 0.8286
14860 | Putnam County, Illinois | 14 | Rural | 0.8301 | 0.8271 | 99914 | Rural | 0.8286
14870 | Randolph County, Illinois | 14 | Rural | 0.8301 | 0.8271 | 99914 | Rural | 0.8286
14880 | Richland County, Illinois | 14 | Rural | 0.8301 | 0.8271 | 99914 | Rural | 0.8286
14890 | Rock Island County, Illinois | 1960 | Urban | 0.8724 | 0.8724 | 19340 | Urban | 0.8724
14900 | St Clair County, Illinois | 7040 | Urban | 0.8962 | 0.8954 | 41180 | Urban | 0.8958
14910 | Saline County, Illinois | 14 | Rural | 0.8301 | 0.8271 | 99914 | Rural | 0.8286
14920 | Sangamon County, Illinois | 7880 | Urban | 0.8792 | 0.8792 | 44100 | Urban | 0.8792
14921 | Schuyler County, Illinois | 14 | Rural | 0.8301 | 0.8271 | 99914 | Rural | 0.8286
14940 | Scott County, Illinois | 14 | Rural | 0.8301 | 0.8271 | 99914 | Rural | 0.8286
14950 | Shelby County, Illinois | 14 | Rural | 0.8301 | 0.8271 | 99914 | Rural | 0.8286
14960 | Stark County, Illinois | 14 | Rural | 0.8301 | 0.8870 | 37900 | Urban | 0.8586
14970 | Stephenson County, Illinois | 14 | Rural | 0.8301 | 0.8271 | 99914 | Rural | 0.8286
14980 | Tazewell County, Illinois | 6120 | Urban | 0.8870 | 0.8870 | 37900 | Urban | 0.8870
14981 | Union County, Illinois | 14 | Rural | 0.8301 | 0.8271 | 99914 | Rural | 0.8286
14982 | Vermilion County, Illinois | 14 | Rural | 0.8301 | 0.9028 | 19180 | Urban | 0.8665
14983 | Wabash County, Illinois | 14 | Rural | 0.8301 | 0.8271 | 99914 | Rural | 0.8286
14984 | Warren County, Illinois | 14 | Rural | 0.8301 | 0.8271 | 99914 | Rural | 0.8286
14985 | Washington County, Illinois | 14 | Rural | 0.8301 | 0.8271 | 99914 | Rural | 0.8286
14986 | Wayne County, Illinois | 14 | Rural | 0.8301 | 0.8271 | 99914 | Rural | 0.8286
14987 | White County, Illinois | 14 | Rural | 0.8301 | 0.8271 | 99914 | Rural | 0.8286
14988 | Whiteside County, Illinois | 14 | Rural | 0.8301 | 0.8271 | 99914 | Rural | 0.8286
14989 | Will County, Illinois | 1600 | Urban | 1.0783 | 1.0790 | 16974 | Urban | 1.0787
14990 | Williamson County, Illinois | 14 | Rural | 0.8301 | 0.8271 | 99914 | Rural | 0.8286
14991 | Winnebago County, Illinois | 6880 | Urban | 0.9984 | 0.9984 | 40420 | Urban | 0.9984
14992 | Woodford County, Illinois | 6120 | Urban | 0.8870 | 0.8870 | 37900 | Urban | 0.8870
15000 | Adams County, Indiana | 2760 | Urban | 0.9706 | 0.8624 | 99915 | Rural | 0.9165
15010 | Allen County, Indiana | 2760 | Urban | 0.9706 | 0.9793 | 23060 | Urban | 0.9750
15020 | Bartholomew County, Indiana | 15 | Rural | 0.8739 | 0.9588 | 18020 | Urban | 0.9164
15030 | Benton County, Indiana | 15 | Rural | 0.8739 | 0.8736 | 29140 | Urban | 0.8738
15040 | Blackford County, Indiana | 15 | Rural | 0.8739 | 0.8624 | 99915 | Rural | 0.8682
15050 | Boone County, Indiana | 3480 | Urban | 0.9865 | 0.9920 | 26900 | Urban | 0.9893
15060 | Brown County, Indiana | 15 | Rural | 0.8739 | 0.9920 | 26900 | Urban | 0.9330
15070 | Carroll County, Indiana | 15 | Rural | 0.8739 | 0.8736 | 29140 | Urban | 0.8738
15080 | Cass County, Indiana | 15 | Rural | 0.8739 | 0.8624 | 99915 | Rural | 0.8682
15090 | Clark County, Indiana | 4520 | Urban | 0.9293 | 0.9251 | 31140 | Urban | 0.9272
15100 | Clay County, Indiana | 8320 | Urban | 0.8337 | 0.8304 | 45460 | Urban | 0.8321
15110 | Clinton County, Indiana | 3920 | Urban | 0.8736 | 0.8624 | 99915 | Rural | 0.8680
15120 | Crawford County, Indiana | 15 | Rural | 0.8739 | 0.8624 | 99915 | Rural | 0.8682
15130 | Daviess County, Indiana | 15 | Rural | 0.8739 | 0.8624 | 99915 | Rural | 0.8682
15140 | Dearborn County, Indiana | 1640 | Urban | 0.9734 | 0.9615 | 17140 | Urban | 0.9675
15150 | Decatur County, Indiana | 15 | Rural | 0.8739 | 0.8624 | 99915 | Rural | 0.8682
15160 | De Kalb County, Indiana | 2760 | Urban | 0.9706 | 0.8624 | 99915 | Rural | 0.9165
15170 | Delaware County, Indiana | 5280 | Urban | 0.8930 | 0.8930 | 34620 | Urban | 0.8930
15180 | Dubois County, Indiana | 15 | Rural | 0.8739 | 0.8624 | 99915 | Rural | 0.8682
15190 | Elkhart County, Indiana | 2330 | Urban | 0.9627 | 0.9627 | 21140 | Urban | 0.9627
15200 | Fayette County, Indiana | 15 | Rural | 0.8739 | 0.8624 | 99915 | Rural | 0.8682
15210 | Floyd County, Indiana | 4520 | Urban | 0.9293 | 0.9251 | 31140 | Urban | 0.9272
15220 | Fountain County, Indiana | 15 | Rural | 0.8739 | 0.8624 | 99915 | Rural | 0.8682
15230 | Franklin County, Indiana | 15 | Rural | 0.8739 | 0.9615 | 17140 | Urban | 0.9177
15240 | Fulton County, Indiana | 15 | Rural | 0.8739 | 0.8624 | 99915 | Rural | 0.8682
15250 | Gibson County, Indiana | 15 | Rural | 0.8739 | 0.8713 | 21780 | Urban | 0.8726
15260 | Grant County, Indiana | 15 | Rural | 0.8739 | 0.8624 | 99915 | Rural | 0.8682
15270 | Greene County, Indiana | 15 | Rural | 0.8739 | 0.8447 | 14020 | Urban | 0.8593
15280 | Hamilton County, Indiana | 3480 | Urban | 0.9865 | 0.9920 | 26900 | Urban | 0.9893
15290 | Hancock County, Indiana | 3480 | Urban | 0.9865 | 0.9920 | 26900 | Urban | 0.9893
15300 | Harrison County, Indiana | 4520 | Urban | 0.9293 | 0.9251 | 31140 | Urban | 0.9272
15310 | Hendricks County, Indiana | 3480 | Urban | 0.9865 | 0.9920 | 26900 | Urban | 0.9893
15320 | Henry County, Indiana | 15 | Rural | 0.8739 | 0.8624 | 99915 | Rural | 0.8682
15330 | Howard County, Indiana | 3850 | Urban | 0.9508 | 0.9508 | 29020 | Urban | 0.9508
15340 | Huntington County, Indiana | 2760 | Urban | 0.9706 | 0.8624 | 99915 | Rural | 0.9165
15350 | Jackson County, Indiana | 15 | Rural | 0.8739 | 0.8624 | 99915 | Rural | 0.8682
15360 | Jasper County, Indiana | 15 | Rural | 0.8739 | 0.9395 | 23844 | Urban | 0.9067
15370 | Jay County, Indiana | 15 | Rural | 0.8739 | 0.8624 | 99915 | Rural | 0.8682
15380 | Jefferson County, Indiana | 15 | Rural | 0.8739 | 0.8624 | 99915 | Rural | 0.8682
15390 | Jennings County, Indiana | 15 | Rural | 0.8739 | 0.8624 | 99915 | Rural | 0.8682
15400 | Johnson County, Indiana | 3480 | Urban | 0.9865 | 0.9920 | 26900 | Urban | 0.9893
15410 | Knox County, Indiana | 15 | Rural | 0.8739 | 0.8624 | 99915 | Rural | 0.8682
15420 | Kosciusko County, Indiana | 15 | Rural | 0.8739 | 0.8624 | 99915 | Rural | 0.8682
15430 | Lagrange County, Indiana | 15 | Rural | 0.8739 | 0.8624 | 99915 | Rural | 0.8682
15440 | Lake County, Indiana | 2960 | Urban | 0.9395 | 0.9395 | 23844 | Urban | 0.9395
15450 | La Porte County, Indiana | 15 | Rural | 0.8739 | 0.9399 | 33140 | Urban | 0.9069
15460 | Lawrence County, Indiana | 15 | Rural | 0.8739 | 0.8624 | 99915 | Rural | 0.8682
15470 | Madison County, Indiana | 3480 | Urban | 0.9865 | 0.8586 | 11300 | Urban | 0.9226
15480 | Marion County, Indiana | 3480 | Urban | 0.9865 | 0.9920 | 26900 | Urban | 0.9893
15490 | Marshall County, Indiana | 15 | Rural | 0.8739 | 0.8624 | 99915 | Rural | 0.8682
15500 | Martin County, Indiana | 15 | Rural | 0.8739 | 0.8624 | 99915 | Rural | 0.8682
15510 | Miami County, Indiana | 15 | Rural | 0.8739 | 0.8624 | 99915 | Rural | 0.8682
15520 | Monroe County, Indiana | 1020 | Urban | 0.8447 | 0.8447 | 14020 | Urban | 0.8447
15530 | Montgomery County, Indiana | 15 | Rural | 0.8739 | 0.8624 | 99915 | Rural | 0.8682
15540 | Morgan County, Indiana | 3480 | Urban | 0.9865 | 0.9920 | 26900 | Urban | 0.9893
15550 | Newton County, Indiana | 15 | Rural | 0.8739 | 0.9395 | 23844 | Urban | 0.9067
15560 | Noble County, Indiana | 15 | Rural | 0.8739 | 0.8624 | 99915 | Rural | 0.8682
15570 | Ohio County, Indiana | 1640 | Urban | 0.9734 | 0.9615 | 17140 | Urban | 0.9675
15580 | Orange County, Indiana | 15 | Rural | 0.8739 | 0.8624 | 99915 | Rural | 0.8682
15590 | Owen County, Indiana | 15 | Rural | 0.8739 | 0.8447 | 14020 | Urban | 0.8593
15600 | Parke County, Indiana | 15 | Rural | 0.8739 | 0.8624 | 99915 | Rural | 0.8682
15610 | Perry County, Indiana | 15 | Rural | 0.8739 | 0.8624 | 99915 | Rural | 0.8682
15620 | Pike County, Indiana | 15 | Rural | 0.8739 | 0.8624 | 99915 | Rural | 0.8682
15630 | Porter County, Indiana | 2960 | Urban | 0.9395 | 0.9395 | 23844 | Urban | 0.9395
15640 | Posey County, Indiana | 2440 | Urban | 0.8713 | 0.8713 | 21780 | Urban | 0.8713
15650 | Pulaski County, Indiana | 15 | Rural | 0.8739 | 0.8624 | 99915 | Rural | 0.8682
15660 | Putnam County, Indiana | 15 | Rural | 0.8739 | 0.9920 | 26900 | Urban | 0.9330
15670 | Randolph County, Indiana | 15 | Rural | 0.8739 | 0.8624 | 99915 | Rural | 0.8682
15680 | Ripley County, Indiana | 15 | Rural | 0.8739 | 0.8624 | 99915 | Rural | 0.8682
15690 | Rush County, Indiana | 15 | Rural | 0.8739 | 0.8624 | 99915 | Rural | 0.8682
15700 | St Joseph County, Indiana | 7800 | Urban | 0.9788 | 0.9788 | 43780 | Urban | 0.9788
15710 | Scott County, Indiana | 4520 | Urban | 0.9293 | 0.8624 | 99915 | Rural | 0.8959
15720 | Shelby County, Indiana | 3480 | Urban | 0.9865 | 0.9920 | 26900 | Urban | 0.9893
15730 | Spencer County, Indiana | 15 | Rural | 0.8739 | 0.8624 | 99915 | Rural | 0.8682
15740 | Starke County, Indiana | 15 | Rural | 0.8739 | 0.8624 | 99915 | Rural | 0.8682
15750 | Steuben County, Indiana | 15 | Rural | 0.8739 | 0.8624 | 99915 | Rural | 0.8682
15760 | Sullivan County, Indiana | 15 | Rural | 0.8739 | 0.8304 | 45460 | Urban | 0.8522
15770 | Switzerland County, Indiana | 15 | Rural | 0.8739 | 0.8624 | 99915 | Rural | 0.8682
15780 | Tippecanoe County, Indiana | 3920 | Urban | 0.8736 | 0.8736 | 29140 | Urban | 0.8736
15790 | Tipton County, Indiana | 3850 | Urban | 0.9508 | 0.9508 | 29020 | Urban | 0.9508
15800 | Union County, Indiana | 15 | Rural | 0.8739 | 0.8624 | 99915 | Rural | 0.8682
15810 | Vanderburgh County, Indiana | 2440 | Urban | 0.8713 | 0.8713 | 21780 | Urban | 0.8713
15820 | Vermillion County, Indiana | 8320 | Urban | 0.8337 | 0.8304 | 45460 | Urban | 0.8321
15830 | Vigo County, Indiana | 8320 | Urban | 0.8337 | 0.8304 | 45460 | Urban | 0.8321
15840 | Wabash County, Indiana | 15 | Rural | 0.8739 | 0.8624 | 99915 | Rural | 0.8682
15850 | Warren County, Indiana | 15 | Rural | 0.8739 | 0.8624 | 99915 | Rural | 0.8682
15860 | Warrick County, Indiana | 2440 | Urban | 0.8713 | 0.8713 | 21780 | Urban | 0.8713
15870 | Washington County, Indiana | 15 | Rural | 0.8739 | 0.9251 | 31140 | Urban | 0.8995
15880 | Wayne County, Indiana | 15 | Rural | 0.8739 | 0.8624 | 99915 | Rural | 0.8682
15890 | Wells County, Indiana | 2760 | Urban | 0.9706 | 0.9793 | 23060 | Urban | 0.9750
15900 | White County, Indiana | 15 | Rural | 0.8739 | 0.8624 | 99915 | Rural | 0.8682
15910 | Whitley County, Indiana | 2760 | Urban | 0.9706 | 0.9793 | 23060 | Urban | 0.9750
16000 | Adair County, Iowa | 16 | Rural | 0.8594 | 0.8509 | 99916 | Rural | 0.8552
16010 | Adams County, Iowa | 16 | Rural | 0.8594 | 0.8509 | 99916 | Rural | 0.8552
16020 | Allamakee County, Iowa | 16 | Rural | 0.8594 | 0.8509 | 99916 | Rural | 0.8552
16030 | Appanoose County, Iowa | 16 | Rural | 0.8594 | 0.8509 | 99916 | Rural | 0.8552
16040 | Audubon County, Iowa | 16 | Rural | 0.8594 | 0.8509 | 99916 | Rural | 0.8552
16050 | Benton County, Iowa | 16 | Rural | 0.8594 | 0.8825 | 16300 | Urban | 0.8710
16060 | Black Hawk County, Iowa | 8920 | Urban | 0.8557 | 0.8557 | 47940 | Urban | 0.8557
16070 | Boone County, Iowa | 16 | Rural | 0.8594 | 0.8509 | 99916 | Rural | 0.8552
16080 | Bremer County, Iowa | 16 | Rural | 0.8594 | 0.8557 | 47940 | Urban | 0.8576
16090 | Buchanan County, Iowa | 16 | Rural | 0.8594 | 0.8509 | 99916 | Rural | 0.8552
16100 | Buena Vista County, Iowa | 16 | Rural | 0.8594 | 0.8509 | 99916 | Rural | 0.8552
16110 | Butler County, Iowa | 16 | Rural | 0.8594 | 0.8509 | 99916 | Rural | 0.8552
16120 | Calhoun County, Iowa | 16 | Rural | 0.8594 | 0.8509 | 99916 | Rural | 0.8552
16130 | Carroll County, Iowa | 16 | Rural | 0.8594 | 0.8509 | 99916 | Rural | 0.8552
16140 | Cass County, Iowa | 16 | Rural | 0.8594 | 0.8509 | 99916 | Rural | 0.8552
16150 | Cedar County, Iowa | 16 | Rural | 0.8594 | 0.8509 | 99916 | Rural | 0.8552
16160 | Cerro Gordo County, Iowa | 16 | Rural | 0.8594 | 0.8509 | 99916 | Rural | 0.8552
16170 | Cherokee County, Iowa | 16 | Rural | 0.8594 | 0.8509 | 99916 | Rural | 0.8552
16180 | Chickasaw County, Iowa | 16 | Rural | 0.8594 | 0.8509 | 99916 | Rural | 0.8552
16190 | Clarke County, Iowa | 16 | Rural | 0.8594 | 0.8509 | 99916 | Rural | 0.8552
16200 | Clay County, Iowa | 16 | Rural | 0.8594 | 0.8509 | 99916 | Rural | 0.8552
16210 | Clayton County, Iowa | 16 | Rural | 0.8594 | 0.8509 | 99916 | Rural | 0.8552
16220 | Clinton County, Iowa | 16 | Rural | 0.8594 | 0.8509 | 99916 | Rural | 0.8552
16230 | Crawford County, Iowa | 16 | Rural | 0.8594 | 0.8509 | 99916 | Rural | 0.8552
16240 | Dallas County, Iowa | 2120 | Urban | 0.9669 | 0.9669 | 19780 | Urban | 0.9669
16250 | Davis County, Iowa | 16 | Rural | 0.8594 | 0.8509 | 99916 | Rural | 0.8552
16260 | Decatur County, Iowa | 16 | Rural | 0.8594 | 0.8509 | 99916 | Rural | 0.8552
16270 | Delaware County, Iowa | 16 | Rural | 0.8594 | 0.8509 | 99916 | Rural | 0.8552
16280 | Des Moines County, Iowa | 16 | Rural | 0.8594 | 0.8509 | 99916 | Rural | 0.8552
16290 | Dickinson County, Iowa | 16 | Rural | 0.8594 | 0.8509 | 99916 | Rural | 0.8552
16300 | Dubuque County, Iowa | 2200 | Urban | 0.9024 | 0.9024 | 20220 | Urban | 0.9024
16310 | Emmet County, Iowa | 16 | Rural | 0.8594 | 0.8509 | 99916 | Rural | 0.8552
16320 | Fayette County, Iowa | 16 | Rural | 0.8594 | 0.8509 | 99916 | Rural | 0.8552
16330 | Floyd County, Iowa | 16 | Rural | 0.8594 | 0.8509 | 99916 | Rural | 0.8552
16340 | Franklin County, Iowa | 16 | Rural | 0.8594 | 0.8509 | 99916 | Rural | 0.8552
16350 | Fremont County, Iowa | 6 | Rural | 0.8594 | 0.8509 | 99916 | Rural | 0.8552
16360 | Greene County, Iowa | 16 | Rural | 0.8594 | 0.8509 | 99916 | Rural | 0.8552
16370 | Grundy County, Iowa | 16 | Rural | 0.8594 | 0.8557 | 47940 | Urban | 0.8576
16380 | Guthrie County, Iowa | 16 | Rural | 0.8594 | 0.9669 | 19780 | Urban | 0.9132
16390 | Hamilton County, Iowa | 16 | Rural | 0.8594 | 0.8509 | 99916 | Rural | 0.8552
16400 | Hancock County, Iowa | 16 | Rural | 0.8594 | 0.8509 | 99916 | Rural | 0.8552
16410 | Hardin County, Iowa | 16 | Rural | 0.8594 | 0.8509 | 99916 | Rural | 0.8552
16420 | Harrison County, Iowa | 16 | Rural | 0.8594 | 0.9560 | 36540 | Urban | 0.9077
16430 | Henry County, Iowa | 16 | Rural | 0.8594 | 0.8509 | 99916 | Rural | 0.8552
16440 | Howard County, Iowa | 16 | Rural | 0.8594 | 0.8509 | 99916 | Rural | 0.8552
16450 | Humboldt County, Iowa | 16 | Rural | 0.8594 | 0.8509 | 99916 | Rural | 0.8552
16460 | Ida County, Iowa | 16 | Rural | 0.8594 | 0.8509 | 99916 | Rural | 0.8552
16470 | Iowa County, Iowa | 16 | Rural | 0.8594 | 0.8509 | 99916 | Rural | 0.8552
16480 | Jackson County, Iowa | 16 | Rural | 0.8594 | 0.8509 | 99916 | Rural | 0.8552
16490 | Jasper County, Iowa | 16 | Rural | 0.8594 | 0.8509 | 99916 | Rural | 0.8552
16500 | Jefferson County, Iowa | 16 | Rural | 0.8594 | 0.8509 | 99916 | Rural | 0.8552
16510 | Johnson County, Iowa | 3500 | Urban | 0.9747 | 0.9747 | 26980 | Urban | 0.9747
16520 | Jones County, Iowa | 16 | Rural | 0.8594 | 0.8825 | 16300 | Urban | 0.8710
16530 | Keokuk County, Iowa | 16 | Rural | 0.8594 | 0.8509 | 99916 | Rural | 0.8552
16540 | Kossuth County, Iowa | 16 | Rural | 0.8594 | 0.8509 | 99916 | Rural | 0.8552
16550 | Lee County, Iowa | 16 | Rural | 0.8594 | 0.8509 | 99916 | Rural | 0.8552
16560 | Linn County, owa | 1360 | Urban | 0.8825 | 0.8825 | 16300 | Urban | 0.8825
16570 | Louisa County, Iowa | 16 | Rural | 0.8594 | 0.8509 | 99916 | Rural | 0.8552
16580 | Lucas County, Iowa | 16 | Rural | 0.8594 | 0.8509 | 99916 | Rural | 0.8552
16590 | Lyon County, Iowa | 16 | Rural | 0.8594 | 0.8509 | 99916 | Rural | 0.8552
16600 | Madison County, Iowa | 16 | Rural | 0.8594 | 0.9669 | 19780 | Urban | 0.9132
16610 | Mahaska County, Iowa | 16 | Rural | 0.8594 | 0.8509 | 99916 | Rural | 0.8552
16620 | Marion County, Iowa | 16 | Rural | 0.8594 | 0.8509 | 99916 | Rural | 0.8552
16630 | Marshall County, Iowa | 16 | Rural | 0.8594 | 0.8509 | 99916 | Rural | 0.8552
16640 | Mills County, Iowa | 16 | Rural | 0.8594 | 0.9560 | 36540 | Urban | 0.9077
16650 | Mitchell County, Iowa | 16 | Rural | 0.8594 | 0.8509 | 99916 | Rural | 0.8552
16660 | Monona County, Iowa | 16 | Rural | 0.8594 | 0.8509 | 99916 | Rural | 0.8552
16670 | Monroe County, Iowa | 16 | Rural | 0.8594 | 0.8509 | 99916 | Rural | 0.8552
16680 | Montgomery County, Iowa | 16 | Rural | 0.8594 | 0.8509 | 99916 | Rural | 0.8552
16690 | Muscatine County, Iowa | 16 | Rural | 0.8594 | 0.8509 | 99916 | Rural | 0.8552
16700 | O Brien County, Iowa | 16 | Rural | 0.8594 | 0.8509 | 99916 | Rural | 0.8552
16710 | Osceola County, Iowa | 16 | Rural | 0.8594 | 0.8509 | 99916 | Rural | 0.8552
16720 | Page County, Iowa | 16 | Rural | 0.8594 | 0.8509 | 99916 | Rural | 0.8552
16730 | Palo Alto County, Iowa | 16 | Rural | 0.8594 | 0.8509 | 99916 | Rural | 0.8552
16740 | Plymouth County, Iowa | 16 | Rural | 0.8594 | 0.8509 | 99916 | Rural | 0.8552
16750 | Pocahontas County, Iowa | 16 | Rural | 0.8594 | 0.8509 | 99916 | Rural | 0.8552
16760 | Polk County, Iowa | 2120 | Urban | 0.9669 | 0.9669 | 19780 | Urban | 0.9669
16770 | Pottawattamie County, Iowa | 5920 | Urban | 0.9560 | 0.9560 | 36540 | Urban | 0.9560
16780 | Poweshiek County, Iowa | 16 | Rural | 0.8594 | 0.8509 | 99916 | Rural | 0.8552
16790 | Ringgold County, Iowa | 16 | Rural | 0.8594 | 0.8509 | 99916 | Rural | 0.8552
16800 | Sac County, Iowa | 16 | Rural | 0.8594 | 0.8509 | 99916 | Rural | 0.8552
16810 | Scott County, Iowa | 1960 | Urban | 0.8724 | 0.8724 | 19340 | Urban | 0.8724
16820 | Shelby County, Iowa | 16 | Rural | 0.8594 | 0.8509 | 99916 | Rural | 0.8552
16830 | Sioux County, Iowa | 16 | Rural | 0.8594 | 0.8509 | 99916 | Rural | 0.8552
16840 | Story County, Iowa | 16 | Rural | 0.8594 | 0.9536 | 11180 | Urban | 0.9065
16850 | Tama County, Iowa | 16 | Rural | 0.8594 | 0.8509 | 99916 | Rural | 0.8552
16860 | Taylor County, Iowa | 16 | Rural | 0.8594 | 0.8509 | 99916 | Rural | 0.8552
16870 | Union County, Iowa | 16 | Rural | 0.8594 | 0.8509 | 99916 | Rural | 0.8552
16880 | Van Buren County, Iowa | 16 | Rural | 0.8594 | 0.8509 | 99916 | Rural | 0.8552
16890 | Wapello County, Iowa | 16 | Rural | 0.8594 | 0.8509 | 99916 | Rural | 0.8552
16900 | Warren County, Iowa | 2120 | Urban | 0.9669 | 0.9669 | 19780 | Urban | 0.9669
16910 | Washington County, Iowa | 16 | Rural | 0.8594 | 0.9747 | 26980 | Urban | 0.9171
16920 | Wayne County, Iowa | 16 | Rural | 0.8594 | 0.8509 | 99916 | Rural | 0.8552
16930 | Webster County, Iowa | 16 | Rural | 0.8594 | 0.8509 | 99916 | Rural | 0.8552
16940 | Winnebago County, Iowa | 16 | Rural | 0.8594 | 0.8509 | 99916 | Rural | 0.8552
16950 | Winneshiek County, Iowa | 16 | Rural | 0.8594 | 0.8509 | 99916 | Rural | 0.8552
16960 | Woodbury County, Iowa | 7720 | Urban | 0.9416 | 0.9381 | 43580 | Urban | 0.9399
16970 | Worth County, Iowa | 16 | Rural | 0.8594 | 0.8509 | 99916 | Rural | 0.8552
16980 | Wright County, Iowa | 16 | Rural | 0.8594 | 0.8509 | 99916 | Rural | 0.8552
17000 | Allen County, Kansas | 17 | Rural | 0.8040 | 0.8035 | 99917 | Rural | 0.8038
17010 | Anderson County, Kansas | 17 | Rural | 0.8040 | 0.8035 | 99917 | Rural | 0.8038
17020 | Atchison County, Kansas | 17 | Rural | 0.8040 | 0.8035 | 99917 | Rural | 0.8038
17030 | Barber County, Kansas | 17 | Rural | 0.8040 | 0.8035 | 99917 | Rural | 0.8038
17040 | Barton County, Kansas | 17 | Rural | 0.8040 | 0.8035 | 99917 | Rural | 0.8038
17050 | Bourbon County, Kansas | 17 | Rural | 0.8040 | 0.8035 | 99917 | Rural | 0.8038
17060 | Brown County, Kansas | 17 | Rural | 0.8040 | 0.8035 | 99917 | Rural | 0.8038
17070 | Butler County, Kansas | 9040 | Urban | 0.9175 | 0.9153 | 48620 | Urban | 0.9164
17080 | Chase County, Kansas | 17 | Rural | 0.8040 | 0.8035 | 99917 | Rural | 0.8038
17090 | Chautauqua County, Kansas | 17 | Rural | 0.8040 | 0.8035 | 99917 | Rural | 0.8038
17100 | Cherokee County, Kansas | 17 | Rural | 0.8040 | 0.8035 | 99917 | Rural | 0.8038
17110 | Cheyenne County, Kansas | 17 | Rural | 0.8040 | 0.8035 | 99917 | Rural | 0.8038
17120 | Clark County, Kansas | 17 | Rural | 0.8040 | 0.8035 | 99917 | Rural | 0.8038
17130 | Clay County, Kansas | 17 | Rural | 0.8040 | 0.8035 | 99917 | Rural | 0.8038
17140 | Cloud County, Kansas | 17 | Rural | 0.8040 | 0.8035 | 99917 | Rural | 0.8038
17150 | Coffey County, Kansas | 17 | Rural | 0.8040 | 0.8035 | 99917 | Rural | 0.8038
17160 | Comanche County, Kansas | 17 | Rural | 0.8040 | 0.8035 | 99917 | Rural | 0.8038
17170 | Cowley County, Kansas | 17 | Rural | 0.8040 | 0.8035 | 99917 | Rural | 0.8038
17180 | Crawford County, Kansas | 17 | Rural | 0.8040 | 0.8035 | 99917 | Rural | 0.8038
17190 | Decatur County, Kansas | 17 | Rural | 0.8040 | 0.8035 | 99917 | Rural | 0.8038
17200 | Dickinson County, Kansas | 17 | Rural | 0.8040 | 0.8035 | 99917 | Rural | 0.8038
17210 | Doniphan County, Kansas | 17 | Rural | 0.8040 | 0.9519 | 41140 | Urban | 0.8780
17220 | Douglas County, Kansas | 4150 | Urban | 0.8537 | 0.8537 | 29940 | Urban | 0.8537
17230 | Edwards County, Kansas | 17 | Rural | 0.8040 | 0.8035 | 99917 | Rural | 0.8038
17240 | Elk County, Kansas | 17 | Rural | 0.8040 | 0.8035 | 99917 | Rural | 0.8038
17250 | Ellis County, Kansas | 17 | Rural | 0.8040 | 0.8035 | 99917 | Rural | 0.8038
17260 | Ellsworth County, Kansas | 17 | Rural | 0.8040 | 0.8035 | 99917 | Rural | 0.8038
17270 | Finney County, Kansas | 17 | Rural | 0.8040 | 0.8035 | 99917 | Rural | 0.8038
17280 | Ford County, Kansas | 17 | Rural | 0.8040 | 0.8035 | 99917 | Rural | 0.8038
17290 | Franklin County, Kansas | 17 | Rural | 0.8040 | 0.9476 | 28140 | Urban | 0.8758
17300 | Geary County, Kansas | 17 | Rural | 0.8040 | 0.8035 | 99917 | Rural | 0.8038
17310 | Gove County, Kansas | 17 | Rural | 0.8040 | 0.8035 | 99917 | Rural | 0.8038
17320 | Graham County, Kansas | 17 | Rural | 0.8040 | 0.8035 | 99917 | Rural | 0.8038
17330 | Grant County, Kansas | 17 | Rural | 0.8040 | 0.8035 | 99917 | Rural | 0.8038
17340 | Gray County, Kansas | 17 | Rural | 0.8040 | 0.8035 | 99917 | Rural | 0.8038
17350 | Greeley County, Kansas | 17 | Rural | 0.8040 | 0.8035 | 99917 | Rural | 0.8038
17360 | Greenwood County, Kansas | 17 | Rural | 0.8040 | 0.8035 | 99917 | Rural | 0.8038
17370 | Hamilton County, Kansas | 17 | Rural | 0.8040 | 0.8035 | 99917 | Rural | 0.8038
17380 | Harper County, Kansas | 17 | Rural | 0.8040 | 0.8035 | 99917 | Rural | 0.8038
17390 | Harvey County, Kansas | 9040 | Urban | 0.9175 | 0.9153 | 48620 | Urban | 0.9164
17391 | Haskell County, Kansas | 17 | Rural | 0.8040 | 0.8035 | 99917 | Rural | 0.8038
17410 | Hodgeman County, Kansas | 17 | Rural | 0.8040 | 0.8035 | 99917 | Rural | 0.8038
17420 | Jackson County, Kansas | 17 | Rural | 0.8040 | 0.8920 | 45820 | Urban | 0.8480
17430 | Jefferson County, Kansas | 17 | Rural | 0.8040 | 0.8920 | 45820 | Urban | 0.8480
17440 | Jewell County, Kansas | 17 | Rural | 0.8040 | 0.8035 | 99917 | Rural | 0.8038
17450 | Johnson County, Kansas | 3760 | Urban | 0.9490 | 0.9476 | 28140 | Urban | 0.9483
17451 | Kearny County, Kansas | 17 | Rural | 0.8040 | 0.8035 | 99917 | Rural | 0.8038
17470 | Kingman County, Kansas | 17 | Rural | 0.8040 | 0.8035 | 99917 | Rural | 0.8038
17480 | Kiowa County, Kansas | 17 | Rural | 0.8040 | 0.8035 | 99917 | Rural | 0.8038
17490 | Labette County, Kansas | 17 | Rural | 0.8040 | 0.8035 | 99917 | Rural | 0.8038
17500 | Lane County, Kansas | 17 | Rural | 0.8040 | 0.8035 | 99917 | Rural | 0.8038
17510 | Leavenworth County, Kansas | 3760 | Urban | 0.9490 | 0.9476 | 28140 | Urban | 0.9483
17520 | Lincoln County, Kansas | 17 | Rural | 0.8040 | 0.8035 | 99917 | Rural | 0.8038
17530 | Linn County, Kansas | 17 | Rural | 0.8040 | 0.9476 | 28140 | Urban | 0.8758
17540 | Logan County, Kansas | 17 | Rural | 0.8040 | 0.8035 | 99917 | Rural | 0.8038
17550 | Lyon County, Kansas | 17 | Rural | 0.8040 | 0.8035 | 99917 | Rural | 0.8038
17560 | Mc Pherson County, Kansas | 17 | Rural | 0.8040 | 0.8035 | 99917 | Rural | 0.8038
17570 | Marion County, Kansas | 17 | Rural | 0.8040 | 0.8035 | 99917 | Rural | 0.8038
17580 | Marshall County, Kansas | 17 | Rural | 0.8040 | 0.8035 | 99917 | Rural | 0.8038
17590 | Meade County, Kansas | 17 | Rural | 0.8040 | 0.8035 | 99917 | Rural | 0.8038
17600 | Miami County, Kansas | 3760 | Urban | 0.9490 | 0.9476 | 28140 | Urban | 0.9483
17610 | Mitchell County, Kansas | 17 | Rural | 0.8040 | 0.8035 | 99917 | Rural | 0.8038
17620 | Montgomery County, Kansas | 17 | Rural | 0.8040 | 0.8035 | 99917 | Rural | 0.8038
17630 | Morris County, Kansas | 17 | Rural | 0.8040 | 0.8035 | 99917 | Rural | 0.8038
17640 | Morton County, Kansas | 17 | Rural | 0.8040 | 0.8035 | 99917 | Rural | 0.8038
17650 | Nemaha County, Kansas | 17 | Rural | 0.8040 | 0.8035 | 99917 | Rural | 0.8038
17660 | Neosho County, Kansas | 17 | Rural | 0.8040 | 0.8035 | 99917 | Rural | 0.8038
17670 | Ness County, Kansas | 17 | Rural | 0.8040 | 0.8035 | 99917 | Rural | 0.8038
17680 | Norton County, Kansas | 17 | Rural | 0.8040 | 0.8035 | 99917 | Rural | 0.8038
17690 | Osage County, Kansas | 17 | Rural | 0.8040 | 0.8920 | 45820 | Urban | 0.8480
17700 | Osborne County, Kansas | 17 | Rural | 0.8040 | 0.8035 | 99917 | Rural | 0.8038
17710 | Ottawa County, Kansas | 17 | Rural | 0.8040 | 0.8035 | 99917 | Rural | 0.8038
17720 | Pawnee County, Kansas | 17 | Rural | 0.8040 | 0.8035 | 99917 | Rural | 0.8038
17730 | Phillips County, Kansas | 17 | Rural | 0.8040 | 0.8035 | 99917 | Rural | 0.8038
17740 | Pottawatomie County, Kansas | 17 | Rural | 0.8040 | 0.8035 | 99917 | Rural | 0.8038
17750 | Pratt County, Kansas | 17 | Rural | 0.8040 | 0.8035 | 99917 | Rural | 0.8038
17760 | Rawlins County, Kansas | 17 | Rural | 0.8040 | 0.8035 | 99917 | Rural | 0.8038
17770 | Reno County, Kansas | 17 | Rural | 0.8040 | 0.8035 | 99917 | Rural | 0.8038
17780 | Republic County, Kansas | 17 | Rural | 0.8040 | 0.8035 | 99917 | Rural | 0.8038
17790 | Rice County, Kansas | 17 | Rural | 0.8040 | 0.8035 | 99917 | Rural | 0.8038
17800 | Riley County, Kansas | 17 | Rural | 0.8040 | 0.8035 | 99917 | Rural | 0.8038
17810 | Rooks County, Kansas | 17 | Rural | 0.8040 | 0.8035 | 99917 | Rural | 0.8038
17820 | Rush County, Kansas | 17 | Rural | 0.8040 | 0.8035 | 99917 | Rural | 0.8038
17830 | Russell County, Kansas | 17 | Rural | 0.8040 | 0.8035 | 99917 | Rural | 0.8038
17840 | Saline County, Kansas | 17 | Rural | 0.8040 | 0.8035 | 99917 | Rural | 0.8038
17841 | Scott County, Kansas | 17 | Rural | 0.8040 | 0.8035 | 99917 | Rural | 0.8038
17860 | Sedgwick County, Kansas | 9040 | Urban | 0.9175 | 0.9153 | 48620 | Urban | 0.9164
17870 | Seward County, Kansas | 17 | Rural | 0.8040 | 0.8035 | 99917 | Rural | 0.8038
17880 | Shawnee County, Kansas | 8440 | Urban | 0.8920 | 0.8920 | 45820 | Urban | 0.8920
17890 | Sheridan County, Kansas | 17 | Rural | 0.8040 | 0.8035 | 99917 | Rural | 0.8038
17900 | Sherman County, Kansas | 17 | Rural | 0.8040 | 0.8035 | 99917 | Rural | 0.8038
17910 | Smith County, Kansas | 17 | Rural | 0.8040 | 0.8035 | 99917 | Rural | 0.8038
17920 | Stafford County, Kansas | 17 | Rural | 0.8040 | 0.8035 | 99917 | Rural | 0.8038
17921 | Stanton County, Kansas | 17 | Rural | 0.8040 | 0.8035 | 99917 | Rural | 0.8038
17940 | Stevens County, Kansas | 17 | Rural | 0.8040 | 0.8035 | 99917 | Rural | 0.8038
17950 | Sumner County, Kansas | 17 | Rural | 0.8040 | 0.9153 | 48620 | Urban | 0.8597
17960 | Thomas County, Kansas | 17 | Rural | 0.8040 | 0.8035 | 99917 | Rural | 0.8038
17970 | Trego County, Kansas | 17 | Rural | 0.8040 | 0.8035 | 99917 | Rural | 0.8038
17980 | Wabaunsee County, Kansas | 17 | Rural | 0.8040 | 0.8920 | 45820 | Urban | 0.8480
17981 | Wallace County, Kansas | 17 | Rural | 0.8040 | 0.8035 | 99917 | Rural | 0.8038
17982 | Washington County, Kansas | 17 | Rural | 0.8040 | 0.8035 | 99917 | Rural | 0.8038
17983 | Wichita County, Kansas | 17 | Rural | 0.8040 | 0.8035 | 99917 | Rural | 0.8038
17984 | Wilson County, Kansas | 17 | Rural | 0.8040 | 0.8035 | 99917 | Rural | 0.8038
17985 | Woodson County, Kansas | 17 | Rural | 0.8040 | 0.8035 | 99917 | Rural | 0.8038
17986 | Wyandotte County, Kansas | 3760 | Urban | 0.9490 | 0.9476 | 28140 | Urban | 0.9483
18000 | Adair County, Kentucky | 18 | Rural | 0.7858 | 0.7766 | 99918 | Rural | 0.7812
18010 | Allen County, Kentucky | 18 | Rural | 0.7858 | 0.7766 | 99918 | Rural | 0.7812
18020 | Anderson County, Kentucky | 18 | Rural | 0.7858 | 0.7766 | 99918 | Rural | 0.7812
18030 | Ballard County, Kentucky | 18 | Rural | 0.7858 | 0.7766 | 99918 | Rural | 0.7812
18040 | Barren County, Kentucky | 18 | Rural | 0.7858 | 0.7766 | 99918 | Rural | 0.7812
18050 | Bath County, Kentucky | 18 | Rural | 0.7858 | 0.7766 | 99918 | Rural | 0.7812
18060 | Bell County, Kentucky | 18 | Rural | 0.7858 | 0.7766 | 99918 | Rural | 0.7812
18070 | Boone County, Kentucky | 1640 | Urban | 0.9734 | 0.9615 | 17140 | Urban | 0.9675
18080 | Bourbon County, Kentucky | 4280 | Urban | 0.8988 | 0.9075 | 30460 | Urban | 0.9032
18090 | Boyd County, Kentucky | 3400 | Urban | 0.9477 | 0.9477 | 26580 | Urban | 0.9477
18100 | Boyle County, Kentucky | 18 | Rural | 0.7858 | 0.7766 | 99918 | Rural | 0.7812
18110 | Bracken County, Kentucky | 18 | Rural | 0.7858 | 0.9615 | 17140 | Urban | 0.8737
18120 | Breathitt County, Kentucky | 18 | Rural | 0.7858 | 0.7766 | 99918 | Rural | 0.7812
18130 | Breckinridge County, Kentucky | 18 | Rural | 0.7858 | 0.7766 | 99918 | Rural | 0.7812
18140 | Bullitt County, Kentucky | 4520 | Urban | 0.9293 | 0.9251 | 31140 | Urban | 0.9272
18150 | Butler County, Kentucky | 18 | Rural | 0.7858 | 0.7766 | 99918 | Rural | 0.7812
18160 | Caldwell County, Kentucky | 18 | Rural | 0.7858 | 0.7766 | 99918 | Rural | 0.7812
18170 | Calloway County, Kentucky | 18 | Rural | 0.7858 | 0.7766 | 99918 | Rural | 0.7812
18180 | Campbell County, Kentucky | 1640 | Urban | 0.9734 | 0.9615 | 17140 | Urban | 0.9675
18190 | Carlisle County, Kentucky | 18 | Rural | 0.7858 | 0.7766 | 99918 | Rural | 0.7812
18191 | Carroll County, Kentucky | 18 | Rural | 0.7858 | 0.7766 | 99918 | Rural | 0.7812
18210 | Carter County, Kentucky | 3400 | Urban | 0.9477 | 0.7766 | 99918 | Rural | 0.8622
18220 | Casey County, Kentucky | 18 | Rural | 0.7858 | 0.7766 | 99918 | Rural | 0.7812
18230 | Christian County, Kentucky | 1660 | Urban | 0.8284 | 0.8284 | 17300 | Urban | 0.8284
18240 | Clark County, Kentucky | 4280 | Urban | 0.8988 | 0.9075 | 30460 | Urban | 0.9032
18250 | Clay County, Kentucky | 18 | Rural | 0.7858 | 0.7766 | 99918 | Rural | 0.7812
18260 | Clinton County, Kentucky | 18 | Rural | 0.7858 | 0.7766 | 99918 | Rural | 0.7812
18270 | Crittenden County, Kentucky | 18 | Rural | 0.7858 | 0.7766 | 99918 | Rural | 0.7812
18271 | Cumberland County, Kentucky | 18 | Rural | 0.7858 | 0.7766 | 99918 | Rural | 0.7812
18290 | Daviess County, Kentucky | 5990 | Urban | 0.8780 | 0.8780 | 36980 | Urban | 0.8780
18291 | Edmonson County, Kentucky | 18 | Rural | 0.7858 | 0.8211 | 14540 | Urban | 0.8035
18310 | Elliott County, Kentucky | 18 | Rural | 0.7858 | 0.7766 | 99918 | Rural | 0.7812
18320 | Estill County, Kentucky | 18 | Rural | 0.7858 | 0.7766 | 99918 | Rural | 0.7812
18330 | Fayette County, Kentucky | 4280 | Urban | 0.8988 | 0.9075 | 30460 | Urban | 0.9032
18340 | Fleming County, Kentucky | 18 | Rural | 0.7858 | 0.7766 | 99918 | Rural | 0.7812
18350 | Floyd County, Kentucky | 18 | Rural | 0.7858 | 0.7766 | 99918 | Rural | 0.7812
18360 | Franklin County, Kentucky | 18 | Rural | 0.7858 | 0.7766 | 99918 | Rural | 0.7812
18361 | Fulton County, Kentucky | 18 | Rural | 0.7858 | 0.7766 | 99918 | Rural | 0.7812
18362 | Gallatin County, Kentucky | 1640 | Urban | 0.9734 | 0.9615 | 17140 | Urban | 0.9675
18390 | Garrard County, Kentucky | 18 | Rural | 0.7858 | 0.7766 | 99918 | Rural | 0.7812
18400 | Grant County, Kentucky | 1640 | Urban | 0.9734 | 0.9615 | 17140 | Urban | 0.9675
18410 | Graves County, Kentucky | 18 | Rural | 0.7858 | 0.7766 | 99918 | Rural | 0.7812
18420 | Grayson County, Kentucky | 18 | Rural | 0.7858 | 0.7766 | 99918 | Rural | 0.7812
18421 | Green County, Kentucky | 18 | Rural | 0.7858 | 0.7766 | 99918 | Rural | 0.7812
18440 | Greenup County, Kentucky | 3400 | Urban | 0.9477 | 0.9477 | 26580 | Urban | 0.9477
18450 | Hancock County, Kentucky | 18 | Rural | 0.7858 | 0.8780 | 36980 | Urban | 0.8319
18460 | Hardin County, Kentucky | 18 | Rural | 0.7858 | 0.8802 | 21060 | Urban | 0.8330
18470 | Harlan County, Kentucky | 18 | Rural | 0.7858 | 0.7766 | 99918 | Rural | 0.7812
18480 | Harrison County, Kentucky | 18 | Rural | 0.7858 | 0.7766 | 99918 | Rural | 0.7812
18490 | Hart County, Kentucky | 18 | Rural | 0.7858 | 0.7766 | 99918 | Rural | 0.7812
18500 | Henderson County, Kentucky | 2440 | Urban | 0.8713 | 0.8713 | 21780 | Urban | 0.8713
18510 | Henry County, Kentucky | 18 | Rural | 0.7858 | 0.9251 | 31140 | Urban | 0.8555
18511 | Hickman County, Kentucky | 18 | Rural | 0.7858 | 0.7766 | 99918 | Rural | 0.7812
18530 | Hopkins County, Kentucky | 18 | Rural | 0.7858 | 0.7766 | 99918 | Rural | 0.7812
18540 | Jackson County, Kentucky | 18 | Rural | 0.7858 | 0.7766 | 99918 | Rural | 0.7812
18550 | Jefferson County, Kentucky | 4520 | Urban | 0.9293 | 0.9251 | 31140 | Urban | 0.9272
18560 | Jessamine County, Kentucky | 4280 | Urban | 0.8988 | 0.9075 | 30460 | Urban | 0.9032
18570 | Johnson County, Kentucky | 18 | Rural | 0.7858 | 0.7766 | 99918 | Rural | 0.7812
18580 | Kenton County, Kentucky | 1640 | Urban | 0.9734 | 0.9615 | 17140 | Urban | 0.9675
18590 | Knott County, Kentucky | 18 | Rural | 0.7858 | 0.7766 | 99918 | Rural | 0.7812
18600 | Knox County, Kentucky | 18 | Rural | 0.7858 | 0.7766 | 99918 | Rural | 0.7812
18610 | Larue County, Kentucky | 18 | Rural | 0.7858 | 0.8802 | 21060 | Urban | 0.8330
18620 | Laurel County, Kentucky | 18 | Rural | 0.7858 | 0.7766 | 99918 | Rural | 0.7812
18630 | Lawrence County, Kentucky | 18 | Rural | 0.7858 | 0.7766 | 99918 | Rural | 0.7812
18640 | Lee County, Kentucky | 18 | Rural | 0.7858 | 0.7766 | 99918 | Rural | 0.7812
18650 | Leslie County, Kentucky | 18 | Rural | 0.7858 | 0.7766 | 99918 | Rural | 0.7812
18660 | Letcher County, Kentucky | 18 | Rural | 0.7858 | 0.7766 | 99918 | Rural | 0.7812
18670 | Lewis County, Kentucky | 18 | Rural | 0.7858 | 0.7766 | 99918 | Rural | 0.7812
18680 | Lincoln County, Kentucky | 18 | Rural | 0.7858 | 0.7766 | 99918 | Rural | 0.7812
18690 | Livingston County, Kentucky | 18 | Rural | 0.7858 | 0.7766 | 99918 | Rural | 0.7812
18700 | Logan County, Kentucky | 18 | Rural | 0.7858 | 0.7766 | 99918 | Rural | 0.7812
18710 | Lyon County, Kentucky | 18 | Rural | 0.7858 | 0.7766 | 99918 | Rural | 0.7812
18720 | Mc Cracken County, Kentucky | 18 | Rural | 0.7858 | 0.7766 | 99918 | Rural | 0.7812
18730 | Mc Creary County, Kentucky | 18 | Rural | 0.7858 | 0.7766 | 99918 | Rural | 0.7812
18740 | Mc Lean County, Kentucky | 18 | Rural | 0.7858 | 0.8780 | 36980 | Urban | 0.8319
18750 | Madison County, Kentucky | 4280 | Urban | 0.8988 | 0.7766 | 99918 | Rural | 0.8377
18760 | Magoffin County, Kentucky | 18 | Rural | 0.7858 | 0.7766 | 99918 | Rural | 0.7812
18770 | Marion County, Kentucky | 18 | Rural | 0.7858 | 0.7766 | 99918 | Rural | 0.7812
18780 | Marshall County, Kentucky | 18 | Rural | 0.7858 | 0.7766 | 99918 | Rural | 0.7812
18790 | Martin County, Kentucky | 18 | Rural | 0.7858 | 0.7766 | 99918 | Rural | 0.7812
18800 | Mason County, Kentucky | 18 | Rural | 0.7858 | 0.7766 | 99918 | Rural | 0.7812
18801 | Meade County, Kentucky | 18 | Rural | 0.7858 | 0.9251 | 31140 | Urban | 0.8555
18802 | Menifee County, Kentucky | 18 | Rural | 0.7858 | 0.7766 | 99918 | Rural | 0.7812
18830 | Mercer County, Kentucky | 18 | Rural | 0.7858 | 0.7766 | 99918 | Rural | 0.7812
18831 | Metcalfe County, Kentucky | 18 | Rural | 0.7858 | 0.7766 | 99918 | Rural | 0.7812
18850 | Monroe County, Kentucky | 18 | Rural | 0.7858 | 0.7766 | 99918 | Rural | 0.7812
18860 | Montgomery County, Kentucky | 18 | Rural | 0.7858 | 0.7766 | 99918 | Rural | 0.7812
18861 | Morgan County, Kentucky | 18 | Rural | 0.7858 | 0.7766 | 99918 | Rural | 0.7812
18880 | Muhlenberg County, Kentucky | 18 | Rural | 0.7858 | 0.7766 | 99918 | Rural | 0.7812
18890 | Nelson County, Kentucky | 18 | Rural | 0.7858 | 0.9251 | 31140 | Urban | 0.8555
18900 | Nicholas County, Kentucky | 18 | Rural | 0.7858 | 0.7766 | 99918 | Rural | 0.7812
18910 | Ohio County, Kentucky | 18 | Rural | 0.7858 | 0.7766 | 99918 | Rural | 0.7812
18920 | Oldham County, Kentucky | 4520 | Urban | 0.9293 | 0.9251 | 31140 | Urban | 0.9272
18930 | Owen County, Kentucky | 18 | Rural | 0.7858 | 0.7766 | 99918 | Rural | 0.7812
18931 | Owsley County, Kentucky | 18 | Rural | 0.7858 | 0.7766 | 99918 | Rural | 0.7812
18932 | Pendleton County, Kentucky | 1640 | Urban | 0.9734 | 0.9615 | 17140 | Urban | 0.9675
18960 | Perry County, Kentucky | 18 | Rural | 0.7858 | 0.7766 | 99918 | Rural | 0.7812
18970 | Pike County, Kentucky | 18 | Rural | 0.7858 | 0.7766 | 99918 | Rural | 0.7812
18971 | Powell County, Kentucky | 18 | Rural | 0.7858 | 0.7766 | 99918 | Rural | 0.7812
18972 | Pulaski County, Kentucky | 18 | Rural | 0.7858 | 0.7766 | 99918 | Rural | 0.7812
18973 | Robertson County, Kentucky | 18 | Rural | 0.7858 | 0.7766 | 99918 | Rural | 0.7812
18974 | Rockcastle County, Kentucky | 18 | Rural | 0.7858 | 0.7766 | 99918 | Rural | 0.7812
18975 | Rowan County, Kentucky | 18 | Rural | 0.7858 | 0.7766 | 99918 | Rural | 0.7812
18976 | Russell County, Kentucky | 18 | Rural | 0.7858 | 0.7766 | 99918 | Rural | 0.7812
18977 | Scott County, Kentucky | 4280 | Urban | 0.8988 | 0.9075 | 30460 | Urban | 0.9032
18978 | Shelby County, Kentucky | 18 | Rural | 0.7858 | 0.9251 | 31140 | Urban | 0.8555
18979 | Simpson County, Kentucky | 18 | Rural | 0.7858 | 0.7766 | 99918 | Rural | 0.7812
18980 | Spencer County, Kentucky | 18 | Rural | 0.7858 | 0.9251 | 31140 | Urban | 0.8555
18981 | Taylor County, Kentucky | 18 | Rural | 0.7858 | 0.7766 | 99918 | Rural | 0.7812
18982 | Todd County, Kentucky | 18 | Rural | 0.7858 | 0.7766 | 99918 | Rural | 0.7812
18983 | Trigg County, Kentucky | 18 | Rural | 0.7858 | 0.8284 | 17300 | Urban | 0.8071
18984 | Trimble County, Kentucky | 18 | Rural | 0.7858 | 0.9251 | 31140 | Urban | 0.8555
18985 | Union County, Kentucky | 18 | Rural | 0.7858 | 0.7766 | 99918 | Rural | 0.7812
18986 | Warren County, Kentucky | 18 | Rural | 0.7858 | 0.8211 | 14540 | Urban | 0.8035
18987 | Washington County, Kentucky | 18 | Rural | 0.7858 | 0.7766 | 99918 | Rural | 0.7812
18988 | Wayne County, Kentucky | 18 | Rural | 0.7858 | 0.7766 | 99918 | Rural | 0.7812
18989 | Webster County, Kentucky | 18 | Rural | 0.7858 | 0.8713 | 21780 | Urban | 0.8286
18990 | Whitley County, Kentucky | 18 | Rural | 0.7858 | 0.7766 | 99918 | Rural | 0.7812
18991 | Wolfe County, Kentucky | 18 | Rural | 0.7858 | 0.7766 | 99918 | Rural | 0.7812
18992 | Woodford County, Kentucky | 4280 | Urban | 0.8988 | 0.9075 | 30460 | Urban | 0.9032
19000 | Acadia County, Louisiana | 3880 | Urban | 0.8251 | 0.7411 | 99919 | Rural | 0.7831
19010 | Allen County, Louisiana | 19 | Rural | 0.7340 | 0.7411 | 99919 | Rural | 0.7376
19020 | Ascension County, Louisiana | 0760 | Urban | 0.8643 | 0.8593 | 12940 | Urban | 0.8618
19030 | Assumption County, Louisiana | 19 | Rural | 0.7340 | 0.7411 | 99919 | Rural | 0.7376
19040 | Avoyelles County, Louisiana | 19 | Rural | 0.7340 | 0.7411 | 99919 | Rural | 0.7376
19050 | Beauregard County, Louisiana | 19 | Rural | 0.7340 | 0.7411 | 99919 | Rural | 0.7376
19060 | Bienville County, Louisiana | 19 | Rural | 0.7340 | 0.7411 | 99919 | Rural | 0.7376
19070 | Bossier County, Louisiana | 7680 | Urban | 0.8737 | 0.8760 | 43340 | Urban | 0.8749
19080 | Caddo County, Louisiana | 7680 | Urban | 0.8737 | 0.8760 | 43340 | Urban | 0.8749
19090 | Calcasieu County, Louisiana | 3960 | Urban | 0.7858 | 0.7833 | 29340 | Urban | 0.7846
19100 | Caldwell County, Louisiana | 19 | Rural | 0.7340 | 0.7411 | 99919 | Rural | 0.7376
19110 | Cameron County, Louisiana | 19 | Rural | 0.7340 | 0.7833 | 29340 | Urban | 0.7587
19120 | Catahoula County, Louisiana | 19 | Rural | 0.7340 | 0.7411 | 99919 | Rural | 0.7376
19130 | Claiborne County, Louisiana | 19 | Rural | 0.7340 | 0.7411 | 99919 | Rural | 0.7376
19140 | Concordia County, Louisiana | 19 | Rural | 0.7340 | 0.7411 | 99919 | Rural | 0.7376
19150 | De Soto County, Louisiana | 19 | Rural | 0.7340 | 0.8760 | 43340 | Urban | 0.8050
19160 | East Baton Rouge County, Louisiana | 0760 | Urban | 0.8643 | 0.8593 | 12940 | Urban | 0.8618
19170 | East Carroll County, Louisiana | 19 | Rural | 0.7340 | 0.7411 | 99919 | Rural | 0.7376
19180 | East Feliciana County, Louisiana | 19 | Rural | 0.7340 | 0.8593 | 12940 | Urban | 0.7967
19190 | Evangeline County, Louisiana | 19 | Rural | 0.7340 | 0.7411 | 99919 | Rural | 0.7376
19200 | Franklin County, Louisiana | 19 | Rural | 0.7340 | 0.7411 | 99919 | Rural | 0.7376
19210 | Grant County, Louisiana | 19 | Rural | 0.7340 | 0.8033 | 10780 | Urban | 0.7687
19220 | Iberia County, Louisiana | 19 | Rural | 0.7340 | 0.7411 | 99919 | Rural | 0.7376
19230 | Iberville County, Louisiana | 19 | Rural | 0.7340 | 0.8593 | 12940 | Urban | 0.7967
19240 | Jackson County, Louisiana | 19 | Rural | 0.7340 | 0.7411 | 99919 | Rural | 0.7376
19250 | Jefferson County, Louisiana | 5560 | Urban | 0.8995 | 0.8995 | 35380 | Urban | 0.8995
19260 | Jefferson Davis County, Louisiana | 19 | Rural | 0.7340 | 0.7411 | 99919 | Rural | 0.7376
19270 | Lafayette County, Louisiana | 3880 | Urban | 0.8251 | 0.8428 | 29180 | Urban | 0.8340
19280 | Lafourche County, Louisiana | 3350 | Urban | 0.7894 | 0.7894 | 26380 | Urban | 0.7894
19290 | La Salle County, Louisiana | 19 | Rural | 0.7340 | 0.7411 | 99919 | Rural | 0.7376
19300 | Lincoln County, Louisiana | 19 | Rural | 0.7340 | 0.7411 | 99919 | Rural | 0.7376
19310 | Livingston County, Louisiana | 0760 | Urban | 0.8643 | 0.8593 | 12940 | Urban | 0.8618
19320 | Madison County, Louisiana | 19 | Rural | 0.7340 | 0.7411 | 99919 | Rural | 0.7376
19330 | Morehouse County, Louisiana | 19 | Rural | 0.7340 | 0.7411 | 99919 | Rural | 0.7376
19340 | Natchitoches County, Louisiana | 19 | Rural | 0.7340 | 0.7411 | 99919 | Rural | 0.7376
19350 | Orleans County, Louisiana | 5560 | Urban | 0.8995 | 0.8995 | 35380 | Urban | 0.8995
19360 | Ouachita County, Louisiana | 5200 | Urban | 0.8044 | 0.8031 | 33740 | Urban | 0.8038
19370 | Plaquemines County, Louisiana | 5560 | Urban | 0.8995 | 0.8995 | 35380 | Urban | 0.8995
19380 | Pointe Coupee County, Louisiana | 19 | Rural | 0.7340 | 0.8593 | 12940 | Urban | 0.7967
19390 | Rapides County, Louisiana | 0220 | Urban | 0.8033 | 0.8033 | 10780 | Urban | 0.8033
19400 | Red River County, Louisiana | 19 | Rural | 0.7340 | 0.7411 | 99919 | Rural | 0.7376
19410 | Richland County, Louisiana | 19 | Rural | 0.7340 | 0.7411 | 99919 | Rural | 0.7376
19420 | Sabine County, Louisiana | 19 | Rural | 0.7340 | 0.7411 | 99919 | Rural | 0.7376
19430 | St Bernard County, Louisiana | 5560 | Urban | 0.8995 | 0.8995 | 35380 | Urban | 0.8995
19440 | St Charles County, Louisiana | 5560 | Urban | 0.8995 | 0.8995 | 35380 | Urban | 0.8995
19450 | St Helena County, Louisiana | 19 | Rural | 0.7340 | 0.8593 | 12940 | Urban | 0.7967
19460 | St James County, Louisiana | 5560 | Urban | 0.8995 | 0.7411 | 99919 | Rural | 0.8203
19470 | St John Baptist County, Louisiana | 5560 | Urban | 0.8995 | 0.8995 | 35380 | Urban | 0.8995
19480 | St Landry County, Louisiana | 3880 | Urban | 0.8251 | 0.7411 | 99919 | Rural | 0.7831
19490 | St Martin County, Louisiana | 3880 | Urban | 0.8251 | 0.8428 | 29180 | Urban | 0.8340
19500 | St Mary County, Louisiana | 19 | Rural | 0.7340 | 0.7411 | 99919 | Rural | 0.7376
19510 | St Tammany County, Louisiana | 5560 | Urban | 0.8995 | 0.8995 | 35380 | Urban | 0.8995
19520 | Tangipahoa County, Louisiana | 19 | Rural | 0.7340 | 0.7411 | 99919 | Rural | 0.7376
19530 | Tensas County, Louisiana | 19 | Rural | 0.7340 | 0.7411 | 99919 | Rural | 0.7376
19540 | Terrebonne County, Louisiana | 3350 | Urban | 0.7894 | 0.7894 | 26380 | Urban | 0.7894
19550 | Union County, Louisiana | 19 | Rural | 0.7340 | 0.8031 | 33740 | Urban | 0.7686
19560 | Vermilion County, Louisiana | 19 | Rural | 0.7340 | 0.7411 | 99919 | Rural | 0.7376
19570 | Vernon County, Louisiana | 19 | Rural | 0.7340 | 0.7411 | 99919 | Rural | 0.7376
19580 | Washington County, Louisiana | 19 | Rural | 0.7340 | 0.7411 | 99919 | Rural | 0.7376
19590 | Webster County, Louisiana | 7680 | Urban | 0.8737 | 0.7411 | 99919 | Rural | 0.8074
19600 | West Baton Rouge County, Louisiana | 0760 | Urban | 0.8643 | 0.8593 | 12940 | Urban | 0.8618
19610 | West Carroll County, Louisiana | 19 | Rural | 0.7340 | 0.7411 | 99919 | Rural | 0.7376
19620 | West Feliciana County, Louisiana | 19 | Rural | 0.7340 | 0.8593 | 12940 | Urban | 0.7967
19630 | Winn County, Louisiana | 19 | Rural | 0.7340 | 0.7411 | 99919 | Rural | 0.7376
20000 | Androscoggin County, Maine | 4243 | Urban | 0.9331 | 0.9331 | 30340 | Urban | 0.9331
20010 | Aroostook County, Maine | 20 | Rural | 0.8843 | 0.8843 | 99920 | Rural | 0.8843
20020 | Cumberland County, Maine | 6403 | Urban | 1.0382 | 1.0382 | 38860 | Urban | 1.0382
20030 | Franklin County, Maine | 20 | Rural | 0.8843 | 0.8843 | 99920 | Rural | 0.8843
20040 | Hancock County, Maine | 20 | Rural | 0.8843 | 0.8843 | 99920 | Rural | 0.8843
20050 | Kennebec County, Maine | 20 | Rural | 0.8843 | 0.8843 | 99920 | Rural | 0.8843
20060 | Knox County, Maine | 20 | Rural | 0.8843 | 0.8843 | 99920 | Rural | 0.8843
20070 | Lincoln County, Maine | 20 | Rural | 0.8843 | 0.8843 | 99920 | Rural | 0.8843
20080 | Oxford County, Maine | 20 | Rural | 0.8843 | 0.8843 | 99920 | Rural | 0.8843
20090 | Penobscot County, Maine | 0733 | Urban | 0.9993 | 0.9993 | 12620 | Urban | 0.9993
20100 | Piscataquis County, Maine | 20 | Rural | 0.8843 | 0.8843 | 99920 | Rural | 0.8843
20110 | Sagadahoc County, Maine | 6403 | Urban | 1.0382 | 1.0382 | 38860 | Urban | 1.0382
20120 | Somerset County, Maine | 20 | Rural | 0.8843 | 0.8843 | 99920 | Rural | 0.8843
20130 | Waldo County, Maine | 20 | Rural | 0.8843 | 0.8843 | 99920 | Rural | 0.8843
20140 | Washington County, Maine | 20 | Rural | 0.8843 | 0.8843 | 99920 | Rural | 0.8843
20150 | York County, Maine | 6403 | Urban | 1.0382 | 1.0382 | 38860 | Urban | 1.0382
21000 | Allegany County, Maryland | 1900 | Urban | 0.9317 | 0.9317 | 19060 | Urban | 0.9317
21010 | Anne Arundel County, Maryland | 0720 | Urban | 0.9897 | 0.9897 | 12580 | Urban | 0.9897
21020 | Baltimore County, Maryland | 0720 | Urban | 0.9897 | 0.9897 | 12580 | Urban | 0.9897
21030 | Baltimore City County, Maryland | 0720 | Urban | 0.9897 | 0.9897 | 12580 | Urban | 0.9897
21040 | Calvert County, Maryland | 8840 | Urban | 1.0976 | 1.0926 | 47894 | Urban | 1.0951
21050 | Caroline County, Maryland | 21 | Rural | 0.9230 | 0.9353 | 99921 | Rural | 0.9292
21060 | Carroll County, Maryland | 0720 | Urban | 0.9897 | 0.9897 | 12580 | Urban | 0.9897
21070 | Cecil County, Maryland | 9160 | Urban | 1.0527 | 1.0471 | 48864 | Urban | 1.0499
21080 | Charles County, Maryland | 8840 | Urban | 1.0976 | 1.0926 | 47894 | Urban | 1.0951
21090 | Dorchester County, Maryland | 21 | Rural | 0.9230 | 0.9353 | 99921 | Rural | 0.9292
21100 | Frederick County, Maryland | 8840 | Urban | 1.0976 | 1.1483 | 13644 | Urban | 1.1230
21110 | Garrett County, Maryland | 21 | Rural | 0.9230 | 0.9353 | 99921 | Rural | 0.9292
21120 | Harford County, Maryland | 0720 | Urban | 0.9897 | 0.9897 | 12580 | Urban | 0.9897
21130 | Howard County, Maryland | 0720 | Urban | 0.9897 | 0.9897 | 12580 | Urban | 0.9897
21140 | Kent County, Maryland | 21 | Rural | 0.9230 | 0.9353 | 99921 | Rural | 0.9292
21150 | Montgomery County, Maryland | 8840 | Urban | 1.0976 | 1.1483 | 13644 | Urban | 1.1230
21160 | Prince Georges County, Maryland | 8840 | Urban | 1.0976 | 1.0926 | 47894 | Urban | 1.0951
21170 | Queen Annes County, Maryland | 0720 | Urban | 0.9897 | 0.9897 | 12580 | Urban | 0.9897
21180 | St Marys County, Maryland | 21 | Rural | 0.9230 | 0.9353 | 99921 | Rural | 0.9292
21190 | Somerset County, Maryland | 21 | Rural | 0.9230 | 0.9064 | 41540 | Urban | 0.9147
21200 | Talbot County, Maryland | 21 | Rural | 0.9230 | 0.9353 | 99921 | Rural | 0.9292
21210 | Washington County, Maryland | 3180 | Urban | 0.9869 | 0.9489 | 25180 | Urban | 0.9679
21220 | Wicomico County, Maryland | 21 | Rural | 0.9230 | 0.9064 | 41540 | Urban | 0.9147
21230 | Worcester County, Maryland | 21 | Rural | 0.9230 | 0.9353 | 99921 | Rural | 0.9292
22000 | Barnstable County, Massachusetts | 0743 | Urban | 1.2600 | 1.2600 | 12700 | Urban | 1.2600
22010 | Berkshire County, Massachusetts | 6323 | Urban | 1.0181 | 1.0181 | 38340 | Urban | 1.0181
22020 | Bristol County, Massachusetts | 1123 | Urban | 1.1178 | 1.0966 | 39300 | Urban | 1.1072
22030 | Dukes County, Massachusetts | 22 | Rural | 1.0216 | 1.0216 | 99922 | Rural | 1.0216
22040 | Essex County, Massachusetts | 1123 | Urban | 1.1178 | 1.0538 | 21604 | Urban | 1.0858
22060 | Franklin County, Massachusetts | 22 | Rural | 1.0216 | 1.0248 | 44140 | Urban | 1.0232
22070 | Hampden County, Massachusetts | 8003 | Urban | 1.0263 | 1.0248 | 44140 | Urban | 1.0256
22080 | Hampshire County, Massachusetts | 8003 | Urban | 1.0263 | 1.0248 | 44140 | Urban | 1.0256
22090 | Middlesex County, Massachusetts | 1123 | Urban | 1.1178 | 1.1172 | 15764 | Urban | 1.1175
22120 | Nantucket County, Massachusetts | 22 | Rural | 1.0216 | 1.0216 | 99922 | Rural | 1.0216
22130 | Norfolk County, Massachusetts | 1123 | Urban | 1.1178 | 1.1558 | 14484 | Urban | 1.1368
22150 | Plymouth County, Massachusetts | 1123 | Urban | 1.1178 | 1.1558 | 14484 | Urban | 1.1368
22160 | Suffolk County, Massachusetts | 1123 | Urban | 1.1178 | 1.1558 | 14484 | Urban | 1.1368
22170 | Worcester County, Massachusetts | 1123 | Urban | 1.1178 | 1.1028 | 49340 | Urban | 1.1103
23000 | Alcona County, Michigan | 23 | Rural | 0.8824 | 0.8895 | 99923 | Rural | 0.8860
23010 | Alger County, Michigan | 23 | Rural | 0.8824 | 0.8895 | 99923 | Rural | 0.8860
23020 | Allegan County, Michigan | 3000 | Urban | 0.9445 | 0.8895 | 99923 | Rural | 0.9170
23030 | Alpena County, Michigan | 23 | Rural | 0.8824 | 0.8895 | 99923 | Rural | 0.8860
23040 | Antrim County, Michigan | 23 | Rural | 0.8824 | 0.8895 | 99923 | Rural | 0.8860
23050 | Arenac County, Michigan | 23 | Rural | 0.8824 | 0.8895 | 99923 | Rural | 0.8860
23060 | Baraga County, Michigan | 23 | Rural | 0.8824 | 0.8895 | 99923 | Rural | 0.8860
23070 | Barry County, Michigan | 23 | Rural | 0.8824 | 0.9390 | 24340 | Urban | 0.9107
23080 | Bay County, Michigan | 6960 | Urban | 0.9241 | 0.9343 | 13020 | Urban | 0.9292
23090 | Benzie County, Michigan | 23 | Rural | 0.8824 | 0.8895 | 99923 | Rural | 0.8860
23100 | Berrien County, Michigan | 0870 | Urban | 0.8879 | 0.8879 | 35660 | Urban | 0.8879
23110 | Branch County, Michigan | 23 | Rural | 0.8824 | 0.8895 | 99923 | Rural | 0.8860
23120 | Calhoun County, Michigan | 3720 | Urban | 1.0143 | 0.9508 | 12980 | Urban | 0.9826
23130 | Cass County, Michigan | 23 | Rural | 0.8824 | 0.9788 | 43780 | Urban | 0.9306
23140 | Charlevoix County, Michigan | 23 | Rural | 0.8824 | 0.8895 | 99923 | Rural | 0.8860
23150 | Cheboygan County, Michigan | 23 | Rural | 0.8824 | 0.8895 | 99923 | Rural | 0.8860
23160 | Chippewa County, Michigan | 23 | Rural | 0.8824 | 0.8895 | 99923 | Rural | 0.8860
23170 | Clare County, Michigan | 23 | Rural | 0.8824 | 0.8895 | 99923 | Rural | 0.8860
23180 | Clinton County, Michigan | 4040 | Urban | 0.9794 | 0.9794 | 29620 | Urban | 0.9794
23190 | Crawford County, Michigan | 23 | Rural | 0.8824 | 0.8895 | 99923 | Rural | 0.8860
23200 | Delta County, Michigan | 23 | Rural | 0.8824 | 0.8895 | 99923 | Rural | 0.8860
23210 | Dickinson County, Michigan | 23 | Rural | 0.8824 | 0.8895 | 99923 | Rural | 0.8860
23220 | Eaton County, Michigan | 4040 | Urban | 0.9794 | 0.9794 | 29620 | Urban | 0.9794
23230 | Emmet County, Michigan | 23 | Rural | 0.8824 | 0.8895 | 99923 | Rural | 0.8860
23240 | Genesee County, Michigan | 2640 | Urban | 1.0655 | 1.0655 | 22420 | Urban | 1.0655
23250 | Gladwin County, Michigan | 23 | Rural | 0.8824 | 0.8895 | 99923 | Rural | 0.8860
23260 | Gogebic County, Michigan | 23 | Rural | 0.8824 | 0.8895 | 99923 | Rural | 0.8860
23270 | Grand Traverse County, Michigan | 23 | Rural | 0.8824 | 0.8895 | 99923 | Rural | 0.8860
23280 | Gratiot County, Michigan | 23 | Rural | 0.8824 | 0.8895 | 99923 | Rural | 0.8860
23290 | Hillsdale County, Michigan | 23 | Rural | 0.8824 | 0.8895 | 99923 | Rural | 0.8860
23300 | Houghton County, Michigan | 23 | Rural | 0.8824 | 0.8895 | 99923 | Rural | 0.8860
23310 | Huron County, Michigan | 23 | Rural | 0.8824 | 0.8895 | 99923 | Rural | 0.8860
23320 | Ingham County, Michigan | 4040 | Urban | 0.9794 | 0.9794 | 29620 | Urban | 0.9794
23330 | Ionia County, Michigan | 23 | Rural | 0.8824 | 0.9390 | 24340 | Urban | 0.9107
23340 | Iosco County, Michigan | 23 | Rural | 0.8824 | 0.8895 | 99923 | Rural | 0.8860
23350 | Iron County, Michigan | 23 | Rural | 0.8824 | 0.8895 | 99923 | Rural | 0.8860
23360 | Isabella County, Michigan | 23 | Rural | 0.8824 | 0.8895 | 99923 | Rural | 0.8860
23370 | Jackson County, Michigan | 3520 | Urban | 0.9304 | 0.9304 | 27100 | Urban | 0.9304
23380 | Kalamazoo County, Michigan | 3720 | Urban | 1.0143 | 1.0381 | 28020 | Urban | 1.0262
23390 | Kalkaska County, Michigan | 23 | Rural | 0.8824 | 0.8895 | 99923 | Rural | 0.8860
23400 | Kent County, Michigan | 3000 | Urban | 0.9445 | 0.9390 | 24340 | Urban | 0.9418
23410 | Keweenaw County, Michigan | 23 | Rural | 0.8824 | 0.8895 | 99923 | Rural | 0.8860
23420 | Lake County, Michigan | 23 | Rural | 0.8824 | 0.8895 | 99923 | Rural | 0.8860
23430 | Lapeer County, Michigan | 2160 | Urban | 1.0147 | 0.9871 | 47644 | Urban | 1.0009
23440 | Leelanau County, Michigan | 23 | Rural | 0.8824 | 0.8895 | 99923 | Rural | 0.8860
23450 | Lenawee County, Michigan | 0440 | Urban | 1.0707 | 0.8895 | 99923 | Rural | 0.9801
23460 | Livingston County, Michigan | 0440 | Urban | 1.0707 | 0.9871 | 47644 | Urban | 1.0289
23470 | Luce County, Michigan | 23 | Rural | 0.8824 | 0.8895 | 99923 | Rural | 0.8860
23480 | Mackinac County, Michigan | 23 | Rural | 0.8824 | 0.8895 | 99923 | Rural | 0.8860
23490 | Macomb County, Michigan | 2160 | Urban | 1.0147 | 0.9871 | 47644 | Urban | 1.0009
23500 | Manistee County, Michigan | 23 | Rural | 0.8824 | 0.8895 | 99923 | Rural | 0.8860
23510 | Marquette County, Michigan | 23 | Rural | 0.8824 | 0.8895 | 99923 | Rural | 0.8860
23520 | Mason County, Michigan | 23 | Rural | 0.8824 | 0.8895 | 99923 | Rural | 0.8860
23530 | Mecosta County, Michigan | 23 | Rural | 0.8824 | 0.8895 | 99923 | Rural | 0.8860
23540 | Menominee County, Michigan | 23 | Rural | 0.8824 | 0.8895 | 99923 | Rural | 0.8860
23550 | Midland County, Michigan | 6960 | Urban | 0.9241 | 0.8895 | 99923 | Rural | 0.9068
23560 | Missaukee County, Michigan | 23 | Rural | 0.8824 | 0.8895 | 99923 | Rural | 0.8860
23570 | Monroe County, Michigan | 2160 | Urban | 1.0147 | 0.9468 | 33780 | Urban | 0.9808
23580 | Montcalm County, Michigan | 23 | Rural | 0.8824 | 0.8895 | 99923 | Rural | 0.8860
23590 | Montmorency County, Michigan | 23 | Rural | 0.8824 | 0.8895 | 99923 | Rural | 0.8860
23600 | Muskegon County, Michigan | 3000 | Urban | 0.9445 | 0.9664 | 34740 | Urban | 0.9555
23610 | Newaygo County, Michigan | 23 | Rural | 0.8824 | 0.9390 | 24340 | Urban | 0.9107
23620 | Oakland County, Michigan | 2160 | Urban | 1.0147 | 0.9871 | 47644 | Urban | 1.0009
23630 | Oceana County, Michigan | 23 | Rural | 0.8824 | 0.8895 | 99923 | Rural | 0.8860
23640 | Ogemaw County, Michigan | 23 | Rural | 0.8824 | 0.8895 | 99923 | Rural | 0.8860
23650 | Ontonagon County, Michigan | 23 | Rural | 0.8824 | 0.8895 | 99923 | Rural | 0.8860
23660 | Osceola County, Michigan | 23 | Rural | 0.8824 | 0.8895 | 99923 | Rural | 0.8860
23670 | Oscoda County, Michigan | 23 | Rural | 0.8824 | 0.8895 | 99923 | Rural | 0.8860
23680 | Otsego County, Michigan | 23 | Rural | 0.8824 | 0.8895 | 99923 | Rural | 0.8860
23690 | Ottawa County, Michigan | 3000 | Urban | 0.9445 | 0.9055 | 26100 | Urban | 0.9250
23700 | Presque Isle County, Michigan | 23 | Rural | 0.8824 | 0.8895 | 99923 | Rural | 0.8860
23710 | Roscommon County, Michigan | 23 | Rural | 0.8824 | 0.8895 | 99923 | Rural | 0.8860
23720 | Saginaw County, Michigan | 6960 | Urban | 0.9241 | 0.9088 | 40980 | Urban | 0.9165
23730 | St Clair County, Michigan | 2160 | Urban | 1.0147 | 0.9871 | 47644 | Urban | 1.0009
23740 | St Joseph County, Michigan | 23 | Rural | 0.8824 | 0.8895 | 99923 | Rural | 0.8860
23750 | Sanilac County, Michigan | 23 | Rural | 0.8824 | 0.8895 | 99923 | Rural | 0.8860
23760 | Schoolcraft County, Michigan | 23 | Rural | 0.8824 | 0.8895 | 99923 | Rural | 0.8860
23770 | Shiawassee County, Michigan | 23 | Rural | 0.8824 | 0.8895 | 99923 | Rural | 0.8860
23780 | Tuscola County, Michigan | 23 | Rural | 0.8824 | 0.8895 | 99923 | Rural | 0.8860
23790 | Van Buren County, Michigan | 3720 | Urban | 1.0143 | 1.0381 | 28020 | Urban | 1.0262
23800 | Washtenaw County, Michigan | 0440 | Urban | 1.0707 | 1.0859 | 11460 | Urban | 1.0783
23810 | Wayne County, Michigan | 2160 | Urban | 1.0147 | 1.0424 | 19804 | Urban | 1.0286
23830 | Wexford County, Michigan | 23 | Rural | 0.8824 | 0.8895 | 99923 | Rural | 0.8860
24000 | Aitkin County, Minnesota | 24 | Rural | 0.9132 | 0.9132 | 99924 | Rural | 0.9132
24010 | Anoka County, Minnesota | 5120 | Urban | 1.1075 | 1.1075 | 33460 | Urban | 1.1075
24020 | Becker County, Minnesota | 24 | Rural | 0.9132 | 0.9132 | 99924 | Rural | 0.9132
24030 | Beltrami County, Minnesota | 24 | Rural | 0.9132 | 0.9132 | 99924 | Rural | 0.9132
24040 | Benton County, Minnesota | 6980 | Urban | 0.9965 | 0.9965 | 41060 | Urban | 0.9965
24050 | Big Stone County, Minnesota | 24 | Rural | 0.9132 | 0.9132 | 99924 | Rural | 0.9132
24060 | Blue Earth County, Minnesota | 24 | Rural | 0.9132 | 0.9132 | 99924 | Rural | 0.9132
24070 | Brown County, Minnesota | 24 | Rural | 0.9132 | 0.9132 | 99924 | Rural | 0.9132
24080 | Carlton County, Minnesota | 24 | Rural | 0.9132 | 1.0213 | 20260 | Urban | 0.9673
24090 | Carver County, Minnesota | 5120 | Urban | 1.1075 | 1.1075 | 33460 | Urban | 1.1075
24100 | Cass County, Minnesota | 24 | Rural | 0.9132 | 0.9132 | 99924 | Rural | 0.9132
24110 | Chippewa County, Minnesota | 24 | Rural | 0.9132 | 0.9132 | 99924 | Rural | 0.9132
24120 | Chisago County, Minnesota | 5120 | Urban | 1.1075 | 1.1075 | 33460 | Urban | 1.1075
24130 | Clay County, Minnesota | 2520 | Urban | 0.8486 | 0.8486 | 22020 | Urban | 0.8486
24140 | Clearwater County, Minnesota | 24 | Rural | 0.9132 | 0.9132 | 99924 | Rural | 0.9132
24150 | Cook County, Minnesota | 24 | Rural | 0.9132 | 0.9132 | 99924 | Rural | 0.9132
24160 | Cottonwood County, Minnesota | 24 | Rural | 0.9132 | 0.9132 | 99924 | Rural | 0.9132
24170 | Crow Wing County, Minnesota | 24 | Rural | 0.9132 | 0.9132 | 99924 | Rural | 0.9132
24180 | Dakota County, Minnesota | 5120 | Urban | 1.1075 | 1.1075 | 33460 | Urban | 1.1075
24190 | Dodge County, Minnesota | 24 | Rural | 0.9132 | 1.1131 | 40340 | Urban | 1.0132
24200 | Douglas County, Minnesota | 24 | Rural | 0.9132 | 0.9132 | 99924 | Rural | 0.9132
24210 | Faribault County, Minnesota | 24 | Rural | 0.9132 | 0.9132 | 99924 | Rural | 0.9132
24220 | Fillmore County, Minnesota | 24 | Rural | 0.9132 | 0.9132 | 99924 | Rural | 0.9132
24230 | Freeborn County, Minnesota | 24 | Rural | 0.9132 | 0.9132 | 99924 | Rural | 0.9132
24240 | Goodhue County, Minnesota | 24 | Rural | 0.9132 | 0.9132 | 99924 | Rural | 0.9132
24250 | Grant County, Minnesota | 24 | Rural | 0.9132 | 0.9132 | 99924 | Rural | 0.9132
24260 | Hennepin County, Minnesota | 5120 | Urban | 1.1075 | 1.1075 | 33460 | Urban | 1.1075
24270 | Houston County, Minnesota | 3870 | Urban | 0.9564 | 0.9564 | 29100 | Urban | 0.9564
24280 | Hubbard County, Minnesota | 24 | Rural | 0.9132 | 0.9132 | 99924 | Rural | 0.9132
24290 | Isanti County, Minnesota | 5120 | Urban | 1.1075 | 1.1075 | 33460 | Urban | 1.1075
24300 | Itasca County, Minnesota | 24 | Rural | 0.9132 | 0.9132 | 99924 | Rural | 0.9132
24310 | Jackson County, Minnesota | 24 | Rural | 0.9132 | 0.9132 | 99924 | Rural | 0.9132
24320 | Kanabec County, Minnesota | 24 | Rural | 0.9132 | 0.9132 | 99924 | Rural | 0.9132
24330 | Kandiyohi County, Minnesota | 24 | Rural | 0.9132 | 0.9132 | 99924 | Rural | 0.9132
24340 | Kittson County, Minnesota | 24 | Rural | 0.9132 | 0.9132 | 99924 | Rural | 0.9132
24350 | Koochiching County, Minnesota | 24 | Rural | 0.9132 | 0.9132 | 99924 | Rural | 0.9132
24360 | Lac Qui Parle County, Minnesota | 24 | Rural | 0.9132 | 0.9132 | 99924 | Rural | 0.9132
24370 | Lake County, Minnesota | 24 | Rural | 0.9132 | 0.9132 | 99924 | Rural | 0.9132
24380 | Lake Of Woods County, Minnesota | 24 | Rural | 0.9132 | 0.9132 | 99924 | Rural | 0.9132
24390 | Le Sueur County, Minnesota | 24 | Rural | 0.9132 | 0.9132 | 99924 | Rural | 0.9132
24400 | Lincoln County, Minnesota | 24 | Rural | 0.9132 | 0.9132 | 99924 | Rural | 0.9132
24410 | Lyon County, Minnesota | 24 | Rural | 0.9132 | 0.9132 | 99924 | Rural | 0.9132
24420 | Mc Leod County, Minnesota | 24 | Rural | 0.9132 | 0.9132 | 99924 | Rural | 0.9132
24430 | Mahnomen County, Minnesota | 24 | Rural | 0.9132 | 0.9132 | 99924 | Rural | 0.9132
24440 | Marshall County, Minnesota | 24 | Rural | 0.9132 | 0.9132 | 99924 | Rural | 0.9132
24450 | Martin County, Minnesota | 24 | Rural | 0.9132 | 0.9132 | 99924 | Rural | 0.9132
24460 | Meeker County, Minnesota | 24 | Rural | 0.9132 | 0.9132 | 99924 | Rural | 0.9132
24470 | Mille Lacs County, Minnesota | 24 | Rural | 0.9132 | 0.9132 | 99924 | Rural | 0.9132
24480 | Morrison County, Minnesota | 24 | Rural | 0.9132 | 0.9132 | 99924 | Rural | 0.9132
24490 | Mower County, Minnesota | 24 | Rural | 0.9132 | 0.9132 | 99924 | Rural | 0.9132
24500 | Murray County, Minnesota | 24 | Rural | 0.9132 | 0.9132 | 99924 | Rural | 0.9132
24510 | Nicollet County, Minnesota | 24 | Rural | 0.9132 | 0.9132 | 99924 | Rural | 0.9132
24520 | Nobles County, Minnesota | 24 | Rural | 0.9132 | 0.9132 | 99924 | Rural | 0.9132
24530 | Norman County, Minnesota | 24 | Rural | 0.9132 | 0.9132 | 99924 | Rural | 0.9132
24540 | Olmsted County, Minnesota | 6820 | Urban | 1.1131 | 1.1131 | 40340 | Urban | 1.1131
24550 | Otter Tail County, Minnesota | 24 | Rural | 0.9132 | 0.9132 | 99924 | Rural | 0.9132
24560 | Pennington County, Minnesota | 24 | Rural | 0.9132 | 0.9132 | 99924 | Rural | 0.9132
24570 | Pine County, Minnesota | 24 | Rural | 0.9132 | 0.9132 | 99924 | Rural | 0.9132
24580 | Pipestone County, Minnesota | 24 | Rural | 0.9132 | 0.9132 | 99924 | Rural | 0.9132
24590 | Polk County, Minnesota | 2985 | Urban | 0.7901 | 0.7901 | 24220 | Urban | 0.7901
24600 | Pope County, Minnesota | 24 | Rural | 0.9132 | 0.9132 | 99924 | Rural | 0.9132
24610 | Ramsey County, Minnesota | 5120 | Urban | 1.1075 | 1.1075 | 33460 | Urban | 1.1075
24620 | Red Lake County, Minnesota | 24 | Rural | 0.9132 | 0.9132 | 99924 | Rural | 0.9132
24630 | Redwood County, Minnesota | 24 | Rural | 0.9132 | 0.9132 | 99924 | Rural | 0.9132
24640 | Renville County, Minnesota | 24 | Rural | 0.9132 | 0.9132 | 99924 | Rural | 0.9132
24650 | Rice County, Minnesota | 24 | Rural | 0.9132 | 0.9132 | 99924 | Rural | 0.9132
24660 | Rock County, Minnesota | 24 | Rural | 0.9132 | 0.9132 | 99924 | Rural | 0.9132
24670 | Roseau County, Minnesota | 24 | Rural | 0.9132 | 0.9132 | 99924 | Rural | 0.9132
24680 | St Louis County, Minnesota | 2240 | Urban | 1.0213 | 1.0213 | 20260 | Urban | 1.0213
24690 | Scott County, Minnesota | 5120 | Urban | 1.1075 | 1.1075 | 33460 | Urban | 1.1075
24700 | Sherburne County, Minnesota | 5120 | Urban | 1.1075 | 1.1075 | 33460 | Urban | 1.1075
24710 | Sibley County, Minnesota | 24 | Rural | 0.9132 | 0.9132 | 99924 | Rural | 0.9132
24720 | Stearns County, Minnesota | 6980 | Urban | 0.9965 | 0.9965 | 41060 | Urban | 0.9965
24730 | Steele County, Minnesota | 24 | Rural | 0.9132 | 0.9132 | 99924 | Rural | 0.9132
24740 | Stevens County, Minnesota | 24 | Rural | 0.9132 | 0.9132 | 99924 | Rural | 0.9132
24750 | Swift County, Minnesota | 24 | Rural | 0.9132 | 0.9132 | 99924 | Rural | 0.9132
24760 | Todd County, Minnesota | 24 | Rural | 0.9132 | 0.9132 | 99924 | Rural | 0.9132
24770 | Traverse County, Minnesota | 24 | Rural | 0.9132 | 0.9132 | 99924 | Rural | 0.9132
24780 | Wabasha County, Minnesota | 24 | Rural | 0.9132 | 1.1131 | 40340 | Urban | 1.0132
24790 | Wadena County, Minnesota | 24 | Rural | 0.9132 | 0.9132 | 99924 | Rural | 0.9132
24800 | Waseca County, Minnesota | 24 | Rural | 0.9132 | 0.9132 | 99924 | Rural | 0.9132
24810 | Washington County, Minnesota | 5120 | Urban | 1.1075 | 1.1075 | 33460 | Urban | 1.1075
24820 | Watonwan County, Minnesota | 24 | Rural | 0.9132 | 0.9132 | 99924 | Rural | 0.9132
24830 | Wilkin County, Minnesota | 24 | Rural | 0.9132 | 0.9132 | 99924 | Rural | 0.9132
24840 | Winona County, Minnesota | 24 | Rural | 0.9132 | 0.9132 | 99924 | Rural | 0.9132
24850 | Wright County, Minnesota | 5120 | Urban | 1.1075 | 1.1075 | 33460 | Urban | 1.1075
24860 | Yellow Medicine County, Minnesota | 24 | Rural | 0.9132 | 0.9132 | 99924 | Rural | 0.9132
25000 | Adams County, Mississippi | 25 | Rural | 0.7634 | 0.7674 | 99925 | Rural | 0.7654
25010 | Alcorn County, Mississippi | 25 | Rural | 0.7634 | 0.7674 | 99925 | Rural | 0.7654
25020 | Amite County, Mississippi | 25 | Rural | 0.7634 | 0.7674 | 99925 | Rural | 0.7654
25030 | Attala County, Mississippi | 25 | Rural | 0.7634 | 0.7674 | 99925 | Rural | 0.7654
25040 | Benton County, Mississippi | 25 | Rural | 0.7634 | 0.7674 | 99925 | Rural | 0.7654
25050 | Bolivar County, Mississippi | 25 | Rural | 0.7634 | 0.7674 | 99925 | Rural | 0.7654
25060 | Calhoun County, Mississippi | 25 | Rural | 0.7634 | 0.7674 | 99925 | Rural | 0.7654
25070 | Carroll County, Mississippi | 25 | Rural | 0.7634 | 0.7674 | 99925 | Rural | 0.7654
25080 | Chickasaw County, Mississippi | 25 | Rural | 0.7634 | 0.7674 | 99925 | Rural | 0.7654
25090 | Choctaw County, Mississippi | 25 | Rural | 0.7634 | 0.7674 | 99925 | Rural | 0.7654
25100 | Claiborne County, Mississippi | 25 | Rural | 0.7634 | 0.7674 | 99925 | Rural | 0.7654
25110 | Clarke County, Mississippi | 25 | Rural | 0.7634 | 0.7674 | 99925 | Rural | 0.7654
25120 | Clay County, Mississippi | 25 | Rural | 0.7634 | 0.7674 | 99925 | Rural | 0.7654
25130 | Coahoma County, Mississippi | 25 | Rural | 0.7634 | 0.7674 | 99925 | Rural | 0.7654
25140 | Copiah County, Mississippi | 25 | Rural | 0.7634 | 0.8311 | 27140 | Urban | 0.7973
25150 | Covington County, Mississippi | 25 | Rural | 0.7634 | 0.7674 | 99925 | Rural | 0.7654
25160 | Desoto County, Mississippi | 4920 | Urban | 0.9416 | 0.9397 | 32820 | Urban | 0.9407
25170 | Forrest County, Mississippi | 3285 | Urban | 0.7601 | 0.7601 | 25620 | Urban | 0.7601
25180 | Franklin County, Mississippi | 25 | Rural | 0.7634 | 0.7674 | 99925 | Rural | 0.7654
25190 | George County, Mississippi | 25 | Rural | 0.7634 | 0.8156 | 37700 | Urban | 0.7895
25200 | Greene County, Mississippi | 25 | Rural | 0.7634 | 0.7674 | 99925 | Rural | 0.7654
25210 | Grenada County, Mississippi | 25 | Rural | 0.7634 | 0.7674 | 99925 | Rural | 0.7654
25220 | Hancock County, Mississippi | 0920 | Urban | 0.8706 | 0.8929 | 25060 | Urban | 0.8818
25230 | Harrison County, Mississippi | 0920 | Urban | 0.8706 | 0.8929 | 25060 | Urban | 0.8818
25240 | Hinds County, Mississippi | 3560 | Urban | 0.8382 | 0.8311 | 27140 | Urban | 0.8347
25250 | Holmes County, Mississippi | 25 | Rural | 0.7634 | 0.7674 | 99925 | Rural | 0.7654
25260 | Humphreys County, Mississippi | 25 | Rural | 0.7634 | 0.7674 | 99925 | Rural | 0.7654
25270 | Issaquena County, Mississippi | 25 | Rural | 0.7634 | 0.7674 | 99925 | Rural | 0.7654
25280 | Itawamba County, Mississippi | 25 | Rural | 0.7634 | 0.7674 | 99925 | Rural | 0.7654
25290 | Jackson County, Mississippi | 0920 | Urban | 0.8706 | 0.8156 | 37700 | Urban | 0.8431
25300 | Jasper County, Mississippi | 25 | Rural | 0.7634 | 0.7674 | 99925 | Rural | 0.7654
25310 | Jefferson County, Mississippi | 25 | Rural | 0.7634 | 0.7674 | 99925 | Rural | 0.7654
25320 | Jefferson Davis County, Mississippi | 25 | Rural | 0.7634 | 0.7674 | 99925 | Rural | 0.7654
25330 | Jones County, Mississippi | 25 | Rural | 0.7634 | 0.7674 | 99925 | Rural | 0.7654
25340 | Kemper County, Mississippi | 25 | Rural | 0.7634 | 0.7674 | 99925 | Rural | 0.7654
25350 | Lafayette County, Mississippi | 25 | Rural | 0.7634 | 0.7674 | 99925 | Rural | 0.7654
25360 | Lamar County, Mississippi | 3285 | Urban | 0.7601 | 0.7601 | 25620 | Urban | 0.7601
25370 | Lauderdale County, Mississippi | 25 | Rural | 0.7634 | 0.7674 | 99925 | Rural | 0.7654
25380 | Lawrence County, Mississippi | 25 | Rural | 0.7634 | 0.7674 | 99925 | Rural | 0.7654
25390 | Leake County, Mississippi | 25 | Rural | 0.7634 | 0.7674 | 99925 | Rural | 0.7654
25400 | Lee County, Mississippi | 25 | Rural | 0.7634 | 0.7674 | 99925 | Rural | 0.7654
25410 | Leflore County, Mississippi | 25 | Rural | 0.7634 | 0.7674 | 99925 | Rural | 0.7654
25420 | Lincoln County, Mississippi | 25 | Rural | 0.7634 | 0.7674 | 99925 | Rural | 0.7654
25430 | Lowndes County, Mississippi | 25 | Rural | 0.7634 | 0.7674 | 99925 | Rural | 0.7654
25440 | Madison County, Mississippi | 3560 | Urban | 0.8382 | 0.8311 | 27140 | Urban | 0.8347
25450 | Marion County, Mississippi | 25 | Rural | 0.7634 | 0.7674 | 99925 | Rural | 0.7654
25460 | Marshall County, Mississippi | 25 | Rural | 0.7634 | 0.9397 | 32820 | Urban | 0.8516
25470 | Monroe County, Mississippi | 25 | Rural | 0.7634 | 0.7674 | 99925 | Rural | 0.7654
25480 | Montgomery County, Mississippi | 25 | Rural | 0.7634 | 0.7674 | 99925 | Rural | 0.7654
25490 | Neshoba County, Mississippi | 25 | Rural | 0.7634 | 0.7674 | 99925 | Rural | 0.7654
25500 | Newton County, Mississippi | 25 | Rural | 0.7634 | 0.7674 | 99925 | Rural | 0.7654
25510 | Noxubee County, Mississippi | 25 | Rural | 0.7634 | 0.7674 | 99925 | Rural | 0.7654
25520 | Oktibbeha County, Mississippi | 25 | Rural | 0.7634 | 0.7674 | 99925 | Rural | 0.7654
25530 | Panola County, Mississippi | 25 | Rural | 0.7634 | 0.7674 | 99925 | Rural | 0.7654
25540 | Pearl River County, Mississippi | 25 | Rural | 0.7634 | 0.7674 | 99925 | Rural | 0.7654
25550 | Perry County, Mississippi | 25 | Rural | 0.7634 | 0.7601 | 25620 | Urban | 0.7618
25560 | Pike County, Mississippi | 25 | Rural | 0.7634 | 0.7674 | 99925 | Rural | 0.7654
25570 | Pontotoc County, Mississippi | 25 | Rural | 0.7634 | 0.7674 | 99925 | Rural | 0.7654
25580 | Prentiss County, Mississippi | 25 | Rural | 0.7634 | 0.7674 | 99925 | Rural | 0.7654
25590 | Quitman County, Mississippi | 25 | Rural | 0.7634 | 0.7674 | 99925 | Rural | 0.7654
25600 | Rankin County, Mississippi | 3560 | Urban | 0.8382 | 0.8311 | 27140 | Urban | 0.8347
25610 | Scott County, Mississippi | 25 | Rural | 0.7634 | 0.7674 | 99925 | Rural | 0.7654
25620 | Sharkey County, Mississippi | 25 | Rural | 0.7634 | 0.7674 | 99925 | Rural | 0.7654
25630 | Simpson County, Mississippi | 25 | Rural | 0.7634 | 0.8311 | 27140 | Urban | 0.7973
25640 | Smith County, Mississippi | 25 | Rural | 0.7634 | 0.7674 | 99925 | Rural | 0.7654
25650 | Stone County, Mississippi | 25 | Rural | 0.7634 | 0.8929 | 25060 | Urban | 0.8282
25660 | Sunflower County, Mississippi | 25 | Rural | 0.7634 | 0.7674 | 99925 | Rural | 0.7654
25670 | Tallahatchie County, Mississippi | 25 | Rural | 0.7634 | 0.7674 | 99925 | Rural | 0.7654
25680 | Tate County, Mississippi | 25 | Rural | 0.7634 | 0.9397 | 32820 | Urban | 0.8516
25690 | Tippah County, Mississippi | 25 | Rural | 0.7634 | 0.7674 | 99925 | Rural | 0.7654
25700 | Tishomingo County, Mississippi | 25 | Rural | 0.7634 | 0.7674 | 99925 | Rural | 0.7654
25710 | Tunica County, Mississippi | 25 | Rural | 0.7634 | 0.9397 | 32820 | Urban | 0.8516
25720 | Union County, Mississippi | 25 | Rural | 0.7634 | 0.7674 | 99925 | Rural | 0.7654
25730 | Walthall County, Mississippi | 25 | Rural | 0.7634 | 0.7674 | 99925 | Rural | 0.7654
25740 | Warren County, Mississippi | 25 | Rural | 0.7634 | 0.7674 | 99925 | Rural | 0.7654
25750 | Washington County, Mississippi | 25 | Rural | 0.7634 | 0.7674 | 99925 | Rural | 0.7654
25760 | Wayne County, Mississippi | 25 | Rural | 0.7634 | 0.7674 | 99925 | Rural | 0.7654
25770 | Webster County, Mississippi | 25 | Rural | 0.7634 | 0.7674 | 99925 | Rural | 0.7654
25780 | Wilkinson County, Mississippi | 25 | Rural | 0.7634 | 0.7674 | 99925 | Rural | 0.7654
25790 | Winston County, Mississippi | 25 | Rural | 0.7634 | 0.7674 | 99925 | Rural | 0.7654
25800 | Yalobusha County, Mississippi | 25 | Rural | 0.7634 | 0.7674 | 99925 | Rural | 0.7654
25810 | Yazoo County, Mississippi | 25 | Rural | 0.7634 | 0.7674 | 99925 | Rural | 0.7654
26000 | Adair County, Missouri | 26 | Rural | 0.7959 | 0.7900 | 99926 | Rural | 0.7930
26010 | Andrew County, Missouri | 7000 | Urban | 0.9519 | 0.9519 | 41140 | Urban | 0.9519
26020 | Atchison County, Missouri | 26 | Rural | 0.7959 | 0.7900 | 99926 | Rural | 0.7930
26030 | Audrain County, Missouri | 26 | Rural | 0.7959 | 0.7900 | 99926 | Rural | 0.7930
26040 | Barry County, Missouri | 26 | Rural | 0.7959 | 0.7900 | 99926 | Rural | 0.7930
26050 | Barton County, Missouri | 26 | Rural | 0.7959 | 0.7900 | 99926 | Rural | 0.7930
26060 | Bates County, Missouri | 26 | Rural | 0.7959 | 0.9476 | 28140 | Urban | 0.8718
26070 | Benton County, Missouri | 26 | Rural | 0.7959 | 0.7900 | 99926 | Rural | 0.7930
26080 | Bollinger County, Missouri | 26 | Rural | 0.7959 | 0.7900 | 99926 | Rural | 0.7930
26090 | Boone County, Missouri | 1740 | Urban | 0.8345 | 0.8345 | 17860 | Urban | 0.8345
26100 | Buchanan County, Missouri | 7000 | Urban | 0.9519 | 0.9519 | 41140 | Urban | 0.9519
26110 | Butler County, Missouri | 26 | Rural | 0.7959 | 0.7900 | 99926 | Rural | 0.7930
26120 | Caldwell County, Missouri | 26 | Rural | 0.7959 | 0.9476 | 28140 | Urban | 0.8718
26130 | Callaway County, Missouri | 26 | Rural | 0.7959 | 0.8387 | 27620 | Urban | 0.8173
26140 | Camden County, Missouri | 26 | Rural | 0.7959 | 0.7900 | 99926 | Rural | 0.7930
26150 | Cape Girardeau County, Missouri | 26 | Rural | 0.7959 | 0.7900 | 99926 | Rural | 0.7930
26160 | Carroll County, Missouri | 26 | Rural | 0.7959 | 0.7900 | 99926 | Rural | 0.7930
26170 | Carter County, Missouri | 26 | Rural | 0.7959 | 0.7900 | 99926 | Rural | 0.7930
26180 | Cass County, Missouri | 3760 | Urban | 0.9490 | 0.9476 | 28140 | Urban | 0.9483
26190 | Cedar County, Missouri | 26 | Rural | 0.7959 | 0.7900 | 99926 | Rural | 0.7930
26200 | Chariton County, Missouri | 26 | Rural | 0.7959 | 0.7900 | 99926 | Rural | 0.7930
26210 | Christian County, Missouri | 7920 | Urban | 0.8250 | 0.8237 | 44180 | Urban | 0.8244
26220 | Clark County, Missouri | 26 | Rural | 0.7959 | 0.7900 | 99926 | Rural | 0.7930
26230 | Clay County, Missouri | 3760 | Urban | 0.9490 | 0.9476 | 28140 | Urban | 0.9483
26240 | Clinton County, Missouri | 3760 | Urban | 0.9490 | 0.9476 | 28140 | Urban | 0.9483
26250 | Cole County, Missouri | 26 | Rural | 0.7959 | 0.8387 | 27620 | Urban | 0.8173
26260 | Cooper County, Missouri | 26 | Rural | 0.7959 | 0.7900 | 99926 | Rural | 0.7930
26270 | Crawford County, Missouri | 26 | Rural | 0.7959 | 0.8954 | 41180 | Urban | 0.8457
26280 | Dade County, Missouri | 26 | Rural | 0.7959 | 0.7900 | 99926 | Rural | 0.7930
26290 | Dallas County, Missouri | 26 | Rural | 0.7959 | 0.8237 | 44180 | Urban | 0.8098
26300 | Daviess County, Missouri | 26 | Rural | 0.7959 | 0.7900 | 99926 | Rural | 0.7930
26310 | De Kalb County, Missouri | 26 | Rural | 0.7959 | 0.9519 | 41140 | Urban | 0.8739
26320 | Dent County, Missouri | 26 | Rural | 0.7959 | 0.7900 | 99926 | Rural | 0.7930
26330 | Douglas County, Missouri | 26 | Rural | 0.7959 | 0.7900 | 99926 | Rural | 0.7930
26340 | Dunklin County, Missouri | 26 | Rural | 0.7959 | 0.7900 | 99926 | Rural | 0.7930
26350 | Franklin County, Missouri | 7040 | Urban | 0.8962 | 0.8954 | 41180 | Urban | 0.8958
26360 | Gasconade County, Missouri | 26 | Rural | 0.7959 | 0.7900 | 99926 | Rural | 0.7930
26370 | Gentry County, Missouri | 26 | Rural | 0.7959 | 0.7900 | 99926 | Rural | 0.7930
26380 | Greene County, Missouri | 7920 | Urban | 0.8250 | 0.8237 | 44180 | Urban | 0.8244
26390 | Grundy County, Missouri | 26 | Rural | 0.7959 | 0.7900 | 99926 | Rural | 0.7930
26400 | Harrison County, Missouri | 26 | Rural | 0.7959 | 0.7900 | 99926 | Rural | 0.7930
26410 | Henry County, Missouri | 26 | Rural | 0.7959 | 0.7900 | 99926 | Rural | 0.7930
26411 | Hickory County, Missouri | 26 | Rural | 0.7959 | 0.7900 | 99926 | Rural | 0.7930
26412 | Holt County, Missouri | 26 | Rural | 0.7959 | 0.7900 | 99926 | Rural | 0.7930
26440 | Howard County, Missouri | 26 | Rural | 0.7959 | 0.8345 | 17860 | Urban | 0.8152
26450 | Howell County, Missouri | 26 | Rural | 0.7959 | 0.7900 | 99926 | Rural | 0.7930
26460 | Iron County, Missouri | 26 | Rural | 0.7959 | 0.7900 | 99926 | Rural | 0.7930
26470 | Jackson County, Missouri | 3760 | Urban | 0.9490 | 0.9476 | 28140 | Urban | 0.9483
26480 | Jasper County, Missouri | 3710 | Urban | 0.8582 | 0.8582 | 27900 | Urban | 0.8582
26490 | Jefferson County, Missouri | 7040 | Urban | 0.8962 | 0.8954 | 41180 | Urban | 0.8958
26500 | Johnson County, Missouri | 26 | Rural | 0.7959 | 0.7900 | 99926 | Rural | 0.7930
26510 | Knox County, Missouri | 26 | Rural | 0.7959 | 0.7900 | 99926 | Rural | 0.7930
26520 | Laclede County, Missouri | 26 | Rural | 0.7959 | 0.7900 | 99926 | Rural | 0.7930
26530 | Lafayette County, Missouri | 3760 | Urban | 0.9490 | 0.9476 | 28140 | Urban | 0.9483
26540 | Lawrence County, Missouri | 26 | Rural | 0.7959 | 0.7900 | 99926 | Rural | 0.7930
26541 | Lewis County, Missouri | 26 | Rural | 0.7959 | 0.7900 | 99926 | Rural | 0.7930
26560 | Lincoln County, Missouri | 7040 | Urban | 0.8962 | 0.8954 | 41180 | Urban | 0.8958
26570 | Linn County, Missouri | 26 | Rural | 0.7959 | 0.7900 | 99926 | Rural | 0.7930
26580 | Livingston County, Missouri | 26 | Rural | 0.7959 | 0.7900 | 99926 | Rural | 0.7930
26590 | Mc Donald County, Missouri | 26 | Rural | 0.7959 | 0.8661 | 22220 | Urban | 0.8310
26600 | Macon County, Missouri | 26 | Rural | 0.7959 | 0.7900 | 99926 | Rural | 0.7930
26601 | Madison County, Missouri | 26 | Rural | 0.7959 | 0.7900 | 99926 | Rural | 0.7930
26620 | Maries County, Missouri | 26 | Rural | 0.7959 | 0.7900 | 99926 | Rural | 0.7930
26630 | Marion County, Missouri | 26 | Rural | 0.7959 | 0.7900 | 99926 | Rural | 0.7930
26631 | Mercer County, Missouri | 26 | Rural | 0.7959 | 0.7900 | 99926 | Rural | 0.7930
26650 | Miller County, Missouri | 26 | Rural | 0.7959 | 0.7900 | 99926 | Rural | 0.7930
26660 | Mississippi County, Missouri | 26 | Rural | 0.7959 | 0.7900 | 99926 | Rural | 0.7930
26670 | Moniteau County, Missouri | 26 | Rural | 0.7959 | 0.8387 | 27620 | Urban | 0.8173
26680 | Monroe County, Missouri | 26 | Rural | 0.7959 | 0.7900 | 99926 | Rural | 0.7930
26690 | Montgomery County, Missouri | 26 | Rural | 0.7959 | 0.7900 | 99926 | Rural | 0.7930
26700 | Morgan County, Missouri | 26 | Rural | 0.7959 | 0.7900 | 99926 | Rural | 0.7930
26710 | New Madrid County, Missouri | 26 | Rural | 0.7959 | 0.7900 | 99926 | Rural | 0.7930
26720 | Newton County, Missouri | 3710 | Urban | 0.8582 | 0.8582 | 27900 | Urban | 0.8582
26730 | Nodaway County, Missouri | 26 | Rural | 0.7959 | 0.7900 | 99926 | Rural | 0.7930
26740 | Oregon County, Missouri | 26 | Rural | 0.7959 | 0.7900 | 99926 | Rural | 0.7930
26750 | Osage County, Missouri | 26 | Rural | 0.7959 | 0.8387 | 27620 | Urban | 0.8173
26751 | Ozark County, Missouri | 26 | Rural | 0.7959 | 0.7900 | 99926 | Rural | 0.7930
26770 | Pemiscot County, Missouri | 26 | Rural | 0.7959 | 0.7900 | 99926 | Rural | 0.7930
26780 | Perry County, Missouri | 26 | Rural | 0.7959 | 0.7900 | 99926 | Rural | 0.7930
26790 | Pettis County, Missouri | 26 | Rural | 0.7959 | 0.7900 | 99926 | Rural | 0.7930
26800 | Phelps County, Missouri | 26 | Rural | 0.7959 | 0.7900 | 99926 | Rural | 0.7930
26810 | Pike County, Missouri | 26 | Rural | 0.7959 | 0.7900 | 99926 | Rural | 0.7930
26820 | Platte County, Missouri | 3760 | Urban | 0.9490 | 0.9476 | 28140 | Urban | 0.9483
26821 | Polk County, Missouri | 26 | Rural | 0.7959 | 0.8237 | 44180 | Urban | 0.8098
26840 | Pulaski County, Missouri | 26 | Rural | 0.7959 | 0.7900 | 99926 | Rural | 0.7930
26850 | Putnam County, Missouri | 26 | Rural | 0.7959 | 0.7900 | 99926 | Rural | 0.7930
26860 | Ralls County, Missouri | 26 | Rural | 0.7959 | 0.7900 | 99926 | Rural | 0.7930
26870 | Randolph County, Missouri | 26 | Rural | 0.7959 | 0.7900 | 99926 | Rural | 0.7930
26880 | Ray County, Missouri | 3760 | Urban | 0.9490 | 0.9476 | 28140 | Urban | 0.9483
26881 | Reynolds County, Missouri | 26 | Rural | 0.7959 | 0.7900 | 99926 | Rural | 0.7930
26900 | Ripley County, Missouri | 26 | Rural | 0.7959 | 0.7900 | 99926 | Rural | 0.7930
26910 | St Charles County, Missouri | 7040 | Urban | 0.8962 | 0.8954 | 41180 | Urban | 0.8958
26911 | St Clair County, Missouri | 26 | Rural | 0.7959 | 0.7900 | 99926 | Rural | 0.7930
26930 | St Francois County, Missouri | 26 | Rural | 0.7959 | 0.7900 | 99926 | Rural | 0.7930
26940 | St Louis County, Missouri | 7040 | Urban | 0.8962 | 0.8954 | 41180 | Urban | 0.8958
26950 | St Louis City County, Missouri | 7040 | Urban | 0.8962 | 0.8954 | 41180 | Urban | 0.8958
26960 | Ste Genevieve County, Missouri | 26 | Rural | 0.7959 | 0.7900 | 99926 | Rural | 0.7930
26970 | Saline County, Missouri | 26 | Rural | 0.7959 | 0.7900 | 99926 | Rural | 0.7930
26980 | Schuyler County, Missouri | 26 | Rural | 0.7959 | 0.7900 | 99926 | Rural | 0.7930
26981 | Scotland County, Missouri | 26 | Rural | 0.7959 | 0.7900 | 99926 | Rural | 0.7930
26982 | Scott County, Missouri | 26 | Rural | 0.7959 | 0.7900 | 99926 | Rural | 0.7930
26983 | Shannon County, Missouri | 26 | Rural | 0.7959 | 0.7900 | 99926 | Rural | 0.7930
26984 | Shelby County, Missouri | 26 | Rural | 0.7959 | 0.7900 | 99926 | Rural | 0.7930
26985 | Stoddard County, Missouri | 26 | Rural | 0.7959 | 0.7900 | 99926 | Rural | 0.7930
26986 | Stone County, Missouri | 26 | Rural | 0.7959 | 0.7900 | 99926 | Rural | 0.7930
26987 | Sullivan County, Missouri | 26 | Rural | 0.7959 | 0.7900 | 99926 | Rural | 0.7930
26988 | Taney County, Missouri | 26 | Rural | 0.7959 | 0.7900 | 99926 | Rural | 0.7930
26989 | Texas County, Missouri | 26 | Rural | 0.7959 | 0.7900 | 99926 | Rural | 0.7930
26990 | Vernon County, Missouri | 26 | Rural | 0.7959 | 0.7900 | 99926 | Rural | 0.7930
26991 | Warren County, Missouri | 7040 | Urban | 0.8962 | 0.8954 | 41180 | Urban | 0.8958
26992 | Washington County, Missouri | 26 | Rural | 0.7959 | 0.8954 | 41180 | Urban | 0.8457
26993 | Wayne County, Missouri | 26 | Rural | 0.7959 | 0.7900 | 99926 | Rural | 0.7930
26994 | Webster County, Missouri | 7920 | Urban | 0.8250 | 0.8237 | 44180 | Urban | 0.8244
26995 | Worth County, Missouri | 26 | Rural | 0.7959 | 0.7900 | 99926 | Rural | 0.7930
26996 | Wright County, Missouri | 26 | Rural | 0.7959 | 0.7900 | 99926 | Rural | 0.7930
27000 | Beaverhead County, Montana | 27 | Rural | 0.8762 | 0.8762 | 99927 | Rural | 0.8762
27010 | Big Horn County, Montana | 27 | Rural | 0.8762 | 0.8762 | 99927 | Rural | 0.8762
27020 | Blaine County, Montana | 27 | Rural | 0.8762 | 0.8762 | 99927 | Rural | 0.8762
27030 | Broadwater County, Montana | 27 | Rural | 0.8762 | 0.8762 | 99927 | Rural | 0.8762
27040 | Carbon County, Montana | 27 | Rural | 0.8762 | 0.8834 | 13740 | Urban | 0.8798
27050 | Carter County, Montana | 27 | Rural | 0.8762 | 0.8762 | 99927 | Rural | 0.8762
27060 | Cascade County, Montana | 3040 | Urban | 0.9052 | 0.9052 | 24500 | Urban | 0.9052
27070 | Chouteau County, Montana | 27 | Rural | 0.8762 | 0.8762 | 99927 | Rural | 0.8762
27080 | Custer County, Montana | 27 | Rural | 0.8762 | 0.8762 | 99927 | Rural | 0.8762
27090 | Daniels County, Montana | 27 | Rural | 0.8762 | 0.8762 | 99927 | Rural | 0.8762
27100 | Dawson County, Montana | 27 | Rural | 0.8762 | 0.8762 | 99927 | Rural | 0.8762
27110 | Deer Lodge County, Montana | 27 | Rural | 0.8762 | 0.8762 | 99927 | Rural | 0.8762
27113 | Yellowstone National Park, Montana | 27 | Rural | 0.8762 | 0.8762 | 99927 | Rural | 0.8762
27120 | Fallon County, Montana | 27 | Rural | 0.8762 | 0.8762 | 99927 | Rural | 0.8762
D27130 | Fergus County, Montana | 27 | Rural | 0.8762 | 0.8762 | 99927 | Rural | 0.8762
27140 | Flathead County, Montana | 27 | Rural | 0.8762 | 0.8762 | 99927 | Rural | 0.8762
27150 | Gallatin County, Montana | 27 | Rural | 0.8762 | 0.8762 | 99927 | Rural | 0.8762
27160 | Garfield County, Montana | 27 | Rural | 0.8762 | 0.8762 | 99927 | Rural | 0.8762
27170 | Glacier County, Montana | 27 | Rural | 0.8762 | 0.8762 | 99927 | Rural | 0.8762
27180 | Golden Valley County, Montana | 27 | Rural | 0.8762 | 0.8762 | 99927 | Rural | 0.8762
27190 | Granite County, Montana | 27 | Rural | 0.8762 | 0.8762 | 99927 | Rural | 0.8762
27200 | Hill County, Montana | 27 | Rural | 0.8762 | 0.8762 | 99927 | Rural | 0.8762
27210 | Jefferson County, Montana | 27 | Rural | 0.8762 | 0.8762 | 99927 | Rural | 0.8762
27220 | Judith Basin County, Montana | 27 | Rural | 0.8762 | 0.8762 | 99927 | Rural | 0.8762
27230 | Lake County, Montana | 27 | Rural | 0.8762 | 0.8762 | 99927 | Rural | 0.8762
27240 | Lewis And Clark County, Montana | 27 | Rural | 0.8762 | 0.8762 | 99927 | Rural | 0.8762
27250 | Liberty County, Montana | 27 | Rural | 0.8762 | 0.8762 | 99927 | Rural | 0.8762
27260 | Lincoln County, Montana | 27 | Rural | 0.8762 | 0.8762 | 99927 | Rural | 0.8762
27270 | Mc Cone County, Montana | 27 | Rural | 0.8762 | 0.8762 | 99927 | Rural | 0.8762
27280 | Madison County, Montana | 27 | Rural | 0.8762 | 0.8762 | 99927 | Rural | 0.8762
27290 | Meagher County, Montana | 27 | Rural | 0.8762 | 0.8762 | 99927 | Rural | 0.8762
27300 | Mineral County, Montana | 27 | Rural | 0.8762 | 0.8762 | 99927 | Rural | 0.8762
27310 | Missoula County, Montana | 5140 | Urban | 0.9473 | 0.9473 | 33540 | Urban | 0.9473
27320 | Musselshell County, Montana | 27 | Rural | 0.8762 | 0.8762 | 99927 | Rural | 0.8762
27330 | Park County, Montana | 27 | Rural | 0.8762 | 0.8762 | 99927 | Rural | 0.8762
27340 | Petroleum County, Montana | 27 | Rural | 0.8762 | 0.8762 | 99927 | Rural | 0.8762
27350 | Phillips County, Montana | 27 | Rural | 0.8762 | 0.8762 | 99927 | Rural | 0.8762
27360 | Pondera County, Montana | 27 | Rural | 0.8762 | 0.8762 | 99927 | Rural | 0.8762
27370 | Powder River County, Montana | 27 | Rural | 0.8762 | 0.8762 | 99927 | Rural | 0.8762
27380 | Powell County, Montana | 27 | Rural | 0.8762 | 0.8762 | 99927 | Rural | 0.8762
27390 | Prairie County, Montana | 27 | Rural | 0.8762 | 0.8762 | 99927 | Rural | 0.8762
27400 | Ravalli County, Montana | 27 | Rural | 0.8762 | 0.8762 | 99927 | Rural | 0.8762
27410 | Richland County, Montana | 27 | Rural | 0.8762 | 0.8762 | 99927 | Rural | 0.8762
27420 | Roosevelt County, Montana | 27 | Rural | 0.8762 | 0.8762 | 99927 | Rural | 0.8762
27430 | Rosebud County, Montana | 27 | Rural | 0.8762 | 0.8762 | 99927 | Rural | 0.8762
27440 | Sanders County, Montana | 27 | Rural | 0.8762 | 0.8762 | 99927 | Rural | 0.8762
27450 | Sheridan County, Montana | 27 | Rural | 0.8762 | 0.8762 | 99927 | Rural | 0.8762
27460 | Silver Bow County, Montana | 27 | Rural | 0.8762 | 0.8762 | 99927 | Rural | 0.8762
27470 | Stillwater County, Montana | 27 | Rural | 0.8762 | 0.8762 | 99927 | Rural | 0.8762
27480 | Sweet Grass County, Montana | 27 | Rural | 0.8762 | 0.8762 | 99927 | Rural | 0.8762
27490 | Teton County, Montana | 27 | Rural | 0.8762 | 0.8762 | 99927 | Rural | 0.8762
27500 | Toole County, Montana | 27 | Rural | 0.8762 | 0.8762 | 99927 | Rural | 0.8762
27510 | Treasure County, Montana | 27 | Rural | 0.8762 | 0.8762 | 99927 | Rural | 0.8762
27520 | Valley County, Montana | 27 | Rural | 0.8762 | 0.8762 | 99927 | Rural | 0.8762
27530 | Wheatland County, Montana | 27 | Rural | 0.8762 | 0.8762 | 99927 | Rural | 0.8762
27540 | Wibaux County, Montana | 27 | Rural | 0.8762 | 0.8762 | 99927 | Rural | 0.8762
27550 | Yellowstone County, Montana | 0880 | Urban | 0.8834 | 0.8834 | 13740 | Urban | 0.8834
28000 | Adams County, Nebraska | 28 | Rural | 0.8657 | 0.8657 | 99928 | Rural | 0.8657
28010 | Antelope County, Nebraska | 28 | Rural | 0.8657 | 0.8657 | 99928 | Rural | 0.8657
28020 | Arthur County, Nebraska | 28 | Rural | 0.8657 | 0.8657 | 99928 | Rural | 0.8657
28030 | Banner County, Nebraska | 28 | Rural | 0.8657 | 0.8657 | 99928 | Rural | 0.8657
28040 | Blaine County, Nebraska | 28 | Rural | 0.8657 | 0.8657 | 99928 | Rural | 0.8657
28050 | Boone County, Nebraska | 28 | Rural | 0.8657 | 0.8657 | 99928 | Rural | 0.8657
28060 | Box Butte County, Nebraska | 28 | Rural | 0.8657 | 0.8657 | 99928 | Rural | 0.8657
28070 | Boyd County, Nebraska | 28 | Rural | 0.8657 | 0.8657 | 99928 | Rural | 0.8657
28080 | Brown County, Nebraska | 28 | Rural | 0.8657 | 0.8657 | 99928 | Rural | 0.8657
28090 | Buffalo County, Nebraska | 28 | Rural | 0.8657 | 0.8657 | 99928 | Rural | 0.8657
28100 | Burt County, Nebraska | 28 | Rural | 0.8657 | 0.8657 | 99928 | Rural | 0.8657
28110 | Butler County, Nebraska | 28 | Rural | 0.8657 | 0.8657 | 99928 | Rural | 0.8657
28120 | Cass County, Nebraska | 5920 | Urban | 0.9560 | 0.9560 | 36540 | Urban | 0.9560
28130 | Cedar County, Nebraska | 28 | Rural | 0.8657 | 0.8657 | 99928 | Rural | 0.8657
28140 | Chase County, Nebraska | 28 | Rural | 0.8657 | 0.8657 | 99928 | Rural | 0.8657
28150 | Cherry County, Nebraska | 28 | Rural | 0.8657 | 0.8657 | 99928 | Rural | 0.8657
28160 | Cheyenne County, Nebraska | 28 | Rural | 0.8657 | 0.8657 | 99928 | Rural | 0.8657
28170 | Clay County, Nebraska | 28 | Rural | 0.8657 | 0.8657 | 99928 | Rural | 0.8657
28180 | Colfax County, Nebraska | 28 | Rural | 0.8657 | 0.8657 | 99928 | Rural | 0.8657
28190 | Cuming County, Nebraska | 28 | Rural | 0.8657 | 0.8657 | 99928 | Rural | 0.8657
28200 | Custer County, Nebraska | 28 | Rural | 0.8657 | 0.8657 | 99928 | Rural | 0.8657
28210 | Dakota County, Nebraska | 7720 | Urban | 0.9416 | 0.9381 | 43580 | Urban | 0.9399
28220 | Dawes County, Nebraska | 28 | Rural | 0.8657 | 0.8657 | 99928 | Rural | 0.8657
28230 | Dawson County, Nebraska | 28 | Rural | 0.8657 | 0.8657 | 99928 | Rural | 0.8657
28240 | Deuel County, Nebraska | 28 | Rural | 0.8657 | 0.8657 | 99928 | Rural | 0.8657
28250 | Dixon County, Nebraska | 28 | Rural | 0.8657 | 0.9381 | 43580 | Urban | 0.9019
28260 | Dodge County, Nebraska | 28 | Rural | 0.8657 | 0.8657 | 99928 | Rural | 0.8657
28270 | Douglas County, Nebraska | 5920 | Urban | 0.9560 | 0.9560 | 36540 | Urban | 0.9560
28280 | Dundy County, Nebraska | 28 | Rural | 0.8657 | 0.8657 | 99928 | Rural | 0.8657
28290 | Fillmore County, Nebraska | 28 | Rural | 0.8657 | 0.8657 | 99928 | Rural | 0.8657
28300 | Franklin County, Nebraska | 28 | Rural | 0.8657 | 0.8657 | 99928 | Rural | 0.8657
28310 | Frontier County, Nebraska | 28 | Rural | 0.8657 | 0.8657 | 99928 | Rural | 0.8657
28320 | Furnas County, Nebraska | 28 | Rural | 0.8657 | 0.8657 | 99928 | Rural | 0.8657
28330 | Gage County, Nebraska | 28 | Rural | 0.8657 | 0.8657 | 99928 | Rural | 0.8657
28340 | Garden County, Nebraska | 28 | Rural | 0.8657 | 0.8657 | 99928 | Rural | 0.8657
28350 | Garfield County, Nebraska | 28 | Rural | 0.8657 | 0.8657 | 99928 | Rural | 0.8657
28360 | Gosper County, Nebraska | 28 | Rural | 0.8657 | 0.8657 | 99928 | Rural | 0.8657
28370 | Grant County, Nebraska | 28 | Rural | 0.8657 | 0.8657 | 99928 | Rural | 0.8657
28380 | Greeley County, Nebraska | 28 | Rural | 0.8657 | 0.8657 | 99928 | Rural | 0.8657
28390 | Hall County, Nebraska | 28 | Rural | 0.8657 | 0.8657 | 99928 | Rural | 0.8657
28400 | Hamilton County, Nebraska | 28 | Rural | 0.8657 | 0.8657 | 99928 | Rural | 0.8657
28410 | Harlan County, Nebraska | 28 | Rural | 0.8657 | 0.8657 | 99928 | Rural | 0.8657
28420 | Hayes County, Nebraska | 28 | Rural | 0.8657 | 0.8657 | 99928 | Rural | 0.8657
28430 | Hitchcock County, Nebraska | 28 | Rural | 0.8657 | 0.8657 | 99928 | Rural | 0.8657
28440 | Holt County, Nebraska | 28 | Rural | 0.8657 | 0.8657 | 99928 | Rural | 0.8657
28450 | Hooker County, Nebraska | 28 | Rural | 0.8657 | 0.8657 | 99928 | Rural | 0.8657
28460 | Howard County, Nebraska | 28 | Rural | 0.8657 | 0.8657 | 99928 | Rural | 0.8657
28470 | Jefferson County, Nebraska | 28 | Rural | 0.8657 | 0.8657 | 99928 | Rural | 0.8657
28480 | Johnson County, Nebraska | 28 | Rural | 0.8657 | 0.8657 | 99928 | Rural | 0.8657
28490 | Kearney County, Nebraska | 28 | Rural | 0.8657 | 0.8657 | 99928 | Rural | 0.8657
28500 | Keith County, Nebraska | 28 | Rural | 0.8657 | 0.8657 | 99928 | Rural | 0.8657
28510 | Keya Paha County, Nebraska | 28 | Rural | 0.8657 | 0.8657 | 99928 | Rural | 0.8657
28520 | Kimball County, Nebraska | 28 | Rural | 0.8657 | 0.8657 | 99928 | Rural | 0.8657
28530 | Knox County, Nebraska | 28 | Rural | 0.8657 | 0.8657 | 99928 | Rural | 0.8657
28540 | Lancaster County, Nebraska | 4360 | Urban | 1.0214 | 1.0214 | 30700 | Urban | 1.0214
28550 | Lincoln County, Nebraska | 28 | Rural | 0.8657 | 0.8657 | 99928 | Rural | 0.8657
28560 | Logan County, Nebraska | 28 | Rural | 0.8657 | 0.8657 | 99928 | Rural | 0.8657
28570 | Loup County, Nebraska | 28 | Rural | 0.8657 | 0.8657 | 99928 | Rural | 0.8657
28580 | Mc Pherson County, Nebraska | 28 | Rural | 0.8657 | 0.8657 | 99928 | Rural | 0.8657
28590 | Madison County, Nebraska | 28 | Rural | 0.8657 | 0.8657 | 99928 | Rural | 0.8657
28600 | Merrick County, Nebraska | 28 | Rural | 0.8657 | 0.8657 | 99928 | Rural | 0.8657
28610 | Morrill County, Nebraska | 28 | Rural | 0.8657 | 0.8657 | 99928 | Rural | 0.8657
28620 | Nance County, Nebraska | 28 | Rural | 0.8657 | 0.8657 | 99928 | Rural | 0.8657
28630 | Nemaha County, Nebraska | 28 | Rural | 0.8657 | 0.8657 | 99928 | Rural | 0.8657
28640 | Nuckolls County, Nebraska | 28 | Rural | 0.8657 | 0.8657 | 99928 | Rural | 0.8657
28650 | Otoe County, Nebraska | 28 | Rural | 0.8657 | 0.8657 | 99928 | Rural | 0.8657
28660 | Pawnee County, Nebraska | 28 | Rural | 0.8657 | 0.8657 | 99928 | Rural | 0.8657
28670 | Perkins County, Nebraska | 28 | Rural | 0.8657 | 0.8657 | 99928 | Rural | 0.8657
28680 | Phelps County, Nebraska | 28 | Rural | 0.8657 | 0.8657 | 99928 | Rural | 0.8657
28690 | Pierce County, Nebraska | 28 | Rural | 0.8657 | 0.8657 | 99928 | Rural | 0.8657
28700 | Platte County, Nebraska | 28 | Rural | 0.8657 | 0.8657 | 99928 | Rural | 0.8657
28710 | Polk County, Nebraska | 28 | Rural | 0.8657 | 0.8657 | 99928 | Rural | 0.8657
28720 | Redwillow County, Nebraska | 28 | Rural | 0.8657 | 0.8657 | 99928 | Rural | 0.8657
28730 | Richardson County, Nebraska | 28 | Rural | 0.8657 | 0.8657 | 99928 | Rural | 0.8657
28740 | Rock County, Nebraska | 28 | Rural | 0.8657 | 0.8657 | 99928 | Rural | 0.8657
28750 | Saline County, Nebraska | 28 | Rural | 0.8657 | 0.8657 | 99928 | Rural | 0.8657
28760 | Sarpy County, Nebraska | 5920 | Urban | 0.9560 | 0.9560 | 36540 | Urban | 0.9560
28770 | Saunders County, Nebraska | 28 | Rural | 0.8657 | 0.9560 | 36540 | Urban | 0.9109
28780 | Scotts Bluff County, Nebraska | 28 | Rural | 0.8657 | 0.8657 | 99928 | Rural | 0.8657
28790 | Seward County, Nebraska | 28 | Rural | 0.8657 | 1.0214 | 30700 | Urban | 0.9436
28800 | Sheridan County, Nebraska | 28 | Rural | 0.8657 | 0.8657 | 99928 | Rural | 0.8657
28810 | Sherman County, Nebraska | 28 | Rural | 0.8657 | 0.8657 | 99928 | Rural | 0.8657
28820 | Sioux County, Nebraska | 28 | Rural | 0.8657 | 0.8657 | 99928 | Rural | 0.8657
28830 | Stanton County, Nebraska | 28 | Rural | 0.8657 | 0.8657 | 99928 | Rural | 0.8657
28840 | Thayer County, Nebraska | 28 | Rural | 0.8657 | 0.8657 | 99928 | Rural | 0.8657
28850 | Thomas County, Nebraska | 28 | Rural | 0.8657 | 0.8657 | 99928 | Rural | 0.8657
28860 | Thurston County, Nebraska | 28 | Rural | 0.8657 | 0.8657 | 99928 | Rural | 0.8657
28870 | Valley County, Nebraska | 28 | Rural | 0.8657 | 0.8657 | 99928 | Rural | 0.8657
28880 | Washington County, Nebraska | 5920 | Urban | 0.9560 | 0.9560 | 36540 | Urban | 0.9560
28890 | Wayne County, Nebraska | 28 | Rural | 0.8657 | 0.8657 | 99928 | Rural | 0.8657
28900 | Webster County, Nebraska | 28 | Rural | 0.8657 | 0.8657 | 99928 | Rural | 0.8657
28910 | Wheeler County, Nebraska | 28 | Rural | 0.8657 | 0.8657 | 99928 | Rural | 0.8657
28920 | York County, Nebraska | 28 | Rural | 0.8657 | 0.8657 | 99928 | Rural | 0.8657
29000 | Churchill County, Nevada | 29 | Rural | 0.9687 | 0.9065 | 99929 | Rural | 0.9376
29010 | Clark County, Nevada | 4120 | Urban | 1.1155 | 1.1437 | 29820 | Urban | 1.1296
29020 | Douglas County, Nevada | 29 | Rural | 0.9687 | 0.9065 | 99929 | Rural | 0.9376
29030 | Elko County, Nevada | 29 | Rural | 0.9687 | 0.9065 | 99929 | Rural | 0.9376
29040 | Esmeralda County, Nevada | 29 | Rural | 0.9687 | 0.9065 | 99929 | Rural | 0.9376
29050 | Eureka County, Nevada | 29 | Rural | 0.9687 | 0.9065 | 99929 | Rural | 0.9376
29060 | Humboldt County, Nevada | 29 | Rural | 0.9687 | 0.9065 | 99929 | Rural | 0.9376
29070 | Lander County, Nevada | 29 | Rural | 0.9687 | 0.9065 | 99929 | Rural | 0.9376
29080 | Lincoln County, Nevada | 29 | Rural | 0.9687 | 0.9065 | 99929 | Rural | 0.9376
29090 | Lyon County, Nevada | 29 | Rural | 0.9687 | 0.9065 | 99929 | Rural | 0.9376
29100 | Mineral County, Nevada | 29 | Rural | 0.9687 | 0.9065 | 99929 | Rural | 0.9376
29110 | Nye County, Nevada | 4120 | Urban | 1.1155 | 0.9065 | 99929 | Rural | 1.0110
29120 | Carson City County, Nevada | 29 | Rural | 0.9687 | 1.0234 | 16180 | Urban | 0.9961
29130 | Pershing County, Nevada | 29 | Rural | 0.9687 | 0.9065 | 99929 | Rural | 0.9376
29140 | Storey County, Nevada | 29 | Rural | 0.9687 | 1.0982 | 39900 | Urban | 1.0335
29150 | Washoe County, Nevada | 6720 | Urban | 1.0982 | 1.0982 | 39900 | Urban | 1.0982
29160 | White Pine County, Nevada | 29 | Rural | 0.9687 | 0.9065 | 99929 | Rural | 0.9376
30000 | Belknap County, New Hampshire | 30 | Rural | 1.0817 | 1.0817 | 99930 | Rural | 1.0817
30010 | Carroll County, New Hampshire | 30 | Rural | 1.0817 | 1.0817 | 99930 | Rural | 1.0817
30020 | Cheshire County, New Hampshire | 30 | Rural | 1.0817 | 1.0817 | 99930 | Rural | 1.0817
30030 | Coos County, New Hampshire | 30 | Rural | 1.0817 | 1.0817 | 99930 | Rural | 1.0817
30040 | Grafton County, New Hampshire | 30 | Rural | 1.0817 | 1.0817 | 99930 | Rural | 1.0817
30050 | Hillsboro County, New Hampshire | 1123 | Urban | 1.1178 | 1.0354 | 31700 | Urban | 1.0766
30060 | Merrimack County, New Hampshire | 1123 | Urban | 1.1178 | 1.0354 | 31700 | Urban | 1.0766
30070 | Rockingham County, New Hampshire | 1123 | Urban | 1.1178 | 1.0374 | 40484 | Urban | 1.0776
30080 | Strafford County, New Hampshire | 1123 | Urban | 1.1178 | 1.0374 | 40484 | Urban | 1.0776
30090 | Sullivan County, New Hampshire | 30 | Rural | 1.0817 | 1.0817 | 99930 | Rural | 1.0817
31000 | Atlantic County, New Jersey | 0560 | Urban | 1.1496 | 1.1615 | 12100 | Urban | 1.1556
31100 | Bergen County, New Jersey | 0875 | Urban | 1.1651 | 1.3188 | 35644 | Urban | 1.2420
31150 | Burlington County, New Jersey | 6160 | Urban | 1.0922 | 1.0517 | 15804 | Urban | 1.0720
31160 | Camden County, New Jersey | 6160 | Urban | 1.0922 | 1.0517 | 15804 | Urban | 1.0720
31180 | Cape May County, New Jersey | 0560 | Urban | 1.1496 | 1.1011 | 36140 | Urban | 1.1254
31190 | Cumberland County, New Jersey | 8760 | Urban | 0.9827 | 0.9827 | 47220 | Urban | 0.9827
31200 | Essex County, New Jersey | 5640 | Urban | 1.1834 | 1.1883 | 35084 | Urban | 1.1859
31220 | Gloucester County, New Jersey | 6160 | Urban | 1.0922 | 1.0517 | 15804 | Urban | 1.0720
31230 | Hudson County, New Jersey | 3640 | Urban | 1.1338 | 1.3188 | 35644 | Urban | 1.2263
31250 | Hunterdon County, New Jersey | 5015 | Urban | 1.1167 | 1.1883 | 35084 | Urban | 1.1525
31260 | Mercer County, New Jersey | 8480 | Urban | 1.0834 | 1.0834 | 45940 | Urban | 1.0834
31270 | Middlesex County, New Jersey | 5015 | Urban | 1.1167 | 1.1249 | 20764 | Urban | 1.1208
31290 | Monmouth County, New Jersey | 5190 | Urban | 1.1260 | 1.1249 | 20764 | Urban | 1.1255
31300 | Morris County, New Jersey | 5640 | Urban | 1.1834 | 1.1883 | 35084 | Urban | 1.1859
31310 | Ocean County, New Jersey | 5190 | Urban | 1.1260 | 1.1249 | 20764 | Urban | 1.1255
31320 | Passaic County, New Jersey | 0875 | Urban | 1.1651 | 1.3188 | 35644 | Urban | 1.2420
31340 | Salem County, New Jersey | 6160 | Urban | 1.0922 | 1.0471 | 48864 | Urban | 1.0697
31350 | Somerset County, New Jersey | 5015 | Urban | 1.1167 | 1.1249 | 20764 | Urban | 1.1208
31360 | Sussex County, New Jersey | 5640 | Urban | 1.1834 | 1.1883 | 35084 | Urban | 1.1859
31370 | Union County, New Jersey | 5640 | Urban | 1.1834 | 1.1883 | 35084 | Urban | 1.1859
31390 | Warren County, New Jersey | 5640 | Urban | 1.1834 | 0.9818 | 10900 | Urban | 1.0826
32000 | Bernalillo County, New Mexico | 0200 | Urban | 0.9684 | 0.9684 | 10740 | Urban | 0.9684
32010 | Catron County, New Mexico | 32 | Rural | 0.8563 | 0.8635 | 99932 | Rural | 0.8599
32020 | Chaves County, New Mexico | 32 | Rural | 0.8563 | 0.8635 | 99932 | Rural | 0.8599
32025 | Cibola County, New Mexico | 32 | Rural | 0.8563 | 0.8635 | 99932 | Rural | 0.8599
32030 | Colfax County, New Mexico | 32 | Rural | 0.8563 | 0.8635 | 99932 | Rural | 0.8599
32040 | Curry County, New Mexico | 32 | Rural | 0.8563 | 0.8635 | 99932 | Rural | 0.8599
32050 | De Baca County, New Mexico | 32 | Rural | 0.8563 | 0.8635 | 99932 | Rural | 0.8599
32060 | Dona Ana County, New Mexico | 4100 | Urban | 0.8467 | 0.8467 | 29740 | Urban | 0.8467
32070 | Eddy County, New Mexico | 32 | Rural | 0.8563 | 0.8635 | 99932 | Rural | 0.8599
32080 | Grant County, New Mexico | 32 | Rural | 0.8563 | 0.8635 | 99932 | Rural | 0.8599
32090 | Guadalupe County, New Mexico | 32 | Rural | 0.8563 | 0.8635 | 99932 | Rural | 0.8599
32100 | Harding County, New Mexico | 32 | Rural | 0.8563 | 0.8635 | 99932 | Rural | 0.8599
32110 | Hidalgo County, New Mexico | 32 | Rural | 0.8563 | 0.8635 | 99932 | Rural | 0.8599
32120 | Lea County, New Mexico | 32 | Rural | 0.8563 | 0.8635 | 99932 | Rural | 0.8599
32130 | Lincoln County, New Mexico | 32 | Rural | 0.8563 | 0.8635 | 99932 | Rural | 0.8599
32131 | Los Alamos County, New Mexico | 7490 | Urban | 1.0748 | 0.8635 | 99932 | Rural | 0.9692
32140 | Luna County, New Mexico | 32 | Rural | 0.8563 | 0.8635 | 99932 | Rural | 0.8599
32150 | Mc Kinley County, New Mexico | 32 | Rural | 0.8563 | 0.8635 | 99932 | Rural | 0.8599
32160 | Mora County, New Mexico | 32 | Rural | 0.8563 | 0.8635 | 99932 | Rural | 0.8599
32170 | Otero County, New Mexico | 32 | Rural | 0.8563 | 0.8635 | 99932 | Rural | 0.8599
32180 | Quay County, New Mexico | 32 | Rural | 0.8563 | 0.8635 | 99932 | Rural | 0.8599
32190 | Rio Arriba County, New Mexico | 32 | Rural | 0.8563 | 0.8635 | 99932 | Rural | 0.8599
32200 | Roosevelt County, New Mexico | 32 | Rural | 0.8563 | 0.8635 | 99932 | Rural | 0.8599
32210 | Sandoval County, New Mexico | 0200 | Urban | 0.9684 | 0.9684 | 10740 | Urban | 0.9684
32220 | San Juan County, New Mexico | 32 | Rural | 0.8563 | 0.8509 | 22140 | Urban | 0.8536
32230 | San Miguel County, New Mexico | 32 | Rural | 0.8563 | 0.8635 | 99932 | Rural | 0.8599
32240 | Santa Fe County, New Mexico | 7490 | Urban | 1.0748 | 1.0920 | 42140 | Urban | 1.0834
32250 | Sierra County, New Mexico | 32 | Rural | 0.8563 | 0.8635 | 99932 | Rural | 0.8599
32260 | Socorro County, New Mexico | 32 | Rural | 0.8563 | 0.8635 | 99932 | Rural | 0.8599
32270 | Taos County, New Mexico | 32 | Rural | 0.8563 | 0.8635 | 99932 | Rural | 0.8599
32280 | Torrance County, New Mexico | 32 | Rural | 0.8563 | 0.9684 | 10740 | Urban | 0.9124
32290 | Union County, New Mexico | 32 | Rural | 0.8563 | 0.8635 | 99932 | Rural | 0.8599
32300 | Valencia County, New Mexico | 0200 | Urban | 0.9684 | 0.9684 | 10740 | Urban | 0.9684
33000 | Albany County, New York | 0160 | Urban | 0.8559 | 0.8589 | 10580 | Urban | 0.8574
33010 | Allegany County, New York | 33 | Rural | 0.8395 | 0.8154 | 99933 | Rural | 0.8275
33020 | Bronx County, New York | 5600 | Urban | 1.3464 | 1.3188 | 35644 | Urban | 1.3326
33030 | Broome County, New York | 0960 | Urban | 0.8562 | 0.8562 | 13780 | Urban | 0.8562
33040 | Cattaraugus County, New York | 33 | Rural | 0.8395 | 0.8154 | 99933 | Rural | 0.8275
33050 | Cayuga County, New York | 8160 | Urban | 0.9492 | 0.8154 | 99933 | Rural | 0.8823
33060 | Chautauqua County, New York | 3610 | Urban | 0.7544 | 0.8154 | 99933 | Rural | 0.7849
33070 | Chemung County, New York | 2335 | Urban | 0.8250 | 0.8250 | 21300 | Urban | 0.8250
33080 | Chenango County, New York | 33 | Rural | 0.8395 | 0.8154 | 99933 | Rural | 0.8275
33090 | Clinton County, New York | 33 | Rural | 0.8395 | 0.8154 | 99933 | Rural | 0.8275
33200 | Columbia County, New York | 33 | Rural | 0.8395 | 0.8154 | 99933 | Rural | 0.8275
33210 | Cortland County, New York | 33 | Rural | 0.8395 | 0.8154 | 99933 | Rural | 0.8275
33220 | Delaware County, New York | 33 | Rural | 0.8395 | 0.8154 | 99933 | Rural | 0.8275
33230 | Dutchess County, New York | 2281 | Urban | 1.0475 | 1.0891 | 39100 | Urban | 1.0683
33240 | Erie County, New York | 1280 | Urban | 0.9511 | 0.9511 | 15380 | Urban | 0.9511
33260 | Essex County, New York | 33 | Rural | 0.8395 | 0.8154 | 99933 | Rural | 0.8275
33270 | Franklin County, New York | 33 | Rural | 0.8395 | 0.8154 | 99933 | Rural | 0.8275
33280 | Fulton County, New York | 33 | Rural | 0.8395 | 0.8154 | 99933 | Rural | 0.8275
33290 | Genesee County, New York | 6840 | Urban | 0.9049 | 0.8154 | 99933 | Rural | 0.8602
33300 | Greene County, New York | 33 | Rural | 0.8395 | 0.8154 | 99933 | Rural | 0.8275
33310 | Hamilton County, New York | 33 | Rural | 0.8395 | 0.8154 | 99933 | Rural | 0.8275
33320 | Herkimer County, New York | 8680 | Urban | 0.8358 | 0.8358 | 46540 | Urban | 0.8358
33330 | Jefferson County, New York | 33 | Rural | 0.8395 | 0.8154 | 99933 | Rural | 0.8275
33331 | Kings County, New York | 5600 | Urban | 1.3464 | 1.3188 | 35644 | Urban | 1.3326
33340 | Lewis County, New York | 33 | Rural | 0.8395 | 0.8154 | 99933 | Rural | 0.8275
33350 | Livingston County, New York | 6840 | Urban | 0.9049 | 0.9121 | 40380 | Urban | 0.9085
33360 | Madison County, New York | 8160 | Urban | 0.9492 | 0.9574 | 45060 | Urban | 0.9533
33370 | Monroe County, New York | 6840 | Urban | 0.9049 | 0.9121 | 40380 | Urban | 0.9085
33380 | Montgomery County, New York | 0160 | Urban | 0.8559 | 0.8154 | 99933 | Rural | 0.8357
33400 | Nassau County, New York | 5380 | Urban | 1.2719 | 1.2719 | 35004 | Urban | 1.2719
33420 | New York County, New York | 5600 | Urban | 1.3464 | 1.3188 | 35644 | Urban | 1.3326
33500 | Niagara County, New York | 1280 | Urban | 0.9511 | 0.9511 | 15380 | Urban | 0.9511
33510 | Oneida County, New York | 8680 | Urban | 0.8358 | 0.8358 | 46540 | Urban | 0.8358
33520 | Onondaga County, New York | 8160 | Urban | 0.9492 | 0.9574 | 45060 | Urban | 0.9533
33530 | Ontario County, New York | 6840 | Urban | 0.9049 | 0.9121 | 40380 | Urban | 0.9085
33540 | Orange County, New York | 5660 | Urban | 1.1207 | 1.0891 | 39100 | Urban | 1.1049
33550 | Orleans County, New York | 6840 | Urban | 0.9049 | 0.9121 | 40380 | Urban | 0.9085
33560 | Oswego County, New York | 8160 | Urban | 0.9492 | 0.9574 | 45060 | Urban | 0.9533
33570 | Otsego County, New York | 33 | Rural | 0.8395 | 0.8154 | 99933 | Rural | 0.8275
33580 | Putnam County, New York | 5600 | Urban | 1.3464 | 1.3188 | 35644 | Urban | 1.3326
33590 | Queens County, New York | 5600 | Urban | 1.3464 | 1.3188 | 35644 | Urban | 1.3326
33600 | Rensselaer County, New York | 0160 | Urban | 0.8559 | 0.8589 | 10580 | Urban | 0.8574
33610 | Richmond County, New York | 5600 | Urban | 1.3464 | 1.3188 | 35644 | Urban | 1.3326
33620 | Rockland County, New York | 5600 | Urban | 1.3464 | 1.3188 | 35644 | Urban | 1.3326
33630 | St Lawrence County, New York | 33 | Rural | 0.8395 | 0.8154 | 99933 | Rural | 0.8275
33640 | Saratoga County, New York | 0160 | Urban | 0.8559 | 0.8589 | 10580 | Urban | 0.8574
33650 | Schenectady County, New York | 0160 | Urban | 0.8559 | 0.8589 | 10580 | Urban | 0.8574
33660 | Schoharie County, New York | 0160 | Urban | 0.8559 | 0.8589 | 10580 | Urban | 0.8574
33670 | Schuyler County, New York | 33 | Rural | 0.8395 | 0.8154 | 99933 | Rural | 0.8275
33680 | Seneca County, New York | 33 | Rural | 0.8395 | 0.8154 | 99933 | Rural | 0.8275
33690 | Steuben County, New York | 33 | Rural | 0.8395 | 0.8154 | 99933 | Rural | 0.8275
33700 | Suffolk County, New York | 5380 | Urban | 1.2719 | 1.2719 | 35004 | Urban | 1.2719
33710 | Sullivan County, New York | 33 | Rural | 0.8395 | 0.8154 | 99933 | Rural | 0.8275
33720 | Tioga County, New York | 0960 | Urban | 0.8562 | 0.8562 | 13780 | Urban | 0.8562
33730 | Tompkins County, New York | 33 | Rural | 0.8395 | 0.9793 | 27060 | Urban | 0.9094
33740 | Ulster County, New York | 33 | Rural | 0.8395 | 0.9255 | 28740 | Urban | 0.8825
33750 | Warren County, New York | 2975 | Urban | 0.8559 | 0.8559 | 24020 | Urban | 0.8559
33760 | Washington County, New York | 2975 | Urban | 0.8559 | 0.8559 | 24020 | Urban | 0.8559
33770 | Wayne County, New York | 6840 | Urban | 0.9049 | 0.9121 | 40380 | Urban | 0.9085
33800 | Westchester County, New York | 5600 | Urban | 1.3464 | 1.3188 | 35644 | Urban | 1.3326
33900 | Wyoming County, New York | 33 | Rural | 0.8395 | 0.8154 | 99933 | Rural | 0.8275
33910 | Yates County, New York | 33 | Rural | 0.8395 | 0.8154 | 99933 | Rural | 0.8275
34000 | Alamance County, N Carolina | 3120 | Urban | 0.9018 | 0.8905 | 15500 | Urban | 0.8962
34010 | Alexander County, N Carolina | 3290 | Urban | 0.8921 | 0.8921 | 25860 | Urban | 0.8921
34020 | Alleghany County, N Carolina | 34 | Rural | 0.8462 | 0.8540 | 99934 | Rural | 0.8501
34030 | Anson County, N Carolina | 34 | Rural | 0.8462 | 0.9750 | 16740 | Urban | 0.9106
34040 | Ashe County, N Carolina | 34 | Rural | 0.8462 | 0.8540 | 99934 | Rural | 0.8501
34050 | Avery County, N Carolina | 34 | Rural | 0.8462 | 0.8540 | 99934 | Rural | 0.8501
34060 | Beaufort County, N Carolina | 34 | Rural | 0.8462 | 0.8540 | 99934 | Rural | 0.8501
34070 | Bertie County, N Carolina | 34 | Rural | 0.8462 | 0.8540 | 99934 | Rural | 0.8501
34080 | Bladen County, N Carolina | 34 | Rural | 0.8462 | 0.8540 | 99934 | Rural | 0.8501
34090 | Brunswick County, N Carolina | 9200 | Urban | 0.9582 | 0.9582 | 48900 | Urban | 0.9582
34100 | Buncombe County, N Carolina | 0480 | Urban | 0.9737 | 0.9285 | 11700 | Urban | 0.9511
34110 | Burke County, N Carolina | 3290 | Urban | 0.8921 | 0.8921 | 25860 | Urban | 0.8921
34120 | Cabarrus County, N Carolina | 1520 | Urban | 0.9715 | 0.9750 | 16740 | Urban | 0.9733
34130 | Caldwell County, N Carolina | 3290 | Urban | 0.8921 | 0.8921 | 25860 | Urban | 0.8921
34140 | Camden County, N Carolina | 34 | Rural | 0.8462 | 0.8540 | 99934 | Rural | 0.8501
34150 | Carteret County, N Carolina | 34 | Rural | 0.8462 | 0.8540 | 99934 | Rural | 0.8501
34160 | Caswell County, N Carolina | 34 | Rural | 0.8462 | 0.8540 | 99934 | Rural | 0.8501
34170 | Catawba County, N Carolina | 3290 | Urban | 0.8921 | 0.8921 | 25860 | Urban | 0.8921
34180 | Chatham County, N Carolina | 6640 | Urban | 1.0034 | 1.0244 | 20500 | Urban | 1.0139
34190 | Cherokee County, N Carolina | 34 | Rural | 0.8462 | 0.8540 | 99934 | Rural | 0.8501
34200 | Chowan County, N Carolina | 34 | Rural | 0.8462 | 0.8540 | 99934 | Rural | 0.8501
34210 | Clay County, N Carolina | 34 | Rural | 0.8462 | 0.8540 | 99934 | Rural | 0.8501
34220 | Cleveland County, N Carolina | 34 | Rural | 0.8462 | 0.8540 | 99934 | Rural | 0.8501
34230 | Columbus County, N Carolina | 34 | Rural | 0.8462 | 0.8540 | 99934 | Rural | 0.8501
34240 | Craven County, N Carolina | 34 | Rural | 0.8462 | 0.8540 | 99934 | Rural | 0.8501
34250 | Cumberland County, N Carolina | 2560 | Urban | 0.9416 | 0.9416 | 22180 | Urban | 0.9416
34251 | Currituck County, N Carolina | 5720 | Urban | 0.8799 | 0.8799 | 47260 | Urban | 0.8799
34270 | are County, N Carolina | 34 | Rural | 0.8462 | 0.8540 | 99934 | Rural | 0.8501
34280 | Davidson County, N Carolina | 3120 | Urban | 0.9018 | 0.8540 | 99934 | Rural | 0.8779
34290 | Davie County, N Carolina | 3120 | Urban | 0.9018 | 0.8944 | 49180 | Urban | 0.8981
34300 | Duplin County, N Carolina | 34 | Rural | 0.8462 | 0.8540 | 99934 | Rural | 0.8501
34310 | Durham County, N Carolina | 6640 | Urban | 1.0034 | 1.0244 | 20500 | Urban | 1.0139
34320 | Edgecombe County, N Carolina | 6895 | Urban | 0.8915 | 0.8915 | 40580 | Urban | 0.8915
34330 | Forsyth County, N Carolina | 3120 | Urban | 0.9018 | 0.8944 | 49180 | Urban | 0.8981
34340 | Franklin County, N Carolina | 6640 | Urban | 1.0034 | 0.9691 | 39580 | Urban | 0.9863
34350 | Gaston County, N Carolina | 1520 | Urban | 0.9715 | 0.9750 | 16740 | Urban | 0.9733
34360 | Gates County, N Carolina | 34 | Rural | 0.8462 | 0.8540 | 99934 | Rural | 0.8501
34370 | Graham County, N Carolina | 34 | Rural | 0.8462 | 0.8540 | 99934 | Rural | 0.8501
34380 | Granville County, N Carolina | 34 | Rural | 0.8462 | 0.8540 | 99934 | Rural | 0.8501
34390 | Greene County, N Carolina | 34 | Rural | 0.8462 | 0.9425 | 24780 | Urban | 0.8944
34400 | Guilford County, N Carolina | 3120 | Urban | 0.9018 | 0.9104 | 24660 | Urban | 0.9061
34410 | Halifax County, N Carolina | 34 | Rural | 0.8462 | 0.8540 | 99934 | Rural | 0.8501
34420 | Harnett County, N Carolina | 34 | Rural | 0.8462 | 0.8540 | 99934 | Rural | 0.8501
34430 | Haywood County, N Carolina | 34 | Rural | 0.8462 | 0.9285 | 11700 | Urban | 0.8874
34440 | Henderson County, N Carolina | 34 | Rural | 0.8462 | 0.9285 | 11700 | Urban | 0.8874
34450 | Hertford County, N Carolina | 34 | Rural | 0.8462 | 0.8540 | 99934 | Rural | 0.8501
34460 | Hoke County, N Carolina | 34 | Rural | 0.8462 | 0.9416 | 22180 | Urban | 0.8939
34470 | Hyde County, N Carolina | 34 | Rural | 0.8462 | 0.8540 | 99934 | Rural | 0.8501
34480 | Iredell County, N Carolina | 34 | Rural | 0.8462 | 0.8540 | 99934 | Rural | 0.8501
34490 | Jackson County, N Carolina | 34 | Rural | 0.8462 | 0.8540 | 99934 | Rural | 0.8501
34500 | Johnston County, N Carolina | 6640 | Urban | 1.0034 | 0.9691 | 39580 | Urban | 0.9863
34510 | Jones County, N Carolina | 34 | Rural | 0.8462 | 0.8540 | 99934 | Rural | 0.8501
34520 | Lee County, N Carolina | 34 | Rural | 0.8462 | 0.8540 | 99934 | Rural | 0.8501
34530 | Lenoir County, N Carolina | 34 | Rural | 0.8462 | 0.8540 | 99934 | Rural | 0.8501
34540 | Lincoln County, N Carolina | 1520 | Urban | 0.9715 | 0.8540 | 99934 | Rural | 0.9128
34550 | Mc Dowell County, N Carolina | 34 | Rural | 0.8462 | 0.8540 | 99934 | Rural | 0.8501
34560 | Macon County, N Carolina | 34 | Rural | 0.8462 | 0.8540 | 99934 | Rural | 0.8501
34570 | Madison County, N Carolina | 0480 | Urban | 0.9737 | 0.9285 | 11700 | Urban | 0.9511
34580 | Martin County, N Carolina | 34 | Rural | 0.8462 | 0.8540 | 99934 | Rural | 0.8501
34590 | Mecklenburg County, N Carolina | 1520 | Urban | 0.9715 | 0.9750 | 16740 | Urban | 0.9733
34600 | Mitchell County, N Carolina | 34 | Rural | 0.8462 | 0.8540 | 99934 | Rural | 0.8501
34610 | Montgomery County, N Carolina | 34 | Rural | 0.8462 | 0.8540 | 99934 | Rural | 0.8501
34620 | Moore County, N Carolina | 34 | Rural | 0.8462 | 0.8540 | 99934 | Rural | 0.8501
34630 | Nash County, N Carolina | 6895 | Urban | 0.8915 | 0.8915 | 40580 | Urban | 0.8915
34640 | New Hanover County, N Carolina | 9200 | Urban | 0.9582 | 0.9582 | 48900 | Urban | 0.9582
34650 | Northampton County, N Carolina | 34 | Rural | 0.8462 | 0.8540 | 99934 | Rural | 0.8501
34660 | Onslow County, N Carolina | 3605 | Urban | 0.8236 | 0.8236 | 27340 | Urban | 0.8236
34670 | Orange County, N Carolina | 6640 | Urban | 1.0034 | 1.0244 | 20500 | Urban | 1.0139
34680 | Pamlico County, N Carolina | 34 | Rural | 0.8462 | 0.8540 | 99934 | Rural | 0.8501
34690 | Pasquotank County, N Carolina | 34 | Rural | 0.8462 | 0.8540 | 99934 | Rural | 0.8501
34700 | Pender County, N Carolina | 34 | Rural | 0.8462 | 0.9582 | 48900 | Urban | 0.9022
34710 | Perquimans County, N Carolina | 34 | Rural | 0.8462 | 0.8540 | 99934 | Rural | 0.8501
34720 | Person County, N Carolina | 34 | Rural | 0.8462 | 1.0244 | 20500 | Urban | 0.9353
34730 | Pitt County, N Carolina | 3150 | Urban | 0.9425 | 0.9425 | 24780 | Urban | 0.9425
34740 | Polk County, N Carolina | 34 | Rural | 0.8462 | 0.8540 | 99934 | Rural | 0.8501
34750 | Randolph County, N Carolina | 3120 | Urban | 0.9018 | 0.9104 | 24660 | Urban | 0.9061
34760 | Richmond County, N Carolina | 34 | Rural | 0.8462 | 0.8540 | 99934 | Rural | 0.8501
34770 | Robeson County, N Carolina | 34 | Rural | 0.8462 | 0.8540 | 99934 | Rural | 0.8501
34780 | Rockingham County, N Carolina | 34 | Rural | 0.8462 | 0.9104 | 24660 | Urban | 0.8783
34790 | Rowan County, N Carolina | 1520 | Urban | 0.9715 | 0.8540 | 99934 | Rural | 0.9128
34800 | Rutherford County, N Carolina | 34 | Rural | 0.8462 | 0.8540 | 99934 | Rural | 0.8501
34810 | Sampson County, N Carolina | 34 | Rural | 0.8462 | 0.8540 | 99934 | Rural | 0.8501
34820 | Scotland County, N Carolina | 34 | Rural | 0.8462 | 0.8540 | 99934 | Rural | 0.8501
34830 | Stanly County, N Carolina | 34 | Rural | 0.8462 | 0.8540 | 99934 | Rural | 0.8501
34840 | Stokes County, N Carolina | 3120 | Urban | 0.9018 | 0.8944 | 49180 | Urban | 0.8981
34850 | Surry County, N Carolina | 34 | Rural | 0.8462 | 0.8540 | 99934 | Rural | 0.8501
34860 | Swain County, N Carolina | 34 | Rural | 0.8462 | 0.8540 | 99934 | Rural | 0.8501
34870 | Transylvania County, N Carolina | 34 | Rural | 0.8462 | 0.8540 | 99934 | Rural | 0.8501
34880 | Tyrrell County, N Carolina | 34 | Rural | 0.8462 | 0.8540 | 99934 | Rural | 0.8501
34890 | Union County, N Carolina | 1520 | Urban | 0.9715 | 0.9750 | 16740 | Urban | 0.9733
34900 | Vance County, N Carolina | 34 | Rural | 0.8462 | 0.8540 | 99934 | Rural | 0.8501
34910 | Wake County, N Carolina | 6640 | Urban | 1.0034 | 0.9691 | 39580 | Urban | 0.9863
34920 | Warren County, N Carolina | 34 | Rural | 0.8462 | 0.8540 | 99934 | Rural | 0.8501
34930 | Washington County, N Carolina | 34 | Rural | 0.8462 | 0.8540 | 99934 | Rural | 0.8501
34940 | Watauga County, N Carolina | 34 | Rural | 0.8462 | 0.8540 | 99934 | Rural | 0.8501
34950 | Wayne County, N Carolina | 2980 | Urban | 0.8775 | 0.8775 | 24140 | Urban | 0.8775
34960 | Wilkes County, N Carolina | 34 | Rural | 0.8462 | 0.8540 | 99934 | Rural | 0.8501
34970 | Wilson County, N Carolina | 34 | Rural | 0.8462 | 0.8540 | 99934 | Rural | 0.8501
34980 | Yadkin County, N Carolina | 3120 | Urban | 0.9018 | 0.8944 | 49180 | Urban | 0.8981
34981 | Yancey County, N Carolina | 34 | Rural | 0.8462 | 0.8540 | 99934 | Rural | 0.8501
35000 | Adams County, N Dakota | 35 | Rural | 0.7261 | 0.7261 | 99935 | Rural | 0.7261
35010 | Barnes County, N Dakota | 35 | Rural | 0.7261 | 0.7261 | 99935 | Rural | 0.7261
35020 | Benson County, N Dakota | 35 | Rural | 0.7261 | 0.7261 | 99935 | Rural | 0.7261
35030 | Billings County, N Dakota | 35 | Rural | 0.7261 | 0.7261 | 99935 | Rural | 0.7261
35040 | Bottineau County, N Dakota | 35 | Rural | 0.7261 | 0.7261 | 99935 | Rural | 0.7261
35050 | Bowman County, N Dakota | 35 | Rural | 0.7261 | 0.7261 | 99935 | Rural | 0.7261
35060 | Burke County, N Dakota | 35 | Rural | 0.7261 | 0.7261 | 99935 | Rural | 0.7261
35070 | Burleigh County, N Dakota | 1010 | Urban | 0.7574 | 0.7574 | 13900 | Urban | 0.7574
35080 | Cass County, N Dakota | 2520 | Urban | 0.8486 | 0.8486 | 22020 | Urban | 0.8486
35090 | Cavalier County, N Dakota | 35 | Rural | 0.7261 | 0.7261 | 99935 | Rural | 0.7261
35100 | Dickey County, N Dakota | 35 | Rural | 0.7261 | 0.7261 | 99935 | Rural | 0.7261
35110 | Divide County, N Dakota | 35 | Rural | 0.7261 | 0.7261 | 99935 | Rural | 0.7261
35120 | Dunn County, N Dakota | 35 | Rural | 0.7261 | 0.7261 | 99935 | Rural | 0.7261
35130 | Eddy County, N Dakota | 35 | Rural | 0.7261 | 0.7261 | 99935 | Rural | 0.7261
35140 | Emmons County, N Dakota | 35 | Rural | 0.7261 | 0.7261 | 99935 | Rural | 0.7261
35150 | Foster County, N Dakota | 35 | Rural | 0.7261 | 0.7261 | 99935 | Rural | 0.7261
35160 | Golden Valley County, N Dakota | 35 | Rural | 0.7261 | 0.7261 | 99935 | Rural | 0.7261
35170 | Grand Forks County, N Dakota | 2985 | Urban | 0.7901 | 0.7901 | 24220 | Urban | 0.7901
35180 | Grant County, N Dakota | 35 | Rural | 0.7261 | 0.7261 | 99935 | Rural | 0.7261
35190 | Griggs County, N Dakota | 35 | Rural | 0.7261 | 0.7261 | 99935 | Rural | 0.7261
35200 | Hettinger County, N Dakota | 35 | Rural | 0.7261 | 0.7261 | 99935 | Rural | 0.7261
35210 | Kidder County, N Dakota | 35 | Rural | 0.7261 | 0.7261 | 99935 | Rural | 0.7261
35220 | La Moure County, N Dakota | 35 | Rural | 0.7261 | 0.7261 | 99935 | Rural | 0.7261
35230 | Logan County, N Dakota | 35 | Rural | 0.7261 | 0.7261 | 99935 | Rural | 0.7261
35240 | Mc Henry County, N Dakota | 35 | Rural | 0.7261 | 0.7261 | 99935 | Rural | 0.7261
35250 | Mc Intosh County, N Dakota | 35 | Rural | 0.7261 | 0.7261 | 99935 | Rural | 0.7261
35260 | Mc Kenzie County, N Dakota | 35 | Rural | 0.7261 | 0.7261 | 99935 | Rural | 0.7261
35270 | Mc Lean County, N Dakota | 35 | Rural | 0.7261 | 0.7261 | 99935 | Rural | 0.7261
35280 | Mercer County, N Dakota | 35 | Rural | 0.7261 | 0.7261 | 99935 | Rural | 0.7261
35290 | Morton County, N Dakota | 1010 | Urban | 0.7574 | 0.7574 | 13900 | Urban | 0.7574
35300 | Mountrail County, N Dakota | 35 | Rural | 0.7261 | 0.7261 | 99935 | Rural | 0.7261
35310 | Nelson County, N Dakota | 35 | Rural | 0.7261 | 0.7261 | 99935 | Rural | 0.7261
35320 | Oliver County, N Dakota | 35 | Rural | 0.7261 | 0.7261 | 99935 | Rural | 0.7261
35330 | Pembina County, N Dakota | 35 | Rural | 0.7261 | 0.7261 | 99935 | Rural | 0.7261
35340 | Pierce County, N Dakota | 35 | Rural | 0.7261 | 0.7261 | 99935 | Rural | 0.7261
35350 | Ramsey County, N Dakota | 35 | Rural | 0.7261 | 0.7261 | 99935 | Rural | 0.7261
35360 | Ransom County, N Dakota | 35 | Rural | 0.7261 | 0.7261 | 99935 | Rural | 0.7261
35370 | Renville County, N Dakota | 35 | Rural | 0.7261 | 0.7261 | 99935 | Rural | 0.7261
35380 | Richland County, N Dakota | 35 | Rural | 0.7261 | 0.7261 | 99935 | Rural | 0.7261
35390 | Rolette County, N Dakota | 35 | Rural | 0.7261 | 0.7261 | 99935 | Rural | 0.7261
35400 | Sargent County, N Dakota | 35 | Rural | 0.7261 | 0.7261 | 99935 | Rural | 0.7261
35410 | Sheridan County, N Dakota | 35 | Rural | 0.7261 | 0.7261 | 99935 | Rural | 0.7261
35420 | Sioux County, N Dakota | 35 | Rural | 0.7261 | 0.7261 | 99935 | Rural | 0.7261
35430 | Slope County, N Dakota | 35 | Rural | 0.7261 | 0.7261 | 99935 | Rural | 0.7261
35440 | Stark County, N Dakota | 35 | Rural | 0.7261 | 0.7261 | 99935 | Rural | 0.7261
35450 | Steele County, N Dakota | 35 | Rural | 0.7261 | 0.7261 | 99935 | Rural | 0.7261
35460 | Stutsman County, N Dakota | 35 | Rural | 0.7261 | 0.7261 | 99935 | Rural | 0.7261
35470 | Towner County, N Dakota | 35 | Rural | 0.7261 | 0.7261 | 99935 | Rural | 0.7261
35480 | Traill County, N Dakota | 35 | Rural | 0.7261 | 0.7261 | 99935 | Rural | 0.7261
35490 | Walsh County, N Dakota | 35 | Rural | 0.7261 | 0.7261 | 99935 | Rural | 0.7261
35500 | Ward County, N Dakota | 35 | Rural | 0.7261 | 0.7261 | 99935 | Rural | 0.7261
35510 | Wells County, N Dakota | 35 | Rural | 0.7261 | 0.7261 | 99935 | Rural | 0.7261
35520 | Williams County, N Dakota | 35 | Rural | 0.7261 | 0.7261 | 99935 | Rural | 0.7261
36000 | Adams County, Ohio | 36 | Rural | 0.8921 | 0.8826 | 99936 | Rural | 0.8874
36010 | Allen County, Ohio | 4320 | Urban | 0.9119 | 0.9225 | 30620 | Urban | 0.9172
36020 | Ashland County, Ohio | 36 | Rural | 0.8921 | 0.8826 | 99936 | Rural | 0.8874
36030 | Ashtabula County, Ohio | 1680 | Urban | 0.9183 | 0.8826 | 99936 | Rural | 0.9005
36040 | Athens County, Ohio | 36 | Rural | 0.8921 | 0.8826 | 99936 | Rural | 0.8874
36050 | Auglaize County, Ohio | 4320 | Urban | 0.9119 | 0.8826 | 99936 | Rural | 0.8973
36060 | Belmont County, Ohio | 9000 | Urban | 0.7161 | 0.7161 | 48540 | Urban | 0.7161
36070 | Brown County, Ohio | 1640 | Urban | 0.9734 | 0.9615 | 17140 | Urban | 0.9675
36080 | Butler County, Ohio | 3200 | Urban | 0.8951 | 0.9615 | 17140 | Urban | 0.9283
36090 | Carroll County, Ohio | 1320 | Urban | 0.8935 | 0.8935 | 15940 | Urban | 0.8935
36100 | Champaign County, Ohio | 36 | Rural | 0.8921 | 0.8826 | 99936 | Rural | 0.8874
36110 | Clark County, Ohio | 2000 | Urban | 0.8980 | 0.8396 | 44220 | Urban | 0.8688
36120 | Clermont County, Ohio | 1640 | Urban | 0.9734 | 0.9615 | 17140 | Urban | 0.9675
36130 | Clinton County, Ohio | 36 | Rural | 0.8921 | 0.8826 | 99936 | Rural | 0.8874
36140 | Columbiana County, Ohio | 9320 | Urban | 0.8848 | 0.8826 | 99936 | Rural | 0.8837
36150 | Coshocton County, Ohio | 36 | Rural | 0.8921 | 0.8826 | 99936 | Rural | 0.8874
36160 | Crawford County, Ohio | 4800 | Urban | 0.9891 | 0.8826 | 99936 | Rural | 0.9359
36170 | Cuyahoga County, Ohio | 1680 | Urban | 0.9183 | 0.9213 | 17460 | Urban | 0.9198
36190 | Darke County, Ohio | 36 | Rural | 0.8921 | 0.8826 | 99936 | Rural | 0.8874
36200 | Defiance County, Ohio | 36 | Rural | 0.8921 | 0.8826 | 99936 | Rural | 0.8874
36210 | Delaware County, Ohio | 1840 | Urban | 0.9874 | 0.9860 | 18140 | Urban | 0.9867
36220 | Erie County, Ohio | 36 | Rural | 0.8921 | 0.9019 | 41780 | Urban | 0.8970
36230 | Fairfield County, Ohio | 1840 | Urban | 0.9874 | 0.9860 | 18140 | Urban | 0.9867
36240 | Fayette County, Ohio | 36 | Rural | 0.8921 | 0.8826 | 99936 | Rural | 0.8874
36250 | Franklin County, Ohio | 1840 | Urban | 0.9874 | 0.9860 | 18140 | Urban | 0.9867
36260 | Fulton County, Ohio | 8400 | Urban | 0.9574 | 0.9574 | 45780 | Urban | 0.9574
36270 | Gallia County, Ohio | 36 | Rural | 0.8921 | 0.8826 | 99936 | Rural | 0.8874
36280 | Geauga County, Ohio | 1680 | Urban | 0.9183 | 0.9213 | 17460 | Urban | 0.9198
36290 | Greene County, Ohio | 2000 | Urban | 0.8980 | 0.9064 | 19380 | Urban | 0.9022
36300 | Guernsey County, Ohio | 36 | Rural | 0.8921 | 0.8826 | 99936 | Rural | 0.8874
36310 | Hamilton County, Ohio | 1640 | Urban | 0.9734 | 0.9615 | 17140 | Urban | 0.9675
36330 | Hancock County, Ohio | 36 | Rural | 0.8921 | 0.8826 | 99936 | Rural | 0.8874
36340 | Hardin County, Ohio | 36 | Rural | 0.8921 | 0.8826 | 99936 | Rural | 0.8874
36350 | Harrison County, Ohio | 36 | Rural | 0.8921 | 0.8826 | 99936 | Rural | 0.8874
36360 | Henry County, Ohio | 36 | Rural | 0.8921 | 0.8826 | 99936 | Rural | 0.8874
36370 | Highland County, Ohio | 36 | Rural | 0.8921 | 0.8826 | 99936 | Rural | 0.8874
36380 | Hocking County, Ohio | 36 | Rural | 0.8921 | 0.8826 | 99936 | Rural | 0.8874
36390 | Holmes County, Ohio | 36 | Rural | 0.8921 | 0.8826 | 99936 | Rural | 0.8874
36400 | Huron County, Ohio | 36 | Rural | 0.8921 | 0.8826 | 99936 | Rural | 0.8874
36410 | Jackson County, Ohio | 36 | Rural | 0.8921 | 0.8826 | 99936 | Rural | 0.8874
36420 | Jefferson County, Ohio | 8080 | Urban | 0.7819 | 0.7819 | 48260 | Urban | 0.7819
36430 | Knox County, Ohio | 36 | Rural | 0.8921 | 0.8826 | 99936 | Rural | 0.8874
36440 | Lake County, Ohio | 1680 | Urban | 0.9183 | 0.9213 | 17460 | Urban | 0.9198
36450 | Lawrence County, Ohio | 3400 | Urban | 0.9477 | 0.9477 | 26580 | Urban | 0.9477
36460 | Licking County, Ohio | 1840 | Urban | 0.9874 | 0.9860 | 18140 | Urban | 0.9867
36470 | Logan County, Ohio | 36 | Rural | 0.8921 | 0.8826 | 99936 | Rural | 0.8874
36480 | Lorain County, Ohio | 1680 | Urban | 0.9183 | 0.9213 | 17460 | Urban | 0.9198
36490 | Lucas County, Ohio | 8400 | Urban | 0.9574 | 0.9574 | 45780 | Urban | 0.9574
36500 | Madison County, Ohio | 1840 | Urban | 0.9874 | 0.9860 | 18140 | Urban | 0.9867
36510 | Mahoning County, Ohio | 9320 | Urban | 0.8848 | 0.8603 | 49660 | Urban | 0.8726
36520 | Marion County, Ohio | 36 | Rural | 0.8921 | 0.8826 | 99936 | Rural | 0.8874
36530 | Medina County, Ohio | 1680 | Urban | 0.9183 | 0.9213 | 17460 | Urban | 0.9198
36540 | Meigs County, Ohio | 36 | Rural | 0.8921 | 0.8826 | 99936 | Rural | 0.8874
36550 | Mercer County, Ohio | 36 | Rural | 0.8921 | 0.8826 | 99936 | Rural | 0.8874
36560 | Miami County, Ohio | 2000 | Urban | 0.8980 | 0.9064 | 19380 | Urban | 0.9022
36570 | Monroe County, Ohio | 36 | Rural | 0.8921 | 0.8826 | 99936 | Rural | 0.8874
36580 | Montgomery County, Ohio | 2000 | Urban | 0.8980 | 0.9064 | 19380 | Urban | 0.9022
36590 | Morgan County, Ohio | 36 | Rural | 0.8921 | 0.8826 | 99936 | Rural | 0.8874
36600 | Morrow County, Ohio | 36 | Rural | 0.8921 | 0.9860 | 18140 | Urban | 0.9391
36610 | Muskingum County, Ohio | 36 | Rural | 0.8921 | 0.8826 | 99936 | Rural | 0.8874
36620 | Noble County, Ohio | 36 | Rural | 0.8921 | 0.8826 | 99936 | Rural | 0.8874
36630 | Ottawa County, Ohio | 36 | Rural | 0.8921 | 0.9574 | 45780 | Urban | 0.9248
36640 | Paulding County, Ohio | 36 | Rural | 0.8921 | 0.8826 | 99936 | Rural | 0.8874
36650 | Perry County, Ohio | 36 | Rural | 0.8921 | 0.8826 | 99936 | Rural | 0.8874
36660 | Pickaway County, Ohio | 1840 | Urban | 0.9874 | 0.9860 | 18140 | Urban | 0.9867
36670 | Pike County, Ohio | 36 | Rural | 0.8921 | 0.8826 | 99936 | Rural | 0.8874
36680 | Portage County, Ohio | 0080 | Urban | 0.8982 | 0.8982 | 10420 | Urban | 0.8982
36690 | Preble County, Ohio | 36 | Rural | 0.8921 | 0.9064 | 19380 | Urban | 0.8993
36700 | Putnam County, Ohio | 36 | Rural | 0.8921 | 0.8826 | 99936 | Rural | 0.8874
36710 | Richland County, Ohio | 4800 | Urban | 0.9891 | ------¹ | 31900 | Urban | 0.8902
36720 | Ross County, Ohio | 36 | Rural | 0.8921 | 0.8826 | 99936 | Rural | 0.8874
36730 | Sandusky County, Ohio | 36 | Rural | 0.8921 | 0.8826 | 99936 | Rural | 0.8874
36740 | Scioto County, Ohio | 36 | Rural | 0.8921 | 0.8826 | 99936 | Rural | 0.8874
36750 | Seneca County, Ohio | 36 | Rural | 0.8921 | 0.8826 | 99936 | Rural | 0.8874
36760 | Shelby County, Ohio | 36 | Rural | 0.8921 | 0.8826 | 99936 | Rural | 0.8874
36770 | Stark County, Ohio | 1320 | Urban | 0.8935 | 0.8935 | 15940 | Urban | 0.8935
36780 | Summit County, Ohio | 0080 | Urban | 0.8982 | 0.8982 | 10420 | Urban | 0.8982
36790 | Trumbull County, Ohio | 9320 | Urban | 0.8848 | 0.8603 | 49660 | Urban | 0.8726
36800 | Tuscarawas County, Ohio | 36 | Rural | 0.8921 | 0.8826 | 99936 | Rural | 0.8874
36810 | Union County, Ohio | 36 | Rural | 0.8921 | 0.9860 | 18140 | Urban | 0.9391
36820 | Van Wert County, Ohio | 36 | Rural | 0.8921 | 0.8826 | 99936 | Rural | 0.8874
36830 | Vinton County, Ohio | 36 | Rural | 0.8921 | 0.8826 | 99936 | Rural | 0.8874
36840 | Warren County, Ohio | 1640 | Urban | 0.9734 | 0.9615 | 17140 | Urban | 0.9675
36850 | Washington County, Ohio | 6020 | Urban | 0.8270 | 0.8270 | 37620 | Urban | 0.8270
36860 | Wayne County, Ohio | 36 | Rural | 0.8921 | 0.8826 | 99936 | Rural | 0.8874
36870 | Williams County, Ohio | 36 | Rural | 0.8921 | 0.8826 | 99936 | Rural | 0.8874
36880 | Wood County, Ohio | 8400 | Urban | 0.9574 | 0.9574 | 45780 | Urban | 0.9574
36890 | Wyandot County, Ohio | 36 | Rural | 0.8921 | 0.8826 | 99936 | Rural | 0.8874
37000 | Adair County, Oklahoma | 37 | Rural | 0.7442 | 0.7581 | 99937 | Rural | 0.7512
37010 | Alfalfa County, Oklahoma | 37 | Rural | 0.7442 | 0.7581 | 99937 | Rural | 0.7512
37020 | Atoka County, Oklahoma | 37 | Rural | 0.7442 | 0.7581 | 99937 | Rural | 0.7512
37030 | Beaver County, Oklahoma | 37 | Rural | 0.7442 | 0.7581 | 99937 | Rural | 0.7512
37040 | Beckham County, Oklahoma | 37 | Rural | 0.7442 | 0.7581 | 99937 | Rural | 0.7512
37050 | Blaine County, Oklahoma | 37 | Rural | 0.7442 | 0.7581 | 99937 | Rural | 0.7512
37060 | Bryan County, Oklahoma | 37 | Rural | 0.7442 | 0.7581 | 99937 | Rural | 0.7512
37070 | Caddo County, Oklahoma | 37 | Rural | 0.7442 | 0.7581 | 99937 | Rural | 0.7512
37080 | Canadian County, Oklahoma | 5880 | Urban | 0.9025 | 0.9031 | 36420 | Urban | 0.9028
37090 | Carter County, Oklahoma | 37 | Rural | 0.7442 | 0.7581 | 99937 | Rural | 0.7512
37100 | Cherokee County, Oklahoma | 37 | Rural | 0.7442 | 0.7581 | 99937 | Rural | 0.7512
37110 | Choctaw County, Oklahoma | 37 | Rural | 0.7442 | 0.7581 | 99937 | Rural | 0.7512
37120 | Cimarron County, Oklahoma | 37 | Rural | 0.7442 | 0.7581 | 99937 | Rural | 0.7512
37130 | Cleveland County, Oklahoma | 5880 | Urban | 0.9025 | 0.9031 | 36420 | Urban | 0.9028
37140 | Coal County, Oklahoma | 37 | Rural | 0.7442 | 0.7581 | 99937 | Rural | 0.7512
37150 | Comanche County, Oklahoma | 4200 | Urban | 0.7872 | 0.7872 | 30020 | Urban | 0.7872
37160 | Cotton County, Oklahoma | 37 | Rural | 0.7442 | 0.7581 | 99937 | Rural | 0.7512
37170 | Craig County, Oklahoma | 37 | Rural | 0.7442 | 0.7581 | 99937 | Rural | 0.7512
37180 | Creek County, Oklahoma | 8560 | Urban | 0.8587 | 0.8543 | 46140 | Urban | 0.8565
37190 | Custer County, Oklahoma | 37 | Rural | 0.7442 | 0.7581 | 99937 | Rural | 0.7512
37200 | Delaware County, Oklahoma | 37 | Rural | 0.7442 | 0.7581 | 99937 | Rural | 0.7512
37210 | Dewey County, Oklahoma | 37 | Rural | 0.7442 | 0.7581 | 99937 | Rural | 0.7512
37220 | Ellis County, Oklahoma | 37 | Rural | 0.7442 | 0.7581 | 99937 | Rural | 0.7512
37230 | Garfield County, Oklahoma | 2340 | Urban | 0.8666 | 0.7581 | 99937 | Rural | 0.8124
37240 | Garvin County, Oklahoma | 37 | Rural | 0.7442 | 0.7581 | 99937 | Rural | 0.7512
37250 | Grady County, Oklahoma | 37 | Rural | 0.7442 | 0.9031 | 36420 | Urban | 0.8237
37260 | Grant County, Oklahoma | 37 | Rural | 0.7442 | 0.7581 | 99937 | Rural | 0.7512
37270 | Greer County, Oklahoma | 37 | Rural | 0.7442 | 0.7581 | 99937 | Rural | 0.7512
37280 | Harmon County, Oklahoma | 37 | Rural | 0.7442 | 0.7581 | 99937 | Rural | 0.7512
37290 | Harper County, Oklahoma | 37 | Rural | 0.7442 | 0.7581 | 99937 | Rural | 0.7512
37300 | Haskell County, Oklahoma | 37 | Rural | 0.7442 | 0.7581 | 99937 | Rural | 0.7512
37310 | Hughes County, Oklahoma | 37 | Rural | 0.7442 | 0.7581 | 99937 | Rural | 0.7512
37320 | Jackson County, Oklahoma | 37 | Rural | 0.7442 | 0.7581 | 99937 | Rural | 0.7512
37330 | Jefferson County, Oklahoma | 37 | Rural | 0.7442 | 0.7581 | 99937 | Rural | 0.7512
37340 | Johnston County, Oklahoma | 37 | Rural | 0.7442 | 0.7581 | 99937 | Rural | 0.7512
37350 | Kay County, Oklahoma | 37 | Rural | 0.7442 | 0.7581 | 99937 | Rural | 0.7512
37360 | Kingfisher County, Oklahoma | 37 | Rural | 0.7442 | 0.7581 | 99937 | Rural | 0.7512
37370 | Kiowa County, Oklahoma | 37 | Rural | 0.7442 | 0.7581 | 99937 | Rural | 0.7512
37380 | Latimer County, Oklahoma | 37 | Rural | 0.7442 | 0.7581 | 99937 | Rural | 0.7512
37390 | Le Flore County, Oklahoma | 37 | Rural | 0.7442 | 0.8230 | 22900 | Urban | 0.7836
37400 | Lincoln County, Oklahoma | 37 | Rural | 0.7442 | 0.9031 | 36420 | Urban | 0.8237
37410 | Logan County, Oklahoma | 5880 | Urban | 0.9025 | 0.9031 | 36420 | Urban | 0.9028
37420 | Love County, Oklahoma | 37 | Rural | 0.7442 | 0.7581 | 99937 | Rural | 0.7512
37430 | Mc Clain County, Oklahoma | 5880 | Urban | 0.9025 | 0.9031 | 36420 | Urban | 0.9028
37440 | Mc Curtain County, Oklahoma | 37 | Rural | 0.7442 | 0.7581 | 99937 | Rural | 0.7512
37450 | Mc Intosh County, Oklahoma | 37 | Rural | 0.7442 | 0.7581 | 99937 | Rural | 0.7512
37460 | Major County, Oklahoma | 37 | Rural | 0.7442 | 0.7581 | 99937 | Rural | 0.7512
37470 | Marshall County, Oklahoma | 37 | Rural | 0.7442 | 0.7581 | 99937 | Rural | 0.7512
37480 | Mayes County, Oklahoma | 37 | Rural | 0.7442 | 0.7581 | 99937 | Rural | 0.7512
37490 | Murray County, Oklahoma | 37 | Rural | 0.7442 | 0.7581 | 99937 | Rural | 0.7512
37500 | Muskogee County, Oklahoma | 37 | Rural | 0.7442 | 0.7581 | 99937 | Rural | 0.7512
37510 | Noble County, Oklahoma | 37 | Rural | 0.7442 | 0.7581 | 99937 | Rural | 0.7512
37520 | Nowata County, Oklahoma | 37 | Rural | 0.7442 | 0.7581 | 99937 | Rural | 0.7512
37530 | Okfuskee County, Oklahoma | 37 | Rural | 0.7442 | 0.7581 | 99937 | Rural | 0.7512
37540 | Oklahoma County, Oklahoma | 5880 | Urban | 0.9025 | 0.9031 | 36420 | Urban | 0.9028
37550 | Okmulgee County, Oklahoma | 37 | Rural | 0.7442 | 0.8543 | 46140 | Urban | 0.7993
37560 | Osage County, Oklahoma | 8560 | Urban | 0.8587 | 0.8543 | 46140 | Urban | 0.8565
37570 | Ottawa County, Oklahoma | 37 | Rural | 0.7442 | 0.7581 | 99937 | Rural | 0.7512
37580 | Pawnee County, Oklahoma | 37 | Rural | 0.7442 | 0.8543 | 46140 | Urban | 0.7993
37590 | Payne County, Oklahoma | 37 | Rural | 0.7442 | 0.7581 | 99937 | Rural | 0.7512
37600 | Pittsburg County, Oklahoma | 37 | Rural | 0.7442 | 0.7581 | 99937 | Rural | 0.7512
37610 | Pontotoc County, Oklahoma | 37 | Rural | 0.7442 | 0.7581 | 99937 | Rural | 0.7512
37620 | Pottawatomie County, Oklahoma | 5880 | Urban | 0.9025 | 0.7581 | 99937 | Rural | 0.8303
37630 | Pushmataha County, Oklahoma | 37 | Rural | 0.7442 | 0.7581 | 99937 | Rural | 0.7512
37640 | Roger Mills County, Oklahoma | 37 | Rural | 0.7442 | 0.7581 | 99937 | Rural | 0.7512
37650 | Rogers County, Oklahoma | 8560 | Urban | 0.8587 | 0.8543 | 46140 | Urban | 0.8565
37660 | Seminole County, Oklahoma | 37 | Rural | 0.7442 | 0.7581 | 99937 | Rural | 0.7512
37670 | Sequoyah County, Oklahoma | 2720 | Urban | 0.8246 | 0.8230 | 22900 | Urban | 0.8238
37680 | Stephens County, Oklahoma | 37 | Rural | 0.7442 | 0.7581 | 99937 | Rural | 0.7512
37690 | Texas County, Oklahoma | 37 | Rural | 0.7442 | 0.7581 | 99937 | Rural | 0.7512
37700 | Tillman County, Oklahoma | 37 | Rural | 0.7442 | 0.7581 | 99937 | Rural | 0.7512
37710 | Tulsa County, Oklahoma | 8560 | Urban | 0.8587 | 0.8543 | 46140 | Urban | 0.8565
37720 | Wagoner County, Oklahoma | 8560 | Urban | 0.8587 | 0.8543 | 46140 | Urban | 0.8565
37730 | Washington County, Oklahoma | 37 | Rural | 0.7442 | 0.7581 | 99937 | Rural | 0.7512
37740 | Washita County, Oklahoma | 37 | Rural | 0.7442 | 0.7581 | 99937 | Rural | 0.7512
37750 | Woods County, Oklahoma | 37 | Rural | 0.7442 | 0.7581 | 99937 | Rural | 0.7512
37760 | Woodward County, Oklahoma | 37 | Rural | 0.7442 | 0.7581 | 99937 | Rural | 0.7512
38000 | Baker County, Oregon | 38 | Rural | 1.0052 | 0.9826 | 99938 | Rural | 0.9939
38010 | Benton County, Oregon | 1890 | Urban | 1.0729 | 1.0729 | 18700 | Urban | 1.0729
38020 | Clackamas County, Oregon | 6440 | Urban | 1.1266 | 1.1266 | 38900 | Urban | 1.1266
38030 | Clatsop County, Oregon | 38 | Rural | 1.0052 | 0.9826 | 99938 | Rural | 0.9939
38040 | Columbia County, Oregon | 6440 | Urban | 1.1266 | 1.1266 | 38900 | Urban | 1.1266
38050 | Coos County, Oregon | 38 | Rural | 1.0052 | 0.9826 | 99938 | Rural | 0.9939
38060 | Crook County, Oregon | 38 | Rural | 1.0052 | 0.9826 | 99938 | Rural | 0.9939
38070 | Curry County, Oregon | 38 | Rural | 1.0052 | 0.9826 | 99938 | Rural | 0.9939
38080 | Deschutes County, Oregon | 38 | Rural | 1.0052 | 1.0786 | 13460 | Urban | 1.0419
38090 | Douglas County, Oregon | 38 | Rural | 1.0052 | 0.9826 | 99938 | Rural | 0.9939
38100 | Gilliam County, Oregon | 38 | Rural | 1.0052 | 0.9826 | 99938 | Rural | 0.9939
38110 | Grant County, Oregon | 38 | Rural | 1.0052 | 0.9826 | 99938 | Rural | 0.9939
38120 | Harney County, Oregon | 38 | Rural | 1.0052 | 0.9826 | 99938 | Rural | 0.9939
38130 | Hood River County, Oregon | 38 | Rural | 1.0052 | 0.9826 | 99938 | Rural | 0.9939
38140 | Jackson County, Oregon | 4890 | Urban | 1.0225 | 1.0225 | 32780 | Urban | 1.0225
38150 | Jefferson County, Oregon | 38 | Rural | 1.0052 | 0.9826 | 99938 | Rural | 0.9939
38160 | Josephine County, Oregon | 38 | Rural | 1.0052 | 0.9826 | 99938 | Rural | 0.9939
38170 | Klamath County, Oregon | 38 | Rural | 1.0052 | 0.9826 | 99938 | Rural | 0.9939
38180 | Lake County, Oregon | 38 | Rural | 1.0052 | 0.9826 | 99938 | Rural | 0.9939
38190 | Lane County, Oregon | 2400 | Urban | 1.0818 | 1.0818 | 21660 | Urban | 1.0818
38200 | Lincoln County, Oregon | 38 | Rural | 1.0052 | 0.9826 | 99938 | Rural | 0.9939
38210 | Linn County, Oregon | 38 | Rural | 1.0052 | 0.9826 | 99938 | Rural | 0.9939
38220 | Malheur County, Oregon | 38 | Rural | 1.0052 | 0.9826 | 99938 | Rural | 0.9939
38230 | Marion County, Oregon | 7080 | Urban | 1.0442 | 1.0442 | 41420 | Urban | 1.0442
38240 | Morrow County, Oregon | 38 | Rural | 1.0052 | 0.9826 | 99938 | Rural | 0.9939
38250 | Multnomah County, Oregon | 6440 | Urban | 1.1266 | 1.1266 | 38900 | Urban | 1.1266
38260 | Polk County, Oregon | 7080 | Urban | 1.0442 | 1.0442 | 41420 | Urban | 1.0442
38270 | Sherman County, Oregon | 38 | Rural | 1.0052 | 0.9826 | 99938 | Rural | 0.9939
38280 | Tillamook County, Oregon | 38 | Rural | 1.0052 | 0.9826 | 99938 | Rural | 0.9939
38290 | Umatilla County, Oregon | 38 | Rural | 1.0052 | 0.9826 | 99938 | Rural | 0.9939
38300 | Union County, Oregon | 38 | Rural | 1.0052 | 0.9826 | 99938 | Rural | 0.9939
38310 | Wallowa County, Oregon | 38 | Rural | 1.0052 | 0.9826 | 99938 | Rural | 0.9939
38320 | Wasco County, Oregon | 38 | Rural | 1.0052 | 0.9826 | 99938 | Rural | 0.9939
38330 | Washington County, Oregon | 6440 | Urban | 1.1266 | 1.1266 | 38900 | Urban | 1.1266
38340 | Wheeler County, Oregon | 38 | Rural | 1.0052 | 0.9826 | 99938 | Rural | 0.9939
38350 | Yamhill County, Oregon | 6440 | Urban | 1.1266 | 1.1266 | 38900 | Urban | 1.1266
39000 | Adams County, Pennsylvania | 39 | Rural | 0.8319 | 0.8291 | 99939 | Rural | 0.8305
39010 | Allegheny County, Pennsylvania | 6280 | Urban | 0.8860 | 0.8845 | 38300 | Urban | 0.8853
39070 | Armstrong County, Pennsylvania | 39 | Rural | 0.8319 | 0.8845 | 38300 | Urban | 0.8582
39080 | Beaver County, Pennsylvania | 6280 | Urban | 0.8860 | 0.8845 | 38300 | Urban | 0.8853
39100 | Bedford County, Pennsylvania | 39 | Rural | 0.8319 | 0.8291 | 99939 | Rural | 0.8305
39110 | Berks County, Pennsylvania | 6680 | Urban | 0.9686 | 0.9686 | 39740 | Urban | 0.9686
39120 | Blair County, Pennsylvania | 0280 | Urban | 0.8944 | 0.8944 | 11020 | Urban | 0.8944
39130 | Bradford County, Pennsylvania | 39 | Rural | 0.8319 | 0.8291 | 99939 | Rural | 0.8305
39140 | Bucks County, Pennsylvania | 6160 | Urban | 1.0922 | 1.1038 | 37964 | Urban | 1.0980
39150 | Butler County, Pennsylvania | 6280 | Urban | 0.8860 | 0.8845 | 38300 | Urban | 0.8853
39160 | Cambria County, Pennsylvania | 3680 | Urban | 0.8086 | 0.8354 | 27780 | Urban | 0.8220
39180 | Cameron County, Pennsylvania | 39 | Rural | 0.8319 | 0.8291 | 99939 | Rural | 0.8305
39190 | Carbon County, Pennsylvania | 0240 | Urban | 0.9845 | 0.9818 | 10900 | Urban | 0.9832
39200 | Centre County, Pennsylvania | 8050 | Urban | 0.8356 | 0.8356 | 44300 | Urban | 0.8356
39210 | Chester County, Pennsylvania | 6160 | Urban | 1.0922 | 1.1038 | 37964 | Urban | 1.0980
39220 | Clarion County, Pennsylvania | 39 | Rural | 0.8319 | 0.8291 | 99939 | Rural | 0.8305
39230 | Clearfield County, Pennsylvania | 39 | Rural | 0.8319 | 0.8291 | 99939 | Rural | 0.8305
39240 | Clinton County, Pennsylvania | 39 | Rural | 0.8319 | 0.8291 | 99939 | Rural | 0.8305
39250 | Columbia County, Pennsylvania | 7560 | Urban | 0.8524 | 0.8291 | 99939 | Rural | 0.8408
39260 | Crawford County, Pennsylvania | 39 | Rural | 0.8319 | 0.8291 | 99939 | Rural | 0.8305
39270 | Cumberland County, Pennsylvania | 3240 | Urban | 0.9233 | 0.9313 | 25420 | Urban | 0.9273
39280 | Dauphin County, Pennsylvania | 3240 | Urban | 0.9233 | 0.9313 | 25420 | Urban | 0.9273
39290 | Delaware County, Pennsylvania | 6160 | Urban | 1.0922 | 1.1038 | 37964 | Urban | 1.0980
39310 | Elk County, Pennsylvania | 39 | Rural | 0.8319 | 0.8291 | 99939 | Rural | 0.8305
39320 | Erie County, Pennsylvania | 2360 | Urban | 0.8737 | 0.8737 | 21500 | Urban | 0.8737
39330 | Fayette County, Pennsylvania | 6280 | Urban | 0.8860 | 0.8845 | 38300 | Urban | 0.8853
39340 | Forest County, Pennsylvania | 39 | Rural | 0.8319 | 0.8291 | 99939 | Rural | 0.8305
39350 | Franklin County, Pennsylvania | 39 | Rural | 0.8319 | 0.8291 | 99939 | Rural | 0.8305
39360 | Fulton County, Pennsylvania | 39 | Rural | 0.8319 | 0.8291 | 99939 | Rural | 0.8305
39370 | Greene County, Pennsylvania | 39 | Rural | 0.8319 | 0.8291 | 99939 | Rural | 0.8305
39380 | Huntingdon County, Pennsylvania | 39 | Rural | 0.8319 | 0.8291 | 99939 | Rural | 0.8305
39390 | Indiana County, Pennsylvania | 39 | Rural | 0.8319 | 0.8291 | 99939 | Rural | 0.8305
39400 | Jefferson County, Pennsylvania | 39 | Rural | 0.8319 | 0.8291 | 99939 | Rural | 0.8305
39410 | Juniata County, Pennsylvania | 39 | Rural | 0.8319 | 0.8291 | 99939 | Rural | 0.8305
39420 | Lackawanna County, Pennsylvania | 7560 | Urban | 0.8524 | 0.8540 | 42540 | Urban | 0.8532
39440 | Lancaster County, Pennsylvania | 4000 | Urban | 0.9694 | 0.9694 | 29540 | Urban | 0.9694
39450 | Lawrence County, Pennsylvania | 39 | Rural | 0.8319 | 0.8291 | 99939 | Rural | 0.8305
39460 | Lebanon County, Pennsylvania | 3240 | Urban | 0.9233 | 0.8459 | 30140 | Urban | 0.8846
39470 | Lehigh County, Pennsylvania | 0240 | Urban | 0.9845 | 0.9818 | 10900 | Urban | 0.9832
39480 | Luzerne County, Pennsylvania | 7560 | Urban | 0.8524 | 0.8540 | 42540 | Urban | 0.8532
39510 | Lycoming County, Pennsylvania | 9140 | Urban | 0.8364 | 0.8364 | 48700 | Urban | 0.8364
39520 | Mc Kean County, Pennsylvania | 39 | Rural | 0.8319 | 0.8291 | 99939 | Rural | 0.8305
39530 | Mercer County, Pennsylvania | 7610 | Urban | 0.7793 | 0.8603 | 49660 | Urban | 0.8198
39540 | Mifflin County, Pennsylvania | 39 | Rural | 0.8319 | 0.8291 | 99939 | Rural | 0.8305
39550 | Monroe County, Pennsylvania | 39 | Rural | 0.8319 | 0.8291 | 99939 | Rural | 0.8305
39560 | Montgomery County, Pennsylvania | 6160 | Urban | 1.0922 | 1.1038 | 37964 | Urban | 1.0980
39580 | Montour County, Pennsylvania | 39 | Rural | 0.8319 | 0.8291 | 99939 | Rural | 0.8305
39590 | Northampton County, Pennsylvania | 0240 | Urban | 0.9845 | 0.9818 | 10900 | Urban | 0.9832
39600 | Northumberland County, Pennsylvania | 39 | Rural | 0.8319 | 0.8291 | 99939 | Rural | 0.8305
39610 | Perry County, Pennsylvania | 3240 | Urban | 0.9233 | 0.9313 | 25420 | Urban | 0.9273
39620 | Philadelphia County, Pennsylvania | 6160 | Urban | 1.0922 | 1.1038 | 37964 | Urban | 1.0980
39630 | Pike County, Pennsylvania | 5660 | Urban | 1.1207 | 1.1883 | 35084 | Urban | 1.1545
39640 | Potter County, Pennsylvania | 39 | Rural | 0.8319 | 0.8291 | 99939 | Rural | 0.8305
39650 | Schuylkill County, Pennsylvania | 39 | Rural | 0.8319 | 0.8291 | 99939 | Rural | 0.8305
39670 | Snyder County, Pennsylvania | 39 | Rural | 0.8319 | 0.8291 | 99939 | Rural | 0.8305
39680 | Somerset County, Pennsylvania | 3680 | Urban | 0.8086 | 0.8291 | 99939 | Rural | 0.8189
39690 | Sullivan County, Pennsylvania | 39 | Rural | 0.8319 | 0.8291 | 99939 | Rural | 0.8305
39700 | Susquehanna County, Pennsylvania | 39 | Rural | 0.8319 | 0.8291 | 99939 | Rural | 0.8305
39710 | Tioga County, Pennsylvania | 39 | Rural | 0.8319 | 0.8291 | 99939 | Rural | 0.8305
39720 | Union County, Pennsylvania | 39 | Rural | 0.8319 | 0.8291 | 99939 | Rural | 0.8305
39730 | Venango County, Pennsylvania | 39 | Rural | 0.8319 | 0.8291 | 99939 | Rural | 0.8305
39740 | Warren County, Pennsylvania | 39 | Rural | 0.8319 | 0.8291 | 99939 | Rural | 0.8305
39750 | Washington County, Pennsylvania | 6280 | Urban | 0.8860 | 0.8845 | 38300 | Urban | 0.8853
39760 | Wayne County, Pennsylvania | 39 | Rural | 0.8319 | 0.8291 | 99939 | Rural | 0.8305
39770 | Westmoreland County, Pennsylvania | 6280 | Urban | 0.8860 | 0.8845 | 38300 | Urban | 0.8853
39790 | Wyoming County, Pennsylvania | 7560 | Urban | 0.8524 | 0.8540 | 42540 | Urban | 0.8532
39800 | York County, Pennsylvania | 9280 | Urban | 0.9347 | 0.9347 | 49620 | Urban | 0.9347
40010 | Adjuntas County, Puerto Rico | 40 | Rural | 0.3604 | 0.4047 | 99940 | Rural | 0.3826
40020 | Aguada County, Puerto Rico | 0060 | Urban | 0.4876 | 0.4738 | 10380 | Urban | 0.4807
40030 | Aguadilla County, Puerto Rico | 0060 | Urban | 0.4876 | 0.4738 | 10380 | Urban | 0.4807
40040 | Aguas Buenas County, Puerto Rico | 7440 | Urban | 0.4752 | 0.4621 | 41980 | Urban | 0.4687
40050 | Aibonito County, Puerto Rico | 40 | Rural | 0.3604 | 0.4621 | 41980 | Urban | 0.4113
40060 | Anasco County, Puerto Rico | 4840 | Urban | 0.4243 | 0.4738 | 10380 | Urban | 0.4491
40070 | Arecibo County, Puerto Rico | 0470 | Urban | 0.4112 | 0.4621 | 41980 | Urban | 0.4367
40080 | Arroyo County, Puerto Rico | 40 | Rural | 0.3604 | 0.3181 | 25020 | Urban | 0.3393
40090 | Barceloneta County, Puerto Rico | 7440 | Urban | 0.4752 | 0.4621 | 41980 | Urban | 0.4687
40100 | Barranquitas County, Puerto Rico | 40 | Rural | 0.3604 | 0.4621 | 41980 | Urban | 0.4113
40110 | Bayamon County, Puerto Rico | 7440 | Urban | 0.4752 | 0.4621 | 41980 | Urban | 0.4687
40120 | Cabo Rojo County, Puerto Rico | 4840 | Urban | 0.4243 | 0.4650 | 41900 | Urban | 0.4447
40130 | Caguas County, Puerto Rico | 1310 | Urban | 0.4120 | 0.4621 | 41980 | Urban | 0.4371
40140 | Camuy County, Puerto Rico | 0470 | Urban | 0.4112 | 0.4621 | 41980 | Urban | 0.4367
40145 | Canovanas County, Puerto Rico | 7440 | Urban | 0.4752 | 0.4621 | 41980 | Urban | 0.4687
40150 | Carolina County, Puerto Rico | 7440 | Urban | 0.4752 | 0.4621 | 41980 | Urban | 0.4687
40160 | Catano County, Puerto Rico | 7440 | Urban | 0.4752 | 0.4621 | 41980 | Urban | 0.4687
40170 | Cayey County, Puerto Rico | 1310 | Urban | 0.4120 | 0.4621 | 41980 | Urban | 0.4371
40180 | Ceiba County, Puerto Rico | 7440 | Urban | 0.4752 | 0.4153 | 21940 | Urban | 0.4453
40190 | Ciales County, Puerto Rico | 40 | Rural | 0.3604 | 0.4621 | 41980 | Urban | 0.4113
40200 | Cidra County, Puerto Rico | 1310 | Urban | 0.4120 | 0.4621 | 41980 | Urban | 0.4371
40210 | Coamo County, Puerto Rico | 40 | Rural | 0.3604 | 0.4047 | 99940 | Rural | 0.3826
40220 | Comerio County, Puerto Rico | 7440 | Urban | 0.4752 | 0.4621 | 41980 | Urban | 0.4687
40230 | Corozal County, Puerto Rico | 7440 | Urban | 0.4752 | 0.4621 | 41980 | Urban | 0.4687
40240 | Culebra County, Puerto Rico | 40 | Rural | 0.3604 | 0.4047 | 99940 | Rural | 0.3826
40250 | Dorado County, Puerto Rico | 7440 | Urban | 0.4752 | 0.4621 | 41980 | Urban | 0.4687
40260 | Fajardo County, Puerto Rico | 7440 | Urban | 0.4752 | 0.4153 | 21940 | Urban | 0.4453
40265 | Florida County, Puerto Rico | 7440 | Urban | 0.4752 | 0.4621 | 41980 | Urban | 0.4687
40270 | Guanica County, Puerto Rico | 40 | Rural | 0.3604 | 0.4408 | 49500 | Urban | 0.4006
40280 | Guayama County, Puerto Rico | 40 | Rural | 0.3604 | 0.3181 | 25020 | Urban | 0.3393
40290 | Guayanilla County, Puerto Rico | 6360 | Urban | 0.4881 | 0.4408 | 49500 | Urban | 0.4645
40300 | Guaynabo County, Puerto Rico | 7440 | Urban | 0.4752 | 0.4621 | 41980 | Urban | 0.4687
40310 | Gurabo County, Puerto Rico | 1310 | Urban | 0.4120 | 0.4621 | 41980 | Urban | 0.4371
40320 | Hatillo County, Puerto Rico | 0470 | Urban | 0.4112 | 0.4621 | 41980 | Urban | 0.4367
40330 | Hormigueros County, Puerto Rico | 4840 | Urban | 0.4243 | 0.4020 | 32420 | Urban | 0.4132
40340 | Humacao County, Puerto Rico | 7440 | Urban | 0.4752 | 0.4621 | 41980 | Urban | 0.4687
40350 | Isabela County, Puerto Rico | 40 | Rural | 0.3604 | 0.4738 | 10380 | Urban | 0.4171
40360 | Jayuya County, Puerto Rico | 40 | Rural | 0.3604 | 0.4047 | 99940 | Rural | 0.3826
40370 | Juana Diaz County, Puerto Rico | 6360 | Urban | 0.4881 | 0.4939 | 38660 | Urban | 0.4910
40380 | Juncos County, Puerto Rico | 7440 | Urban | 0.4752 | 0.4621 | 41980 | Urban | 0.4687
40390 | Lajas County, Puerto Rico | 40 | Rural | 0.3604 | 0.4650 | 41900 | Urban | 0.4127
40400 | Lares County, Puerto Rico | 40 | Rural | 0.3604 | 0.4738 | 10380 | Urban | 0.4171
40410 | Las Marias County, Puerto Rico | 40 | Rural | 0.3604 | 0.4047 | 99940 | Rural | 0.3826
40420 | Las Piedras County, Puerto Rico | 7440 | Urban | 0.4752 | 0.4621 | 41980 | Urban | 0.4687
40430 | Loiza County, Puerto Rico | 7440 | Urban | 0.4752 | 0.4621 | 41980 | Urban | 0.4687
40440 | Luquillo County, Puerto Rico | 7440 | Urban | 0.4752 | 0.4153 | 21940 | Urban | 0.4453
40450 | Manati County, Puerto Rico | 7440 | Urban | 0.4752 | 0.4621 | 41980 | Urban | 0.4687
40460 | Maricao County, Puerto Rico | 40 | Rural | 0.3604 | 0.4047 | 99940 | Rural | 0.3826
40470 | Maunabo County, Puerto Rico | 40 | Rural | 0.3604 | 0.4621 | 41980 | Urban | 0.4113
40480 | Mayaguez County, Puerto Rico | 4840 | Urban | 0.4243 | 0.4020 | 32420 | Urban | 0.4132
40490 | Moca County, Puerto Rico | 0060 | Urban | 0.4876 | 0.4738 | 10380 | Urban | 0.4807
40500 | Morovis County, Puerto Rico | 7440 | Urban | 0.4752 | 0.4621 | 41980 | Urban | 0.4687
40510 | Naguabo County, Puerto Rico | 7440 | Urban | 0.4752 | 0.4621 | 41980 | Urban | 0.4687
40520 | Naranjito County, Puerto Rico | 7440 | Urban | 0.4752 | 0.4621 | 41980 | Urban | 0.4687
40530 | Orocovis County, Puerto Rico | 40 | Rural | 0.3604 | 0.4621 | 41980 | Urban | 0.4113
40540 | Patillas County, Puerto Rico | 40 | Rural | 0.3604 | 0.3181 | 25020 | Urban | 0.3393
40550 | Penuelas County, Puerto Rico | 6360 | Urban | 0.4881 | 0.4408 | 49500 | Urban | 0.4645
40560 | Ponce County, Puerto Rico | 6360 | Urban | 0.4881 | 0.4939 | 38660 | Urban | 0.4910
40570 | Quebradillas County, Puerto Rico | 40 | Rural | 0.3604 | 0.4621 | 41980 | Urban | 0.4113
40580 | Rincon County, Puerto Rico | 40 | Rural | 0.3604 | 0.4738 | 10380 | Urban | 0.4171
40590 | Rio Grande County, Puerto Rico | 7440 | Urban | 0.4752 | 0.4621 | 41980 | Urban | 0.4687
40610 | Sabana Grande County, Puerto Rico | 4840 | Urban | 0.4243 | 0.4650 | 41900 | Urban | 0.4447
40620 | Salinas County, Puerto Rico | 40 | Rural | 0.3604 | 0.4047 | 99940 | Rural | 0.3826
40630 | San German County, Puerto Rico | 4840 | Urban | 0.4243 | 0.4650 | 41900 | Urban | 0.4447
40640 | San Juan County, Puerto Rico | 7440 | Urban | 0.4752 | 0.4621 | 41980 | Urban | 0.4687
40650 | San Lorenzo County, Puerto Rico | 1310 | Urban | 0.4120 | 0.4621 | 41980 | Urban | 0.4371
40660 | San Sebastian County, Puerto Rico | 40 | Rural | 0.3604 | 0.4738 | 10380 | Urban | 0.4171
40670 | Santa Isabel County, Puerto Rico | 40 | Rural | 0.3604 | 0.4047 | 99940 | Rural | 0.3826
40680 | Toa Alta County, Puerto Rico | 7440 | Urban | 0.4752 | 0.4621 | 41980 | Urban | 0.4687
40690 | Toa Baja County, Puerto Rico | 7440 | Urban | 0.4752 | 0.4621 | 41980 | Urban | 0.4687
40700 | Trujillo Alto County, Puerto Rico | 7440 | Urban | 0.4752 | 0.4621 | 41980 | Urban | 0.4687
40710 | Utuado County, Puerto Rico | 40 | Rural | 0.3604 | 0.4047 | 99940 | Rural | 0.3826
40720 | Vega Alta County, Puerto Rico | 7440 | Urban | 0.4752 | 0.4621 | 41980 | Urban | 0.4687
40730 | Vega Baja County, Puerto Rico | 7440 | Urban | 0.4752 | 0.4621 | 41980 | Urban | 0.4687
40740 | Vieques County, Puerto Rico | 40 | Rural | 0.3604 | 0.4047 | 99940 | Rural | 0.3826
40750 | Villalba County, Puerto Rico | 6360 | Urban | 0.4881 | 0.4939 | 38660 | Urban | 0.4910
40760 | Yabucoa County, Puerto Rico | 7440 | Urban | 0.4752 | 0.4621 | 41980 | Urban | 0.4687
40770 | Yauco County, Puerto Rico | 6360 | Urban | 0.4881 | 0.4408 | 49500 | Urban | 0.4645
41000 | Bristol County, Rhode Island | 6483 | Urban | 1.1058 | 1.0966 | 39300 | Urban | 1.1012
41010 | Kent County, Rhode Island | 6483 | Urban | 1.1058 | 1.0966 | 39300 | Urban | 1.1012
41020 | Newport County, Rhode Island | 6483 | Urban | 1.1058 | 1.0966 | 39300 | Urban | 1.1012
41030 | Providence County, Rhode Island | 6483 | Urban | 1.1058 | 1.0966 | 39300 | Urban | 1.1012
41050 | Washington County, Rhode Island | 6483 | Urban | 1.1058 | 1.0966 | 39300 | Urban | 1.1012
42000 | Abbeville County, S Carolina | 42 | Rural | 0.8631 | 0.8638 | 99942 | Rural | 0.8635
42010 | Aiken County, S Carolina | 0600 | Urban | 0.9808 | 0.9748 | 12260 | Urban | 0.9778
42020 | Allendale County, S Carolina | 42 | Rural | 0.8631 | 0.8638 | 99942 | Rural | 0.8635
42030 | Anderson County, S Carolina | 3160 | Urban | 0.9615 | 0.8997 | 11340 | Urban | 0.9306
42040 | Bamberg County, S Carolina | 42 | Rural | 0.8631 | 0.8638 | 99942 | Rural | 0.8635
42050 | Barnwell County, S Carolina | 42 | Rural | 0.8631 | 0.8638 | 99942 | Rural | 0.8635
42060 | Beaufort County, S Carolina | 42 | Rural | 0.8631 | 0.8638 | 99942 | Rural | 0.8635
42070 | Berkeley County, S Carolina | 1440 | Urban | 0.9245 | 0.9245 | 16700 | Urban | 0.9245
42080 | Calhoun County, S Carolina | 42 | Rural | 0.8631 | 0.9057 | 17900 | Urban | 0.8844
42090 | Charleston County, S Carolina | 1440 | Urban | 0.9245 | 0.9245 | 16700 | Urban | 0.9245
42100 | Cherokee County, S Carolina | 3160 | Urban | 0.9615 | 0.8638 | 99942 | Rural | 0.9127
42110 | Chester County, S Carolina | 42 | Rural | 0.8631 | 0.8638 | 99942 | Rural | 0.8635
42120 | Chesterfield County, S Carolina | 42 | Rural | 0.8631 | 0.8638 | 99942 | Rural | 0.8635
42130 | Clarendon County, S Carolina | 42 | Rural | 0.8631 | 0.8638 | 99942 | Rural | 0.8635
42140 | Colleton County, S Carolina | 42 | Rural | 0.8631 | 0.8638 | 99942 | Rural | 0.8635
42150 | Darlington County, S Carolina | 42 | Rural | 0.8631 | 0.8947 | 22500 | Urban | 0.8789
42160 | Dillon County, S Carolina | 42 | Rural | 0.8631 | 0.8638 | 99942 | Rural | 0.8635
42170 | Dorchester County, S Carolina | 1440 | Urban | 0.9245 | 0.9245 | 16700 | Urban | 0.9245
42180 | Edgefield County, S Carolina | 0600 | Urban | 0.9808 | 0.9748 | 12260 | Urban | 0.9778
42190 | Fairfield County, S Carolina | 42 | Rural | 0.8631 | 0.9057 | 17900 | Urban | 0.8844
42200 | Florence County, S Carolina | 2655 | Urban | 0.9042 | 0.8947 | 22500 | Urban | 0.8995
42210 | Georgetown County, S Carolina | 42 | Rural | 0.8631 | 0.8638 | 99942 | Rural | 0.8635
42220 | Greenville County, S Carolina | 3160 | Urban | 0.9615 | 1.0027 | 24860 | Urban | 0.9821
42230 | Greenwood County, S Carolina | 42 | Rural | 0.8631 | 0.8638 | 99942 | Rural | 0.8635
42240 | Hampton County, S Carolina | 42 | Rural | 0.8631 | 0.8638 | 99942 | Rural | 0.8635
42250 | Horry County, S Carolina | 5330 | Urban | 0.8934 | 0.8934 | 34820 | Urban | 0.8934
42260 | Jasper County, S Carolina | 42 | Rural | 0.8631 | 0.8638 | 99942 | Rural | 0.8635
42270 | Kershaw County, S Carolina | 42 | Rural | 0.8631 | 0.9057 | 17900 | Urban | 0.8844
42280 | Lancaster County, S Carolina | 42 | Rural | 0.8631 | 0.8638 | 99942 | Rural | 0.8635
42290 | Laurens County, S Carolina | 42 | Rural | 0.8631 | 1.0027 | 24860 | Urban | 0.9329
42300 | Lee County, S Carolina | 42 | Rural | 0.8631 | 0.8638 | 99942 | Rural | 0.8635
42310 | Lexington County, S Carolina | 1760 | Urban | 0.9082 | 0.9057 | 17900 | Urban | 0.9070
42320 | Mc Cormick County, S Carolina | 42 | Rural | 0.8631 | 0.8638 | 99942 | Rural | 0.8635
42330 | Marion County, S Carolina | 42 | Rural | 0.8631 | 0.8638 | 99942 | Rural | 0.8635
42340 | Marlboro County, S Carolina | 42 | Rural | 0.8631 | 0.8638 | 99942 | Rural | 0.8635
42350 | Newberry County, S Carolina | 42 | Rural | 0.8631 | 0.8638 | 99942 | Rural | 0.8635
42360 | Oconee County, S Carolina | 42 | Rural | 0.8631 | 0.8638 | 99942 | Rural | 0.8635
42370 | Orangeburg County, S Carolina | 42 | Rural | 0.8631 | 0.8638 | 99942 | Rural | 0.8635
42380 | Pickens County, S Carolina | 3160 | Urban | 0.9615 | 1.0027 | 24860 | Urban | 0.9821
42390 | Richland County, S Carolina | 1760 | Urban | 0.9082 | 0.9057 | 17900 | Urban | 0.9070
42400 | Saluda County, S Carolina | 42 | Rural | 0.8631 | 0.9057 | 17900 | Urban | 0.8844
42410 | Spartanburg County, S Carolina | 3160 | Urban | 0.9615 | 0.9172 | 43900 | Urban | 0.9394
42420 | Sumter County, S Carolina | 8140 | Urban | 0.8377 | 0.8377 | 44940 | Urban | 0.8377
42430 | Union County, S Carolina | 42 | Rural | 0.8631 | 0.8638 | 99942 | Rural | 0.8635
42440 | Williamsburg County, S Carolina | 42 | Rural | 0.8631 | 0.8638 | 99942 | Rural | 0.8635
42450 | York County, S Carolina | 1520 | Urban | 0.9715 | 0.9750 | 16740 | Urban | 0.9733
43010 | Aurora County, S Dakota | 43 | Rural | 0.8551 | 0.8560 | 99943 | Rural | 0.8556
43020 | Beadle County, S Dakota | 43 | Rural | 0.8551 | 0.8560 | 99943 | Rural | 0.8556
43030 | Bennett County, S Dakota | 43 | Rural | 0.8551 | 0.8560 | 99943 | Rural | 0.8556
43040 | Bon Homme County, S Dakota | 43 | Rural | 0.8551 | 0.8560 | 99943 | Rural | 0.8556
43050 | Brookings County, S Dakota | 43 | Rural | 0.8551 | 0.8560 | 99943 | Rural | 0.8556
43060 | Brown County, S Dakota | 43 | Rural | 0.8551 | 0.8560 | 99943 | Rural | 0.8556
43070 | Brule County, S Dakota | 43 | Rural | 0.8551 | 0.8560 | 99943 | Rural | 0.8556
43080 | Buffalo County, S Dakota | 43 | Rural | 0.8551 | 0.8560 | 99943 | Rural | 0.8556
43090 | Butte County, S Dakota | 43 | Rural | 0.8551 | 0.8560 | 99943 | Rural | 0.8556
43100 | Campbell County, S Dakota | 43 | Rural | 0.8551 | 0.8560 | 99943 | Rural | 0.8556
43110 | Charles Mix County, S Dakota | 43 | Rural | 0.8551 | 0.8560 | 99943 | Rural | 0.8556
43120 | Clark County, S Dakota | 43 | Rural | 0.8551 | 0.8560 | 99943 | Rural | 0.8556
43130 | Clay County, S Dakota | 43 | Rural | 0.8551 | 0.8560 | 99943 | Rural | 0.8556
43140 | Codington County, S Dakota | 43 | Rural | 0.8551 | 0.8560 | 99943 | Rural | 0.8556
43150 | Corson County, S Dakota | 43 | Rural | 0.8551 | 0.8560 | 99943 | Rural | 0.8556
43160 | Custer County, S Dakota | 43 | Rural | 0.8551 | 0.8560 | 99943 | Rural | 0.8556
43170 | Davison County, S Dakota | 43 | Rural | 0.8551 | 0.8560 | 99943 | Rural | 0.8556
43180 | Day County, S Dakota | 43 | Rural | 0.8551 | 0.8560 | 99943 | Rural | 0.8556
43190 | Deuel County, S Dakota | 43 | Rural | 0.8551 | 0.8560 | 99943 | Rural | 0.8556
43200 | Dewey County, S Dakota | 43 | Rural | 0.8551 | 0.8560 | 99943 | Rural | 0.8556
43210 | Douglas County, S Dakota | 43 | Rural | 0.8551 | 0.8560 | 99943 | Rural | 0.8556
43220 | Edmunds County, S Dakota | 43 | Rural | 0.8551 | 0.8560 | 99943 | Rural | 0.8556
43230 | Fall River County, S Dakota | 43 | Rural | 0.8551 | 0.8560 | 99943 | Rural | 0.8556
43240 | Faulk County, S Dakota | 43 | Rural | 0.8551 | 0.8560 | 99943 | Rural | 0.8556
43250 | Grant County, S Dakota | 43 | Rural | 0.8551 | 0.8560 | 99943 | Rural | 0.8556
43260 | Gregory County, S Dakota | 43 | Rural | 0.8551 | 0.8560 | 99943 | Rural | 0.8556
43270 | Haakon County, S Dakota | 43 | Rural | 0.8551 | 0.8560 | 99943 | Rural | 0.8556
43280 | Hamlin County, S Dakota | 43 | Rural | 0.8551 | 0.8560 | 99943 | Rural | 0.8556
43290 | Hand County, S Dakota | 43 | Rural | 0.8551 | 0.8560 | 99943 | Rural | 0.8556
43300 | Hanson County, S Dakota | 43 | Rural | 0.8551 | 0.8560 | 99943 | Rural | 0.8556
43310 | Harding County, S Dakota | 43 | Rural | 0.8551 | 0.8560 | 99943 | Rural | 0.8556
43320 | Hughes County, S Dakota | 43 | Rural | 0.8551 | 0.8560 | 99943 | Rural | 0.8556
43330 | Hutchinson County, S Dakota | 43 | Rural | 0.8551 | 0.8560 | 99943 | Rural | 0.8556
43340 | Hyde County, S Dakota | 43 | Rural | 0.8551 | 0.8560 | 99943 | Rural | 0.8556
43350 | Jackson County, S Dakota | 43 | Rural | 0.8551 | 0.8560 | 99943 | Rural | 0.8556
43360 | Jerauld County, S Dakota | 43 | Rural | 0.8551 | 0.8560 | 99943 | Rural | 0.8556
43370 | Jones County, S Dakota | 43 | Rural | 0.8551 | 0.8560 | 99943 | Rural | 0.8556
43380 | Kingsbury County, S Dakota | 43 | Rural | 0.8551 | 0.8560 | 99943 | Rural | 0.8556
43390 | Lake County, S Dakota | 43 | Rural | 0.8551 | 0.8560 | 99943 | Rural | 0.8556
43400 | Lawrence County, S Dakota | 43 | Rural | 0.8551 | 0.8560 | 99943 | Rural | 0.8556
43410 | Lincoln County, S Dakota | 7760 | Urban | 0.9635 | 0.9635 | 43620 | Urban | 0.9635
43420 | Lyman County, S Dakota | 43 | Rural | 0.8551 | 0.8560 | 99943 | Rural | 0.8556
43430 | Mc Cook County, S Dakota | 43 | Rural | 0.8551 | 0.9635 | 43620 | Urban | 0.9093
43440 | Mc Pherson County, S Dakota | 43 | Rural | 0.8551 | 0.8560 | 99943 | Rural | 0.8556
43450 | Marshall County, S Dakota | 43 | Rural | 0.8551 | 0.8560 | 99943 | Rural | 0.8556
43460 | Meade County, S Dakota | 43 | Rural | 0.8551 | 0.8987 | 39660 | Urban | 0.8769
43470 | Mellette County, S Dakota | 43 | Rural | 0.8551 | 0.8560 | 99943 | Rural | 0.8556
43480 | Miner County, S Dakota | 43 | Rural | 0.8551 | 0.8560 | 99943 | Rural | 0.8556
43490 | Minnehaha County, S Dakota | 7760 | Urban | 0.9635 | 0.9635 | 43620 | Urban | 0.9635
43500 | Moody County, S Dakota | 43 | Rural | 0.8551 | 0.8560 | 99943 | Rural | 0.8556
43510 | Pennington County, S Dakota | 6660 | Urban | 0.8987 | 0.8987 | 39660 | Urban | 0.8987
43520 | Perkins County, S Dakota | 43 | Rural | 0.8551 | 0.8560 | 99943 | Rural | 0.8556
43530 | Potter County, S Dakota | 43 | Rural | 0.8551 | 0.8560 | 99943 | Rural | 0.8556
43540 | Roberts County, S Dakota | 43 | Rural | 0.8551 | 0.8560 | 99943 | Rural | 0.8556
43550 | Sanborn County, S Dakota | 43 | Rural | 0.8551 | 0.8560 | 99943 | Rural | 0.8556
43560 | Shannon County, S Dakota | 43 | Rural | 0.8551 | 0.8560 | 99943 | Rural | 0.8556
43570 | Spink County, S Dakota | 43 | Rural | 0.8551 | 0.8560 | 99943 | Rural | 0.8556
43580 | Stanley County, S Dakota | 43 | Rural | 0.8551 | 0.8560 | 99943 | Rural | 0.8556
43590 | Sully County, S Dakota | 43 | Rural | 0.8551 | 0.8560 | 99943 | Rural | 0.8556
43600 | Todd County, S Dakota | 43 | Rural | 0.8551 | 0.8560 | 99943 | Rural | 0.8556
43610 | Tripp County, S Dakota | 43 | Rural | 0.8551 | 0.8560 | 99943 | Rural | 0.8556
43620 | Turner County, S Dakota | 43 | Rural | 0.8551 | 0.9635 | 43620 | Urban | 0.9093
43630 | Union County, S Dakota | 43 | Rural | 0.8551 | 0.9381 | 43580 | Urban | 0.8966
43640 | Walworth County, S Dakota | 43 | Rural | 0.8551 | 0.8560 | 99943 | Rural | 0.8556
43650 | Washabaugh County, S Dakota | 43 | Rural | 0.8551 | 0.8560 | 99943 | Rural | 0.8556
43670 | Yankton County, S Dakota | 43 | Rural | 0.8551 | 0.8560 | 99943 | Rural | 0.8556
43680 | Ziebach County, S Dakota | 43 | Rural | 0.8551 | 0.8560 | 99943 | Rural | 0.8556
44000 | Anderson County, Tennessee | 3840 | Urban | 0.8397 | 0.8441 | 28940 | Urban | 0.8419
44010 | Bedford County, Tennessee | 44 | Rural | 0.7935 | 0.7895 | 99944 | Rural | 0.7915
44020 | Benton County, Tennessee | 44 | Rural | 0.7935 | 0.7895 | 99944 | Rural | 0.7915
44030 | Bledsoe County, Tennessee | 44 | Rural | 0.7935 | 0.7895 | 99944 | Rural | 0.7915
44040 | Blount County, Tennessee | 3840 | Urban | 0.8397 | 0.8441 | 28940 | Urban | 0.8419
44050 | Bradley County, Tennessee | 44 | Rural | 0.7935 | 0.8139 | 17420 | Urban | 0.8037
44060 | Campbell County, Tennessee | 44 | Rural | 0.7935 | 0.7895 | 99944 | Rural | 0.7915
44070 | Cannon County, Tennessee | 44 | Rural | 0.7935 | 0.9741 | 34980 | Urban | 0.8838
44080 | Carroll County, Tennessee | 44 | Rural | 0.7935 | 0.7895 | 99944 | Rural | 0.7915
44090 | Carter County, Tennessee | 3660 | Urban | 0.8007 | 0.7937 | 27740 | Urban | 0.7972
44100 | Cheatham County, Tennessee | 5360 | Urban | 0.9760 | 0.9741 | 34980 | Urban | 0.9751
44110 | Chester County, Tennessee | 3580 | Urban | 0.8964 | 0.8964 | 27180 | Urban | 0.8964
44120 | Claiborne County, Tennessee | 44 | Rural | 0.7935 | 0.7895 | 99944 | Rural | 0.7915
44130 | Clay County, Tennessee | 44 | Rural | 0.7935 | 0.7895 | 99944 | Rural | 0.7915
44140 | Cocke County, Tennessee | 44 | Rural | 0.7935 | 0.7895 | 99944 | Rural | 0.7915
44150 | Coffee County, Tennessee | 44 | Rural | 0.7935 | 0.7895 | 99944 | Rural | 0.7915
44160 | Crockett County, Tennessee | 44 | Rural | 0.7935 | 0.7895 | 99944 | Rural | 0.7915
44170 | Cumberland County, Tennessee | 44 | Rural | 0.7935 | 0.7895 | 99944 | Rural | 0.7915
44180 | Davidson County, Tennessee | 5360 | Urban | 0.9760 | 0.9741 | 34980 | Urban | 0.9751
44190 | Decatur County, Tennessee | 44 | Rural | 0.7935 | 0.7895 | 99944 | Rural | 0.7915
44200 | De Kalb County, Tennessee | 44 | Rural | 0.7935 | 0.7895 | 99944 | Rural | 0.7915
44210 | Dickson County, Tennessee | 5360 | Urban | 0.9760 | 0.9741 | 34980 | Urban | 0.9751
44220 | Dyer County, Tennessee | 44 | Rural | 0.7935 | 0.7895 | 99944 | Rural | 0.7915
44230 | Fayette County, Tennessee | 4920 | Urban | 0.9416 | 0.9397 | 32820 | Urban | 0.9407
44240 | Fentress County, Tennessee | 44 | Rural | 0.7935 | 0.7895 | 99944 | Rural | 0.7915
44250 | Franklin County, Tennessee | 44 | Rural | 0.7935 | 0.7895 | 99944 | Rural | 0.7915
44260 | Gibson County, Tennessee | 44 | Rural | 0.7935 | 0.7895 | 99944 | Rural | 0.7915
44270 | Giles County, Tennessee | 44 | Rural | 0.7935 | 0.7895 | 99944 | Rural | 0.7915
44280 | Grainger County, Tennessee | 44 | Rural | 0.7935 | 0.7961 | 34100 | Urban | 0.7948
44290 | Greene County, Tennessee | 44 | Rural | 0.7935 | 0.7895 | 99944 | Rural | 0.7915
44300 | Grundy County, Tennessee | 44 | Rural | 0.7935 | 0.7895 | 99944 | Rural | 0.7915
44310 | Hamblen County, Tennessee | 44 | Rural | 0.7935 | 0.7961 | 34100 | Urban | 0.7948
44320 | Hamilton County, Tennessee | 1560 | Urban | 0.9088 | 0.9088 | 16860 | Urban | 0.9088
44330 | Hancock County, Tennessee | 44 | Rural | 0.7935 | 0.7895 | 99944 | Rural | 0.7915
44340 | Hardeman County, Tennessee | 44 | Rural | 0.7935 | 0.7895 | 99944 | Rural | 0.7915
44350 | Hardin County, Tennessee | 44 | Rural | 0.7935 | 0.7895 | 99944 | Rural | 0.7915
44360 | Hawkins County, Tennessee | 3660 | Urban | 0.8007 | 0.8054 | 28700 | Urban | 0.8031
44370 | Haywood County, Tennessee | 44 | Rural | 0.7935 | 0.7895 | 99944 | Rural | 0.7915
44380 | Henderson County, Tennessee | 44 | Rural | 0.7935 | 0.7895 | 99944 | Rural | 0.7915
44390 | Henry County, Tennessee | 44 | Rural | 0.7935 | 0.7895 | 99944 | Rural | 0.7915
44400 | Hickman County, Tennessee | 44 | Rural | 0.7935 | 0.9741 | 34980 | Urban | 0.8838
44410 | Houston County, Tennessee | 44 | Rural | 0.7935 | 0.7895 | 99944 | Rural | 0.7915
44420 | Humphreys County, Tennessee | 44 | Rural | 0.7935 | 0.7895 | 99944 | Rural | 0.7915
44430 | Jackson County, Tennessee | 44 | Rural | 0.7935 | 0.7895 | 99944 | Rural | 0.7915
44440 | Jefferson County, Tennessee | 44 | Rural | 0.7935 | 0.7961 | 34100 | Urban | 0.7948
44450 | Johnson County, Tennessee | 44 | Rural | 0.7935 | 0.7895 | 99944 | Rural | 0.7915
44460 | Knox County, Tennessee | 3840 | Urban | 0.8397 | 0.8441 | 28940 | Urban | 0.8419
44470 | Lake County, Tennessee | 44 | Rural | 0.7935 | 0.7895 | 99944 | Rural | 0.7915
44480 | Lauderdale County, Tennessee | 44 | Rural | 0.7935 | 0.7895 | 99944 | Rural | 0.7915
44490 | Lawrence County, Tennessee | 44 | Rural | 0.7935 | 0.7895 | 99944 | Rural | 0.7915
44500 | Lewis County, Tennessee | 44 | Rural | 0.7935 | 0.7895 | 99944 | Rural | 0.7915
44510 | Lincoln County, Tennessee | 44 | Rural | 0.7935 | 0.7895 | 99944 | Rural | 0.7915
44520 | Loudon County, Tennessee | 3840 | Urban | 0.8397 | 0.8441 | 28940 | Urban | 0.8419
44530 | Mc Minn County, Tennessee | 44 | Rural | 0.7935 | 0.7895 | 99944 | Rural | 0.7915
44540 | Mc Nairy County, Tennessee | 44 | Rural | 0.7935 | 0.7895 | 99944 | Rural | 0.7915
44550 | Macon County, Tennessee | 44 | Rural | 0.7935 | 0.9741 | 34980 | Urban | 0.8838
44560 | Madison County, Tennessee | 3580 | Urban | 0.8964 | 0.8964 | 27180 | Urban | 0.8964
44570 | Marion County, Tennessee | 1560 | Urban | 0.9088 | 0.9088 | 16860 | Urban | 0.9088
44580 | Marshall County, Tennessee | 44 | Rural | 0.7935 | 0.7895 | 99944 | Rural | 0.7915
44590 | Maury County, Tennessee | 44 | Rural | 0.7935 | 0.7895 | 99944 | Rural | 0.7915
44600 | Meigs County, Tennessee | 44 | Rural | 0.7935 | 0.7895 | 99944 | Rural | 0.7915
44610 | Monroe County, Tennessee | 44 | Rural | 0.7935 | 0.7895 | 99944 | Rural | 0.7915
44620 | Montgomery County, Tennessee | 1660 | Urban | 0.8284 | 0.8284 | 17300 | Urban | 0.8284
44630 | Moore County, Tennessee | 44 | Rural | 0.7935 | 0.7895 | 99944 | Rural | 0.7915
44640 | Morgan County, Tennessee | 44 | Rural | 0.7935 | 0.7895 | 99944 | Rural | 0.7915
44650 | Obion County, Tennessee | 44 | Rural | 0.7935 | 0.7895 | 99944 | Rural | 0.7915
44660 | Overton County, Tennessee | 44 | Rural | 0.7935 | 0.7895 | 99944 | Rural | 0.7915
44670 | Perry County, Tennessee | 44 | Rural | 0.7935 | 0.7895 | 99944 | Rural | 0.7915
44680 | Pickett County, Tennessee | 44 | Rural | 0.7935 | 0.7895 | 99944 | Rural | 0.7915
44690 | Polk County, Tennessee | 44 | Rural | 0.7935 | 0.8139 | 17420 | Urban | 0.8037
44700 | Putnam County, Tennessee | 44 | Rural | 0.7935 | 0.7895 | 99944 | Rural | 0.7915
44710 | Rhea County, Tennessee | 44 | Rural | 0.7935 | 0.7895 | 99944 | Rural | 0.7915
44720 | Roane County, Tennessee | 44 | Rural | 0.7935 | 0.7895 | 99944 | Rural | 0.7915
44730 | Robertson County, Tennessee | 5360 | Urban | 0.9760 | 0.9741 | 34980 | Urban | 0.9751
44740 | Rutherford County, Tennessee | 5360 | Urban | 0.9760 | 0.9741 | 34980 | Urban | 0.9751
44750 | Scott County, Tennessee | 44 | Rural | 0.7935 | 0.7895 | 99944 | Rural | 0.7915
44760 | Sequatchie County, Tennessee | 44 | Rural | 0.7935 | 0.9088 | 16860 | Urban | 0.8512
44770 | Sevier County, Tennessee | 3840 | Urban | 0.8397 | 0.7895 | 99944 | Rural | 0.8146
44780 | Shelby County, Tennessee | 4920 | Urban | 0.9416 | 0.9397 | 32820 | Urban | 0.9407
44790 | Smith County, Tennessee | 44 | Rural | 0.7935 | 0.9741 | 34980 | Urban | 0.8838
44800 | Stewart County, Tennessee | 44 | Rural | 0.7935 | 0.8284 | 17300 | Urban | 0.8110
44810 | Sullivan County, Tennessee | 3660 | Urban | 0.8007 | 0.8054 | 28700 | Urban | 0.8031
44820 | Sumner County, Tennessee | 5360 | Urban | 0.9760 | 0.9741 | 34980 | Urban | 0.9751
44830 | Tipton County, Tennessee | 4920 | Urban | 0.9416 | 0.9397 | 32820 | Urban | 0.9407
44840 | Trousdale County, Tennessee | 44 | Rural | 0.7935 | 0.9741 | 34980 | Urban | 0.8838
44850 | Unicoi County, Tennessee | 3660 | Urban | 0.8007 | 0.7937 | 27740 | Urban | 0.7972
44860 | Union County, Tennessee | 3840 | Urban | 0.8397 | 0.8441 | 28940 | Urban | 0.8419
44870 | Van Buren County, Tennessee | 44 | Rural | 0.7935 | 0.7895 | 99944 | Rural | 0.7915
44880 | Warren County, Tennessee | 44 | Rural | 0.7935 | 0.7895 | 99944 | Rural | 0.7915
44890 | Washington County, Tennessee | 3660 | Urban | 0.8007 | 0.7937 | 27740 | Urban | 0.7972
44900 | Wayne County, Tennessee | 44 | Rural | 0.7935 | 0.7895 | 99944 | Rural | 0.7915
44910 | Weakley County, Tennessee | 44 | Rural | 0.7935 | 0.7895 | 99944 | Rural | 0.7915
44920 | White County, Tennessee | 44 | Rural | 0.7935 | 0.7895 | 99944 | Rural | 0.7915
44930 | Williamson County, Tennessee | 5360 | Urban | 0.9760 | 0.9741 | 34980 | Urban | 0.9751
44940 | Wilson County, Tennessee | 5360 | Urban | 0.9760 | 0.9741 | 34980 | Urban | 0.9751
45000 | Anderson County, Texas | 45 | Rural | 0.7931 | 0.8003 | 99945 | Rural | 0.7967
45010 | Andrews County, Texas | 45 | Rural | 0.7931 | 0.8003 | 99945 | Rural | 0.7967
45020 | Angelina County, Texas | 45 | Rural | 0.7931 | 0.8003 | 99945 | Rural | 0.7967
45030 | Aransas County, Texas | 45 | Rural | 0.7931 | 0.8550 | 18580 | Urban | 0.8241
45040 | Archer County, Texas | 9080 | Urban | 0.8365 | 0.8285 | 48660 | Urban | 0.8325
45050 | Armstrong County, Texas | 45 | Rural | 0.7931 | 0.9156 | 11100 | Urban | 0.8544
45060 | Atascosa County, Texas | 45 | Rural | 0.7931 | 0.8980 | 41700 | Urban | 0.8456
45070 | Austin County, Texas | 45 | Rural | 0.7931 | 0.9992 | 26420 | Urban | 0.8962
45080 | Bailey County, Texas | 45 | Rural | 0.7931 | 0.8003 | 99945 | Rural | 0.7967
45090 | Bandera County, Texas | 45 | Rural | 0.7931 | 0.8980 | 41700 | Urban | 0.8456
45100 | Bastrop County, Texas | 0640 | Urban | 0.9437 | 0.9437 | 12420 | Urban | 0.9437
45110 | Baylor County, Texas | 45 | Rural | 0.7931 | 0.8003 | 99945 | Rural | 0.7967
45113 | Bee County, Texas | 45 | Rural | 0.7931 | 0.8003 | 99945 | Rural | 0.7967
45120 | Bell County, Texas | 3810 | Urban | 0.8526 | 0.8526 | 28660 | Urban | 0.8526
45130 | Bexar County, Texas | 7240 | Urban | 0.8984 | 0.8980 | 41700 | Urban | 0.8982
45140 | Blanco County, Texas | 45 | Rural | 0.7931 | 0.8003 | 99945 | Rural | 0.7967
45150 | Borden County, Texas | 45 | Rural | 0.7931 | 0.8003 | 99945 | Rural | 0.7967
45160 | Bosque County, Texas | 45 | Rural | 0.7931 | 0.8003 | 99945 | Rural | 0.7967
45170 | Bowie County, Texas | 8360 | Urban | 0.8283 | 0.8283 | 45500 | Urban | 0.8283
45180 | Brazoria County, Texas | 1145 | Urban | 0.8563 | 0.9992 | 26420 | Urban | 0.9278
45190 | Brazos County, Texas | 1260 | Urban | 0.8900 | 0.8900 | 17780 | Urban | 0.8900
45200 | Brewster County, Texas | 45 | Rural | 0.7931 | 0.8003 | 99945 | Rural | 0.7967
45201 | Briscoe County, Texas | 45 | Rural | 0.7931 | 0.8003 | 99945 | Rural | 0.7967
45210 | Brooks County, Texas | 45 | Rural | 0.7931 | 0.8003 | 99945 | Rural | 0.7967
45220 | Brown County, Texas | 45 | Rural | 0.7931 | 0.8003 | 99945 | Rural | 0.7967
45221 | Burleson County, Texas | 45 | Rural | 0.7931 | 0.8900 | 17780 | Urban | 0.8416
45222 | Burnet County, Texas | 45 | Rural | 0.7931 | 0.8003 | 99945 | Rural | 0.7967
45223 | Caldwell County, Texas | 0640 | Urban | 0.9437 | 0.9437 | 12420 | Urban | 0.9437
45224 | Calhoun County, Texas | 45 | Rural | 0.7931 | 0.8160 | 47020 | Urban | 0.8046
45230 | Callahan County, Texas | 45 | Rural | 0.7931 | 0.7896 | 10180 | Urban | 0.7914
45240 | Cameron County, Texas | 1240 | Urban | 0.9804 | 0.9804 | 15180 | Urban | 0.9804
45250 | Camp County, Texas | 45 | Rural | 0.7931 | 0.8003 | 99945 | Rural | 0.7967
45251 | Carson County, Texas | 45 | Rural | 0.7931 | 0.9156 | 11100 | Urban | 0.8544
45260 | Cass County, Texas | 45 | Rural | 0.7931 | 0.8003 | 99945 | Rural | 0.7967
45270 | Castro County, Texas | 45 | Rural | 0.7931 | 0.8003 | 99945 | Rural | 0.7967
45280 | Chambers County, Texas | 3360 | Urban | 1.0088 | 0.9992 | 26420 | Urban | 1.0040
45281 | Cherokee County, Texas | 45 | Rural | 0.7931 | 0.8003 | 99945 | Rural | 0.7967
45290 | Childress County, Texas | 45 | Rural | 0.7931 | 0.8003 | 99945 | Rural | 0.7967
45291 | Clay County, Texas | 45 | Rural | 0.7931 | 0.8285 | 48660 | Urban | 0.8108
45292 | Cochran County, Texas | 45 | Rural | 0.7931 | 0.8003 | 99945 | Rural | 0.7967
45300 | Coke County, Texas | 45 | Rural | 0.7931 | 0.8003 | 99945 | Rural | 0.7967
45301 | Coleman County, Texas | 45 | Rural | 0.7931 | 0.8003 | 99945 | Rural | 0.7967
45310 | Collin County, Texas | 1920 | Urban | 1.0205 | 1.0228 | 19124 | Urban | 1.0217
45311 | Collingsworth County, Texas | 45 | Rural | 0.7931 | 0.8003 | 99945 | Rural | 0.7967
45312 | Colorado County, Texas | 45 | Rural | 0.7931 | 0.8003 | 99945 | Rural | 0.7967
45320 | Comal County, Texas | 7240 | Urban | 0.8984 | 0.8980 | 41700 | Urban | 0.8982
45321 | Comanche County, Texas | 45 | Rural | 0.7931 | 0.8003 | 99945 | Rural | 0.7967
45330 | Concho County, Texas | 45 | Rural | 0.7931 | 0.8003 | 99945 | Rural | 0.7967
45340 | Cooke County, Texas | 45 | Rural | 0.7931 | 0.8003 | 99945 | Rural | 0.7967
45341 | Coryell County, Texas | 3810 | Urban | 0.8526 | 0.8526 | 660 | Urban | 0.8526
45350 | Cottle County, Texas | 45 | Rural | 0.7931 | 0.8003 | 99945 | Rural | 0.7967
45360 | Crane County, Texas | 45 | Rural | 0.7931 | 0.8003 | 99945 | Rural | 0.7967
45361 | Crockett County, Texas | 45 | Rural | 0.7931 | 0.8003 | 99945 | Rural | 0.7967
45362 | Crosby County, Texas | 45 | Rural | 0.7931 | 0.8783 | 31180 | Urban | 0.8357
45370 | Culberson County, Texas | 45 | Rural | 0.7931 | 0.8003 | 99945 | Rural | 0.7967
45380 | Dallam County, Texas | 45 | Rural | 0.7931 | 0.8003 | 99945 | Rural | 0.7967
45390 | Dallas County, Texas | 1920 | Urban | 1.0205 | 1.0228 | 19124 | Urban | 1.0217
45391 | Dawson County, Texas | 45 | Rural | 0.7931 | 0.8003 | 99945 | Rural | 0.7967
45392 | Deaf Smith County, Texas | 45 | Rural | 0.7931 | 0.8003 | 99945 | Rural | 0.7967
45400 | Delta County, Texas | 45 | Rural | 0.7931 | 1.0228 | 19124 | Urban | 0.9080
45410 | Denton County, Texas | 1920 | Urban | 1.0205 | 1.0228 | 19124 | Urban | 1.0217
45420 | De Witt County, Texas | 45 | Rural | 0.7931 | 0.8003 | 99945 | Rural | 0.7967
45421 | Dickens County, Texas | 45 | Rural | 0.7931 | 0.8003 | 99945 | Rural | 0.7967
45430 | Dimmit County, Texas | 45 | Rural | 0.7931 | 0.8003 | 99945 | Rural | 0.7967
45431 | Donley County, Texas | 45 | Rural | 0.7931 | 0.8003 | 99945 | Rural | 0.7967
45440 | Duval County, Texas | 45 | Rural | 0.7931 | 0.8003 | 99945 | Rural | 0.7967
45450 | Eastland County, Texas | 45 | Rural | 0.7931 | 0.8003 | 99945 | Rural | 0.7967
45451 | Ector County, Texas | 5800 | Urban | 0.9741 | 0.9884 | 36220 | Urban | 0.9813
45460 | Edwards County, Texas | 45 | Rural | 0.7931 | 0.8003 | 99945 | Rural | 0.7967
45470 | Ellis County, Texas | 1920 | Urban | 1.0205 | 1.0228 | 19124 | Urban | 1.0217
45480 | El Paso County, Texas | 2320 | Urban | 0.8977 | 0.8977 | 21340 | Urban | 0.8977
45490 | Erath County, Texas | 45 | Rural | 0.7931 | 0.8003 | 99945 | Rural | 0.7967
45500 | Falls County, Texas | 45 | Rural | 0.7931 | 0.8003 | 99945 | Rural | 0.7967
45510 | Fannin County, Texas | 45 | Rural | 0.7931 | 0.8003 | 99945 | Rural | 0.7967
45511 | Fayette County, Texas | 45 | Rural | 0.7931 | 0.8003 | 99945 | Rural | 0.7967
45520 | Fisher County, Texas | 45 | Rural | 0.7931 | 0.8003 | 99945 | Rural | 0.7967
45521 | Floyd County, Texas | 45 | Rural | 0.7931 | 0.8003 | 99945 | Rural | 0.7967
45522 | Foard County, Texas | 45 | Rural | 0.7931 | 0.8003 | 99945 | Rural | 0.7967
45530 | Fort Bend County, Texas | 3360 | Urban | 1.0088 | 0.9992 | 26420 | Urban | 1.0040
45531 | Franklin County, Texas | 45 | Rural | 0.7931 | 0.8003 | 99945 | Rural | 0.7967
45540 | Freestone County, Texas | 45 | Rural | 0.7931 | 0.8003 | 99945 | Rural | 0.7967
45541 | Frio County, Texas | 45 | Rural | 0.7931 | 0.8003 | 99945 | Rural | 0.7967
45542 | Gaines County, Texas | 45 | Rural | 0.7931 | 0.8003 | 99945 | Rural | 0.7967
45550 | Galveston County, Texas | 2920 | Urban | 0.9635 | 0.9992 | 26420 | Urban | 0.9814
45551 | Garza County, Texas | 45 | Rural | 0.7931 | 0.8003 | 99945 | Rural | 0.7967
45552 | Gillespie County, Texas | 45 | Rural | 0.7931 | 0.8003 | 99945 | Rural | 0.7967
45560 | Glasscock County, Texas | 45 | Rural | 0.7931 | 0.8003 | 99945 | Rural | 0.7967
45561 | Goliad County, Texas | 45 | Rural | 0.7931 | 0.8160 | 47020 | Urban | 0.8046
45562 | Gonzales County, Texas | 45 | Rural | 0.7931 | 0.8003 | 99945 | Rural | 0.7967
45563 | Gray County, Texas | 45 | Rural | 0.7931 | 0.8003 | 99945 | Rural | 0.7967
45564 | Grayson County, Texas | 7640 | Urban | 0.9507 | 0.9507 | 43300 | Urban | 0.9507
45570 | Gregg County, Texas | 4420 | Urban | 0.8888 | 0.8730 | 30980 | Urban | 0.8809
45580 | Grimes County, Texas | 45 | Rural | 0.7931 | 0.8003 | 99945 | Rural | 0.7967
45581 | Guadaloupe County, Texas | 7240 | Urban | 0.8984 | 0.8980 | 41700 | Urban | 0.8982
45582 | Hale County, Texas | 45 | Rural | 0.7931 | 0.8003 | 99945 | Rural | 0.7967
45583 | Hall County, Texas | 45 | Rural | 0.7931 | 0.8003 | 99945 | Rural | 0.7967
45590 | Hamilton County, Texas | 45 | Rural | 0.7931 | 0.8003 | 99945 | Rural | 0.7967
45591 | Hansford County, Texas | 45 | Rural | 0.7931 | 0.8003 | 99945 | Rural | 0.7967
45592 | Hardeman County, Texas | 45 | Rural | 0.7931 | 0.8003 | 99945 | Rural | 0.7967
45600 | Hardin County, Texas | 0840 | Urban | 0.8412 | 0.8412 | 13140 | Urban | 0.8412
45610 | Harris County, Texas | 3360 | Urban | 1.0088 | 0.9992 | 26420 | Urban | 1.0040
45620 | Harrison County, Texas | 4420 | Urban | 0.8888 | 0.8003 | 99945 | Rural | 0.8446
45621 | Hartley County, Texas | 45 | Rural | 0.7931 | 0.8003 | 99945 | Rural | 0.7967
45630 | Haskell County, Texas | 45 | Rural | 0.7931 | 0.8003 | 99945 | Rural | 0.7967
45631 | Hays County, Texas | 0640 | Urban | 0.9437 | 0.9437 | 12420 | Urban | 0.9437
45632 | Hemphill County, Texas | 45 | Rural | 0.7931 | 0.8003 | 99945 | Rural | 0.7967
45640 | Henderson County, Texas | 1920 | Urban | 1.0205 | 0.8003 | 99945 | Rural | 0.9104
45650 | Hidalgo County, Texas | 4880 | Urban | 0.8934 | 0.8934 | 32580 | Urban | 0.8934
45651 | Hill County, Texas | 45 | Rural | 0.7931 | 0.8003 | 99945 | Rural | 0.7967
45652 | Hockley County, Texas | 45 | Rural | 0.7931 | 0.8003 | 99945 | Rural | 0.7967
45653 | Hood County, Texas | 2800 | Urban | 0.9522 | 0.8003 | 99945 | Rural | 0.8763
45654 | Hopkins County, Texas | 45 | Rural | 0.7931 | 0.8003 | 99945 | Rural | 0.7967
45660 | Houston County, Texas | 45 | Rural | 0.7931 | 0.8003 | 99945 | Rural | 0.7967
45661 | Howard County, Texas | 45 | Rural | 0.7931 | 0.8003 | 99945 | Rural | 0.7967
45662 | Hudspeth County, Texas | 45 | Rural | 0.7931 | 0.8003 | 99945 | Rural | 0.7967
45670 | Hunt County, Texas | 1920 | Urban | 1.0205 | 1.0228 | 19124 | Urban | 1.0217
45671 | Hutchinson County, Texas | 45 | Rural | 0.7931 | 0.8003 | 99945 | Rural | 0.7967
45672 | Irion County, Texas | 45 | Rural | 0.7931 | 0.8271 | 41660 | Urban | 0.8101
45680 | Jack County, Texas | 45 | Rural | 0.7931 | 0.8003 | 99945 | Rural | 0.7967
45681 | Jackson County, Texas | 45 | Rural | 0.7931 | 0.8003 | 99945 | Rural | 0.7967
45690 | Jasper County, Texas | 45 | Rural | 0.7931 | 0.8003 | 99945 | Rural | 0.7967
45691 | Jeff Davis County, Texas | 45 | Rural | 0.7931 | 0.8003 | 99945 | Rural | 0.7967
45700 | Jefferson County, Texas | 0840 | Urban | 0.8412 | 0.8412 | 13140 | Urban | 0.8412
45710 | Jim Hogg County, Texas | 45 | Rural | 0.7931 | 0.8003 | 99945 | Rural | 0.7967
45711 | Jim Wells County, Texas | 45 | Rural | 0.7931 | 0.8003 | 99945 | Rural | 0.7967
45720 | Johnson County, Texas | 2800 | Urban | 0.9522 | 0.9486 | 23104 | Urban | 0.9504
45721 | Jones County, Texas | 45 | Rural | 0.7931 | 0.7896 | 10180 | Urban | 0.7914
45722 | Karnes County, Texas | 45 | Rural | 0.7931 | 0.8003 | 99945 | Rural | 0.7967
45730 | Kaufman County, Texas | 1920 | Urban | 1.0205 | 1.0228 | 19124 | Urban | 1.0217
45731 | Kendall County, Texas | 45 | Rural | 0.7931 | 0.8980 | 41700 | Urban | 0.8456
45732 | Kenedy County, Texas | 45 | Rural | 0.7931 | 0.8003 | 99945 | Rural | 0.7967
45733 | Kent County, Texas | 45 | Rural | 0.7931 | 0.8003 | 99945 | Rural | 0.7967
45734 | Kerr County, Texas | 45 | Rural | 0.7931 | 0.8003 | 99945 | Rural | 0.7967
45740 | Kimble County, Texas | 45 | Rural | 0.7931 | 0.8003 | 99945 | Rural | 0.7967
45741 | King County, Texas | 45 | Rural | 0.7931 | 0.8003 | 99945 | Rural | 0.7967
45742 | Kinney County, Texas | 45 | Rural | 0.7931 | 0.8003 | 99945 | Rural | 0.7967
45743 | Kleberg County, Texas | 45 | Rural | 0.7931 | 0.8003 | 99945 | Rural | 0.7967
45744 | Knox County, Texas | 45 | Rural | 0.7931 | 0.8003 | 99945 | Rural | 0.7967
45750 | Lamar County, Texas | 45 | Rural | 0.7931 | 0.8003 | 99945 | Rural | 0.7967
45751 | Lamb County, Texas | 45 | Rural | 0.7931 | 0.8003 | 99945 | Rural | 0.7967
45752 | Lampasas County, Texas | 45 | Rural | 0.7931 | 0.8526 | 28660 | Urban | 0.8229
45753 | La Salle County, Texas | 45 | Rural | 0.7931 | 0.8003 | 99945 | Rural | 0.7967
45754 | Lavaca County, Texas | 45 | Rural | 0.7931 | 0.8003 | 99945 | Rural | 0.7967
45755 | Lee County, Texas | 45 | Rural | 0.7931 | 0.8003 | 99945 | Rural | 0.7967
45756 | Leon County, Texas | 45 | Rural | 0.7931 | 0.8003 | 99945 | Rural | 0.7967
45757 | Liberty County, Texas | 3360 | Urban | 1.0088 | 0.9992 | 26420 | Urban | 1.0040
45758 | Limestone County, Texas | 45 | Rural | 0.7931 | 0.8003 | 99945 | Rural | 0.7967
45759 | Lipscomb County, Texas | 45 | Rural | 0.7931 | 0.8003 | 99945 | Rural | 0.7967
45760 | Live Oak County, Texas | 45 | Rural | 0.7931 | 0.8003 | 99945 | Rural | 0.7967
45761 | Llano County, Texas | 45 | Rural | 0.7931 | 0.8003 | 99945 | Rural | 0.7967
45762 | Loving County, Texas | 45 | Rural | 0.7931 | 0.8003 | 99945 | Rural | 0.7967
45770 | Lubbock County, Texas | 4600 | Urban | 0.8783 | 0.8783 | 31180 | Urban | 0.8783
45771 | Lynn County, Texas | 45 | Rural | 0.7931 | 0.8003 | 99945 | Rural | 0.7967
45772 | Mc Culloch County, Texas | 45 | Rural | 0.7931 | 0.8003 | 99945 | Rural | 0.7967
45780 | Mc Lennan County, Texas | 8800 | Urban | 0.8518 | 0.8518 | 47380 | Urban | 0.8518
45781 | Mc Mullen County, Texas | 45 | Rural | 0.7931 | 0.8003 | 99945 | Rural | 0.7967
45782 | Madison County, Texas | 45 | Rural | 0.7931 | 0.8003 | 99945 | Rural | 0.7967
45783 | Marion County, Texas | 45 | Rural | 0.7931 | 0.8003 | 99945 | Rural | 0.7967
45784 | Martin County, Texas | 45 | Rural | 0.7931 | 0.8003 | 99945 | Rural | 0.7967
45785 | Mason County, Texas | 45 | Rural | 0.7931 | 0.8003 | 99945 | Rural | 0.7967
45790 | Matagorda County, Texas | 45 | Rural | 0.7931 | 0.8003 | 99945 | Rural | 0.7967
45791 | Maverick County, Texas | 45 | Rural | 0.7931 | 0.8003 | 99945 | Rural | 0.7967
45792 | Medina County, Texas | 45 | Rural | 0.7931 | 0.8980 | 41700 | Urban | 0.8456
45793 | Menard County, Texas | 45 | Rural | 0.7931 | 0.8003 | 99945 | Rural | 0.7967
45794 | Midland County, Texas | 5800 | Urban | 0.9741 | 0.9514 | 33260 | Urban | 0.9628
45795 | Milam County, Texas | 45 | Rural | 0.7931 | 0.8003 | 99945 | Rural | 0.7967
45796 | Mills County, Texas | 45 | Rural | 0.7931 | 0.8003 | 99945 | Rural | 0.7967
45797 | Mitchell County, Texas | 45 | Rural | 0.7931 | 0.8003 | 99945 | Rural | 0.7967
45800 | Montague County, Texas | 45 | Rural | 0.7931 | 0.8003 | 99945 | Rural | 0.7967
45801 | Montgomery County, Texas | 3360 | Urban | 1.0088 | 0.9992 | 26420 | Urban | 1.0040
45802 | Moore County, Texas | 45 | Rural | 0.7931 | 0.8003 | 99945 | Rural | 0.7967
45803 | Morris County, Texas | 45 | Rural | 0.7931 | 0.8003 | 99945 | Rural | 0.7967
45804 | Motley County, Texas | 45 | Rural | 0.7931 | 0.8003 | 99945 | Rural | 0.7967
45810 | Nacogdoches County, Texas | 45 | Rural | 0.7931 | 0.8003 | 99945 | Rural | 0.7967
45820 | Navarro County, Texas | 45 | Rural | 0.7931 | 0.8003 | 99945 | Rural | 0.7967
45821 | Newton County, Texas | 45 | Rural | 0.7931 | 0.8003 | 99945 | Rural | 0.7967
45822 | Nolan County, Texas | 45 | Rural | 0.7931 | 0.8003 | 99945 | Rural | 0.7967
45830 | Nueces County, Texas | 1880 | Urban | 0.8550 | 0.8550 | 18580 | Urban | 0.8550
45831 | Ochiltree County, Texas | 45 | Rural | 0.7931 | 0.8003 | 99945 | Rural | 0.7967
45832 | Oldham County, Texas | 45 | Rural | 0.7931 | 0.8003 | 99945 | Rural | 0.7967
45840 | Orange County, Texas | 0840 | Urban | 0.8412 | 0.8412 | 13140 | Urban | 0.8412
45841 | Palo Pinto County, Texas | 45 | Rural | 0.7931 | 0.8003 | 99945 | Rural | 0.7967
45842 | Panola County, Texas | 45 | Rural | 0.7931 | 0.8003 | 99945 | Rural | 0.7967
45843 | Parker County, Texas | 2800 | Urban | 0.9522 | 0.9486 | 23104 | Urban | 0.9504
45844 | Parmer County, Texas | 45 | Rural | 0.7931 | 0.8003 | 99945 | Rural | 0.7967
45845 | Pecos County, Texas | 45 | Rural | 0.7931 | 0.8003 | 99945 | Rural | 0.7967
45850 | Polk County, Texas | 45 | Rural | 0.7931 | 0.8003 | 99945 | Rural | 0.7967
45860 | Potter County, Texas | 0320 | Urban | 0.9156 | 0.9156 | 11100 | Urban | 0.9156
45861 | Presidio County, Texas | 45 | Rural | 0.7931 | 0.8003 | 99945 | Rural | 0.7967
45870 | Rains County, Texas | 45 | Rural | 0.7931 | 0.8003 | 99945 | Rural | 0.7967
45871 | Randall County, Texas | 0320 | Urban | 0.9156 | 0.9156 | 11100 | Urban | 0.9156
45872 | Reagan County, Texas | 45 | Rural | 0.7931 | 0.8003 | 99945 | Rural | 0.7967
45873 | Real County, Texas | 45 | Rural | 0.7931 | 0.8003 | 99945 | Rural | 0.7967
45874 | Red River County, Texas | 45 | Rural | 0.7931 | 0.8003 | 99945 | Rural | 0.7967
45875 | Reeves County, Texas | 45 | Rural | 0.7931 | 0.8003 | 99945 | Rural | 0.7967
45876 | Refugio County, Texas | 45 | Rural | 0.7931 | 0.8003 | 99945 | Rural | 0.7967
45877 | Roberts County, Texas | 45 | Rural | 0.7931 | 0.8003 | 99945 | Rural | 0.7967
45878 | Robertson County, Texas | 45 | Rural | 0.7931 | 0.8900 | 17780 | Urban | 0.8416
45879 | Rockwall County, Texas | 1920 | Urban | 1.0205 | 1.0228 | 19124 | Urban | 1.0217
45880 | Runnels County, Texas | 45 | Rural | 0.7931 | 0.8003 | 99945 | Rural | 0.7967
45881 | Rusk County, Texas | 45 | Rural | 0.7931 | 0.8730 | 30980 | Urban | 0.8331
45882 | Sabine County, Texas | 45 | Rural | 0.7931 | 0.8003 | 99945 | Rural | 0.7967
45883 | San Augustine County, Texas | 45 | Rural | 0.7931 | 0.8003 | 99945 | Rural | 0.7967
45884 | San Jacinto County, Texas | 45 | Rural | 0.7931 | 0.9992 | 26420 | Urban | 0.8962
45885 | San Patricio County, Texas | 1880 | Urban | 0.8550 | 0.8550 | 18580 | Urban | 0.8550
45886 | San Saba County, Texas | 45 | Rural | 0.7931 | 0.8003 | 99945 | Rural | 0.7967
45887 | Schleicher County, Texas | 45 | Rural | 0.7931 | 0.8003 | 99945 | Rural | 0.7967
45888 | Scurry County, Texas | 45 | Rural | 0.7931 | 0.8003 | 99945 | Rural | 0.7967
45889 | Shackelford County, Texas | 45 | Rural | 0.7931 | 0.8003 | 99945 | Rural | 0.7967
45890 | Shelby County, Texas | 45 | Rural | 0.7931 | 0.8003 | 99945 | Rural | 0.7967
45891 | Sherman County, Texas | 45 | Rural | 0.7931 | 0.8003 | 99945 | Rural | 0.7967
45892 | Smith County, Texas | 8640 | Urban | 0.9168 | 0.9168 | 46340 | Urban | 0.9168
45893 | Somervell County, Texas | 45 | Rural | 0.7931 | 0.8003 | 99945 | Rural | 0.7967
45900 | Starr County, Texas | 45 | Rural | 0.7931 | 0.8003 | 99945 | Rural | 0.7967
45901 | Stephens County, Texas | 45 | Rural | 0.7931 | 0.8003 | 99945 | Rural | 0.7967
45902 | Sterling County, Texas | 45 | Rural | 0.7931 | 0.8003 | 99945 | Rural | 0.7967
45903 | Stonewall County, Texas | 45 | Rural | 0.7931 | 0.8003 | 99945 | Rural | 0.7967
45904 | Sutton County, Texas | 45 | Rural | 0.7931 | 0.8003 | 99945 | Rural | 0.7967
45905 | Swisher County, Texas | 45 | Rural | 0.7931 | 0.8003 | 99945 | Rural | 0.7967
45910 | Tarrant County, Texas | 2800 | Urban | 0.9522 | 0.9486 | 23104 | Urban | 0.9504
45911 | Taylor County, Texas | 0040 | Urban | 0.8054 | 0.7896 | 10180 | Urban | 0.7975
45912 | Terrell County, Texas | 45 | Rural | 0.7931 | 0.8003 | 99945 | Rural | 0.7967
45913 | Terry County, Texas | 45 | Rural | 0.7931 | 0.8003 | 99945 | Rural | 0.7967
45920 | Throckmorton County, Texas | 45 | Rural | 0.7931 | 0.8003 | 99945 | Rural | 0.7967
45921 | Titus County, Texas | 45 | Rural | 0.7931 | 0.8003 | 99945 | Rural | 0.7967
45930 | Tom Green County, Texas | 7200 | Urban | 0.8271 | 0.8271 | 41660 | Urban | 0.8271
45940 | Travis County, Texas | 0640 | Urban | 0.9437 | 0.9437 | 12420 | Urban | 0.9437
45941 | Trinity County, Texas | 45 | Rural | 0.7931 | 0.8003 | 99945 | Rural | 0.7967
45942 | Tyler County, Texas | 45 | Rural | 0.7931 | 0.8003 | 99945 | Rural | 0.7967
45943 | Upshur County, Texas | 4420 | Urban | 0.8888 | 0.8730 | 30980 | Urban | 0.8809
45944 | Upton County, Texas | 45 | Rural | 0.7931 | 0.8003 | 99945 | Rural | 0.7967
45945 | Uvalde County, Texas | 45 | Rural | 0.7931 | 0.8003 | 99945 | Rural | 0.7967
45946 | Val Verde County, Texas | 45 | Rural | 0.7931 | 0.8003 | 99945 | Rural | 0.7967
45947 | Van Zandt County, Texas | 45 | Rural | 0.7931 | 0.8003 | 99945 | Rural | 0.7967
45948 | Victoria County, Texas | 8750 | Urban | 0.8160 | 0.8160 | 47020 | Urban | 0.8160
45949 | Walker County, Texas | 45 | Rural | 0.7931 | 0.8003 | 99945 | Rural | 0.7967
45950 | Waller County, Texas | 3360 | Urban | 1.0088 | 0.9992 | 26420 | Urban | 1.0040
45951 | Ward County, Texas | 45 | Rural | 0.7931 | 0.8003 | 99945 | Rural | 0.7967
45952 | Washington County, Texas | 45 | Rural | 0.7931 | 0.8003 | 99945 | Rural | 0.7967
45953 | Webb County, Texas | 4080 | Urban | 0.8068 | 0.8068 | 29700 | Urban | 0.8068
45954 | Wharton County, Texas | 45 | Rural | 0.7931 | 0.8003 | 99945 | Rural | 0.7967
45955 | Wheeler County, Texas | 45 | Rural | 0.7931 | 0.8003 | 99945 | Rural | 0.7967
45960 | Wichita County, Texas | 9080 | Urban | 0.8365 | 0.8285 | 48660 | Urban | 0.8325
45961 | Wilbarger County, Texas | 45 | Rural | 0.7931 | 0.8003 | 99945 | Rural | 0.7967
45962 | Willacy County, Texas | 45 | Rural | 0.7931 | 0.8003 | 99945 | Rural | 0.7967
45970 | Williamson County, Texas | 0640 | Urban | 0.9437 | 0.9437 | 12420 | Urban | 0.9437
45971 | Wilson County, Texas | 7240 | Urban | 0.8984 | 0.8980 | 41700 | Urban | 0.8982
45972 | Winkler County, Texas | 45 | Rural | 0.7931 | 0.8003 | 99945 | Rural | 0.7967
45973 | Wise County, Texas | 45 | Rural | 0.7931 | 0.9486 | 23104 | Urban | 0.8709
45974 | Wood County, Texas | 45 | Rural | 0.7931 | 0.8003 | 99945 | Rural | 0.7967
45980 | Yoakum County, Texas | 45 | Rural | 0.7931 | 0.8003 | 99945 | Rural | 0.7967
45981 | Young County, Texas | 45 | Rural | 0.7931 | 0.8003 | 99945 | Rural | 0.7967
45982 | Zapata County, Texas | 45 | Rural | 0.7931 | 0.8003 | 99945 | Rural | 0.7967
45983 | Zavala County, Texas | 45 | Rural | 0.7931 | 0.8003 | 99945 | Rural | 0.7967
46000 | Beaver County, Utah | 46 | Rural | 0.8762 | 0.8118 | 99946 | Rural | 0.8440
46010 | Box Elder County, Utah | 46 | Rural | 0.8762 | 0.8118 | 99946 | Rural | 0.8440
46020 | Cache County, Utah | 46 | Rural | 0.8762 | 0.9164 | 30860 | Urban | 0.8963
46030 | Carbon County, Utah | 46 | Rural | 0.8762 | 0.8118 | 99946 | Rural | 0.8440
46040 | Daggett County, Utah | 46 | Rural | 0.8762 | 0.8118 | 99946 | Rural | 0.8440
46050 | Davis County, Utah | 7160 | Urban | 0.9340 | 0.9029 | 36260 | Urban | 0.9185
46060 | Duchesne County, Utah | 46 | Rural | 0.8762 | 0.8118 | 99946 | Rural | 0.8440
46070 | Emery County, Utah | 46 | Rural | 0.8762 | 0.8118 | 99946 | Rural | 0.8440
46080 | Garfield County, Utah | 46 | Rural | 0.8762 | 0.8118 | 99946 | Rural | 0.8440
46090 | Grand County, Utah | 46 | Rural | 0.8762 | 0.8118 | 99946 | Rural | 0.8440
46100 | Iron County, Utah | 46 | Rural | 0.8762 | 0.8118 | 99946 | Rural | 0.8440
46110 | Juab County, Utah | 46 | Rural | 0.8762 | 0.9500 | 39340 | Urban | 0.9131
46120 | Kane County, Utah | 2620 | Urban | 1.1845 | 0.8118 | 99946 | Rural | 0.9982
46130 | Millard County, Utah | 46 | Rural | 0.8762 | 0.8118 | 99946 | Rural | 0.8440
46140 | Morgan County, Utah | 46 | Rural | 0.8762 | 0.9029 | 36260 | Urban | 0.8896
46150 | Piute County, Utah | 46 | Rural | 0.8762 | 0.8118 | 99946 | Rural | 0.8440
46160 | Rich County, Utah | 46 | Rural | 0.8762 | 0.8118 | 99946 | Rural | 0.8440
46170 | Salt Lake County, Utah | 7160 | Urban | 0.9340 | 0.9421 | 41620 | Urban | 0.9381
46180 | San Juan County, Utah | 46 | Rural | 0.8762 | 0.8118 | 99946 | Rural | 0.8440
46190 | Sanpete County, Utah | 46 | Rural | 0.8762 | 0.8118 | 99946 | Rural | 0.8440
46200 | Sevier County, Utah | 46 | Rural | 0.8762 | 0.8118 | 99946 | Rural | 0.8440
46210 | Summit County, Utah | 46 | Rural | 0.8762 | 0.9421 | 41620 | Urban | 0.9092
46220 | Tooele County, Utah | 46 | Rural | 0.8762 | 0.9421 | 41620 | Urban | 0.9092
46230 | Uintah County, Utah | 46 | Rural | 0.8762 | 0.8118 | 99946 | Rural | 0.8440
46240 | Utah County, Utah | 6520 | Urban | 0.9500 | 0.9500 | 39340 | Urban | 0.9500
46250 | Wasatch County, Utah | 46 | Rural | 0.8762 | 0.8118 | 99946 | Rural | 0.8440
46260 | Washington County, Utah | 46 | Rural | 0.8762 | 0.9392 | 41100 | Urban | 0.9077
46270 | Wayne County, Utah | 46 | Rural | 0.8762 | 0.8118 | 99946 | Rural | 0.8440
46280 | Weber County, Utah | 7160 | Urban | 0.9340 | 0.9029 | 36260 | Urban | 0.9185
47000 | Addison County, Vermont | 47 | Rural | 0.9830 | 0.9830 | 99947 | Rural | 0.9830
47010 | Bennington County, Vermont | 47 | Rural | 0.9830 | 0.9830 | 99947 | Rural | 0.9830
47020 | Caledonia County, Vermont | 47 | Rural | 0.9830 | 0.9830 | 99947 | Rural | 0.9830
47030 | Chittenden County, Vermont | 1303 | Urban | 0.9410 | 0.9410 | 15540 | Urban | 0.9410
47040 | Essex County, Vermont | 47 | Rural | 0.9830 | 0.9830 | 99947 | Rural | 0.9830
47050 | Franklin County, Vermont | 1303 | Urban | 0.9410 | 0.9410 | 15540 | Urban | 0.9410
47060 | Grand Isle County, Vermont | 1303 | Urban | 0.9410 | 0.9410 | 15540 | Urban | 0.9410
47070 | Lamoille County, Vermont | 47 | Rural | 0.9830 | 0.9830 | 99947 | Rural | 0.9830
47080 | Orange County, Vermont | 47 | Rural | 0.9830 | 0.9830 | 99947 | Rural | 0.9830
47090 | Orleans County, Vermont | 47 | Rural | 0.9830 | 0.9830 | 99947 | Rural | 0.9830
47100 | Rutland County, Vermont | 47 | Rural | 0.9830 | 0.9830 | 99947 | Rural | 0.9830
47110 | Washington County, Vermont | 47 | Rural | 0.9830 | 0.9830 | 99947 | Rural | 0.9830
47120 | Windham County, Vermont | 47 | Rural | 0.9830 | 0.9830 | 99947 | Rural | 0.9830
47130 | Windsor County, Vermont | 47 | Rural | 0.9830 | 0.9830 | 99947 | Rural | 0.9830
48010 | St Croix County, Virgin Islands | 48 | Rural | 0.7615 | 0.7615 | 99948 | Rural | 0.7615
48020 | St Thomas-John County, Virgin Islands | 48 | Rural | 0.7615 | 0.7615 | 99948 | Rural | 0.7615
49000 | Accomack County, Virginia | 49 | Rural | 0.8417 | 0.8013 | 99949 | Rural | 0.8215
49010 | Albemarle County, Virginia | 1540 | Urban | 1.0187 | 1.0187 | 16820 | Urban | 1.0187
49011 | Alexandria City County, Virginia | 8840 | Urban | 1.0976 | 1.0926 | 47894 | Urban | 1.0951
49020 | Alleghany County, Virginia | 49 | Rural | 0.8417 | 0.8013 | 99949 | Rural | 0.8215
49030 | Amelia County, Virginia | 49 | Rural | 0.8417 | 0.9328 | 40060 | Urban | 0.8873
49040 | Amherst County, Virginia | 4640 | Urban | 0.8691 | 0.8691 | 31340 | Urban | 0.8691
49050 | Appomattox County, Virginia | 49 | Rural | 0.8417 | 0.8691 | 31340 | Urban | 0.8554
49060 | Arlington County, Virginia | 8840 | Urban | 1.0976 | 1.0926 | 47894 | Urban | 1.0951
49070 | Augusta County, Virginia | 49 | Rural | 0.8417 | 0.8013 | 99949 | Rural | 0.8215
49080 | Bath County, Virginia | 49 | Rural | 0.8417 | 0.8013 | 99949 | Rural | 0.8215
49088 | Bedford City County, Virginia | 4640 | Urban | 0.8691 | 0.8691 | 31340 | Urban | 0.8691
49090 | Bedford County, Virginia | 4640 | Urban | 0.8691 | 0.8691 | 31340 | Urban | 0.8691
49100 | Bland County, Virginia | 49 | Rural | 0.8417 | 0.8013 | 99949 | Rural | 0.8215
49110 | Botetourt County, Virginia | 6800 | Urban | 0.8387 | 0.8374 | 40220 | Urban | 0.8381
49111 | Bristol City County, Virginia | 3660 | Urban | 0.8007 | 0.8054 | 28700 | Urban | 0.8031
49120 | Brunswick County, Virginia | 49 | Rural | 0.8417 | 0.8013 | 99949 | Rural | 0.8215
49130 | Buchanan County, Virginia | 49 | Rural | 0.8417 | 0.8013 | 99949 | Rural | 0.8215
49140 | Buckingham County, Virginia | 49 | Rural | 0.8417 | 0.8013 | 99949 | Rural | 0.8215
49141 | Buena Vista City County, Virginia | 49 | Rural | 0.8417 | 0.8013 | 99949 | Rural | 0.8215
49150 | Campbell County, Virginia | 4640 | Urban | 0.8691 | 0.8691 | 31340 | Urban | 0.8691
49160 | Caroline County, Virginia | 49 | Rural | 0.8417 | 0.9328 | 40060 | Urban | 0.8873
49170 | Carroll County, Virginia | 49 | Rural | 0.8417 | 0.8013 | 99949 | Rural | 0.8215
49180 | Charles City County, Virginia | 6760 | Urban | 0.9328 | 0.9328 | 40060 | Urban | 0.9328
49190 | Charlotte County, Virginia | 49 | Rural | 0.8417 | 0.8013 | 99949 | Rural | 0.8215
49191 | Charlottesville City County, Virginia | 1540 | Urban | 1.0187 | 1.0187 | 16820 | Urban | 1.0187
49194 | Chesapeake County, Virginia | 5720 | Urban | 0.8799 | 0.8799 | 47260 | Urban | 0.8799
49200 | Chesterfield County, Virginia | 6760 | Urban | 0.9328 | 0.9328 | 40060 | Urban | 0.9328
49210 | Clarke County, Virginia | 8840 | Urban | 1.0976 | 1.0926 | 47894 | Urban | 1.0951
49211 | Clifton Forge City County, Virginia | 49 | Rural | 0.8417 | 0.8013 | 99949 | Rural | 0.8215
49212 | Colonial Heights County, Virginia | 6760 | Urban | 0.9328 | 0.9328 | 40060 | Urban | 0.9328
49213 | Covington City County, Virginia | 49 | Rural | 0.8417 | 0.8013 | 99949 | Rural | 0.8215
49220 | Craig County, Virginia | 49 | Rural | 0.8417 | 0.8374 | 40220 | Urban | 0.8396
49230 | Culpeper County, Virginia | 8840 | Urban | 1.0976 | 0.8013 | 99949 | Rural | 0.9495
49240 | Cumberland County, Virginia | 49 | Rural | 0.8417 | 0.9328 | 40060 | Urban | 0.8873
49241 | Danville City County, Virginia | 1950 | Urban | 0.8489 | 0.8489 | 19260 | Urban | 0.8489
49250 | Dickenson County, Virginia | 49 | Rural | 0.8417 | 0.8013 | 99949 | Rural | 0.8215
49260 | Dinniddie County, Virginia | 6760 | Urban | 0.9328 | 0.9328 | 40060 | Urban | 0.9328
49270 | Emporia County, Virginia | 49 | Rural | 0.8417 | 0.8013 | 99949 | Rural | 0.8215
49280 | Essex County, Virginia | 49 | Rural | 0.8417 | 0.8013 | 99949 | Rural | 0.8215
49288 | Fairfax City County, Virginia | 8840 | Urban | 1.0976 | 1.0926 | 47894 | Urban | 1.0951
49290 | Fairfax County, Virginia | 8840 | Urban | 1.0976 | 1.0926 | 47894 | Urban | 1.0951
49291 | Falls Church City County, Virginia | 8840 | Urban | 1.0976 | 1.0926 | 47894 | Urban | 1.0951
49300 | Fauquier County, Virginia | 8840 | Urban | 1.0976 | 1.0926 | 47894 | Urban | 1.0951
49310 | Floyd County, Virginia | 49 | Rural | 0.8417 | 0.8013 | 99949 | Rural | 0.8215
49320 | Fluvanna County, Virginia | 1540 | Urban | 1.0187 | 1.0187 | 16820 | Urban | 1.0187
49328 | Franklin City County, Virginia | 49 | Rural | 0.8417 | 0.8013 | 99949 | Rural | 0.8215
49330 | Franklin County, Virginia | 49 | Rural | 0.8417 | 0.8374 | 40220 | Urban | 0.8396
49340 | Frederick County, Virginia | 49 | Rural | 0.8417 | 1.0214 | 49020 | Urban | 0.9316
49342 | Fredericksburg City County, Virginia | 8840 | Urban | 1.0976 | 1.0926 | 47894 | Urban | 1.0951
49343 | Galax City County, Virginia | 49 | Rural | 0.8417 | 0.8013 | 99949 | Rural | 0.8215
49350 | Giles County, Virginia | 49 | Rural | 0.8417 | 0.7954 | 13980 | Urban | 0.8186
49360 | Gloucester County, Virginia | 5720 | Urban | 0.8799 | 0.8799 | 47260 | Urban | 0.8799
49370 | Goochland County, Virginia | 6760 | Urban | 0.9328 | 0.9328 | 40060 | Urban | 0.9328
49380 | Grayson County, Virginia | 49 | Rural | 0.8417 | 0.8013 | 99949 | Rural | 0.8215
49390 | Greene County, Virginia | 1540 | Urban | 1.0187 | 1.0187 | 16820 | Urban | 1.0187
49400 | Greensville County, Virginia | 49 | Rural | 0.8417 | 0.8013 | 99949 | Rural | 0.8215
49410 | Halifax County, Virginia | 49 | Rural | 0.8417 | 0.8013 | 99949 | Rural | 0.8215
49411 | Hampton City County, Virginia | 5720 | Urban | 0.8799 | 0.8799 | 47260 | Urban | 0.8799
49420 | Hanover County, Virginia | 6760 | Urban | 0.9328 | 0.9328 | 40060 | Urban | 0.9328
49421 | Harrisonburg City County, Virginia | 49 | Rural | 0.8417 | 0.9088 | 25500 | Urban | 0.8753
49430 | Henrico County, Virginia | 6760 | Urban | 0.9328 | 0.9328 | 40060 | Urban | 0.9328
49440 | Henry County, Virginia | 49 | Rural | 0.8417 | 0.8013 | 99949 | Rural | 0.8215
49450 | Highland County, Virginia | 49 | Rural | 0.8417 | 0.8013 | 99949 | Rural | 0.8215
49451 | Hopewell City County, Virginia | 6760 | Urban | 0.9328 | 0.9328 | 40060 | Urban | 0.9328
49460 | Isle Of Wight County, Virginia | 5720 | Urban | 0.8799 | 0.8799 | 47260 | Urban | 0.8799
49470 | James City Co County, Virginia | 5720 | Urban | 0.8799 | 0.8799 | 47260 | Urban | 0.8799
49480 | King And Queen County, Virginia | 49 | Rural | 0.8417 | 0.9328 | 40060 | Urban | 0.8873
49490 | King George County, Virginia | 8840 | Urban | 1.0976 | 0.8013 | 99949 | Rural | 0.9495
49500 | King William County, Virginia | 49 | Rural | 0.8417 | 0.9328 | 40060 | Urban | 0.8873
49510 | Lancaster County, Virginia | 49 | Rural | 0.8417 | 0.8013 | 99949 | Rural | 0.8215
49520 | Lee County, Virginia | 49 | Rural | 0.8417 | 0.8013 | 99949 | Rural | 0.8215
49522 | Lexington County, Virginia | 49 | Rural | 0.8417 | 0.8013 | 99949 | Rural | 0.8215
49530 | Loudoun County, Virginia | 8840 | Urban | 1.0976 | 1.0926 | 47894 | Urban | 1.0951
49540 | Louisa County, Virginia | 49 | Rural | 0.8417 | 0.9328 | 40060 | Urban | 0.8873
49550 | Lunenburg County, Virginia | 49 | Rural | 0.8417 | 0.8013 | 99949 | Rural | 0.8215
49551 | Lynchburg City County, Virginia | 4640 | Urban | 0.8691 | 0.8691 | 31340 | Urban | 0.8691
49560 | Madison County, Virginia | 49 | Rural | 0.8417 | 0.8013 | 99949 | Rural | 0.8215
49561 | Martinsville City County, Virginia | 49 | Rural | 0.8417 | 0.8013 | 99949 | Rural | 0.8215
49563 | Manassas City County, Virginia | 8840 | Urban | 1.0976 | 1.0926 | 47894 | Urban | 1.0951
49565 | Manassas Park City County, Virginia | 8840 | Urban | 1.0976 | 1.0926 | 47894 | Urban | 1.0951
49570 | Mathews County, Virginia | 5720 | Urban | 0.8799 | 0.8799 | 47260 | Urban | 0.8799
49580 | Mecklenburg County, Virginia | 49 | Rural | 0.8417 | 0.8013 | 99949 | Rural | 0.8215
49590 | Middlesex County, Virginia | 49 | Rural | 0.8417 | 0.8013 | 99949 | Rural | 0.8215
49600 | Montgomery County, Virginia | 49 | Rural | 0.8417 | 0.7954 | 13980 | Urban | 0.8186
49610 | Nansemond County, Virginia | 49 | Rural | 0.8417 | 0.8013 | 99949 | Rural | 0.8215
49620 | Nelson County, Virginia | 49 | Rural | 0.8417 | 1.0187 | 16820 | Urban | 0.9302
49621 | New Kent County, Virginia | 6760 | Urban | 0.9328 | 0.9328 | 40060 | Urban | 0.9328
49622 | Newport News City County, Virginia | 5720 | Urban | 0.8799 | 0.8799 | 47260 | Urban | 0.8799
49641 | Norfolk City County, Virginia | 5720 | Urban | 0.8799 | 0.8799 | 47260 | Urban | 0.8799
49650 | Northampton County, Virginia | 49 | Rural | 0.8417 | 0.8013 | 99949 | Rural | 0.8215
49660 | Northumberland County, Virginia | 49 | Rural | 0.8417 | 0.8013 | 99949 | Rural | 0.8215
49661 | Norton City County, Virginia | 49 | Rural | 0.8417 | 0.8013 | 99949 | Rural | 0.8215
49670 | Nottoway County, Virginia | 49 | Rural | 0.8417 | 0.8013 | 99949 | Rural | 0.8215
49680 | Orange County, Virginia | 49 | Rural | 0.8417 | 0.8013 | 99949 | Rural | 0.8215
49690 | Page County, Virginia | 49 | Rural | 0.8417 | 0.8013 | 99949 | Rural | 0.8215
49700 | Patrick County, Virginia | 49 | Rural | 0.8417 | 0.8013 | 99949 | Rural | 0.8215
49701 | Petersburg City County, Virginia | 6760 | Urban | 0.9328 | 0.9328 | 40060 | Urban | 0.9328
49710 | Pittsylvania County, Virginia | 1950 | Urban | 0.8489 | 0.8489 | 19260 | Urban | 0.8489
49711 | Portsmouth City County, Virginia | 5720 | Urban | 0.8799 | 0.8799 | 47260 | Urban | 0.8799
49712 | Poquoson City County, Virginia | 5720 | Urban | 0.8799 | 0.8799 | 47260 | Urban | 0.8799
49720 | Powhatan County, Virginia | 6760 | Urban | 0.9328 | 0.9328 | 40060 | Urban | 0.9328
49730 | Prince Edward County, Virginia | 49 | Rural | 0.8417 | 0.8013 | 99949 | Rural | 0.8215
49740 | Prince George County, Virginia | 6760 | Urban | 0.9328 | 0.9328 | 40060 | Urban | 0.9328
49750 | Prince William County, Virginia | 8840 | Urban | 1.0976 | 1.0926 | 47894 | Urban | 1.0951
49770 | Pulaski County, Virginia | 49 | Rural | 0.8417 | 0.7954 | 13980 | Urban | 0.8186
49771 | Radford City County, Virginia | 49 | Rural | 0.8417 | 0.7954 | 13980 | Urban | 0.8186
49780 | Rappahannock County, Virginia | 49 | Rural | 0.8417 | 0.8013 | 99949 | Rural | 0.8215
49790 | Richmond County, Virginia | 49 | Rural | 0.8417 | 0.8013 | 99949 | Rural | 0.8215
49791 | Richmond City County, Virginia | 6760 | Urban | 0.9328 | 0.9328 | 40060 | Urban | 0.9328
49800 | Roanoke County, Virginia | 6800 | Urban | 0.8387 | 0.8374 | 40220 | Urban | 0.8381
49801 | Roanoke City County, Virginia | 6800 | Urban | 0.8387 | 0.8374 | 40220 | Urban | 0.8381
49810 | Rockbridge County, Virginia | 49 | Rural | 0.8417 | 0.8013 | 99949 | Rural | 0.8215
49820 | Rockingham County, Virginia | 49 | Rural | 0.8417 | 0.9088 | 25500 | Urban | 0.8753
49830 | Russell County, Virginia | 49 | Rural | 0.8417 | 0.8013 | 99949 | Rural | 0.8215
49838 | Salem County, Virginia | 6800 | Urban | 0.8387 | 0.8374 | 40220 | Urban | 0.8381
49840 | Scott County, Virginia | 3660 | Urban | 0.8007 | 0.8054 | 28700 | Urban | 0.8031
49850 | Shenandoah County, Virginia | 49 | Rural | 0.8417 | 0.8013 | 99949 | Rural | 0.8215
49860 | Smyth County, Virginia | 49 | Rural | 0.8417 | 0.8013 | 99949 | Rural | 0.8215
49867 | South Boston City County, Virginia | 49 | Rural | 0.8417 | 0.8013 | 99949 | Rural | 0.8215
49870 | Southampton County, Virginia | 49 | Rural | 0.8417 | 0.8013 | 99949 | Rural | 0.8215
49880 | Spotsylvania County, Virginia | 8840 | Urban | 1.0976 | 1.0926 | 47894 | Urban | 1.0951
49890 | Stafford County, Virginia | 8840 | Urban | 1.0976 | 1.0926 | 47894 | Urban | 1.0951
49891 | Staunton City County, Virginia | 49 | Rural | 0.8417 | 0.8013 | 99949 | Rural | 0.8215
49892 | Suffolk City County, Virginia | 5720 | Urban | 0.8799 | 0.8799 | 47260 | Urban | 0.8799
49900 | Surry County, Virginia | 49 | Rural | 0.8417 | 0.8799 | 47260 | Urban | 0.8608
49910 | Sussex County, Virginia | 49 | Rural | 0.8417 | 0.9328 | 40060 | Urban | 0.8873
49920 | Tazewell County, Virginia | 49 | Rural | 0.8417 | 0.8013 | 99949 | Rural | 0.8215
49921 | Virginia Beach City County, Virginia | 5720 | Urban | 0.8799 | 0.8799 | 47260 | Urban | 0.8799
49930 | Warren County, Virginia | 8840 | Urban | 1.0976 | 1.0926 | 47894 | Urban | 1.0951
49950 | Washington County, Virginia | 3660 | Urban | 0.8007 | 0.8054 | 28700 | Urban | 0.8031
49951 | Waynesboro City County, Virginia | 49 | Rural | 0.8417 | 0.8013 | 99949 | Rural | 0.8215
49960 | Westmoreland County, Virginia | 49 | Rural | 0.8417 | 0.8013 | 99949 | Rural | 0.8215
49961 | Williamsburg City County, Virginia | 5720 | Urban | 0.8799 | 0.8799 | 47260 | Urban | 0.8799
49962 | Winchester City County, Virginia | 49 | Rural | 0.8417 | 1.0214 | 49020 | Urban | 0.9316
49970 | Wise County, Virginia | 49 | Rural | 0.8417 | 0.8013 | 99949 | Rural | 0.8215
49980 | Wythe County, Virginia | 49 | Rural | 0.8417 | 0.8013 | 99949 | Rural | 0.8215
49981 | York County, Virginia | 5720 | Urban | 0.8799 | 0.8799 | 47260 | Urban | 0.8799
50000 | Adams County, Washington | 50 | Rural | 1.0217 | 1.0510 | 99950 | Rural | 1.0364
50010 | Asotin County, Washington | 50 | Rural | 1.0217 | 0.9886 | 30300 | Urban | 1.0052
50020 | Benton County, Washington | 6740 | Urban | 1.0619 | 1.0619 | 28420 | Urban | 1.0619
50030 | Chelan County, Washington | 50 | Rural | 1.0217 | 1.0070 | 48300 | Urban | 1.0144
50040 | Clallam County, Washington | 50 | Rural | 1.0217 | 1.0510 | 99950 | Rural | 1.0364
50050 | Clark County, Washington | 6440 | Urban | 1.1266 | 1.1266 | 38900 | Urban | 1.1266
50060 | Columbia County, Washington | 50 | Rural | 1.0217 | 1.0510 | 99950 | Rural | 1.0364
50070 | Cowlitz County, Washington | 50 | Rural | 1.0217 | 0.9579 | 31020 | Urban | 0.9898
50080 | Douglas County, Washington | 50 | Rural | 1.0217 | 1.0070 | 48300 | Urban | 1.0144
50090 | Ferry County, Washington | 50 | Rural | 1.0217 | 1.0510 | 99950 | Rural | 1.0364
50100 | Franklin County, Washington | 6740 | Urban | 1.0619 | 1.0619 | 28420 | Urban | 1.0619
50110 | Garfield County, Washington | 50 | Rural | 1.0217 | 1.0510 | 99950 | Rural | 1.0364
50120 | Grant County, Washington | 50 | Rural | 1.0217 | 1.0510 | 99950 | Rural | 1.0364
50130 | Grays Harbor County, Washington | 50 | Rural | 1.0217 | 1.0510 | 99950 | Rural | 1.0364
50140 | Island County, Washington | 7600 | Urban | 1.1567 | 1.0510 | 99950 | Rural | 1.1039
50150 | Jefferson County, Washington | 50 | Rural | 1.0217 | 1.0510 | 99950 | Rural | 1.0364
50160 | King County, Washington | 7600 | Urban | 1.1567 | 1.1577 | 42644 | Urban | 1.1572
50170 | Kitsap County, Washington | 1150 | Urban | 1.0675 | 1.0675 | 14740 | Urban | 1.0675
50180 | Kittitas County, Washington | 50 | Rural | 1.0217 | 1.0510 | 99950 | Rural | 1.0364
50190 | Klickitat County, Washington | 50 | Rural | 1.0217 | 1.0510 | 99950 | Rural | 1.0364
50200 | Lewis County, Washington | 50 | Rural | 1.0217 | 1.0510 | 99950 | Rural | 1.0364
50210 | Lincoln County, Washington | 50 | Rural | 1.0217 | 1.0510 | 99950 | Rural | 1.0364
50220 | Mason County, Washington | 50 | Rural | 1.0217 | 1.0510 | 99950 | Rural | 1.0364
50230 | Okanogan County, Washington | 50 | Rural | 1.0217 | 1.0510 | 99950 | Rural | 1.0364
50240 | Pacific County, Washington | 50 | Rural | 1.0217 | 1.0510 | 99950 | Rural | 1.0364
50250 | Pend Oreille County, Washington | 50 | Rural | 1.0217 | 1.0510 | 99950 | Rural | 1.0364
50260 | Pierce County, Washington | 8200 | Urban | 1.0742 | 1.0742 | 45104 | Urban | 1.0742
50270 | San Juan County, Washington | 50 | Rural | 1.0217 | 1.0510 | 99950 | Rural | 1.0364
50280 | Skagit County, Washington | 50 | Rural | 1.0217 | 1.0454 | 34580 | Urban | 1.0336
50290 | Skamania County, Washington | 50 | Rural | 1.0217 | 1.1266 | 38900 | Urban | 1.0742
50300 | Snohomish County, Washington | 7600 | Urban | 1.1567 | 1.1577 | 42644 | Urban | 1.1572
50310 | Spokane County, Washington | 7840 | Urban | 1.0905 | 1.0905 | 44060 | Urban | 1.0905
50320 | Stevens County, Washington | 50 | Rural | 1.0217 | 1.0510 | 99950 | Rural | 1.0364
50330 | Thurston County, Washington | 5910 | Urban | 1.0927 | 1.0927 | 36500 | Urban | 1.0927
50340 | Wahkiakum County, Washington | 50 | Rural | 1.0217 | 1.0510 | 99950 | Rural | 1.0364
50350 | Walla Walla County, Washington | 50 | Rural | 1.0217 | 1.0510 | 99950 | Rural | 1.0364
50360 | Whatcom County, Washington | 0860 | Urban | 1.1731 | 1.1731 | 13380 | Urban | 1.1731
50370 | Whitman County, Washington | 50 | Rural | 1.0217 | 1.0510 | 99950 | Rural | 1.0364
50380 | Yakima County, Washington | 9260 | Urban | 1.0155 | 1.0155 | 49420 | Urban | 1.0155
51000 | Barbour County, W Virginia | 51 | Rural | 0.7900 | 0.7717 | 99951 | Rural | 0.7809
51010 | Berkeley County, W Virginia | 8840 | Urban | 1.0976 | 0.9489 | 25180 | Urban | 1.0233
51020 | Boone County, W Virginia | 51 | Rural | 0.7900 | 0.8445 | 16620 | Urban | 0.8173
51030 | Braxton County, W Virginia | 51 | Rural | 0.7900 | 0.7717 | 99951 | Rural | 0.7809
51040 | Brooke County, W Virginia | 8080 | Urban | 0.7819 | 0.7819 | 48260 | Urban | 0.7819
51050 | Cabell County, W Virginia | 3400 | Urban | 0.9477 | 0.9477 | 26580 | Urban | 0.9477
51060 | Calhoun County, W Virginia | 51 | Rural | 0.7900 | 0.7717 | 99951 | Rural | 0.7809
51070 | Clay County, W Virginia | 51 | Rural | 0.7900 | 0.8445 | 16620 | Urban | 0.8173
51080 | Doddridge County, W Virginia | 51 | Rural | 0.7900 | 0.7717 | 99951 | Rural | 0.7809
51090 | Fayette County, W Virginia | 51 | Rural | 0.7900 | 0.7717 | 99951 | Rural | 0.7809
51100 | Gilmer County, W Virginia | 51 | Rural | 0.7900 | 0.7717 | 99951 | Rural | 0.7809
51110 | Grant County, W Virginia | 51 | Rural | 0.7900 | 0.7717 | 99951 | Rural | 0.7809
51120 | Greenbrier County, W Virginia | 51 | Rural | 0.7900 | 0.7717 | 99951 | Rural | 0.7809
51130 | Hampshire County, W Virginia | 51 | Rural | 0.7900 | 1.0214 | 49020 | Urban | 0.9057
51140 | Hancock County, W Virginia | 8080 | Urban | 0.7819 | 0.7819 | 48260 | Urban | 0.7819
51150 | Hardy County, W Virginia | 51 | Rural | 0.7900 | 0.7717 | 99951 | Rural | 0.7809
51160 | Harrison County, W Virginia | 51 | Rural | 0.7900 | 0.7717 | 99951 | Rural | 0.7809
51170 | Jackson County, W Virginia | 51 | Rural | 0.7900 | 0.7717 | 99951 | Rural | 0.7809
51180 | Jefferson County, W Virginia | 8840 | Urban | 1.0976 | 1.0926 | 47894 | Urban | 1.0951
51190 | Kanawha County, W Virginia | 1480 | Urban | 0.8445 | 0.8445 | 16620 | Urban | 0.8445
51200 | Lewis County, W Virginia | 51 | Rural | 0.7900 | 0.7717 | 99951 | Rural | 0.7809
51210 | Lincoln County, W Virginia | 51 | Rural | 0.7900 | 0.8445 | 16620 | Urban | 0.8173
51220 | Logan County, W Virginia | 51 | Rural | 0.7900 | 0.7717 | 99951 | Rural | 0.7809
51230 | Mc Dowell County, W Virginia | 51 | Rural | 0.7900 | 0.7717 | 99951 | Rural | 0.7809
51240 | Marion County, W Virginia | 51 | Rural | 0.7900 | 0.7717 | 99951 | Rural | 0.7809
51250 | Marshall County, W Virginia | 9000 | Urban | 0.7161 | 0.7161 | 48540 | Urban | 0.7161
51260 | Mason County, W Virginia | 51 | Rural | 0.7900 | 0.7717 | 99951 | Rural | 0.7809
51270 | Mercer County, W Virginia | 51 | Rural | 0.7900 | 0.7717 | 99951 | Rural | 0.7809
51280 | Mineral County, W Virginia | 1900 | Urban | 0.9317 | 0.9317 | 19060 | Urban | 0.9317
51290 | Mingo County, W Virginia | 51 | Rural | 0.7900 | 0.7717 | 99951 | Rural | 0.7809
51300 | Monongalia County, W Virginia | 51 | Rural | 0.7900 | 0.8420 | 34060 | Urban | 0.8160
51310 | Monroe County, W Virginia | 51 | Rural | 0.7900 | 0.7717 | 99951 | Rural | 0.7809
51320 | Morgan County, W Virginia | 51 | Rural | 0.7900 | 0.9489 | 25180 | Urban | 0.8695
51330 | Nicholas County, W Virginia | 51 | Rural | 0.7900 | 0.7717 | 99951 | Rural | 0.7809
51340 | Ohio County, W Virginia | 9000 | Urban | 0.7161 | 0.7161 | 48540 | Urban | 0.7161
51350 | Pendleton County, W Virginia | 51 | Rural | 0.7900 | 0.7717 | 99951 | Rural | 0.7809
51360 | Pleasants County, W Virginia | 51 | Rural | 0.7900 | 0.8270 | 37620 | Urban | 0.8085
51370 | Pocahontas County, W Virginia | 51 | Rural | 0.7900 | 0.7717 | 99951 | Rural | 0.7809
51380 | Preston County, W Virginia | 51 | Rural | 0.7900 | 0.8420 | 34060 | Urban | 0.8160
51390 | Putnam County, W Virginia | 1480 | Urban | 0.8445 | 0.8445 | 16620 | Urban | 0.8445
51400 | Raleigh County, W Virginia | 51 | Rural | 0.7900 | 0.7717 | 99951 | Rural | 0.7809
51410 | Randolph County, W Virginia | 51 | Rural | 0.7900 | 0.7717 | 99951 | Rural | 0.7809
51420 | Ritchie County, W Virginia | 51 | Rural | 0.7900 | 0.7717 | 99951 | Rural | 0.7809
51430 | Roane County, W Virginia | 51 | Rural | 0.7900 | 0.7717 | 99951 | Rural | 0.7809
51440 | Summers County, W Virginia | 51 | Rural | 0.7900 | 0.7717 | 99951 | Rural | 0.7809
51450 | Taylor County, W Virginia | 51 | Rural | 0.7900 | 0.7717 | 99951 | Rural | 0.7809
51460 | Tucker County, W Virginia | 51 | Rural | 0.7900 | 0.7717 | 99951 | Rural | 0.7809
51470 | Tyler County, W Virginia | 51 | Rural | 0.7900 | 0.7717 | 99951 | Rural | 0.7809
51480 | Upshur County, W Virginia | 51 | Rural | 0.7900 | 0.7717 | 99951 | Rural | 0.7809
51490 | Wayne County, W Virginia | 3400 | Urban | 0.9477 | 0.9477 | 26580 | Urban | 0.9477
51500 | Webster County, W Virginia | 51 | Rural | 0.7900 | 0.7717 | 99951 | Rural | 0.7809
51510 | Wetzel County, W Virginia | 51 | Rural | 0.7900 | 0.7717 | 99951 | Rural | 0.7809
51520 | Wirt County, W Virginia | 51 | Rural | 0.7900 | 0.8270 | 37620 | Urban | 0.8085
51530 | Wood County, W Virginia | 6020 | Urban | 0.8270 | 0.8270 | 37620 | Urban | 0.8270
51540 | Wyoming County, W Virginia | 51 | Rural | 0.7900 | 0.7717 | 99951 | Rural | 0.7809
52000 | Adams County, Wisconsin | 52 | Rural | 0.9478 | 0.9509 | 99952 | Rural | 0.9494
52010 | Ashland County, Wisconsin | 52 | Rural | 0.9478 | 0.9509 | 99952 | Rural | 0.9494
52020 | Barron County, Wisconsin | 52 | Rural | 0.9478 | 0.9509 | 99952 | Rural | 0.9494
52030 | Bayfield County, Wisconsin | 52 | Rural | 0.9478 | 0.9509 | 99952 | Rural | 0.9494
52040 | Brown County, Wisconsin | 3080 | Urban | 0.9483 | 0.9483 | 24580 | Urban | 0.9483
52050 | Buffalo County, Wisconsin | 52 | Rural | 0.9478 | 0.9509 | 99952 | Rural | 0.9494
52060 | Burnett County, Wisconsin | 52 | Rural | 0.9478 | 0.9509 | 99952 | Rural | 0.9494
52070 | Calumet County, Wisconsin | 0460 | Urban | 0.9239 | 0.9288 | 11540 | Urban | 0.9264
52080 | Chippewa County, Wisconsin | 2290 | Urban | 0.9201 | 0.9201 | 20740 | Urban | 0.9201
52090 | Clark County, Wisconsin | 52 | Rural | 0.9478 | 0.9509 | 99952 | Rural | 0.9494
52100 | Columbia County, Wisconsin | 52 | Rural | 0.9478 | 1.0659 | 31540 | Urban | 1.0069
52110 | Crawford County, Wisconsin | 52 | Rural | 0.9478 | 0.9509 | 99952 | Rural | 0.9494
52120 | Dane County, Wisconsin | 4720 | Urban | 1.0754 | 1.0659 | 31540 | Urban | 1.0707
52130 | Dodge County, Wisconsin | 52 | Rural | 0.9478 | 0.9509 | 99952 | Rural | 0.9494
52140 | Door County, Wisconsin | 52 | Rural | 0.9478 | 0.9509 | 99952 | Rural | 0.9494
52150 | Douglas County, Wisconsin | 2240 | Urban | 1.0213 | 1.0213 | 20260 | Urban | 1.0213
52160 | Dunn County, Wisconsin | 52 | Rural | 0.9478 | 0.9509 | 99952 | Rural | 0.9494
52170 | Eau Claire County, Wisconsin | 2290 | Urban | 0.9201 | 0.9201 | 20740 | Urban | 0.9201
52180 | Florence County, Wisconsin | 52 | Rural | 0.9478 | 0.9509 | 99952 | Rural | 0.9494
52190 | Fond Du Lac County, Wisconsin | 52 | Rural | 0.9478 | 0.9640 | 22540 | Urban | 0.9559
52200 | Forest County, Wisconsin | 52 | Rural | 0.9478 | 0.9509 | 99952 | Rural | 0.9494
52210 | Grant County, Wisconsin | 52 | Rural | 0.9478 | 0.9509 | 99952 | Rural | 0.9494
52220 | Green County, Wisconsin | 52 | Rural | 0.9478 | 0.9509 | 99952 | Rural | 0.9494
52230 | Green Lake County, Wisconsin | 52 | Rural | 0.9478 | 0.9509 | 99952 | Rural | 0.9494
52240 | Iowa County, Wisconsin | 52 | Rural | 0.9478 | 1.0659 | 31540 | Urban | 1.0069
52250 | Iron County, Wisconsin | 52 | Rural | 0.9478 | 0.9509 | 99952 | Rural | 0.9494
52260 | Jackson County, Wisconsin | 52 | Rural | 0.9478 | 0.9509 | 99952 | Rural | 0.9494
52270 | Jefferson County, Wisconsin | 52 | Rural | 0.9478 | 0.9509 | 99952 | Rural | 0.9494
52280 | Juneau County, Wisconsin | 52 | Rural | 0.9478 | 0.9509 | 99952 | Rural | 0.9494
52290 | Kenosha County, Wisconsin | 3800 | Urban | 0.9760 | 1.0429 | 29404 | Urban | 1.0095
52300 | Kewaunee County, Wisconsin | 52 | Rural | 0.9478 | 0.9483 | 24580 | Urban | 0.9481
52310 | La Crosse County, Wisconsin | 3870 | Urban | 0.9564 | 0.9564 | 29100 | Urban | 0.9564
52320 | Lafayette County, Wisconsin | 52 | Rural | 0.9478 | 0.9509 | 99952 | Rural | 0.9494
52330 | Langlade County, Wisconsin | 52 | Rural | 0.9478 | 0.9509 | 99952 | Rural | 0.9494
52340 | Lincoln County, Wisconsin | 52 | Rural | 0.9478 | 0.9509 | 99952 | Rural | 0.9494
52350 | Manitowoc County, Wisconsin | 52 | Rural | 0.9478 | 0.9509 | 99952 | Rural | 0.9494
52360 | Marathon County, Wisconsin | 8940 | Urban | 0.9590 | 0.9590 | 48140 | Urban | 0.9590
52370 | Marinette County, Wisconsin | 52 | Rural | 0.9478 | 0.9509 | 99952 | Rural | 0.9494
52380 | Marquette County, Wisconsin | 52 | Rural | 0.9478 | 0.9509 | 99952 | Rural | 0.9494
52381 | Menominee County, Wisconsin | 52 | Rural | 0.9478 | 0.9509 | 99952 | Rural | 0.9494
52390 | Milwaukee County, Wisconsin | 5080 | Urban | 1.0146 | 1.0146 | 33340 | Urban | 1.0146
52400 | Monroe County, Wisconsin | 52 | Rural | 0.9478 | 0.9509 | 99952 | Rural | 0.9494
52410 | Oconto County, Wisconsin | 52 | Rural | 0.9478 | 0.9483 | 24580 | Urban | 0.9481
52420 | Oneida County, Wisconsin | 52 | Rural | 0.9478 | 0.9509 | 99952 | Rural | 0.9494
52430 | Outagamie County, Wisconsin | 0460 | Urban | 0.9239 | 0.9288 | 11540 | Urban | 0.9264
52440 | Ozaukee County, Wisconsin | 5080 | Urban | 1.0146 | 1.0146 | 33340 | Urban | 1.0146
52450 | Pepin County, Wisconsin | 52 | Rural | 0.9478 | 0.9509 | 99952 | Rural | 0.9494
52460 | Pierce County, Wisconsin | 5120 | Urban | 1.1075 | 1.1075 | 33460 | Urban | 1.1075
52470 | Polk County, Wisconsin | 52 | Rural | 0.9478 | 0.9509 | 99952 | Rural | 0.9494
52480 | Portage County, Wisconsin | 52 | Rural | 0.9478 | 0.9509 | 99952 | Rural | 0.9494
52490 | Price County, Wisconsin | 52 | Rural | 0.9478 | 0.9509 | 99952 | Rural | 0.9494
52500 | Racine County, Wisconsin | 6600 | Urban | 0.8997 | 0.8997 | 39540 | Urban | 0.8997
52510 | Richland County, Wisconsin | 52 | Rural | 0.9478 | 0.9509 | 99952 | Rural | 0.9494
52520 | Rock County, Wisconsin | 3620 | Urban | 0.9538 | 0.9538 | 27500 | Urban | 0.9538
52530 | Rusk County, Wisconsin | 52 | Rural | 0.9478 | 0.9509 | 99952 | Rural | 0.9494
52540 | St Croix County, Wisconsin | 5120 | Urban | 1.1075 | 1.1075 | 33460 | Urban | 1.1075
52550 | Sauk County, Wisconsin | 52 | Rural | 0.9478 | 0.9509 | 99952 | Rural | 0.9494
52560 | Sawyer County, Wisconsin | 52 | Rural | 0.9478 | 0.9509 | 99952 | Rural | 0.9494
52570 | Shawano County, Wisconsin | 52 | Rural | 0.9478 | 0.9509 | 99952 | Rural | 0.9494
52580 | Sheboygan County, Wisconsin | 7620 | Urban | 0.8911 | 0.8911 | 43100 | Urban | 0.8911
52590 | Taylor County, Wisconsin | 52 | Rural | 0.9478 | 0.9509 | 99952 | Rural | 0.9494
52600 | Trempealeau County, Wisconsin | 52 | Rural | 0.9478 | 0.9509 | 99952 | Rural | 0.9494
52610 | Vernon County, Wisconsin | 52 | Rural | 0.9478 | 0.9509 | 99952 | Rural | 0.9494
52620 | Vilas County, Wisconsin | 52 | Rural | 0.9478 | 0.9509 | 99952 | Rural | 0.9494
52630 | Walworth County, Wisconsin | 52 | Rural | 0.9478 | 0.9509 | 99952 | Rural | 0.9494
52640 | Washburn County, Wisconsin | 52 | Rural | 0.9478 | 0.9509 | 99952 | Rural | 0.9494
52650 | Washington County, Wisconsin | 5080 | Urban | 1.0146 | 1.0146 | 33340 | Urban | 1.0146
52660 | Waukesha County, Wisconsin | 5080 | Urban | 1.0146 | 1.0146 | 33340 | Urban | 1.0146
52670 | Waupaca County, Wisconsin | 52 | Rural | 0.9478 | 0.9509 | 99952 | Rural | 0.9494
52680 | Waushara County, Wisconsin | 52 | Rural | 0.9478 | 0.9509 | 99952 | Rural | 0.9494
52690 | Winnebago County, Wisconsin | 0460 | Urban | 0.9239 | 0.9183 | 36780 | Urban | 0.9211
52700 | Wood County, Wisconsin | 52 | Rural | 0.9478 | 0.9509 | 99952 | Rural | 0.9494
53000 | Albany County, Wyoming | 53 | Rural | 0.9257 | 0.9257 | 99953 | Rural | 0.9257
53010 | Big Horn County, Wyoming | 53 | Rural | 0.9257 | 0.9257 | 99953 | Rural | 0.9257
53020 | Campbell County, Wyoming | 53 | Rural | 0.9257 | 0.9257 | 99953 | Rural | 0.9257
53030 | Carbon County, Wyoming | 53 | Rural | 0.9257 | 0.9257 | 99953 | Rural | 0.9257
53040 | Converse County, Wyoming | 53 | Rural | 0.9257 | 0.9257 | 99953 | Rural | 0.9257
53050 | Crook County, Wyoming | 53 | Rural | 0.9257 | 0.9257 | 99953 | Rural | 0.9257
53060 | Fremont County, Wyoming | 53 | Rural | 0.9257 | 0.9257 | 99953 | Rural | 0.9257
53070 | Goshen County, Wyoming | 53 | Rural | 0.9257 | 0.9257 | 99953 | Rural | 0.9257
53080 | Hot Springs County, Wyoming | 53 | Rural | 0.9257 | 0.9257 | 99953 | Rural | 0.9257
53090 | Johnson County, Wyoming | 53 | Rural | 0.9257 | 0.9257 | 99953 | Rural | 0.9257
53100 | Laramie County, Wyoming | 1580 | Urban | 0.8775 | 0.8775 | 16940 | Urban | 0.8775
53110 | Lincoln County, Wyoming | 53 | Rural | 0.9257 | 0.9257 | 99953 | Rural | 0.9257
53120 | Natrona County, Wyoming | 1350 | Urban | 0.9026 | 0.9026 | 16220 | Urban | 0.9026
53130 | Niobrara County, Wyoming | 53 | Rural | 0.9257 | 0.9257 | 99953 | Rural | 0.9257
53140 | Park County, Wyoming | 53 | Rural | 0.9257 | 0.9257 | 99953 | Rural | 0.9257
53150 | Platte County, Wyoming | 53 | Rural | 0.9257 | 0.9257 | 99953 | Rural | 0.9257
53160 | Sheridan County, Wyoming | 53 | Rural | 0.9257 | 0.9257 | 99953 | Rural | 0.9257
53170 | Sublette County, Wyoming | 53 | Rural | 0.9257 | 0.9257 | 99953 | Rural | 0.9257
53180 | Sweetwater County, Wyoming | 53 | Rural | 0.9257 | 0.9257 | 99953 | Rural | 0.9257
53190 | Teton County, Wyoming | 53 | Rural | 0.9257 | 0.9257 | 99953 | Rural | 0.9257
53200 | Uinta County, Wyoming | 53 | Rural | 0.9257 | 0.9257 | 99953 | Rural | 0.9257
53210 | Washakie County, Wyoming | 53 | Rural | 0.9257 | 0.9257 | 99953 | Rural | 0.9257
53220 | Weston County, Wyoming | 53 | Rural | 0.9257 | 0.9257 | 99953 | Rural | 0.9257
65010 | Agana County, Guam | 65 | Rural | 0.9611 | 0.9611 | 99965 | Rural | 0.9611
65020 | Agana Heights County, Guam | 65 | Rural | 0.9611 | 0.9611 | 99965 | Rural | 0.9611
65030 | Agat County, Guam | 65 | Rural | 0.9611 | 0.9611 | 99965 | Rural | 0.9611
65040 | Asan County, Guam | 65 | Rural | 0.9611 | 0.9611 | 99965 | Rural | 0.9611
65050 | Barrigada County, Guam | 65 | Rural | 0.9611 | 0.9611 | 99965 | Rural | 0.9611
65060 | Chalan Pago County, Guam | 65 | Rural | 0.9611 | 0.9611 | 99965 | Rural | 0.9611
65070 | Dededo County, Guam | 65 | Rural | 0.9611 | 0.9611 | 99965 | Rural | 0.9611
65080 | Inarajan County, Guam | 65 | Rural | 0.9611 | 0.9611 | 99965 | Rural | 0.9611
65090 | Maite County, Guam | 65 | Rural | 0.9611 | 0.9611 | 99965 | Rural | 0.9611
65100 | Mangilao County, Guam | 65 | Rural | 0.9611 | 0.9611 | 99965 | Rural | 0.9611
65110 | Merizo County, Guam | 65 | Rural | 0.9611 | 0.9611 | 99965 | Rural | 0.9611
65120 | Mongmong County, Guam | 65 | Rural | 0.9611 | 0.9611 | 99965 | Rural | 0.9611
65130 | Ordot County, Guam | 65 | Rural | 0.9611 | 0.9611 | 99965 | Rural | 0.9611
65140 | Piti County, Guam | 65 | Rural | 0.9611 | 0.9611 | 99965 | Rural | 0.9611
65150 | Santa Rita County, Guam | 65 | Rural | 0.9611 | 0.9611 | 99965 | Rural | 0.9611
65160 | Sinajana County, Guam | 65 | Rural | 0.9611 | 0.9611 | 99965 | Rural | 0.9611
65170 | Talofofo County, Guam | 65 | Rural | 0.9611 | 0.9611 | 99965 | Rural | 0.9611
65180 | Tamuning County, Guam | 65 | Rural | 0.9611 | 0.9611 | 99965 | Rural | 0.9611
65190 | Toto County, Guam | 65 | Rural | 0.9611 | 0.9611 | 99965 | Rural | 0.9611
65200 | Umatac County, Guam | 65 | Rural | 0.9611 | 0.9611 | 99965 | Rural | 0.9611
65210 | Yigo County, Guam | 65 | Rural | 0.9611 | 0.9611 | 99965 | Rural | 0.9611
65220 | Yona County, Guam | 65 | Rural | 0.9611 | 0.9611 | 99965 | Rural | 0.9611
* Transition wage index value should be used with the CBSA urban/rural designation for rate calculation purposes.
¹ At this time, there are no hospitals located in these CBSA-based urban areas on which to base a wage index. Therefore, the transition wage index value is based on the average transition wage index for all urban areas within the state.

[FR Doc. 05-15221 Filed 7-28-05; 4:00 pm]

BILLING CODE 4120-03-P